DEPARTMENT OF HEALTH AND HUMAN SERVICES

Centers for Medicare & Medicaid Services

[CMS-9039-N]

Medicare and Medicaid Programs; Quarterly Listing of Program Issuances—October Through December 2006

AGENCY: Centers for Medicare & Medicaid Services (CMS), HHS.

ACTION: Notice.

SUMMARY: This notice lists CMS manual instructions, substantive and interpretive regulations, and other Federal Register notices that were published from October 2006 through December 2006, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations and a list of Medicare-approved carotid stent facilities. Included in this notice is a list of the American College of Cardiology's National Cardiovascular Data registry sites, active CMS coverage-related guidance documents, and special one-time notices regarding national coverage provisions. Also included in this notice is a list of National Oncologic Positron Emissions Tomography Registry sites, a list of Medicare-approved ventricular assist device (destination therapy) facilities, a list of Medicare-approved lung volume reduction surgery facilities, and a list of Medicare-approved bariatric surgery facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may have a specific information need and not be able to determine from the listed information whether the issuance or regulation would fulfill that need. Consequently, we are providing information contact persons to answer general questions concerning these items. Copies are not available through the contact persons. (See Section III of this notice for how to obtain listed material.)

Questions concerning items in Addendum III may be addressed to Timothy Jennings, Office of Strategic Operations and Regulatory Affairs, Centers for Medicare & Medicaid Services, C4-26-05, 7500 Security Boulevard, Baltimore, MD 21244-1850, or you can call (410) 786-2134.

Questions concerning items in Addendum IV may be addressed to Margaret Teeters, Office of Strategic Operations and Regulatory Affairs, Centers for Medicare & Medicaid Services, C4-14-03, 7500 Security Boulevard, Baltimore, MD 21244-1850, or you can call (410) 786-4678.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities in Addendum VIII may be addressed to Sarah J. McClain, Office of Clinical Standards and Quality, Centers for Medicare & Medicaid Services, C1-09-06, 7500 Security Boulevard, Baltimore, MD 21244-1850, or you can call (410) 786-2994.

Questions concerning Medicare's recognition of the American College of Cardiology-National Cardiovascular Data Registry sites in Addendum IX may be addressed to JoAnna Baldwin, MS, Office of Clinical Standards and Quality, Centers for Medicare & Medicaid Services, C1-09-06, 7500 Security Boulevard, Baltimore, MD 21244-1850, or you can call (410) 786-7205.

Questions concerning Medicare's active coverage-related guidance documents in Addendum X may be addressed to Kimberly Long, Office of Clinical Standards and Quality, Centers for Medicare & Medicaid Services, C1-09-06, 7500 Security Boulevard, Baltimore, MD 21244-1850, or you can call (410) 786-5702.

Questions concerning one-time notices regarding national coverage provisions in Addendum XI may be addressed to Ellie Lund, Office of Clinical Standards and Quality, Centers for Medicare & Medicaid Services, C1-09-06, 7500 Security Boulevard, Baltimore, MD 21244-1850, or you can call (410) 786-2281.

Questions concerning National Oncologic Positron Emission Tomography Registry sites in Addendum XII may be addressed to Stuart Caplan, RN, MAS, Office of Clinical Standards and Quality, Centers for Medicare & Medicaid Services, C1-09-06, 7500 Security Boulevard, Baltimore, MD 21244-1850, or you can call (410) 786-8564.

Questions concerning Medicare-approved ventricular assist device (destination therapy) facilities in Addendum XIII may be addressed to JoAnna Baldwin, MS, Office of Clinical Standards and Quality, Centers for Medicare & Medicaid Services, C1-09-06, 7500 Security Boulevard, Baltimore, MD 21244-1850, or you can call (410) 786-7205.

Questions concerning Medicare-approved lung volume reduction surgery facilities listed in Addendum XIV may be addressed to JoAnna Baldwin, MS, Office of Clinical Standards and Quality, Centers for Medicare & Medicaid Services, C1-09-06, 7500 Security Boulevard, Baltimore, MD 21244-1850, or you can call (410) 786-7205.

Questions concerning Medicare-approved bariatric surgery facilities listed in Addendum XV may be addressed to Kate Tillman, RN, MA, Office of Clinical Standards and Quality, Centers for Medicare & Medicaid Services, C1-09-06, 7500 Security Boulevard, Baltimore, MD 21244-1850, or you can call (410) 786-9252.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month time frame.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into 11 addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

• Date published;

• Federal Register citation;

• Parts of the Code of Federal Regulations (CFR) that have changed (if applicable);

• Agency file code number; and

• Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

• Addendum IX includes a list of the American College of Cardiology's National Cardiovascular Data registry sites. We cover implantable cardioverter defibrillators (ICDs) for certain indications, as long as information about the procedures is reported to a central registry.

• Addendum X includes a list of active CMS guidance documents. As required by section 731 of the Medicare Prescription Drug, Improvement, and Modernization Act of 2003 (MMA) (Pub. L. 108-173, enacted on December 8, 2003), we will begin listing the current versions of our guidance documents in each quarterly listings notice.

• Addendum XI includes a list of special one-time notices regarding national coverage provisions. We are publishing a list of issues that require public notification, such as a particular clinical trial or research study that qualifies for Medicare coverage.

• Addendum XII includes a listing of National Oncologic Positron Emission Tomography Registry (NOPR) sites. We cover positron emission tomography (PET) scans for particular oncologic indications when they are performed in a facility that participates in the NOPR.

• Addendum XIII includes a listing of Medicare-approved facitilites that receive coverage for ventricular assist devices used as destination therapy. All facilities were required to meet our standards in order to receive coverage for ventricular assist devices implanted as destination therapy.

• Addendum XIV includes a listing of Medicare-approved facilities that are eligible to receive coverage for lung volume reduction surgery. Until May 17, 2007, facilities that participated in the National Emphysema Treatment Trial are also eligible to receive coverage.

• Addendum XV includes a listing of Medicare-approved facilities that meet minimum standards for facilities modeled in part on professional society statements on competency. All facilities must meet our standards in order to receive coverage for bariatric surgery procedures.

III. How To Obtain Listed Material

A. Manuals

Those wishing to subscribe to program manuals should contact either the Government Printing Office (GPO) or the National Technical Information Service (NTIS) at the following addresses: Superintendent of Documents, Government Printing Office, ATTN: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP_Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library.

For each CMS publication listed in Addendum III, CMS publication and transmittal numbers are shown. To help FDLs locate the materials, use the CMS publication and transmittal numbers. For example, to find the Medicare Benefit Policy publication titled “Swing Bed Hospital Updates,” use CMS-Pub. 100-02, Transmittal No. 58.

(Catalog of Federal Domestic Assistance Program No. 93.773, Medicare—Hospital Insurance, Program No. 93.774, Medicare—Supplementary Medical Insurance Program, and Program No. 93.714, Medical Assistance Program)

Dated: March 16, 2007.
Jacquelyn Y. White,
Director, Office of Strategic Operations and Regulatory Affairs.

Addendum I

This addendum lists the publication dates of the most recent quarterly listings of program issuances.

September 24, 2004 (69 FR 57312)

December 30, 2004 (69 FR 78428)

February 25, 2005 (70 FR 9338)

June 24, 2005 (70 FR 36620)

September 23, 2005 (70 FR 55863)

December 23, 2005 (70 FR 76290)

March 24, 2006 (71 FR 14903)

June 23, 2006 (71 FR 36101)

September 29, 2006 (71 FR 57604)

December 22, 2006 (71 FR 77202)

Addendum II—Description of Manuals, Memoranda, and CMS Rulings

An extensive descriptive listing of Medicare manuals and memoranda was published on June 9, 1988, at 53 FR 21730 and supplemented on September 22, 1988, at 53 FR 36891 and December 16, 1988, at 53 FR 50577. Also, a complete description of the former CIM (now the NCDM) was published on August 21, 1989, at 54 FR 34555. A brief description of the various Medicaid manuals and memoranda that we maintain was published on October 16, 1992, at 57 FR 47468.

Addendum III.—Medicare and Medicaid Manual Instructions
[October Through December 2006]
Transmittal No. | Manual/Subject/Publication No.
Medicare General Information (CMS—Pub. 100-01)
41 | Update to Medicare Deductible, Coinsurance and Premium Rates for 2007.
42 | Swing Bed Hospital Updates.
| Hospital Insurance (Part A) for Inpatient Hospital, Hospice, Home Health and Skilled Nursing Facility Services—A Brief Description.
| Determining Payment for Services Furnished After Termination of Provider Agreement.
| Hospital Defined.
| Hospital Providers of Extended Care Services.
Medicare Benefit Policy CMS—Pub. 100-02)
56 | This Transmittal is rescinded and replaced by Transmittal 59.
57 | Clarification/Update to Chapter 8, Pub. 100-02.
| Requirements—General.
| Medicare Skilled Nursing Facility Prospective Payment System Overview.
| Three-Day Prior Hospitalization.
| Administrative Level of Care Presumption.
| Daily Skilled Services Defined.
| Respiratory Therapy.
58 | Swing Bed Hospital Updates.
| Hospital Providers of Extended Care Services.
59 | Inpatient Psychiatric Facility Prospective Payment System.
| Inpatient Psychiatric Facility Services.
| Background.
| Statutory Requirements.
| Affected Medicare Providers.
| Admission Requirements.
| Medical Records Requirements.
| Development of Assessment/Diagnostic Data.
| Psychiatric Evaluation.
| Certification and Recertification Requirements.
| Certification.
| Recertification.
| Active Treatment.
| Principles for Evaluating a Period of Active Treatment.
| Services Supervised and Evaluated by a Physician.
| Treatment Plan.
| Individualized Treatment or Diagnostic Plan.
| Services Expected to Improve the Condition or for Purpose of Diagnosis.
| Recording Progress.
| Discharge Planning and Discharge Summary.
| Personnel Requirements.
| Director of Inpatient Psychiatric Services; Medical Staff.
| Nursing Services.
| Psychological Services.
| Social Services.
| Therapeutic Activities.
| Benefit Application.
60 | Outpatient Therapy Cap Clarifications.
| Coverage of Outpatient Rehabilitation Therapy Services (Physical Therapy, Occupational Therapy, and Speech-Language Pathology Services) Under Medical Insurance.
| Plans of Care for Outpatient Physical Therapy, Occupational Therapy, or Speech-Language Pathology Services.
| Documentation Requirements for Therapy Services.
61 | Implementation of Changes in End-Stage Renal Disease Payment for Calendar Year 2007 New End-Stage Renal Disease Composite Payment Rates.
62 | Private Contracting—Definition of Physician/Practitioner.
63 | Outpatient Therapy Cap Exceptions Process for Calendar Year (CY) 2007.
| Coverage of Outpatient Rehabilitation Therapy Services (Physical Therapy, Occupational Therapy, and Speech-Language Pathology Services) Under Medical Insurance.
| Reasonable and Necessary Outpatient Rehabilitation Therapy Services.
| Documentation Requirements for Therapy Services.
| Practice of Physical Therapy, Occupational Therapy, and Speech-Language Pathology.
Medicare National Coverage Determinations (CMS—Pub. 100-03]
61 | Cavernous Nerves Electrical Stimulation With Penile Plethysmography.
62 | Infrared Therapy Devices.
63 | Cardiac Output Monitoring by Thoracic Electrical Bioimpedance.
Medicare Claims Processing (CMS Pub. 100-04)
1072 | Inpatient Prospective Payment System Outlier Reconciliation Technical Corrections.
| Cost-to-Charge Ratios.
| Statewide Average Cost-to-Charge Ratios.
| Reconciliation.
| Procedure for Fiscal Intermediaries to Perform and Record Outlier Reconciliation Adjustments.
1073 | Indian Health Service Hospital Payment Rates for Calendar Year 2006.
1074 | Calendar Year 2007 Participation Enrollment and Medicare Participating Physician and Suppliers Directory Procedures.
1075 | 2007 Healthcare Common Procedure Coding Systems Annual Update Reminder.
1076 | Competitive Acquisition Program—Instructions on Special CAP Appeals Requirements and Delivery of Dispute Resolution Services.
| The Competitive Acquisition Program for Drugs and Instructions on Special CAP Appeals Requirements and Delivery of Dispute Resolution Services.
| Dispute Resolution Services for Vendors.
| Dispute Resolution Services for Physicians.
| Dispute Resolution Services for Beneficiaries.
1077 | This Transmittal is rescinded and replaced by Transmittal 1081.
1078 | Updating the Medicare Secondary Payer Manual for Consistency on Instructing Part A Contactors on Handling MSP Claims with Condition Code (cc) 08.
| Form Locators 21/30.
1079 | Changes to the Process for Recovering Medicare Payments for Home Health.
| Prospective Payment System Claims Failing to Report Prior Hospitalizations.
1080 | This Transmittal is rescinded and replaced by Transmittal 1091.
1081 | Electronic Data Interchange Media Changes.
| Media.
1082 | Annual Update of Healthcare Common Procedure Coding System Codes Used for Home Health Consolidated Billing Enforcement.
1083 | Release of a Separate File Containing the Payment Cap for the Technical Component of Imaging Procedures for Disclosure.
1084 | Line Item Billing Requirement for End-Stage Renal Disease Claims Amount of Payment.
| Calculation of Case Mix Adjusted Composite Rate.
| Laboratory Services Included in the Composite Rate.
| Drugs and Biologicals Included in the Composite Rate.
| Required Information for In-Facility Claims Paid Under the Composite Rate.
| Intermittent Peritoneal Dialysis in the Facility.
| Training and Retraining.
| Coding Adequacy of Hemodialysis.
| Lab Services.
| Drugs Furnished in Dialysis Facilities.
| Billing Procedures for Drugs for Facilities.
| Payment Amount for Epoetin Alfa.
| Vaccines Furnished to End-Stage Renal Disease Patients.
| Method Selection for Home Dialysis Payment.
| Required Billing Information for Method I Claims.
| Intermittent Peritoneal Dialysis at Home for Method I Claims Submitted to the Intermediary.
| Calculating Payment for Intermittent Peritoneal Dialysis for Method I Claims Submitted to the Intermediary.
| Calculating Payment for for Continuous Ambulatory Peritoneal Dialysis and Continuous Cycling Peritoneal Dialysis Under the Composite Rate.
1085 | Issued to a specific audience, not posted to Internet/Intranet due to Confidentiality of Instruction.
1086 | Annual Type of Service Update.
1087 | Remittance Advice Remark Code and Claim Adjustment Reason Code Update.
1088 | Instructions for the Coordination of Medicare Secondary Payer Claims for the Competitive Acquisition Program.
| Competitive Acquisition Program Required Modifiers.
| Medicare Secondary Payer Situations Under Competitive Acquisition Program.
1089 | Claim Status Category Code and Claim Status Code Update.
1090 | Medicare Summary Notice Format Changes for Jurisdiction 3 A/B MAC Transition.
| Title Section of the Medicare Summary Notice.
| Appeals Section.
1091 | The Supplemental Security Income/Medicare Beneficiary Data for Fiscal Year 2005 for Inpatient Prospective Payment System Hospitals.
1092 | File Descriptions and Instructions for Retrieving the 2007 Fee Schedules and Healthcare Common Procedure Coding System Through CMS? Mainframe Telecommunication System.
1093 | Changes to the Laboratory National Coverage Determination Edit Software for January 2007.
1094 | Update to the Hospice Payment Rates, Hospice Cap, Hospice Wage Index and the Hospice Pricer for FY 2007.
1095 | Processing All Diagnosis Codes Reported on Claims Submitted to Carriers.
1096 | Issued to a specific audience, not posted to Internet/Intranet due to Confidentiality of Instruction.
1097 | Issued to a specific audience, not posted to Internet/Intranet due to Confidentiality of Instruction.
1098 | Common Working File Duplicate Claim Edit for the Technical Component of Radiology and Pathology Laboratory Services Provided to Hospital Patients.
| Hospital and Skilled Nursing Facility Patients.
| Technical Component of Physician Pathology Services to Hospital Patients.
1099 | New Edits Established to Enforce Proper Transfer Coding and Payment in Inpatient Rehabilitation Facility Prospective Payment System Claims.
1100 | Jurisdiction for Ambulance Supplier Claims.
1101 | Inpatient Psychiatric Facility Prospective Payment System.
| Background.
| Statutory Requirements.
| Affected Medicare Providers.
| Federal Per Diem Base Rate.
| Standardization Factor.
| Budget Neutrality.
| Budget Neutrality Components.
| Annual Update.
| Calculating the Federal Payment Rate.
| Patient-Level Adjustments.
| Diagnosis-Related Groups Adjustments.
| Application of Code First.
| Comorbidity Adjustments.
| Age Adjustments.
| Variable Per Diem Adjustments.
| Facility-Level Adjustments.
| Wage Index.
| Rural Location Adjustment.
| Teaching Status Adjustment.
| Full-Time Equivalent Resident Cap.
| Reconciliation of Teaching Adjustment on Cost Report.
| Emergency Department Adjustment.
| Source of Admission for Inpatient Psychiatric Facility Prospective Payment System Claims for Payment of Emergency Department Adjustment.
| Cost-of-Living Adjustment for Alaska and Hawaii.
| Other Payment Policies.
| Interrupted Stays.
| Outlier Policy.
| How to Calculate Outlier Payments.
| Determining the Cost-to-Charge Ratio.
| Electroconvulsive Therapy Payment.
| Stop Loss Provision (Transition Period Only).
| Transition (Phase-In Implementation).
| Implementation Date for Provider.
| Definition of New Inpatient Psychiatric Facility Providers Versus Tax Equity & Fiscal Responsibility Act Providers.
| New Providers Defined.
| Claims Processing Requirements Under Inpatient Psychiatric Facility Prospective Payment System.
| General Rules.
| Billing Period.
| Patient Status Coding.
| Reporting Electroconvulsive Therapy Treatments.
| Outpatient Services Treated as Inpatient Services.
| Patient is a Member of a Medicare Advantage Organization for Only a Portion of a Billing Period.
| Billing for Interrupted Stay.
| Grace Days.
| Billing Stays Prior to and Discharge After Prospective Payment System Implementation Date.
| Billing Ancillary Services Under Inpatient Psychiatric Facility Prospective Payment System.
| Covered Costs Not Included in Inpatient Psychiatric Facility Prospective Payment System Amount.
| Same Day Transfer Claims.
| Remittance Advice—Reserved.
| Medicare Summary Notices and Explanation of Medicare Benefits.
| Benefit Application and Limits—190 Days.
| Beneficiary Liability.
| Periodic Interim Payments.
| Intermediary Benefit Payment Report.
| Monitoring Implementation of Inpatient Psychiatric Facility Prospective Payment System Through Pulse.
| Inpatient Psychiatric Facility Prospective Payment System Edits.
| Inpatient Psychiatric Facility Prospective Payment System PRICER Software Inputs/Outputs to PRICER.
1102 | Ambulance Inflation Factor for CY 2007.
1103 | Reporting and Payment of No-Cost Devices Furnished by Outpatient Prospective Payment System Hospitals.
| Use of Healthcare Common Procedure Coding System Modifier—FB.
| Billing for Devices Replaced Without Cost to an Outpatient Prospective Payment System Hospital or Beneficiary or for Which the Hospital Receives a Credit and Payment for Outpatient Prospective Payment System Services Required to Replace the Device.
| Reporting and Charge Requirements When a Device is Replaced Without Cost to the Hospital.
| Reporting and Charge Requirements When the Hospital Receives Credit for the Replaced Device Against the Cost of a More Expensive Replacement Device.
| Medicare Payment Adjustment.
1104 | Uniform Billing (UB-04) Implementation.
| Completing and Processing the CMS 1450 Data Set.
| Uniform Bill (UB)—Form CMS-1450 for Billing (UB-92).
| General Instructions for Completion of Form CMS-1450 for Billing (UB-92).
| Uniform Billing With Form CMS-1450.
| Disposition of Copies of Completed Forms.
| General Instructions for Completion of Form CMS-1450 (UB-04).
1105 | Swing Bed Hospital Updates.
1106 | Outpatient Therapy Cap Clarifications.
| The Financial Limitation.
| Non-physician Services.
| General Information Section.
| Servicios Que No Fueron Prestados Por Doctores.
| Cuidado Preventivo.
| Secciýn De Informaciýn General.
1107 | Notification and Testing of an Integrated Outpatient Code Editor for the July 2007 Release.
| Outpatient Code Editor.
| Integrated Outpatient Code Editor (July 2007 and Later).
| Outpatient Prospective Payment System Outpatient Code Editor (Prior to July 1, 2007).
| Patient Status Code and Reason for Patient Visit for the Hospital Outpatient Prospective Payment System.
| Non-Outpatient Prospective Payment System Outpatient Code Editor (Rejected Items and Processing Requirements) (Prior to July 1, 2007).
1108 | Reporting of Taxonomy Codes to Identify Provider Subparts on Institutional Claims.
1109 | Skilled Nursing Facility Consolidated Billing Common Working File Edit Bypass Instructons for Hospital Emergency Room Services Spanning Multiple Service Dates.
1110 | Excluding Sanctioned Provider Claims From the Coordination of Benefits Agreement Crossover Process.
| Consolidated Claims Crossover Process.
| Coordination of Medicare With Medigap and Other Complementary Health Insurance Policies.
1111 | Clarification on Billing for Cryosurgery of the Prostate Gland.
| Special Rules for Critical Access Hospital Outpatient Billing.
| Optional Method for Outpatient Services: Cost-Based Facility Services Plus 115 Percent Fee Schedule for Professional Services.
1112 | Issued to a specific audience, not posted to Internet/Intranet due to Confidentiality of Instruction.
1113 | Implementation of an Ultrasound Screening for Abdominal Aortic Aneurysms.
| Definitions.
| Coverage.
| Payment.
| Deductible and Coinsurance.
| Healthcare Common Procedure Coding System Code.
| Advanced Beneficiary Notice.
1114 | This Transmittal is rescinded and replaced by Transmittal 1133.
1115 | New Waived Tests.
1116 | Revised American National Standards Institute X12N 837 Institutional Health Care Claim Companion Document.
1117 | Issued to a specific audience, not posted to Internet/Intranet due to Sensitivity of Instruction.
1118 | Reasonable Charge Update for 2007 for Splints, Casts, Dialysis Supplies, Dialysis Equipment, and Certain Intraocular Lenses.
1119 | Installation of the January Inpatient Psychiatric Facility Prospective Payment System Pricer Software Containing Customer Information Control System Formatting (Off-Cycle Release).
1120 | Additional Provider Education for Upcoming Changes in Payment for Oxygen Equipment and Capped Rentals for Durable Medical Equipment Based on the Deficit Reduction Act of 2005.
1121 | Issued to a specific audience, not posted to Internet/Intranet due to Confidentiality of Instruction.
1122 | 2007 Annual Update for Clinical Laboratory Fee Schedule and Laboratory Services Subject to Reasonable Charge Payment
1123 | Instructions for Downloading the Medicare Zip Code File.
1124 | Quarterly Update to Correct Coding Initiative (CCI) Edits, Version 13.0, Effective January 1, 2007.
1125 | Fee Schedule Update for 2007 for Durable Medical Equipment, Prosthetics, Orthotics and Supplies.
1126 | Announcement of Medicare Rural Health Clinics and Federally Qualified Health Centers Payment Rate Increases.
1127 | Infrared Therapy Devices.
| Coding Guidance for Certain Physical Medicine CPT Codes—All Claims.
1128 | January 2007 Non-Outpatient Prospective Payment System Outpatient Code Editor Specifications Version 22.1.
1129 | January 2007 Quarterly Average Sales Price Medicare Part B Drug Pricing File, Effective January 1, 2007, and Revisions to April 2006, July 2006, and October 2006 Quarterly ASP Medicare Part B Drug Pricing Files.
1130 | January 2007 Outpatient Prospective Payment System Outpatient Code Editor Specifications Version 8.0.
1131 | Legislative Change to the Update Factor for the 2007 Medicare Physician Fee Schedule and Extension of the Participating Enrollment Period.
1132 | Issued to a specific audience, not posted to Internet/Intranet due to Confidentiality of Instruction.
1133 | Reporting of Taxonomy Codes to Identify Provider Subparts on Institutional Claims.
1134 | Update of Healthcare Common Procedure Coding System Codes and Payments for Ambulatory Surgical Centers and File Names, Descriptions and Instructions for Retrieving the 2007 ASC HCPCS Additions, Deletions and Master Listing.
1135 | Correction of Instructions for Calculating IRF Compliance Percentage Threshold.
| Verification Process To Be Used To Determine If the Inpatient Rehabilitation Facility Met the Classification Criteria.
1136 | Revisions to Procedure to Establish Good Cause and Qualified Independent Contractor Jurisdictions.
| General Procedure to Establish Good Cause.
| Appeals Rights for Dismissals.
| Vacating a Dismissal.
| QIC Jurisdictions.
1137 | Inpatient Rehabilitation Facility Teaching Status Adjustment.
| Full Time Equivalent Resident Cap.
1138 | Issued to a specific audience, not posted to Internet/Intranet due to Confidentiality of Instruction.
1139 | January 2007 Update of the Hospital Outpatient Prospective Payment System: Summary of Payment Policy Changes and OPPS PRICER Logic Changes and Instruction for Updating the Outpatient Provider Specific File.
| Reporting and Charging Requirements When a Device Is Replaced Without Cost to the Hospital.
| Reporting and Charging Requirements When the Hospital Receives Credit for the Replaced Device Against the Cost of a More Expensive Replacement Device.
| Clinic and Emergency Visits.
| Critical Care Services.
| Billing for IMRT Planning and Delivery.
| Additional Billing Instructions for IMRT Planning.
| Billing for Multi-Source Photon (Cobalt 60-Based) Stereotactic Radiosurgery Planning and Delivery.
| Billing for Linear Accelerator (Robotic Image-Guided and Non-Robotic Image-Guided) SRS Planning and Delivery.
| Coding and Payment for Drug Administration.
1140 | Medicare Payment for Preadministration-Related Services Associated With IVIG Administration.
1141 | Issued to a specific audience, not posted to Internet/Intranet due to Confidentiality of Instruction.
1142 | Durable Medical Equipment Regional Carrier Claim Modifiers for Upgrades.
| Durable Medical Equipment Regional Carriers?Billing Procedures Related to Advanced Beneficiary Notice Upgrades.
| Providing Upgrades of Durable Medical Equipment, Prosthetics, Orthotics & Supplies Without Any Extra Charge.
1143 | Emergency Update to the 2007 Medicare Physician Fee Schedule Database.
1144 | Elimination of CMS-1491 and CMS-1490U Forms.
| Claim Forms.
| Coding Instructions for Form CMS-1491.
1145 | Outpatient Therapy Cap Exceptions Process for Calendar Year (CY) 2007.
| The Financial Limitation.
| Group Therapy Services (Code 97150).
| Therapy Students.
1146 | Payment by Durable Medical Equipment Medicare Administrative Contractors and Durable Medical Equipment Regional Carriers for the Administration of Part D Vaccines.
Medicare Secondary Payer (CMS—Pub. 100-05)
56 | Updating the Medicare Secondary Payer (MSP) Manual for Consistency on Instructing Part A Contactors on Handling MSP Claims With Condition Code 08.
| Further Development Is Required.
| Limits on Development.
57 | Instructions for the Coordination of Medicare Secondary Payer Claims for the Competitive Acquisition Program.
| Medicare Secondary Payer Situations Under Competitive Acquisition Program.
Medicare Financial Management (CMS—Pub. 100-06)
108 | Notice of New Interest Rate for Medicare Overpayments and Underpayments—1st Qtr. FY 2007.
109 | Claims Accounts Receivable—Clarification to CR 3963.
| Intermediary Claims Accounts Receivable.
110 | Waiving Reporting Requirements on the CMS-2592 Report in Fiscal Year 2007 Due to Funding Constraints.
111 | Status Codes for Financial Reporting of Debts Once the MMA Section 935 Appeal Process Has Been Completed.
112 | Chapter 7, Internal Control Requirements Update.
| Control Activities.
| Risk Assessment.
| Risk Analysis Chart.
| Internal Control Objectives.
| Fiscal Year 2007 Medicare Control Objectives.
| Testing Methods.
| Documentation and Working Papers.
| Certification Package for Internal Controls Requirements.
| OMB Circular A-123 and Internal Control Over Financial Reporting.
| Certification Statement.
| Certification Package for Internal Controls—Report of Material Weaknesses.
| Certification Package for Internal Controls—Report of Reportable Conditions.
| Definitions of Reportable Conditions and Material Weaknesses.
| Material Weaknesses Identified During the Reporting Period.
| Corrective Action Plans.
| Submission, Review, and Approval of Corrective Action Plans.
| CMS Finding Numbers.
| Initial CAP Report.
| Quarterly CAP Report.
| Enter Data into the Initial or Quarterly CAP Report.
| List of FY 2007 Medicare Control Objectives.
Medicare State Operations Manual (CMS—Pub. 100-07)
21 | Revised Appendix & Appendix PP—New Tag F334.
22 | Revisions to Appendix P and PP.
Medicare Program Integrity (CMS—Pub. 100-08)
165 | Durable Medical Equipment Medicare Administrative Contractors Adoption or Rejection of.
| Local Coverage Determinations Recommended by Durable Medical Equipment Program.
| Safeguard Contractors.
| Local Coverage Determinations.
166 | This Transmittal is rescinded and replaced by Transmittal 168.
167 | New Durable Medical Equipment Prosthetic, Orthotics & Supplies Certificates of Medical Necessity and DME Information Forms for Claims Processing.
| Documentation Specifications for Areas Selected for Prepayment or Postpayment Medical Review.
| Home Use of Durable Medical Equipment.
| Rules Concerning Prescriptions (Orders).
| Physician Orders.
| Verbal Orders.
| Written Orders.
| Written Orders Prior to Delivery.
| Requirement of New Orders.
| Certificates of Medical Necessity and Durable Medical Equipment Information Forms.
| Completing a Certificates of Medical Necessity or Durable Medical Equipment Information Forms.
| Cover Letters for Certificates of Medical Necessity.
| Acceptability of Faxed Orders and Facsimile or Electronic Certificates of Medical Necessity and Durable Medical Equipment Information Forms.
| Durable Medical Equipment Medicare Administrative Contractors and Durable Medical Equipment Program Safeguard Contractor?s Authority to Initiate an Overpayment or Civil Monetary Penalty When Invalid Certificates of Medical Necessity Are Identified.
| Nurse Practitioner or Clinical Nurse Specialist Rules Concerning Orders and Certificates of Medical Necessity.
| Physician Assistant Rules Concerning Orders and Certificates of Medical Necessity.
| Documentation in the Patient's Medical Record.
| Supplier Documentation.
| Evidence of Medical Necessity.
| Evidence of Medical Necessity for the Oxygen Certificates of Medical Necessity.
| Evidence of Medical Necessity: Wheelchair and Power Operated Vehicle Claims.
| Period of Medical Necessity—Home Dialysis Equipment.
| Safeguards in Making Monthly Payments.
| Guidance on Safeguards in Making Monthly Payments.
| Pick-up Slips.
| Incurred Expenses for DME and Orthotic and Prosthetic Devices.
| Patient Equipment Payments Exceed Deductible and Coinsurance on Assigned Claims.
| Definitions of Customized Durable Medical Equipment.
| Advance Determination of Medicare Coverage of Customized Durable Medical Equipment.
| Items Eligible for Advance Determination of Medicare Coverage.
| Instructions for Submitting Advance Determination of Medicare Coverage Requests.
| Instructions for Processing Advance Determination of Medicare Coverage Requests.
| Affirmative Advance Determination of Medicare Coverage Decisions.
| Negative Advance Determination of Medicare Coverage Decisions.
| Durable Medical Equipment Program Safeguard Contractor Tracking.
168 | Durable Medical Equipment Prosthetic, Orthotics & Supplies Transcutaneous Electrical.
| Nerve Stimulators Certificate of Medical Necessity for Purchases: Form CMS-848.
| Certificates of Medical Necessity and Durable Medical Equipment Information Forms.
169 | Update the MCS System to Validate National Provider Identifiers in Place of Unique Physician Identification Numbers.
170 | This Transmittal is rescinded and replaced by Transmittal 174.
171 | Outpatient Therapy Cap Clarifications.
| Exception From the Uniform Dollar Limitation.
| Prepay Complex Review Workload and Cost (Activity Code 21221).
172 | Issued to a specific audience, not posted to Internet/Intranet due to Confidentiality of Instruction.
173 | Update to Chapter 10—Medicare Provider/Supplier Enrollment.
| Medicare Contractor Duties.
| Timeframes for Initial Applications.
| General Timeliness Principles.
| Pre-Screening Process.
| Returning the Application.
| Basic Information (Section 1 of the CMS-855).
| Tax Identification Numbers and Legal Business Names.
| Licenses and Certifications.
| Correspondence Address.
| Section 2 of the CMS-855A.
| Section 2 of the CMS-855I.
| Adverse Legal Actions/Convictions.
| Practice Location Information.
| Owning and Managing Organizations.
| Types of Business Organizations.
| Owning and Managing Individuals.
| Chain Organizations.
| Special Requirements for Home Health Agencies.
| Contact Person.
| Delegated Officials.
| Processing CMS-855R Applications.
| National Provider Identifier.
| Verification of Data.
| Requesting and Receiving Clarifying Information.
| Special Verification Procedures for CMS-855A Applications.
| Special Procedures for Processing Complete CMS-855 Applications Submitted by Enrolled Providers.
| Denials.
| General Procedures.
| Changes of Information and Complete CMS-855 Applications.
| Voluntary Terminations.
| Electronic Funds Transfers.
| Revalidation.
| Provider-Based.
| Participation (Par) Agreements and the Acceptance of Assignment.
| Opt-Out.
| Manufacturers of Replacement Parts/Supplies for Prosthetic Implants or Implantable.
| Durable Medical Equipment Surgically Inserted at an ASC.
| Enrolling Indian Health Service Facilities as Durable Medical Equipment, Prosthetics, Orthotics and Supplies Suppliers.
| Model Correspondence Language.
| Provider Enrollment Chain & Ownership System—General Information.
| Provider Enrollment Chain & Ownership System Communication and Coordination.
| Provider Enrollment Inquiries.
174 | Transition of Medical Review Educational Activities.
| Introduction.
| Types of Claims for Which Contractors Are Responsible.
| Goal of Medical Review Program.
| Medical Review Manager.
| Annual Medical Review Strategy.
| Data Analysis and Information Gathering.
| Problem Identification & Prioritization.
| Intervention Planning.
| Program Management.
| Budget and Workload Management.
| Staffing and Workforce Management.
| Contractor Medical Director.
| Maintaining the Confidentiality of Medical Review Records.
| Provider Tracking System.
| Evaluating the Effectiveness of Corrective Actions.
| Verifying Potential Error and Setting Priorities.
| Determining Whether a Problem is Widespread of Provider-Specific Administrative Relief from Medical Review in the Presence of Disaster Articles.
| Overview of Prepayment and Postpayment Review for Medical Review Purposes.
| Additional Documentation Requests During Prepayment or Postpayment Medical Review.
| Denials Notices.
| Internal Medical Review Guidelines.
| Types of Prepayment and Postpayment Review.
| Spreading Workload Evenly.
| Prepayment Edits.
| Categories of Medical Review Edits.
| CMS-Mandated Edits.
| Re-Adjudication of Claims.
| Review of Data.
| Provider Notification and Feedback.
| Fraud.
| Track Interventions.
| Implementation.
| Vignettes.
| Procedural Requirements.
| Joint Operating Agreement.
| Education.
| Definition.
| The Quarterly Strategy Analysis.
| Executive Summary.
| Problem Specific Activities.
| Problem Specific Activity Definitions.
| Narrative.
| Medical Review.
| Medical Review Overview.
| Reporting Medical Review Workload and Cost Information and Documentation in CAFM II.
| CAFM II Reporting for Medical Review Activities.
| Data Analysis Cost (Activity Code 21007).
| Medical Review Program Management Costs (Activity Code 21207).
| Medicare Integrity Program Comprehensive Error Rate Testing Support.
| Provider Education Regarding LCDs.
175 | Division of Provider and Supplier Enrollment Issued Revocations.
| Program Safeguard Contractor Identified Revocations.
| CMS Satellite Office or Regional Office Identified Revocations.
176 | Various Benefit Integrity Revisions to Chapter 4.
| Introduction.
| The Medicare Fraud Program.
| Examples of Medicare Fraud.
| Program Safeguard Contractor Benefit Integrity Unit.
| Organizational Requirements.
| Liability of Program Safeguard Contractor Benefit Integrity Unit Employees.
| Anti-Fraud Training.
| Training for Law Enforcement Organizations.
| Maintain Controlled Filing System and Documentation.
| Benefit Integrity Security Requirements.
| Durable Medical Equipment Fraud Functions.
| Medical Review for Benefit Integrity Purposes.
| Requests for Information From Outside Organizations.
| Sharing Fraud Referrals Between the Office of Inspector General and the Department of Justice.
| Program Safeguard Contractor and Medicare Contractor Coordination With Other Program Safeguard Contractors and Medicare Contractors.
| Program Safeguard Contractor Coordination With Other Entities.
| Beneficiary, Provider, Outreach Activities.
| The ARGUS System.
| Complaint Screening.
| Filing Complaints.
| Investigations.
| Conducting Investigations.
| Closing Investigations.
| Disposition of Cases.
| Reversed Denials by Administrative Law Judges on Open Cases.
| Incentive Reward Program General Information.
| Information Eligible for Reward.
| Persons Eligible to Receive a Reward.
| Excluded Individuals.
| Program Safeguard Contractor Responsibilities.
| Guidelines for Processing Incoming Complaints.
| Guidelines for Incentive Reward Program Complaint Tracking.
| Overpayment Recovery.
| Eligibility Notification.
| Incentive Reward Payment.
| Reward Payment Audit Trail.
| CMS Incentive Reward Winframe Database.
| Updating the Incentive Reward Database.
| Fraud Alerts.
| Types of Fraud Alerts.
| Alert Specifications.
| Editorial Requirements.
| Coordination.
| Distribution of Alerts.
| Fraud Investigation Database Entries.
| Background.
| Information Not Captured in the Fraud Investigation Database.
| Entering Office of the Inspector General Immediate Advisements Into the Fraud Investigation Database.
| Investigation, Case, and Suspension Entries.
| Initial Entry Requirements for Investigations.
| Initial Entry Requirements for Cases.
| Initial Entry Requirements for Payment Suspension.
| Update Requirements for Investigations.
| Update Requirements for Cases.
| OIG Non-Response to or Declination of Case Referral.
| Closing Investigations.
| Closing Cases.
| Duplicate Investigations, Cases, or Suspensions.
| Deleting Investigations, Cases, or Suspensions.
| Access.
| The Fraud Investigation Database User?s Group.
| Designated Program Safeguard Contractor Benefit Integrity Unit Staff and the Fraud Investigation Database.
| The Fraud Investigation Database Mailbox.
| Harkin Grantee Tracking Instructions.
| System Access to Metaframe and Data Collection.
| Data Dissemination/Aggregate Report.
| Administrative Relief from Benefit Integrity Unit Review in the Presence of a Disaster.
| Provider Contacts by the Program Safeguard Contractor Benefit Integrity Unit.
| AC, MAC, and PSC Coordination on Voluntary Refunds.
| Referral of Cases to the Office of the Inspector General/Office of Investigations.
| Immediate Advisements to the OIG/OI.
| Program Safeguard Contractor BI Unit Actions When Cases Are Referred to and Accepted by the OIG/OI.
| Suspension.
| Denial of Payments for Cases Referred to and Accepted by OIG/OI.
| Recoupment of Overpayments.
| OIG/OI Case Summary and Referral.
| Continue to Monitor Provider and Document Case File.
| Take Administrative Action on Cases Referred to and Refused by OIG/OI.
| Refer to Other Law Enforcement Agencies.
| Referral to State Agencies or Other Organization.
| Referral to Quality Improvement Organizations.
| Administrative Sanctions.
| The Program Safeguard Contractor?s Affiliated Contractor?s and Medicare.
| Administrative Contractor?s Role.
| Authority to Exclude Practitioners, Providers, and Suppliers of Services.
| Identification of Potential Exclusion Cases.
| Development of Potential Exclusion Cases.
| Contents of Sanction Recommendation.
| Denial of Payment to an Excluded Party.
| Denial of Payment to Employer of Excluded Physician.
| Denial of Payment to Beneficiaries and Others.
| Reinstatements.
| Monthly Notification of Sanction Actions.
| Purpose.
| Administrative Actions.
| Referral Process to CMS.
| Referrals to OIG.
| CMS Generic Civil Monetary Penalties Case Contents.
| Beneficiary Right to Itemized Statement.
| Medicare Limiting Charge Violations.
| Monitor Compliance.
| Resumption of Payment to a Provider—Continued Surveillance After Detection of Fraud.
| Discounts, Rebates, and Other Reductions in Price.
| Marketing to Medicare Beneficiaries.
| Cost-Based Payment (Intermediary and Medicare Administrative Contractor Processing of Part A Claims): Necessary Factors for Protected Discounts.
| Charge-Based Payment (Intermediary and Medicare Administrative Contractor Processing of Part B Claims): Necessary Factors for Protected Discounts.
| Hospital Incentives.
| Breaches of Assignment Agreement by Physician or Other Supplier.
| Participation Agreement and Limiting Charge Violations.
| Supplier Proof of Delivery Documentation Requirements.
| Proof of Delivery and Delivery Methods.
| Annual Deceased-Beneficiary Postpayment Review.
| Joint Operating Agreement.
| Vulnerability Report.
177 | Update the VMS System to Validate National Provider Identifiers in Place of Unique.
| Physician Identification Numbers.
178 | Medically Unlikely Edits.
179 | Revised Medical Review Timeliness and Reopening Requirements for Medical Review.
| Location of Postpayment Review.
| Handling Late Documentation.
| Completing Complex Reviews.
| Additional Documentation Requests During Prepayment of Postpayment Review.
| Re-openings of claims Denied Due to Failure to Submit Necessary Medical Documentation (remittance advice code N102 or 56900).
180 | Sources of Data for Program Safeguard Contractors.
181 | Outpatient Therapy Cap Exceptions Process for Calendar Year 2007.
Medicare Contractor Beneficiary and Provider Communications (CMS—Pub. 100-09)
00 | None.
Medicare Managed Care (CMS— Pub. 100-16)
00 | None
Medicare Business Partners Systems Security (CMS—Pub. 100-17)
00 | None
Demonstrations (CMS—Pub. 100-19)
50 | Laboratory Competitive Bidding Demonstration (Second Phase of Implementation).
51 | Issued to a specific audience, not posted to Internet/Intranet due to Sensitivity of Instruction.
One Time Notification (CMS Pub. 100-20)
241 | Update to the Medicare Part B 835 Flat File.
242 | National Coverage Determination for Infusion Pump Exception Guidance Pub.100-04, Chapter 1, Part 4, Section 280.14.
243 | Reporting the National Provider Identifier on Physician Claims for Diagnostic Services Purchased Outside of the Local Carriers Jurisdiction.
244 | New Contractor Numbers for Part A for the States of Montana, North Dakota, South Dakota, Utah, and Wyoming in Jurisdiction 3 Part AB Medicare Administrative Services Workload.
245 | Department of Veterans Affairs Medicare-equivalent Remittance Advice Project: Continued Use of Professional Legacy Provider Numbers After National Provider Identifiers Are Fully Implemented.
246 | Issued to a specific audience, not posted to Internet/Intranet due to Confidentiality of Instruction.
247 | Returning Paper Claims Received From Clearinghouses.
248 | Optical Character Recognition Interface in the Fiscal Intermediary Standard System.
249 | Claims Submitted With Only a National Provider Identifier During the Stage 2 NPI Transition Period.
250 | PECOS to FISS Interface Via Extract File.
251 | Issued to a specific audience, not posted to Internet/Intranet due to Confidentiality of Instruction.
252 | Additional Codes for Physician Voluntary Reporting Program.
253 | Home Health Prospective Payment System (HH PPS) Update for Calendar Year 2007.
254 | Provision of Data for the Care Management for High Cost Beneficiaries Demonstration from Selected Fiscal Intermediaries, Carriers, and Durable Medical Equipment Medicare Administrative Contractors.
255 | Provider Migration.
256 | Payment Allowances for the Influenza Virus Vaccine (CPT 90655, 90656, 90657, and 90658) and the Pneumococcal Vaccine (CPT 90732) When Payment is Based on 95 Percent of the Average Wholesale Price.
257 | Issued to a specific audience, nor posted to Internet/Intranet due to Confidentiality of Instruction.
258 | Payment Amounts and Policies in the 2007 Medicare Physician Fee Schedule and the Telehealth Originating Site Facility Fee Payment Amount.

Addendum IV.—Regulation Documents Published in the Federal Register October Through December 2006
Publication date | FR Vol. 71 page number | CFR parts affected | File code | Title of regulation
October 3, 2006 | 58415 |  | CMS-1535-CN CMS-8030-CN2 | Medicare Program; Hospice Wage Index for Fiscal Year 2007; Medicare Part B Monthly Actuarial Rates, Premium Rates, and Annual Deductible for Calendar Year 2007; Corrections.
October 3, 2006 | 58398 |  | CMS-2243-N | Medicaid Program; Fiscal Year Disproportionate Share Hospital Allotments and Disproportionate Share Hospital Institutions for Mental Disease Limits.
October 3, 2006 | 58286 | 409, 410, 412, 413, 414, 424, 485, 489, and 505 | CMS-1488-CN | Medicare Program; Changes to the Hospital Inpatient Prospective Payment Systems and Fiscal Year 2007 Rates; Correction.
October 11, 2006 | 59886 |  | CMS-1488-N | Medicare Program; Hospital Inpatient Prospective Payment Systems and Fiscal Year 2007 Rates: Final Fiscal Year 2007 Wage Indices and Payment Rates After Application of Revised Occupational Mix Adjustment to Wage Index.
October 16, 2006 | 60663 | 433 | CMS-2231-F | Medicaid Program; State Allotments for Payment of Medicare Part B Premiums for Qualifying Individuals: Federal Fiscal Year 2006 and Fiscal Year 2007.
October 18, 2006 | 61445 | 423 | CMS-4119-P | Medicare Program; Medicare Part D Data.
October 27, 2006 | 63023 |  | CMS-1381-N | Medicare Program; Meeting of the Practicing Physicians Advisory Council.
October 27, 2006 | 63021 |  | CMS-3174-N | Medicare Program; Meeting of the Medicare Coverage Advisory Committee—December 13, 2006.
October 27, 2006 | 63019 |  | CMS-4126-PN | Medicare and Medicaid Programs; Reapproval of Deeming Authority of the Accreditation Association for Ambulatory Health Care, Inc. for Medicare Advantage Health Maintenance Organizations and Local Preferred Provider Organizations.
October 27, 2006 | 62957 | 483 | CMS-3191-P | Medicare and Medicaid Programs; Fire Safety Requirements for Long Term Care Facilities, Automatic Sprinkler Systems.
November 9, 2006 | 65884 | 414 and 484 | CMS-1304-F | Medicare Program; Home Health Prospective Payment System Rate Update for Calendar Year 2007 and Deficit Reduction Act of 2005 Changes to Medicare Payment for Oxygen Equipment and Capped Rental Durable Medical Equipment.
November 24, 2006 | 67960 | 410, 416, 419, 421, 485, and 488 | CMS-1506-FC CMS-4125-F | Medicare Program; Hospital Outpatient Prospective Payment System and CY 2007 Payment Rates; CY 2007 Update to the Ambulatory Surgical Center Covered Procedure List; Medicare Administrative Contractors; and Reporting Hospital Quality Data for FY 2008 Inpatient Prospective Payment System Annual Payment Update Program—HCAHPS Survey, SCIP, and Mortality.
November 24, 2006 | 67876 |  | CMS-1383-N | Medicare Program; Listening Session on a Plan for Medicare Hospital Value-Based Purchasing—January 17, 2007.
November 24, 2006 | 67875 |  | CMS-4128-N | Medicare Program; Decisions Affecting Medicare Advantage Plans Deemed by Joint Commission for the Accreditation of Health Care Organizartions.
November 24, 2006 | 67875 |  | CMS-1326-N | Medicare Program; Rechartering of the Advisory Panel on Ambulatory Payment Classification Groups.
November 24, 2006 | 67873 |  | CMS-1305-N | Medicare Program; Request for Nominations to the Advisory Panel on Ambulatory Payment Classification Groups.
November 27, 2006 | 68708 | 405, 412, 422, and 489 | CMS-4105-F | Medicare Program; Notification of Hospital Discharge Appeal Rights.
November 27, 2006 | 68519 | 401 | CMS-6032-P | Medicare Program; Use of Repayment Plans.
November 27, 2006 | 68672 | 482 | CMS-3122-F | Medicare and Medicaid Programs; Hospital Conditions of Participation: Requirements for istory and Physical Examinations; Authentication of Verbal Orders; Securing Medications; and Postanesthesia Evaluations.
December 1, 2006 | 69624 | 405, 410, 411, 414, 415, and 424 | CMS-1321-FC CMS-1317-F | Medicare Programs; Revisions to 411, Payment Policies, Five-Year Review of Work Relative Value Units, Changes to the Practice Expense Methodology Under the Physician Fee Schedule, and Other Changes to Payment Under Part B; Revisions to the Payment Policies of Ambulance Services Under the Fee Schedule for Ambulance Services; and Ambulance Inflation Factor Update for CY 2007.
December 8, 2006 | 71378 | 482 | CMS-3018-F | Medicare and Medicaid Programs; Hospital Conditions of Participation: Patient's Rights.
December 8, 2006 | 71244 | 460, 462, 466, 473, and 476 | CMS-1201-F | Medicare and Medicaid Programs; Programs of All-Inclusive Care for and the Elderly (PACE); Program Revisions.
December 8, 2006 | 71062 | 405, 410, 411, 414, 415, and 424 | CMS-1321-CN | Medicare Program; Revisions to Payment Policies, Five-Year Review of Work Relative and 424 Value Units, and Changes to the Practice Expense Methodology Under the Physician Fee Schedule, and Other Changes to Payment Under Part B; Corrections.
December 13, 2006 | 75014 | 26 CFR Part 54, 29 CFR Part 2590, 45 CFR Part 146 | CMS-4081-F | Nondiscrimination and Wellness Programs in Health Coverage in the Part Group Market.
December 22, 2006 | 77202 |  | CMS-9038-N | Medicare and Medicaid Programs; Quarterly Listing of Program Issuances—July Through September 2006.
December 22, 2006 | 77174 | 447 | CMS-2238-P | Medicaid Program; Prescription Drugs.
December 22, 2006 | 77031 |  | CMS-1382-N | Medicare Program; Town Hall Meeting on the Fiscal Year 2008 Applications for New Medical Services and Technologies and Informational Workshop on Payment for New Technologies Under the Inpatient Prospective Payment System (IPPS) and the Outpatient Prospective Payment System (OPPS), Processes for Diagnoses-Related Group (DRG) Assignment; and Requesting New International Classification of Diseases, 9th Revisions, Clinical Modification (ICD-9-CM) Codes Under the IPPS—February 22, 2007.
December 22, 2006 | 77029 |  | CMS-7002-N | Medicare Program; Meeting of the Advisory Panel on Medicare Education, January 24, 2007.
December 22, 2006 | 77028 |  | CMS-1327-N | Medicare Program; First Biannual Meeting of the Advisory Panel on Ambulatory Payment Classification Groups—March 7, 8, and 9, 2007.

Addendum V—National Coverage Determinations

[October Through December 2006]

A national coverage determination (NCD) is a determination by the Secretary with respect to whether or not a particular item or service is covered nationally under Title XVIII of the Social Security Act, but does not include a determination of what code, if any, is assigned to a particular item or service covered under this title, or determination with respect to the amount of payment made for a particular item or service so covered. We include below all of the NCDs that were issued during the quarter covered by this notice. The entries below include information concerning completed decisions as well as sections on program and decision memoranda, which also announce pending decisions or, in some cases, explain why it was not appropriate to issue an NCD. We identify completed decisions by the section of the NCDM in which the decision appears, the title, the date the publication was issued, and the effective date of the decision. Information on completed decisions as well as pending decisions has also been posted on the CMS Web site at http://cms.hhs.gov/coverage.

National Coverage Determinations
[October Through December 2006]
Title | NCDM section | TN No. | Issue date | Effective date
Cardiac Output Monitoring by Thoracic Electrical Bioimpedance | 20.16 | R63NCD | 12/15/06 | 11/24/06
Infrared Therapy Devices | 270.6 | R62NCD | 12/15/06 | 10/24/06
Cavernous Nerves Electrical Stimulation Penile Plethysmography | 160.26 | R61NCD | 11/24/06 | 08/24/06
Changes to the Laboratory National Coverage Determination Edit Software for January 2007 | 190.12, 190.14-190.17, 190.22, 190.27, 190.33-190.34 | R1093CP | 10/27/06 | 01/01/07

Addendum VI—FDA-Approved Category B IDEs

[October Through December 2006]

Under the Food, Drug, and Cosmetic Act (21 U.S.C. 360c) devices fall into one of three classes. To assist CMS under this categorization process, the FDA assigns one of two categories to each FDA-approved IDE. Category A refers to experimental IDEs, and Category B refers to non-experimental IDEs. To obtain more information about the classes or categories, please refer to the Federal Register notice published on April 21, 1997 (62 FR 19328).

The following list includes all Category B IDEs approved by FDA during the fourth quarter, October through December 2006.

IDE | Category
G050169 | B
G050256 | B
G060033 | B
G060045 | B
G060052 | B
G060058 | B
G060067 | B
G060083 | B
G060090 | B
G060121 | B
G060141 | B
G060149 | B
G060159 | B
G060169 | B
G060178 | B
G060179 | B
G060180 | B
G060181 | B
G060182 | B
G060185 | B
G060186 | B
G060187 | B
G060189 | B
G060191 | B
G060192 | B
G060194 | B
G060196 | B
G060199 | B
G060204 | B
G060205 | B
G060210 | B
G060211 | B
G060212 | B
G060216 | B
G060220 | B
G060221 | B
G060222 | B
G060225 | B
G060227 | B
G060229 | B
G060230 | B
G060231 | B
G060233 | B
G060235 | B
G060236 | B
G060238 | B
G060239 | B
G060240 | B
G060241 | B
G060244 | B
G060246 | B
G060247 | B
G060248 | B
G060249 | B
G060252 | B
G060253 | B

Addendum VII—Approval Numbers for Collections of Information

Below we list all approval numbers for collections of information in the referenced sections of CMS regulations in Title 42; Title 45, Subchapter C; and Title 20 of the Code of Federal Regulations, which have been approved by the Office of Management and Budget:

OMB Control No. | Approved CFR Sections in Title 42, Title 45, and Numbers Title 20 (Note: Sections in Title 45 are preceded by “45 CFR,” and sections in Title 20 are preceded by “20 CFR”)
0938-0008 | Part 424, Subpart C
0938-0022 | 413.20, 413.24, 413.106
0938-0023 | 424.103
0938-0025 | 406.28, 407.27
0938-0027 | 486.100-486.110
0938-0033 | 405.807
0938-0034 | 405.821
0938-0035 | 407.40
0938-0037 | 413.20, 413.24
0938-0041 | 408.6, 408.202
0938-0042 | 410.40, 424.124
0938-0045 | 405.711
0938-0046 | 405.2133
0938-0050 | 413.20, 413.24
0938-0062 | 431.151, 435.151, 435.1009, 440.220, 440.250, 442.1, 442.10-442.16, 442.30, 442.40, 442.42, 442.100-442.119, 483.400-483.480, 488.332, 488.400, 498.3-498.5
0938-0065 | 485.701-485.729
0938-0074 | 491.1-491.11
0938-0080 | 406.7, 406.13
0938-0086 | 420.200-420.206, 455.100-455.106
0938-0101 | 430.30
0938-0102 | 413.20, 413.24
0938-0107 | 413.20, 413.24
0938-0146 | 431.800-431.865
0938-0147 | 431.800-431.865
0938-0151 | 493.1-493.2001
0938-0155 | 405.2470
0938-0193 | 430.10-430.20, 440.167
0938-0202 | 413.17, 413.20
0938-0214 | 411.25, 489.2, 489.20
0938-0236 | 413.20, 413.24
0938-0242 | 416.44, 418.100, 482.41, 483.270, 483.470
0938-0245 | 407.10, 407.11
0938-0251 | 406.7
0938-0266 | 416.1-416.150
0938-0267 | 485.56, 485.58, 485.60, 485.64, 485.66
0938-0269 | 412.116, 412.632, 413.64, 413.350, 484.245
0938-0270 | 405.376
0938-0272 | 440.180, 441.300-441.305
0938-0273 | 485.701-485.729
0938-0279 | 424.5
0938-0287 | 447.31
0938-0296 | 413.170, 413.184
0938-0301 | 413.20, 413.24, 415.60
0938-0302 | 418.22, 418.24, 418.28, 418.56, 418.58, 418.70, 418.74, 418.83, 418.96, 418.100
0938-0313 | 489.11, 489.20
0938-0328 | 482.12, 482.13, 482.21, 482.22, 482.27, 482.30, 482.41, 482.43, 482.45, 482.53, 482.56, 482.57, 482.60, 482.61, 482.62, 482.66, 485.618, 485.631
0938-0334 | 491.9, 491.10
0938-0338 | 486.104, 486.106, 486.110
0938-0354 | 441.50
0938-0355 | 442.30, 488.26
0938-0358 | 488.26
0938-0359 | 412.40-412.52
0938-0360 | 488.60
0938-0365 | 484.10, 484.12, 484.14, 484.16, 484.18, , 484.36, 484.48, 484.52
0938-0372 | 414.330
0938-0378 | 482.60-482.62
0938-0379 | 442.30, 488.26
0938-0382 | 442.30, 488.26
0938-0386 | 405.2100-405.2171
0938-0391 | 488.18, 488.26, 488.28
0938-0426 | 480.104, 480.105, 480.116, 480.134
0938-0429 | 447.53
0938-0443 | 478.18, 478.34, 478.36, 478.42
0938-0444 | 1004.40, 1004.50, 1004.60, 1004.70
0938-0445 | 412.44, 412.46, 431.630, 476.71, 476.74, 476.78
0938-0447 | 405.2133
0938-0448 | 405.2133, 45 CFR 5, 5b; 20 CFR Parts 401, 422E
0938-04494- | 40.180, 441.300- 441.310
0938-0454 | 424.20
0938-0456 | 412.105
0938-0463 | 413.20, 413.24, 413.106
0938-0467 | 431.17, 431.306, 435.910, 435.920, 435.940-435.960
0938-0469 | 417.126, 422.502, 422.516
0938-0470 | 417.143, 422.6
0938-0477 | 412.92
0938-0484 | 424.123
0938-0501 | 406.15
0938-0502 | 433.138
0938-0512 | 486.304, 486.306, 486.307
0938-0526 | 475.102, 475.103, 475.104, 475.105, 475.106
0938-0534 | 410.38, 424.5
0938-0544 | 493.1-493.2001
0938-0564 | 411.32
0938-0565 | 411.20-411.206
0938-0566 | 411.404, 411.406, 411.408
0938-0573 | 412.256
0938-0578 | 447.534
0938-0581 | 493.1-493.2001
0938-0599 | 493.1-493.2001
0938-0600 | 405.371, 405.378, 413.20
0938-0610 | 417.436, 417.801, 422.128, 430.12, 431.20, 431.107, 483.10, 484.10, 489.102
0938-0612 | 493.801, 493.803, 493.1232, 493.1233, 493.1234, 493.1235, 493.1236, 493.1239, 493.1241, 493.1242, 493.1249, 493.1251, 493,1252, 493.1253, 493.1254, 493.1255, 493.1256, 493.1261, 493.1262, 493.1263, 493.1269, 493.1273, 493.1274, 493.1278, 493.1283, 493.1289, 493.1291, 493.1299
0938-0618 | 433.68, 433.74, 447.272
0938-0653 | 493.1771, 493.1773, 493.1777
0938-0657 | 405.2110, 405.2112
0938-0658 | 405.2110, 405.2112
0938-0667 | 482.12, 488.18, 489.20, 489.24
0938-0686 | 493.551-493.557
0938-0688 | 486.301-486.325
0938-0691 | 412.106
0938-0692 | 466.78, 489.20, 489.27
0938-0701 | 422.152
0938-0702 | 45 CFR 146.111, 146.115, 146.117, 146.150, 146.152, 146.160, 146.180
0938-0703 | 45 CFR 148.120, 148.122, 148.124, 148.126, 148.128
0938-0714 | 411.370-411.389
0938-0717 | 424.57
0938-0721 | 410.33
0938-0723 | 421.300-421.316
0938-0730 | 405.410, 405.430, 405.435, 405.440, 405.445, 405.455, 410.61, 415.110, 424.24
0938-0732 | 417.126, 417.470
0938-0734 | 45 CFR 5b
0938-0739 | 413.337, 413.343, 424.32, 483.20
0938-0749 | 424.57
0938-0753 | 422.000-422.700
0938-0754 | 441.151, 441.152
0938-0758 | 413.20, 413.24
0938-0760 | 484.55, 484.205, 484.245, 484.250
0938-0761 | 484.11, 484.20
0938-0763 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.286, 423.293, 423.301, 423.308, 423.315, 423.322, 423.329, 423.336, 423.343, 423.346, 423.350
0938-0770 | 410.2
0938-0778 | 422.111, 422.564
0938-0779 | 417.126, 417.470, 422.64, 422.210
0938-0781 | 411.404, 484.10
0938-0786 | 438.352, 438.360, 438.362, 438.364
0938-0790 | 460.12-460.210
0938-0792 | 491.8, 491.11
0938-0796 | 422.64
0938-0798 | 413.24, 413.65, 419.42
0938-0802 | 419.43
0938-0818 | 410.-141-410.146, 414.63
0938-0829 | 422.568
0938-0832 | Parts 489 and 491
0938-0833 | 483.350-483.376
0938-0841 | 431.636, 457.50, 457.60, 457.70, 457.340, 457.350, 457.431, 457.440, 457.525, 457.560, 457.570, 457.740, 457.750, 457.810, 457.940, 457.945, 457.965, 457.985, 457.1005, 457.1015, 457.1180
0938-0842 | 412.23, 412.604, 412.606, 412.608, 412.610, 412.614, 412.618, 412.626, 413.64
0938-0846 | 411.352-411.361
0938-0857 | Part 419
0938-0860 | Part 419
0938-0866 | 45 CFR Part 162
0938-0872 | 413.337, 483.20,
0938-0873 | 422.152
0938-0874 | 45 CFR Parts 160 and 162
0938-0878 | Part 422 Subparts F and G
0938-0887 | 45 CFR 148.316, 148.318, 148.320
0938-0897 | 412.22, 412.533
0938-0907 | 412.230, 412.304, 413.65
0938-0910 | 422.620, 422.624, 422.626
0938-0911 | 426.400, 426.500
0938-0915 | 421.120, 421.122
0938-0916 | 483.16
0938-0920 | 438.6, 438.8, 438.10, 438.12, 438.50, 438.56, 438.102, 438.114, 438.202, 438.206, 438.207, 438.240, 438.242, 438.402, 438.404, 438.406, 438.408, 438.410, 438.414, 438.416, 438.604, 438.710, 438.722, 438.724, 438.810
0938-0921 | 414.804
0938-0931 | 45 CFR 142.408, 162.408, and 162.406
0938-0933 | 438.50
0938-0935 | 422 Subparts F and K
0938-0936 | 423
0938-0939 | 405.502
0938-0944 | 422.250, 422.252, 422.254, 422.256, 422.258, 422.262, 422.264, 422.266, 422.270, 422.300, 422.304, 422.306, 422.308, 422.310, 422.312, 422.314, 422.316, 422.318, 422.320, 422.322, 422.324, 423.251, 423.258, 423.265, 423.272, 423.279, 423.286, 423.293, 423.301, 423.308, 423.315, 423.322, 423.329, 423.336, 423.343, 423.346, 423.350
0938-0950 | 405.910
0938-0951 | 423.48
0938-0953 | 405.1200 and 405.1202
0938-0954 | 414.906, 414.908, 414.910, 414.914, 414.916
0938-0957 | Part 423 Subpart R
0938-0964 | 403.460, 411.47
0938-0975 | 423.562(a)
0938-0976 | 423.568
0938-0977 | Part 423 Subpart R
0938-0978 | 423.464
0938-0982 | 422.310, 423.301, 423.322, 423.875, 423.888
0938-0990 | 423.56
0938-0992 | 423.505, 423.514

Addendum VIII—Medicare-Approved Carotid Stent Facilities

[October Through December 2006]

On March 17, 2005, we issued our decision memorandum on carotid artery stenting. We determined that carotid artery stenting with embolic protection is reasonable and necessary only if performed in facilities that have been determined to be competent in performing the evaluation, procedure, and follow-up necessary to ensure optimal patient outcomes. We have created a list of minimum standards for facilities modeled in part on professional society statements on competency. All facilities must at least meet our standards in order to receive coverage for carotid artery stenting for high risk patients.

Approved Carotid Artery Stenting Facilities—October, November, and December 2006

Effective Date 10/06/06

Aurora BayCare Medical Center, 2845 Greenbrier Road, P.O. Box 8900, Green Bay, WI 54308-8900, Medicare Provider #520193.

Baptist Hospital West, 10820 Parkside Drive, Knoxville, TN 37934, Medicare Provider #440226.

St. Agnes Hospital, 430 E. Division Street, P.O. Box 385, Fond du Lac, WI 54936-0385, Medicare Provider #520088.

Effective Date 10/12/06

Kenmore Mercy Hospital, 2950 Elmwood Avenue, Kenmore, NY 14217, Medicare Provider #330102.

Effective Date 10/13/06

Albert Einstein Medical Center, 5401 Old York Road, Philadelphia, PA 19141, Medicare Provider #390142.

Community Regional Medical Center, P.O. Box 1232, Fresno, CA 93715-1232, Medicare Provider #050060.

Effective Date 10/20/06

Excela Health System, Westmoreland Regional Hospital, 532 West Pittsburgh Street, Greenburg, PA 15601, Medicare Provider #390145.

Mainland Medical Center, 6801 Emmett F. Lowry Expressway, Texas City, TX 77591, Medicare Provider #450530.

Effective Date 10/27/06

Alliance Hospital, LTD, 515 North Adams, Odessa, TX 79761, Medicare Provider #450868.

NCH Healthcare Systems, Inc., 350 Seventh Street N, Naples, FL 34102, Medicare Provider #190018.

Southeast Georgia Health System, Brunswick Campus, 2415 Parkwood Drive, Brunswick, GA 31520, Medicare Provider #110025.

Effective Date 11/06/06

BroMenn Healthcare, P.O. Box 2850, Bloomington, IL 61702-2850, Medicare Provider #140127.

Exeter Hospital, 5 Alumni Drive, Exeter, NH 03833, Medicare Provider #300023.

South Miami Hospital, 6200 SW 73 Street, Miami, FL 33143, Medicare Provider #100154.

Effective Date 11/13/06

Merle West Medical Center, 2865 Daggett Avenue, Klamath Falls, OR 97601, Medicare Provider #380050.

Seton Corporation, d.b.a. Baptist Hospital, 2000 Church Street, Nashville, TN 37236, Medicare Provider #440133.

Effective Date 11/16/06

Caldwell Memorial Hospital, Inc., 321 Mulberry Street, SW., Lenoir, NC 28645, Medicare Provider #340041.

Methodist Hospitals, 600 Grant Street, Gary, IN 46402, Medicare Provider #150002.

Phoenixville Hospital, 140 Nutt Road, Phoenixville, PA 19460, Medicare Provider #390127.

Physicians Regional Medical Center, 6101 Pine Ridge Road, Naples, FL 34119, Medicare Provider #100286.

Sandhills Regional Medical Center, 1000 West Hamlet Avenue, Hamlet, NC 28345, Medicare Provider #340106.

St. Anne Mercy Hospital, 3404 W. Sylvania Avenue, Toledo, OH 43623, Medicare Provider #360262.

St. Elizabeth Health Center, 1044 Belmont Avenue, Youngstown, OH 44501-1790, Medicare Provider #360064.

The University of Texas Medical Branch, 301 University Boulevard, Galveston, TX 77555-0518, Medicare Provider #450018.

Effective Date 11/24/06

Clara Maass Medical Center, 1 Clara Maass Drive, Belleville, NJ 07109, Medicare Provider #310090.

Columbus Regional Hospital, 2400 East 17th Street, Columbus, IN 47201, Medicare Provider #150112.

St. Joseph Hospital, 2605 Harlem Road, Cheektowaga, NY 14225-4097, Medicare Provider #330091.

Effective Date 12/01/06

Carolinas Hospital System, 805 Pamplico Highway, P.O. Box 100550, Florence, SC 29501-0550, Medicare Provider #420091.

Chambersburg Hospital, 112 North Seventh Street, P.O. Box 6005, Chambersburg, PA 17201-6005, Medicare Provider #390151.

Chandler Regional Hospital, 475 South Dobson Road, Chandler, AZ 85224, Medicare Provider #030036.

Kingwood Medical Center, 22999 U.S. Highway 59, Kingwood, TX 77339, Medicare Provider #450775.

McLeod Regional Medical Center, 555 East Cheves Street, P.O. Box 100551, Florence, SC 29501-0551, Medicare Provider #420051.

Effective Date 12/11/06

Bloomington Hospital, P.O. Box 1149, Bloomington, IN 47402, Medicare Provider #150051.

Somerset Medical Center, 110 Rehill Avenue, Somerville, NJ 08876-2598, Medicare Provider #310048.

The Medical Center of Southeast Texas, 2555 Jimmy Johnson Boulevard, Port Arthur, TX 77640, Medicare Provider #450518.

Effective Date 12/21/06

Bon Secours Maryview Medical Center, 3636 High Street, Portsmouth, VA 23707, Medicare Provider #290017.

Evangelical Community Hospital, One Hospital Drive, Lewisburg, PA 17837, Medicare Provider #390013.

Montgomery General Hospital, 18101 Prince Philip Drive, Olney, MD 20832, Medicare Provider #210018.

Washington County Hospital, 251 East Antietam Street, Hagerstown, MD 21740, Medicare Provider #210001.

Addendum IX—American College of Cardiology's National Cardiovascular Data Registry Sites

[October Through December 2006]

In order to obtain reimbursement, Medicare national coverage policy requires that providers implanting ICDs for primary prevention clinical indications (that is, patients without a history of cardiac arrest or spontaneous arrhythmia) report data on each primary prevention ICD procedure. This policy became effective January 27, 2005. Details of the clinical indications that are covered by Medicare and their respective data reporting requirements are available in the Medicare National Coverage Determination (NCD) Manual, which is on the Centers for Medicare & Medicaid Services (CMS) Web site at http://www.cms.hhs.gov/Manuals/IOM/itemdetail.asp?filterType=none&filterByDID=99&sortByDID=1&sortOrder=ascending&itemID=CMS014961.

A provider can use either of two mechanisms to satisfy the data reporting requirement. Patients may be enrolled either in an Investigational Device Exemption trial studying ICDs as identified by the FDA or in the American College of Cardiology's National Cardiovascular Data Registry (ACC-NCDR) ICD registry. Therefore, in order for a beneficiary to receive a Medicare-covered ICD implantation for primary prevention, the beneficiary must receive the scan in a facility that participates in the ACC-NCDR ICD registry.

We maintain a list of facilities that have been enrolled in this registry. Addendum IX includes the facilities that have been designated in the quarter covered by this notice.

Facility name | Address | City | State | Zip
Abbott Northwestern Hospital | 800 East 28th Street (internal zip 33210) | Minneapolis | MN | 55407
Abilene Regional Medical Center | 6250 Highway 83/84 | Abilene | TX | 97606
Abington Memorial Hospital | 1200 York Road | Abington | PA | 19446
Advance Cath Imaging, L.P. | 609 Medical Center Drive | Decatur | TX | 76234
Adventist Medical Center | 10123 SE Market Street | Portland | OR | 97216
Advocate Christ Medical Center | 4440 West 95th Street #127NOB | Oak Lawn | IL | 60453
Advocate Good Shepherd Hospital | 450 W. Highway 22 | Barrington | IL | 60010
Advocate Illinois Masonic Medical Center | 836 W. Wellington Avenue | Chicago | IL | 60657
Advocate Lutheran General Hospital | 1775 Dempster Street | Park Ridge | IL | 60068
Advocate South Suburban Hospital | 17800 S. Kedzie Avenue | Hazel Crest | IL | 60429
Aiken Regional Medical Center | 302 University Parkway | Aiken | SC | 29802
Akron City Hospital | 525 East Market Street | Akron | OH | 44309-2090
Akron General Medical Center | 400 Wabash Avenue | Akron | OH | 44307
Alaska Regional Hospital | 2801 Debarr Road | Anchorage | AK | 99508
Albany Medical Center Dept of Med Div of Cardiology | 43 New Scotland Aveune | Albany | NY | 12208
Albert Einstein Medical Center | 5501 Old York Road | Philadelphia | PA | 19141
Alegent Health Bergan Mercy Medical Center | 7500 Mercy Road | Omaha | NE | 68124
Alegent Health Immanuel Medical Center | 6828 N. 72 Street, Suite 3000N | Omaha | NE | 68122-1709
Alegent Health-Mercy Hospital | 6901 N. 72 Street | Omaha | NE | 68122
Alexian Brothers Medical Center | 800 Biesterfield Road | Elk Grove Village | IL | 60007-3311
Allegheny General Hospital | 320 East North Avenue | Pittsburgh | PA | 15212
Allen Memorial Hospital | 1825 Logan Avenue | Waterloo | IN | 50703
Alliance Hospital | 515 North Adams | Odessa | TX | 79761
Alpena Regional Medical Center | 1501 W. Chisholm Street | Alpena | MI | 49707
Alta Bates Medical Center | 2450 Ashby Avenue | Berkeley | CA | 94705
Alta Bates Summit Medical Center | 2450 Ashby Avenue | Berkeley | CA | 94705
Alton Memorial Hospital | 1 Memorial Drive | Alton | IL | 62067
Altoona Hospital | 620 Howard Avenue | Altoona | PA | 16601
Altru Health System | 1200 South Columbia Road | Grand Forks | ND | 58206-6002
Alvarado Hospital Medical Center/SDRI | 6655 Alvarado Road | San Diego | CA | 92124
Anaheim Memorial Medical Center | 1111 W. La Palma | Anaheim | CA | 92801
AnMed Health | 800 Fant Street | Anderson | SC | 29621
Anne Arundel Medical Center | 2001 Medical Parkway | Annapolis | MD | 21401
Appleton Medical Center | 1818 N. Meade Street/MOB-S/2nd Floor | Appleton | WI | 54911
Arizona Heart Hospital | 1930 East Thomas Road | Phoenix | AZ | 85016
Arkansas Heart Hospital | 1701 S. Shackelford Road | Little Rock | AR | 72202
Arlington Memorial Hospital | 800 W. Randol Mill Road | Arlington | TX | 76012-2504
Arnold Palmer Hospital | 1414 Kuhl Avenue | Orlando | FL | 32806
Arnot-Ogden Medical Center | Arnot Heath Heart & Vascular Institute | Elmira | NY | 14905-1629
Aspirus Wausau Hospital | 333 Pine Ridge Boulevard | Wausau | WI | 54401
Athens Regional Medical Center | 1199 Prince Avenue | Athens | GA | 30606
Atlanta Medical Center | 303 Parkway Drive NE | Atlanta | GA | 30312
Atlanticare Regional Medical Center | 2500 English Creek Avenue | Egg Habour Township | NJ | 08234
Audrain Medical Center | 620 East Monroe | Mexico | MO | 65265
Aultman Hospital | 2600 Sixth Street S.W. | Canton | OH | 44710
Aurora Bay Care Medical Center | 2845 Greenbrier Road | Green Bay | WI | 54308
Aurora Sinai Medical Center | 2900 West Oklahoma Avenue | Milwaukee | WI | 53215
Aventura Hospital and Medical Center | 20900 Biscayne Boulevard | Aventura | FL | 33180
Avera Heart Hospital of South Dakota | 4500 West 69th Street | Sioux Falls | SD | 57108
Avera Sacred Heart Hospital | 501 Summit Street | Yankton | SD | 57078
Bakersfield Heart Hospital | 3001 Sillect Avenue | Bakersfield | CA | 93308
Bakersfield Memorial Hospital | 420 34th Street—PO 1888 | Bakersfield | CA | 93303-1888
Ball Memorial Hospital | 2401 University Avenue | Muncie | IN | 47303
Banner Baywood Heart Hospital | 6750 E. Baywood Avenue | Mesa | AZ | 85206
Banner Desert Medical Center | Banner Desert Medical Center, Quality Management—1400 S. Dobson Road | Mesa | AZ | 85202
Banner Estrella Medical Center | 9201 W. Thomas Road | Phoenix | AZ | 85037
Banner Good Samaritan Medical Center | 1111 East McDowell Road | Phoenix | AZ | 85006-2612
Banner Thunderbird Med Center | 5555 W. Thunderbird Road | Glendale | AZ | 85306
Baptist Health Medical Center | 9601 Interstate 630 Exit 7 | Little Rock | AR | 72205
Baptist Health Medical Center | 3333 Springhill Drive | North Little Rock | AR | 72117
Baptist Health System | 215 E Quincy, Suite 200 | San Antonio | TX | 78215
Baptist Hospital | 1000 W. Moreno Street | Pensacola | FL | 32501
Baptist Hospital | 2000 Church Street | Nashville | TN | 37236
Baptist Hospital East | 4000 Kresge Way | Louisville | KY | 40207
Baptist Hospital of East Tennessee | 137 Blount Avenue | Knoxville | TN | 37920
Baptist Hospital of Miami | 8900 North Kendall Drive | Miami | FL | 33176
Baptist Hospital West | 10820 Parkside Drive | Knoxville | TN | 37934
Baptist Medical Center | 2105 East South Boulevard | Montgomery | AL | 36116
Baptist Medical Center | 800 Prudential Drive | Jacksonville | FL | 32207
Baptist Medical Center | 111 Dallas Street | San Antonio | TX | 78205
Baptist Medical Center | Alabama Heart Institute—Montclair | 800 Birmingham Montclair Road | AL | 35213-1908
Baptist Memorial Hospital | 6019 Walnut Grove Road | Memphis | TN | 38120
Baptist Memorial Hospital Golden Triangle | 2520 5th Street North P.O. Box 1307 | Columbus | MS | 39703
Baptist Memorial Hospital North Mississippi | 2301 South Lamar Boulevard | Oxford | MS | 38655
Baptist Memorial Hospital—Desoto | 7601 Southcrest Parkway | Southaven | MS | 38671
Baptist St. Anthony's Health Systems | 1600 Wallace Boulevard | Amarillo | TX | 79106
Barberton Citizens Hospital | 155 5th Street NE | Barberton | OH | 44203
Barnes Jewish Hospital/Washington University | Barnes Jewish Hospital, Cardiovascular Procedure C—600 S. Taylor Avenue, Mailstop 90-59-315 | Saint Louis | MO | 63110-9930
Barstow Community Hospital | 555 South Seventh Street | Barstow | CA | 92311
Bartow Regional Medical Center | PO Box 1050 | Bartow | FL | 33831-1050
Bassett Healthcare- (Mary Imogene Bassett Hospital) | One Atwell Road | Cooperstown | NY | 13326
Baton Rouge General Medical Center | 3600 Florida Boulevard | Baton Rouge | LA | 70806
Battle Creek Health System | 300 North Avenue | Battle Creek | MI | 49016
Baxter Regional Medical Center Attn: A/P | 624 Hospital Drive | Mountain Home | AR | 72653
Bay Medical Center | 615 North Bonita Avenue | Panama City | FL | 32401
Bay Regional Medical Center | 1900 Columbus Avenue | Bay City | MI | 48708
Bayfront Medical Center | 701 Sixth Street South | St. Petersburg | FL | 33701
Bayhealth Medical Center (KGH) | 640 S. State Street | Dover | DE | 19901
Baylor All Saints Medical Center | 1400 Eighth Avenue | Fort Worth | TX | 76104
Baylor Jack and Jane Hamilton Heart and Vascular Hospital | 621 North Hall Street | Dallas | TX | 75226
Baylor Medical Center at Garland | 2300 Marie Curie Drive | Garland | TX | 75042
Baylor Medical Center at Irving | 1901 North MacArthur Boulevard | Irving | TX | 75061
Baylor Regional Medical Center at Grapevine | 1650 West College Street | Grapevine | TX | 76051
Baylor Regional Medical Center at Plano | 4700 Alliance Boulevard | Plano | TX | 75093
Bayshore Medical Center | 4000 Spencer Highway | Pasadena | TX | 77504
Baystate Medical Center | 759 Chestnut Street, S4553 | Springfield | MA | 01199
Bellevue Hospital Center | 462 First Avenue | New York | NY | 10016
Bellevue Hospital Center | 462 First Avenue | New York | NY | 10016
Bellin Memorial Hospital | 744 S Webster Avenue—Cardiac Data Center, 5th Floor | Green Bay | WI | 54301
Benefis Healthcare | 1101 26th Street S | Great Falls | MT | 59405-5161
Bert Fish Medical Center | 401 Palmetto Street | New Smyrna Beach | FL | 32168
Beth Israel Deaconess Medical Center | 185 Pilgrim Road | Boston | MA | 02215
Bethesda Memorial Hospital | 2815 S. Seacrest Boulevard | Boynton Beach | FL | 33435
Bethesda North Hospitals | 375 Dixmyth Avenue | Cincinnati | OH | 45220-2489
Beverly Hospital | 85 Herrick Street | Beverly | MA | 01915
Bexar County Hospital District dba University Heal | 4502 Medical Drive Stop 34-1 Room G-0128 | San Antonio | TX | 78229
Billings Clinic | 2800 10th Avenue North | Billings | MT | 59101
Binghampton General Hospital—United Health Services Hospital, Inc. | 20-42 Mitchell Avenue | Binghampton | NY | 13903
Blake Medical Center | 2020 59th Street W | Bradenton | FL | 34209
Blanchard Valley Regional Health Center | 145 W. Wallace Street | Findlay | OH | 45840-1299
Blessing Hospital | 11th and Broadway | Quincy | IL | 62301
Bloomington Hospital | 601 W. Second Street | Bloomington | IN | 47403
Blue Ridge HealthCare | 2201 South Sterling Street | Morganton | NC | 28655
Boca Raton Community Hospital | 800 Meadows Road | Boca Raton | FL | 33486
Bon Secours DePaul Medical Center | 150 Kingsley Lane | Norfolk | VA | 23505
Bon Secours Maryview Medical Center | 3636 High Street | Portsmouth | VA | 23707
Bon Secours-Memorial Regional Medical Center | 8260 Atlee Road | Mechanicsville | VA | 23116
Bon Secours-St. Marys Hospital | 5801 Bremo Road | Richmond | VA | 23226
Boone Hospital Center | 1600 E Broadway | Columbia | MO | 65201-5897
Borgess Medical Center | 1521 Gull Road | Kalamazoo | MI | 49048
Boston Medical Center | One Boston Medical Place | Boston | MA | 02118
Boston University Medical Center | One Boston Medical Place | Boston | MA | 02118
Boswell Memorial Hospital | 10401 West Thunderbird | Sun City | AZ | 85351
Botsford Hospital | 28050 Grand River Avenue | Farmington Hills | MI | 48336
Boulder Community Hospital | 1100 Balsam Avenue | Boulder | CO | 80304
Braddock Campus | 900 Braddock Drive | Cumberland | MD | 21502
Brandon Regional Hospital | 119 Oakfield Drive | Brandon | FL | 33511
Brandywine Hospital | 201 Reeceville Road | Coatesville | PA | 19320
Bridgeport Hospital | 267 Grant Street | Bridgeport | CT | 06610
Brigham & Womens Hospital | 75 Francis Street | Boston | MA | 02115
BroMenn Hospital | P.O. Box 2850 | Bloomington | IL | 61702-2850
Bronson Methodist Hospital | 601 John Street | Kalamazoo | MI | 49007-5348
Brookdale Hospital & Medical Center | 1 Brookdale Plaza | Brooklyn | NY | 11212
Brooklyn Hospital Center | 121 Dekalb Avenue | Brooklyn | NY | 11201
Brooksville Regional Hospital | 17240 Cortez Boulevard | Brooksville | FL | 34601
Brookwood Medical Center | 2010 Brookwood Medical Center | Birmingham | AL | 35209
Brotman Medical Center | 3828 Delmas Terrace | Culver City | CA | 90231-2459
Broward General Medical Center | 1600 S. Andrews Avenue | Ft. Lauderdale | FL | 33316
Bryan LGH Medical Center | 1600 South 48th Street | Lincoln | NE | 68526
Bryn Mawr Hospital | 100 Lancaster Avenue | Wynnewood | PA | 19096
Buffalo General HospitalAaron Hlth. Sci. Lib. 4D | 100 High Street | Buffalo | NY | 14203
Cabell Huntington Hospital | 1340 Hal Greer Boulevard | Huntington | WV | 25701
California Pacific Medical Center | 2330 Clay Street, Room 103 | San Francisco | CA | 94115
CAMC Teays Valley Hospital | 1400 Hospital Drive | Hurricane | WI | 25526
Camden-Clark Memorial Hospital | 800 Garfield Avenue | Parkersburg | WV | 26101
Candler Hospital, Inc | 5353 Reynolds Street | Savannah | GA | 31405
Cape Canaveral Hospital | 701 West Cocoa Beach Causeway | Cocoa Beach | FL | 32931
Cape Cod Hospital | 8 Park Street | Hyannis | MA | 02601
Cape Fear Valley Health System | 303 Wagoner Drive | Fayetteville | NC | 28303-4646
Capital Regional Medical Center | barbara.scott3@hcahealthcare.com | Tallahassee | FL | 32308
Capital Regional Medical Center | 1125 Madison Street (PO BOX 1128) | Jefferson City | MO | 65102-1128
Cardiovascular Center of Puerto Rico | PO Box 366528 | San Juan | PR | 00936-6528
Carilion Roanoke Memorial Hosp | Att: Cardiac Cath Lab—PO Box 13367 | Roanoke | VA | 24033-3367
Caritas Norwood Hospital | 800 Washington Street | Norwood | MA | 02062
Caritas St. Elizabeths Medical Center | 736 Cambridge Street | Boston | MA | 02135
Carle Foundation Hospital | 611 W. Park Street | Urbana | IL | 61801
Carolina Pines Regional Medical Center | 1304 W. Bobo Newsome Highway | Hartsville | SC | 29069
Carolinas Hospital System | 805 Pamplico Highway | Florence | SC | 29505
Carolinas Medical Center | P.O. Box 32861 | Charlotte | NC | 28232
Carolinas Medical Center-Mercy | 2001 Vail Avenue | Charlotte | NC | 28207
Carondelet Heart Institute at St. Joseph HC | 1000 Carondelet Drive | Kansas City | MO | 64114
Carraway Methodist Medical Center | 1600 Carraway Boulevard | Birmingham | AL | 35234
Carroll Hospital Center | 200 Memorial Avenue | Westminster | MD | 21157
Carson Tahoe Regional Medical Center | 775 Fleischmann Way | Carson | NV | 89703
Castleview Hospital | 300 North Hospital Drive | Price | UT | 84501
Catholic Medical Center | 100 McGregor Street | Manchester | NH | 03102-3770
Cedars-Sinai Health Systems | 8631 West Third Street, Suite 415 E. | Los Angeles | CA | 90048
Centennial Medical Center | 2300 Patterson Street | Nashville | TN | 37203
Centennial Medical Center | 12505 Lebanon Road | Frisco | TX | 75035
Centinela Hospital Medical Center | 555 E. Hardy Street | Inglewood | CA | 90301
Central Baptist Hospital | 1800 Nicholasville Road, Suite 401 | Lexington | KY | 40503
Central DuPage Hospital | 25 N. Winfield Road | Winfield | IL | 60190
Central Florida Regional Hospital | 1401 W. Seminole Boulevard | Sandford | FL | 32771
Central Maine Medical Center | 300 Main Street | Lewiston | ME | 04240
Central Minnesota Heart Ctr at St. Cloud Hospital | 1406 Sixth Avenue North | St. Cloud | MN | 56303
Central Mississippi Medical Center | 1850 Chadwick Drive | Jackson | MS | 39204
CGH Medical Ceneter | 100 East Le Fevre Road | Sterling | IL | 61081
Chandler Regional Hospital | 475 S. Dobson Road | Chandler | AZ | 85224-5695
Charleston Area Medical Center | 501 Morris Street | Charleston | WV | 25301
Charlotte Regional Medical Center | 809 East Marion Avenue | Punta Gorda | FL | 33950
Chattanooga-Hamilton County Hospital Authority/ER | 975 E. Third Street | Chattanooga | TN | 37403
Chesapeake General Hospital | 736 Battlefield Boulevard | North Chesapeake | VA | 23320
Cheshire Medical Center | 580 Court Street | Keene | NH | 3431
Chester County Hospital | 701 East Marshall Street | West Chester | PA | 19380
Chester River Hospital Center | 100 Brown Street | Chestertown | MD | 21620
Cheyenne Regional Medical Center | 214 E. 23rd Street | Cheyenne | WY | 82001
Christiana Care Health System | 4755 Ogletown-Stanton Road | Newark | DE | 19718
Christus Hospital-St. Mary | 3600 Gates Boulevard | Port Arthur | TX | 77642
Christus Saint Elizabeth Hospital | 2830 Calder Street | Beaumont | TX | 77702
Christus Spohn Hospital Corpus Christi—Shoreline | 600 Elizabeth Street | Corpus Christi | TX | 78404
Christus St. Michael Health Systen | 2600 St. Michael Drive | Texarkana | TX | 75501
Christus St. Patrick Hospital | 524 South Ryan Street | Lake Charles | LA | 70602-3401
Christus-Schumpert Highland Hospital | One St. Mary Place | Shreveport | LA | 71101
Christus-St. Frances Cabrini Hospital | 3330 Masonic Drive | Alexandria | LA | 71301
Citrus Memorial Health System | 502 W. Highland Boulevard | Inverness | FL | 34452
CJW Medical Center | 7101 Jahnke Road | Richmond | VA | 23225-4044
Clarian Health Partners-Methodist Hospital Campus | 1701 N. Senate Boulevard—Room A1082 | Indianapolis | IN | 46202
Clark Memorial Hospital | 1220 Missouri Avenue | Jeffersonville | IN | 47130
Clear Lake Regional Medical Center | 500 Medical Center Boulevard | Webster | TX | 77598
Cleveland Clinic Foundation | 9500 Euclid Avenue | Cleveland | OH | 44195
Cleveland Clinic Hospital | 3100 Weston Road | Weston | FL | 33331
Coliseum Medical Centers | 350 Hospital Drive | Macon | GA | 31217
College Station Medical Center | 1604 Rock Prairie Road | College Station | TX | 77845
Columbia Independence Health Center | 17203 East 23rd Street | Indenpendence | MO | 64057
Columbia North Hills Hospital | 4401 Booth Calloway Road | North Richland Hills | TX | 76180
Columbia Regional Hospital | 1 Hospital Drive | Columbia | MO | 65212
Columbia St. Mary's Hospital Milwaukee | 4425 North Port Washington Road | Milwaukee | WI | 53212
Columbia St. Mary's Hospital Ozaukee | 13111 North Port Washington Road | Mequon | WI | 53097
Columbus Regional Hospital | 2400 17th Street | Columbus | IN | 47201
Comanche County Memorial Hospital | 3401 W. Gore Boulevard | Lawton | OK | 73505
Community Health Partners | 3700 Kolbe Road | Lorain | OH | 44053
Community Hospital | 901 Mac Arthur Boulevard | Munster | IN | 46321
Community Hospital | 2615 E. High Street | Springfield | OH | 45505
Community Hospital and Wellness Center | 433 West High Street | Bryan | OH | 43506
Community Hospital East | Cardiovascular Services—1500 North Ritter Avenue | Indianapolis | IN | 46219
Community Hospital of the Monterey Peninsula | PO Box HH | Monterey | CA | 93942-1085
Community Hospital South | 1500 N. Ritter Avenue | Indianapolis | IN | 46219-3027
Community Medical Center | 2827 Fort Missoula Road | Missoula | MT | 59804
Community Medical Center | 99 Highway 37 West | Toms River | NJ | 08775
Community Medical Center | 1800 Mulberry Street | Scranton | PA | 18510
Community Medical Center-Clovis | 2755 Herndon Avenue | Clovis | CA | 93611
Community Memorial Hospital | 147 N. Brent | Ventura | CA | 93003
Community Memorial Hospital | W180 N8085 Town Hall Road | Menomonee Falls | WI | 53052
Concord Hospital | 250 Pleasant Street | Concord | NH | 03301
Condell Medical Center | 801 S. Milwaukee Avenue | Libertyville | IL | 60048
Conroe Regional Medical Center | 504 Medical Center Boulevard | Conroe | TX | 77304
Convenant Heart Institute | 3615 19th Street | Lubbock | TX | 79410
Conway Regional Medical Center | 2302 College Avenue | Conway | AR | 72032-6226
Cookeville Regional Medical Center | 142 W. 5th Street | Cookeville | TN | 38501-1760
Cooley Dickinson Hospital | 30 Locust Street | North Hampton | MA | 01060
Cooper University Hospital | One Cooper Plaza | Camden | NJ | 08103
Coral Gables Hospital | 3100 Douglas Road | Coral Gables | FL | 33134
Coral Springs Medical Center | 3000 Coral Hills Drive | Coral Springs | FL | 33065
Corpus Chrisiti Medical Center | 7101 SPID | Corpus Christi | TX | 78412
Covenant Healthcare | 1447 N. Harrison | Saginaw | MI | 48602
Cox Medical Center South | 3801 S. National Avenue | Springfield | MO | 65807
Craven Regional Medical Center | 2000 Neuse Boulevard | New Bern | NC | 28561
Creighton University Medical Center | 601 N. 30th Street | Omaha | NE | 68131
Crittenton Hospital Medical Center | 1101 W. University Drive | Rochester | MI | 48307-1831
Crouse Hospital | 736 Irving Avenue | Syracuse | NY | 13210
Crozer Chester Medical Center | 1 Medical Center Boulevard | Chester | PA | 19013-3995
CVPH Medical Center | 75 Beekman Street | Plattsburgh | NY | 12901
Dakota Clinic | 3000 32nd Avenue SW | Fargo | ND | 58104
Dameron Hospital | 525 W. Acacia Street | Stockton | CA | 95203
Danbury Hospital | 24 Hospital Avenue | Danbury | CT | 06810-6099
Davis Hospital | 1600 West Antelope Drive | Layton | UT | 84041
Dayton Heart Hospital | 707 S. Edwin C. Moses Boulevard | Dayton | OH | 45408
DCH Regional Medical Center | 809 University Boulevard | E Tuscaloosa | AL | 35401-2029
Deaconess Hospital | 600 Mary Street | Evansville | IN | 47747
Deaconess Hospital | 311 Straight Street | Cincinnati | OH | 45219
Deaconess Hospital | 5501 N. Portland Avenue | Oklahoma City | OK | 73112
Deaconess Medical Center | W. 800 Fifth Avenue | Spokane | WA | 99204
Deborah Heart & Lung Center | 200 Trenton Road | Browns Mills | NJ | 8015
Decatur General Hospital | 1201 7th Street, S.E. | Decatur | AL | 35601
Degraff Memorial Hospital | 445 Tremont Street | North Tanawanda | NY | 14120
Dekalb Regional Medical Center | 200 Medical Center Drive | Fort Payne | AL | 35968
Del Sol Medical Center | 10301 Gateway West | El Paso | TX | 79925
Delray Medical Center | 5352 Linton Boulevard | Delray Beach | FL | 33484
Denton Regional Medical Center | 3535 South I-35E | Denton | TX | 76205
Denver Health Medical Center | 777 Bannock Street | Denver | CO | 80204
DePaul Health Center | 12303 DePaul Drive | Bridgeton | MO | 63044
Des Peres Hospital | 2345 Dougherty Ferry Road | St. Louis | MO | 63122
Desert Regional Medical Center | 1150 N. Indian Canyon | Palm Springs | CA | 92262
Desert Valley Hospital | 16850 Bear Valley Road | Victorville | CA | 92392
Dixie Regional Medical Center | 1380 E. Medical Drive | St. George | UT | 84790
Doctors Hospital | 5000 University Drive | Miami | FL | 33146
Doctors Hospital | 5100 West Broad Street | Columbus | OH | 43228
Doctors Hospital | 9440 Poppy Drive | Dallas | TX | 75218
Doctors Hospital at Renaissance | 5501 S. McColl | Edinburg | TX | 78539
Doctors Hospital-Augusta | 3651 Wheeler Drive | Augusta | GA | 30909
Doctors Hospital of Laredo | 10700 McPherson Road | laredo | TX | 78045
Doctors Hospital of Sarasota | 5731 Bee Ridge Road | Sarasota | FL | 34233
Doctors Hospital of Stark | 400 Austin Avenue | Massillon | OH | 44646
Doctors Medical Center | 2000 Vale Road | San Pablo | CA | 94806
Dominican Santa Cruz Hospital | 1555 Soquel Drive | Santa Cruz | CA | 95065
Downey Regional Medical | 11500 Brookshire Avenue | Downey | CA | 90241
Doylestown Hospital | 595 West State Street | Doylestown | PA | 18901
DuBois Regional Medical Center | PO Box 447 | DuBois | PA | 15801-1440
Duke Health Raleigh Hospital | DUMC Box 3973 (3400 Wake Forest Road) | Raleigh | NC | 27609
Duke University Hospital | Erwin Road DUMC 3943 | Durham | NC | 27710
Dunn Memorial Hospital | 1600 23rd Street | Bedford | ID | 47421
Durham Regional Hospital | (3643 N Roxboro Rd) DUMC Box 3973 | Durham | NC | 27710
East Alalbama Medical Center | 2000 Pepperell Parkway | Opelika | AL | 36804
East Georgia Regional Medical Center | 1499 Fair Rd (PO Box 1048) | Statesboro | GA | 30459
East Jefferson General Hospital | 4200 Houma Boulevard | Metairie | LA | 70006
East Ohio Regional Hospital | 90 N. 4th Street | Martins Ferry | OH | 43935
East Texas Medical Center | 1000 S. Beckham Avenue | Tyler | TX | 75711
Eastern Idaho RMC | 3100 Channing Way | Idaho Falls | ID | 83404
Eastern Maine Medical Center | 489 State Street | Bangor | ME | 04401
Easton Hospital (Northampton Hospital Corp) | 250 South 21st Street | Easton | PA | 18042
Edward Hospital | 120 Spalding Drive #205 | Naperville | IL | 60540
Eisenhower Medical Center | 39000 Bob Hope Drive | Rancho Mirage | CA | 92270
El Camino Hospital | 2500 Grant Road | Mountain View | CA | 94040
Eliza Coffee Memorial Hospital | 205 Marengo Street | Florence | AL | 35630
Elkhart General Hospital | 600 East Boulevard—3 South Suites | Elkhart | IN | 46514-2499
Elliot Hospital | 1 Elliot Way | Manchester | NH | 03103
Ellis Hospital | 1101 Nott Street | Schenectady | NY | 12308
Elmhurst Memorial Hospital Marquardt Memorial Library | 200 Berteau Avenue | Elmhurst | IL | 60126
EMH Regional Medical Center | 630 East River Street | Elyria | OH | 44035
Emory Crawford Long Hospital | 550 Peachtree Street | Atlanta | GA | 30308
Emory Dunwoody Medical Center | 4575 North Shallowford Road | Atlanta | GA | 30338
Emory Eastside Medical Center | 1700 Medical Way (PO Box 587) | Snellville | GA | 30078
Emory University Hospital | 1364 Clifton Road, NE C408 | Atlanta | GA | 30322
Encino-Tarzana Regional Medical Center | 18321 Clark Street | Tarzana | CA | 91356-3501
Englewood Hospital & Medical Center | 350 Engle Street | Englewood | NJ | 7631
Enloe Medical Center | 1600 Esplanade | Chico | CA | 95926
Erie County Medical Center | 462 Grider Street | Buffalo | NY | 14215
Evanston Hospital | 2650 Ridge Avenue | Evanston | IL | 60626
Excela Health Westmoreland Hospital | 532 West Pittsburgh Street | Greensburg | PA | 15601
Exempla Good Samaritan Medical Center | 200 Exempla Circle | Lafayette | CO | 80026
Exempla Lutheran Medical Center | 8300 W. 38th Avenue | Wheat Ridge | CO | 80033
Exempla Saint Joseph Hospital | 2420 W. 26th Avenue, Buidling D, Suite 140 | Denver | CO | 80211
Exeter Hospital | Exeter Hospital Cardiac Cath Lab 5 Alumni Drive | Exeter | NH | 03833
F.E. Lajam, MD PC | 140-04 58th Road | Flushing | NY | 11355
Fairfield Cardiac Cath Labs | 3000 Mack Road, Suite 200 | Fairfield | OH | 45014
Fairfield Medical Center | 401 North Ewing Street | Lancaster | OH | 43130
Fairview General Hospital | 18101 Lorain Avenue-Invasive Cardiology | Cleveland | OH | 44111
Fairview Park Hospital | 200 Industrial Boulevard | Dublin | GA | 31021
Fairview Southdale Hospital | 6401 France Avenue South | Edina | MN | 55435
Faith Regional Health Services | 2700 W. Norfolk Avenue | Norfolk | NE | 68701
Fawcett Memorial Hospital | 21298 Olean Boulevard | Port Charlotte | FL | 33949-4960
FHN Memorial Hospital | 1045 W. Stephenson Street | Freeport | IL | 61032
FirstHealth Moore Regional Hospital | 155 Memorial Drive | Pinehurst | NC | 28374
Flagler Hospital | 400 Health Park Boulevard | St. Augustine | FL | 32086
Fletcher Allen Health Care | 111 Colchester Avenue | Burlington | VT | 5401
Florida Hospital | 220 Winter Park Street | Orlando | FL | 32803
Florida Hospital Zephyrhills | 7050 Gall Boulevard | Zephyrhills | FL | 33541
Florida Hospital Ormond Memorial | 875 Sterthaus Avenue | Ormond Beach | FL | 32174
Florida Hospital Waterman Inc | 1000 Waterman Way | Tavares | FL | 32778
Florida Medical Center | 5000 W. Oakland Park Boulevard | Fort Lauderdale | FL | 33313-1585
Flowers Hospital | 4370 West Main Street | Dothan | AL | 36305
Floyd Medical Center | 304 Turner McCall Boulevard | Rome | GA | 30162
Floyd Memorial Hospital | 1850 State Street | New Albany | IN | 47150
Forrest General Hospital | 6051 Highway 49 South | Hattiesburg | MS | 39404-6389
Forsyth Medical Center | 3333 Silas Creek Parkway | Winston-Salem | NC | 27103
Fort Sanders Regional Med Center | 1901 Clinch Avenue | Knoxville | TN | 37916-2307
Fort Walton Beach Medical Center | 1000 Mar Walt Drive | Fort Walton Beach | FL | 32547
Forum Health-Northside Medical Center | 500 Gypsy Lane | Youngstown | OH | 44501-0240
Fountain Valley Regional Hosp | 17100 Euclid Street | Fountain Valley | CA | 92708-4004
Frankford Hospital | Red Lion & Knights Road | Philadelphia | PA | 19114
Frankfort Regional Medical Center | 299 Kings Daughter Drive | Frankfort | KY | 40601
Franklin Square Hospital | 9000 Franklin Square Drive | Baltimore | MD | 21237
Freeman Hospital | Clinical Data Services 1102 West 32nd Street | Joplin | MO | 64804
Freeport Health Network | 1045 W. Stephenson Street | Freeport | IL | 61032
Fremont Area Medical Center | 450 East 23rd Street | Fremont | NE | 68025
French Hospital Medical Center | 1911 Johnson Avenue | San Luis Obispo | CA | 93401
Fresno Community Hospital and Medical Center | 110 N. Valeria Street #103 | Fresno | CA | 93710
Fresno Heart Hospital | 15 East Audubon Drive | Fresno | CA | 93720
Froedtert Hospital | 9200 W. Wisconsin Avenue | Milwaukee | WI | 53226
Frye Regional Medical Center | 420 N. Center Street | Hickory | NC | 28601
Gadsden Regional Medical Center | 1007 Goodyear Avenue | Gadsden | AL | 35903
Galichia Heart Hospital | 2610 N. Woodlawn Street | Wichita | KS | 67220
Garden City Hospital | 6245 Inkster Road | Garden City | MI | 48135
Garden Grove Hospital | 12601 Garden Grove Boulevard | Garden Grove | CA | 92843
Gaston Memorial Hospital | 2525 Court Drive | Gastonia | NC | 28054
Gateway Medical CenterGateway Health System | 1771 Madison Street | Clarksville | TN | 37043
Gateway Regional Medical Center | 2100 Madison Avenue | Granite City | IL | 62040
Geisinger Medical Center | 100 North Academy Avenue | Danville | PA | 17822-2160
Geisinger Wyoming Valley Medical Center | 100 North Academy Avenue | Danville | PA | 17822-2160
Genesis Medical Center | 1236 East Rusholme Street—Suite 190 | Davenport | IA | 52803-2459
Genesis Medical Center | 801 Illini Drive | Silvis | IL | 61282
Genesys Regional Medical Center | One Genesys Parkway | Grand Blanc | MI | 48439
Georgetown University Hospital | 3800 Reservoir Road NW | Washington | DC | 20007
Gerald Champion Regional Medical | 2669 North Scenic Drive | Alamogordo | NM | 88310
Glenbrook Hospital | 2100 Pfingsten Road | Glenview | IL | 60026
Glendale Adventist Medical Center | 1509 Wilson Terrace | Glendale | CA | 91206
Glendale Memorial Hospital and Health Center | 1420 S. Central Avenue | Glendale | CA | 91204-2594
Glens Falls Hospital | 100 Park Street | Glens Falls | NY | 12801
Glenwood Regional Medical Center | 503 McMillian Road | West Monroe | LA | 71291
Good Samaritan Heart Center | 520 South 7th Street | Vincennes | IN | 47591
Good Samaritan Hosp & Health Center | 2222 Philadelphia Drive | Dayton | OH | 45406
Good Samaritan Hospital | 1225 Wilshire Boulevard | Los Angeles | CA | 90017
Good Samaritan Hospital | 2425 Samaritan Drive | San Jose | CA | 95124
Good Samaritan Hospital | 605 N. 12th Street | Mount Vernon | IL | 62864
Good Samaritan Hospital | 3815 Highland Avenue | Downers Grove | IL | 60515
Good Samaritan Hospital | 10 East 31st Street, PO Box 1990 | Kearney | NE | 68848
Good Samaritan Hospital | 255 Lafayette Avenue | Suffern | NY | 10901
Good Samaritan Hospital | 375 Dixmyth Avenue | Cincinnati | OH | 45220-2489
Good Samaritan Hospital Cardiology | 1000 Montauk Highway | West Islip | NY | 11795
Good Samaritan Hospital of Maryland | 5601 Loch Raven Boulevard | Baltimore | MD | 21239
Good Samaritan Regional Medical Center | 3600 NW Samaritan Drive | Corvallis | OR | 97330
Good Shepherd Medical Center | 700 E. Marshall | Longview | TX | 75601
Governor Juan F. Luis Hospital & Medical Center | 4007 Estate Diamond Ruby | Christiansted | VT | 00820
Graduate Hospital | 1800 Lombard Street | Philadelphia | PA | 19146
Grady Memorial Hospital | 561 West Central Avenue | Delaware | OH | 43015-1489
Grand View Hospital | 700 Lawn Avenue | Sellersville | PA | 18960
Grandview Medical Center | 405 Grand Avenue | Dayton | OH | 45405
Grant Medical Center | 111 S. Grant Avenue | Columbus | OH | 43215
Gratiot Medical Center | 300 East Warwick Drive | Alma | MI | 48801
Great Plains Regional Medical Center | Box 2339 | Elk City | OK | 73648
Greater Baltimore Medical Center | 6701 N. Charles Street | Baltimore | MD | 21204
Greenville Memorial Hospital | 701 Grove Road | Greenville | SC | 29605
Greenwich Hospital | 5 Perryridge Road | Greenwich | CT | 06830
Gulf Coast Medical Center | 449 W. 23rd Street | Panama City | FL | 32406-5309
Gulf Coast Medical Center | 1400 Highway 59 | Wharton | TX | 77488
Gundersen Lutheran Medical Center, Inc. | 1910 South Avenue | LaCrosse | WI | 54601
Gwinnett Hospital System | 1000 Medical Center Boulevard | Lawrenceville | GA | 30045
Hackensack University Medical Center | 30 Prospect Avenue | Hackensack | NJ | 07601
Hackley HospitalGeneral Fund | 1700 Clinton Street | Muskegon | MI | 49443
Hahnemann University Hospital | 230 N. Broad Street | Philadelphia | PA | 19102
Halifax Medical Center | 303 N. Clyde Morris Boulevard | Daytona Beach | FL | 32114-2732
Halifax Regional Hospital | 2204 Wilborn Avenue | South Boston | VA | 24592
Hamilton Medical Center | 1200 Memorial Drive | Dalton | GA | 30720
Hamot Medical Center | 201 State Street | Erie | PA | 16550
Hannibal Regional Hospital | 6000 Hospital Drive | Hannibal | MO | 63401
Harbor Hospital Center | 3001 S. Hanover Street | Baltimore | MD | 21225
Hardin Memorial Hospital | 913 N. Dixie Avenue | Elizabethtown | KY | 42701-2599
Harlingen Medical Center | 5501 South Expressway 77 | Harlingen | TX | 78550
Harper University Hospital | 3990 John R. Street | Detroit | MI | 48201
Harris County hospitals | 1504 Taub Loop | Houston | TX | 77030
Harris Methodist Fort Worth | 1301 Pennsylvania Avenue | Fort Worth | TX | 76104
Harris Methodist HEB | 1600 Hospital Parkway | Bedford | TX | 76022
Harrison Medical Center | 2520 Cherry Avenue | Bremerton | WA | 98310
Hartford Hospital | 80 Seymour Street | Hartford | CT | 06102
Harton Regional Medical Center | 1801 N. Jackson Street | Tullahoma | TN | 37388
Havasu Regional Medical Center | 101 Civic Center Lane | Lake Havasu City | AZ | 86403
Hawaii Medical Center East, LLC | 2230 Liliha Street | Honolulu | HI | 96817
Hays Medical Center | 2220 Canterbury | Hays | KS | 67601
Hazard ARH Regional Medical Center | 100 Medical Center Drive | Hazard | KY | 41701
Heart and Lung Clinic | 900 East Broadway Box 5510 | Bismarck | ND | 58502
Heart Center of Indiana | 8333 Nabb Road, Suite 330 | Indianapolis | IN | 46290
Heart Hospital of Austin | 3801 N. Lamar Boulevard | Austin | TX | 78756
Heart Hospital of Lafayette | 1105 Kaliste Saloom Road | Lafayette | LA | 70508
Heart Hospital of New Mexico | 504 Elm Street NE | Albuqerque | NM | 87102
Heart of Florida Regional Medical Center | 40100 Highway 27 | Davenport | FL | 33837
Heart of Lancaster Regional Medical Center | 250 College Avenue | Lancaster | PA | 17604
Heartland Regional Medical Center | 3333 W. Deyoung Street | Marion | IL | 62959
Heartland Regional Medical Center | The Heart Center—Cardiac Cath Lab—5325 Faraon Street | Saint Joseph | MO | 64506-3373
Helen Ellis Memorial | 1395 South Pinella Avenue | Tarpon Springs | FL | 34689
Helen Keller Hospital | 1300 South Montgomery Avenue | Sheffield | AL | 35660
Hendrick Medical Center | 1900 Pine Street | Abilene | TX | 79601
Hennepin County Medical Center | 701 Park Avenue | Minneapolis | MN | 55415-1829
Henrico Doctors Hospital | 1602 Skipwith Drive | Richmond | VA | 23229
Henry Ford Hospital | 2799 West Grand Boulevard | Detroit | MI | 48202
Henry Mayo Newhall Memorial Hospital | 23845 McBean Parkway | Valencia | CA | 91355
Henry Medical Center, Inc. | 1133 Eagles Landing Parkway | Stockbridge | GA | 30281
Hialeah Hospital | 651 E. 25th | Hialeah | FL | 33013
High Point Regional Hospital | High Point Regional Hospital | High Point | NC | 27261
Highland Park Hospital | 718 Glenview Avenue | Highland Park | IL | 60035
Highlands Regional Medical | 3600 S. Highlands Avenue | Sebring | FL | 33870
Highlands Regional Medical Center | 5000 US 321 | Prestonsburg | KY | 41653
Hillcrest Baptist Medical Center | 3000 Herring Avenue | Waco | TX | 76708
Hillcrest Hospital | 6780 Mayfield Road | Mayfield Heights | OH | 44124
Hillcrest Medical Center | 1120 South Utica | Tulsa | OK | 74104
Hilton Head Regional Medical Center | 25 Hospital Center Boulevard | Hilton Head | SC | 29925
Hinsdale Hospital | 120 N. Oak Street | Hinsdale | IL | 60521
Hoag Memorial Hospital Presbyterian | One Hoag Drive | Newport Beach | CA | 92658
Hollywood Medical Center | 3600 Washington Street | Hollywood | FL | 33021
Holmes Regional Medical Center | 1355 South Hickory Street, Suite 203 | Melbourne | FL | 32901
Holy Cross Hospital | 4725 N. Federal Highway | Ft. Lauderdale | FL | 33308
Holy Cross Hospital | 2701 W. 68th Street | Chicago | IL | 60629
Holy Cross HospitalMedical Library | 1500 Forest Glen Road | Silver Spring | MD | 20910
Holy Spirit Health System Center Administration | 503 N. 21st Street—Heart | Camp Hill | PA | 17011—2204
Hospital Auxilio Mutuo | PO Box 1227 | San Juan | PR | 00919
Hospital of St. Raphael | Section of Cardiology Pvt 207, 1450 Chapel Street | New Haven | CT | 06511
Hospital of the University of Pennsylvania | 9011 E. Gates 3400 Spruce Street | Philadelphia | PA | 19104
Houston Northwest Medical Center Accounts Payable | 710 FM 1960 West Road | Houston | TX | 77090
Howard County General Hospital | 5755 Cedar Lane | Columbia | MD | 21044
Howard Regional Health System | 3500 South Lafountain Street | Kokomo | IN | 46904-9011
Howard University Hospital | 2041 Georgia Avenue | Washington | DC | 20060
Huguley Memorial Medical Center | 11801 S. Freeway | Ft. Worth | TX | 76115
Huntington Hospital | 100 W. California Boulevard | Pasadena | CA | 91109
Huntington Hospital | 270 Park Avenue | Huntington | NY | 11743
Huntsville Hospital | 101 Sivley Road | Huntsville | AL | 35801
Hutchinson Hospital | 1701 E. 23rd Avenue | Hutchinson | KS | 67502
Iberia Medical Center | 2315 East Main Street | New Iberia | LA | 70560
Immanuel-St. Joseph's Hospital | 1025 Marsh Street | Mankato | MN | 56002
Imperial Point Medical Center | 6401 N. Federal Highway | Ft. Lauderdale | FL | 33308
Indian River Memorial Hospital | 1000 36th Street | Vero Beach | FL | 32960
Indiana Regional Medical Center Cardiology Department | 835 Hospital Road | Indiana | PA | 15701
Ingalls Hospital | 1 Ingalls Dr | Harvey | IL | 60426
Ingham Regional Medical Center | 401 W. Greenlawn Avenue | Lansing | MI | 48910
Inland Valley Medical Center | 36485 Inland Valley | Wildomar | CA | 92595
Inova Alexandria Hospital | 4320 Seminary Road | Alexandria | VA | 22304
Inova Fairfax Hospital | Inova Heart and Vascular Center, 3300 Gallows Road | Falls Church | VA | 22042-3300
Integris Baptist Medical Center | 3300 NW Expressway, 100-4282 | Oklahoma City | OK | 73112
Integris Health | 600 S. Monroe Street | Enid | OK | 73701
Integris Southwest Medical Center | 4401 S. Western Avenue | Oklahoma City | OK | 73109
Iowa Lutheran Hospital | 1200 Pleasant Street | Des Moines | IA | 50309
Iowa Methodist Medical Center | 1200 Pleasant Street, Suite 300A | Des Moines | IA | 50309
Iredell Memorial Hospital | 557 Brookdale Drive | Statesville | NC | 28687
Iroquois Memorial Hospital | 200 Fairman Avenue | Watseka | IL | 60970
Irvine Regional Hospital & Medical Center | 16200 Sand Canyon Avenue | Irvine | CA | 92618-3701
Jackson Hospital and Clinic | 1725 Pine Street | Montgomery | AL | 36106
Jackson Madison General Hospital | 708 West Forrest Avenue | Jackson | TN | 38301
Jackson Memorial Hospital | 1611 N.W. 12th Avenue | Miami | FL | 33136
Jane Phillips Memorial Medical Center | 3500 Frank Phillips Boulevard | Bartlesville | OK | 74006
Jeff Anderson Regional Medical Center | 2124 14th Street | Meridian | MS | 39301
Jefferson Memorial Hospital | PO Box 350 | Crystal City | MO | 63019
Jefferson Regional Medical Center | 565 Coal Valley Road | Pittsburgh | PA | 15236-0119
Jennie Edmundson Memorial Hospital | 933 E. Pierce Street | Council Bluffs | IA | 51503
Jersey City Medical Center | 355 Grand Street | Jersey City | NJ | 07307
Jersey Shore University Medical Center | 1945 State Route 33 | Neptune | NJ | 07753
Jewish Hospital | 200 Abraham Flexner Way | Louisville | KY | 40202
JFK Medical Center | 5631 Glencrest Boulevard | Tampa | FL | 33625-1008
John C Lincoln hospital—Deer Valley | 19829 N. 27th Avenue | Phoenix | AZ | 85027-4002
John C Lincoln Hospital—North Mountain | 250 E. Dunlap Avenue | Phoenix | AZ | 85020-2871
John F. Kennedy Memorial Hospital | 47-111 Monroe Street | Indio | CA | 92201
John Muir—Concord | 2540 East Street | Concord | CA | 94520
John Muir—Walnut Creek | 1601 Ygnacio Valley Road | Walnut Creek | CA | 94550
Johns Hopkins Bayview Medical Center | 4940 Eastern Avenue | Baltimore | MD | 21224
Johns Hopkins Hospital | 600 North Wolfe Street | Baltimore | MD | 21287
Johnson City Medical Center Hosp | 400 N. State of Franklin | Johnson City | TN | 37604
Jordon Valley Hospital | 3580 W. 9000 S. | West Jordan | UT | 84088
Kadlec Medical Center | 888 Swift Boulevard | Richland | WA | 99352
Kaiser Foundation Hospital | 1526 Edgemont Street | Los Angeles | CA | 90027
Kaiser Foundation Hospital | 6600 Bruceville Road | Sacramento | CA | 95823
Kaiser Permanente | 4647 Zion Avenue | San Diego | CA | 92120
Kaiser Permanente—Moanalua Med Ctr | 3288 Moanalua Road | Honolulu | HI | 96819
Kaiser Permanente Medical Center Health Sciences Li | 9400 E. Rosecrans Avenue | Bellflower | CA | 90706
Kaleida Health Buffalo General Foundation | 726 Exchange Street | Buffalo | NY | 14210
Kansas Heart Hospital | 3601 N. Webb Road | Wichita | KS | 67226
Kansas Heart Hospital | 3601 N. Webb Road | Wichita | KS | 67226
Kansas University Hospital Authority | 3901 Rainbow Boulevard | Kansas City | KS | 66160
Kapi'olani Medical Center Pali Momi | 98-1079 Moanalua Road | Aiea | HI | 96701
Katherine Shaw Bethea Hospital | 403 E First Street | Dixon | IL | 61021
Kaweah Delta Hospital District | 400 West Mineral King | Visalia | CA | 93291
Kenmore Mercy Hospital | 2950 Elmwood Avenue | Kenmore | NY | 14217
Kenner Regional Medical Center | 180 West Esplanade Avenue | Kenner | LA | 70065
Kennestone Hospital | 677 Church Street | Marietta | GA | 30066
Kershaw County Medical Center | 1315 Roberts Street | Camden | SC | 29020
Kettering Medical Center | 35235 Southern Boulevard | Kettering | OH | 45429
Kingman Regional Medical Center | 3269 Stockton Hill Road | Kingman | AZ | 86401
Kings Daughters Medical Center | 2201 Lexington Avenue | Ashland | KY | 41101
Kingwood Medical Center | 22999 Highway 59 N | Kingwood | TX | 7339
Kootenai Medical Center | 2003 Lincoln Way | Coeur d'Alene | ID | 83814
Kuakini Medical Center | 347 North Kuakini Street | Honolulu | HI | 96817
Labette County Medical center | 1920 S. US Highway 59, PO Box 956 | Parson | KS | 67357
Lafayette General Medical Center | 1214 Coolidge | Lafayette | LA | 70505
LaGrange Memorial Hospital | 120 North Oak Street | Hinsdale | IL | 60521
Lahey Clinic | 41 Mall Road | Burlington | MA | 01805
Lake Charles Memorial Hospital | 1701 Oak Park Boulevard | Lake Charles | LA | 70601
Lake Cumberland Regional Hospital | 305 Langdon Street | Somerset | KY | 42503
Lake Hospital System | 36000 Euclid Avenue | Willoughby | OH | 44094
Lake Norman Regional Medical Center | 171 Fairview Road | Mooresville | NC | 28117
Lake Regional Health System | 54 Hospital Drive | Osage Beach | MO | 65065
Lakeland Hospital | 1234 Napier Avenue | Saint Joseph | MI | 49085-2112
Lakeland Regional Medical | 1324 Lakeland Hills Boulevard | Lakeland | FL | 33805-4500
Lakeside Hospital | 6901 N. 72nd Street, Suite 3300 | Omaha | NE | 68122
Lakeview Regional Medical Center | 95 East Fairway Drive | Covington | LA | 70433-7500
Lakewood Hospital | 14519 Detroit Avenue | Lakewood | OH | 44107
Lakewood Regional Medical Center | 3700 E. South Street | Lakewood | CA | 90712
Lancaster Community Hospital | 43830 North 10th Street | West Lancaster | CA | 93534
Lancaster General Hospital | 555 North Duke Street | Lancaster | PA | 17604-3555
Lancaster Reg Med Center | 250 College Avenue | Lancaster | PA | 17604
Landmark Medical Center | 115 Cass Avenue | Woonsocket | RI | 02895
Lankenau Hospital | 100 Lancaster Avenue—Lankenau Hospital | Wynnewood | PA | 19096
Laredo Medical Center | 1720 Bustamante Street | Laredo | TX | 78044
Largo Medical Center | 201 14th Street SW | Largo | FL | 33770
Las Colinas Medical Center | Las Colinas Medical Center | Irving | TX | 75039
Las Palmas Medical Center | 1801 N. Oregon Street | El Paso | TX | 79902
Lawrence & Memorial Hospital | 365 Montauk Avenue | New London | CT | 06375
Lawrence Hospital | 55 Palmer Avenue | Broxville | NY | 10708-3491
LDS Hospital | Eighth Avenue and C Street | Salt Lake City | UT | 84143
Lee Memorial Health System— Cape Coral Hospital | 276 Cleveland Avenue | Fort Myers | FL | 33901
Lee Memorial Health System-Health Park Med Center | 276 Cleveland Avenue | Fort Myers | FL | 33901
Leesburg Regional Medical Center | 600 E. Dixie Avenue | Leesburg | FL | 34748
Legacy Emanuel Hospital | 1919 NW Lovejoy Street | Portland | OR | 97209
Legacy Good Samaritan | 1919 NW Lovejoy Street | Portland | OR | 97209
Lehigh Regional Medical Center | 1500 Lee Boulevard | Lehigh Acres | FL | 33963
Lehigh Valley Hospital | 1200 S. Cedar Crest Boulevard | Allentown | PA | 18105
Lehigh Valley Hospital/Muhlenberg | 2545 Schoenersville Road | Bethlehem | PA | 18017
Lenox Hill Heart and Vascular Institute of New York | 100 East 77th Street | New York | NY | 10021
Lewis Gale Medical Center | 1900 Electric Road | Salem | VA | 24153
Liberty Hospital | 2525 Glenn Hendren Drive | Liberty | MO | 64068
Lima Memorial Hospital | 1001 Bellefontaine Avenue | Lima | OH | 45804
Lincoln County Medical Center | 1000 E. Cherry Street | Troy | MO | 63379
Little Company of Mary Hospital | 4101 Torrance Boulevard | Torrance | CA | 90503
Little Company of Mary Hospital | 2800 W. 95th Street | Evergreen Park | IL | 60805
Logan General Hospital, LLC | 20 Hospital Drive | Logan | WV | 25601
Loma Linda University Medical Center | 11234 Anderson Street | Loma Linda | CA | 92354
Long Beach Memorial Medical Center | 2801 Atlantic Avenue | Long Beach | CA | 90806
Long Island College Hospital | 339 Hicks Street | Brooklyn | NY | 11201
Long Island Jewish Medical Center | 270-05 76th Avenue | New Hyde Park | NY | 11040
Longmont United Hospital | Eighth Avenue and C Street | Longmont | CO | 80501
Longview Regional Medical Center | PO Box 14000 | Longview | TX | 75607
Los Robles Hospital & Medical Center | 215 W. Janss Raod | Thousand Oaks | CA | 91360-1899
Louisiana Heart Hospital | 64030 Louisiana Highway 434 | Lacombe | LA | 70445
Lourdes Hospital | 1530 Lone Oak Road | Paducah | KY | 42003
Lovelace Medical Center | 5400 Gibson Boulevard SE | Albuquerque | NM | 87108
Lowell General Hospital | 295 Varnum Avenue | Lowell | MA | 01854
Lower Bucks Hospital | 501 Bath Road | Bristol | PA | 19007
Lower Keys Medical Center | 5900 College Road | Key West | FL | 33040
LSUHSC-Cath Lab | 1501 Kings Highway | Shreveport | LA | 71130
Lubbock Heart Hospital | 4810 N. Loop 289 | Lubbock | TX | 79416
Luther Hospital | 1221 Whipple Street | Eau Claire | WI | 54703
Lutheran Hospital of Indiana | 7950 W. Jefferson Boulevard | Ft. Wayne | IN | 46804
Lynchburg General Hospital | 1901 Tate Springs Road | Lynchburg | VA | 24501-1167
MacNeal Hospital | 3249 S. Oak Park Avenue | Berwyn | IL | 60402
Magnolia Regional Health Center | 611 Alcorn Drive | Corinth | MS | 38834
Maimonides Medical Center Division of Cardiology | 4802 10th Avenue | Brooklyn | NY | 11219
Maine Medical Center | 22 Bramhall Street | Portland | ME | 04102
Manatee Memorial Hospital | 206 2nd Street East | Bradenton | FL | 34208
Marquette General Health System | 420 West Magnetic Street | Marquette | MI | 49855
Marian Medical Center | 1400 East Church Street | Santa Maria | CA | 93454
Maricopa Medical Center | 2601 East Roosevelt Street | Phoenix | AZ | 85008
Marin General Hospital | 250 Bon Air Road | Greenbrae | CA | 94904
Marion General Hospital | 441 N. Wabash Avenue | Marion | IN | 46952
Marion General Hospital | 1000 McKinley Park Drive | Marion | OH | 43302-6397
Marquette General Hospital System | 580 W. College Avenue | Marquette | MI | 49855
Marshall University School of Medicine | 420 West Magnetic Street | Huntington | WV | 25701
Martha Jefferson Hospital | 459 Locust Avenue | Charlottesville | VA | 22902
Martin Memorial Medical Center | 300 SE Hospital Avenue | Stuart | FL | 34994
Mary Black Hospital | 1700 Skylyn Drive | Spartanburg | SC | 29307
Mary Greeley Medical Center | 1111 Duff Avenue | Ames | IA | 50010
Mary Hitchcock Memorial Hospital | One Medical Center Drive | Lebanon | NH | 03756
Mary Rutan Hospital | 205 Palmer Avenue | Bellefontaine | OH | 43311
Mary Washington Hospital | 1001 Sam Perry Boulevard | Fredericksburg | VA | 22401
Marymount Medical | 310 East 9th Street | London | KY | 40741
Massachusetts General Hospital | 55 Fruit Street | Boston | MA | 02114
Maury Regional Hospital | 1224 Trotwood Avenue | Columbia | TN | 38401
Mayo Clinic Arizona | 5777 E. Mayo Boulevard | Phoenix | AZ | 85054
Mayo Clinic- St. Mary's Hospital | 200 First Street, SW | Rochester | MN | 55905
Mcalester Regional Health Center | 1 Clark Bass Boulevard | McAlester | OK | 74501
McAllen Medical Center | 301 W. Expressway 83 | McAllen | TX | 78503
MCG Health Inc. | 1120 15th Street, BA-4407 | Augusta | GA | 30912
McKay-Dee Hospital Center | 4401 Harrison Boulevard | Ogden | UT | 84405
McKee Medical Center | 2000 Boise Avenue | Loveland | CO | 80538
Mclaren Regional Medical Center | 401 S. Ballenger Highway | Flint | MI | 48532
McLeod Regional Medical Center | 555 E. Chaves Street | Florence | SC | 29501
Meadowcrest Hospital | 2500 Belle Chasse Highway | Gretna | LA | 70056
Mease Countryside Hospital | 3231 Mccullen Booth Road | Safety Harbor | FL | 34695
Mease Dunedin Hospital | 207 Jeffords Street, MS 142 | Clearwater | FL | 33756
Med Central Mansfield | 335 Glessner Avenue | Mansfield | OH | 44903
Medcenter One | 300 North 7th Street | Bismarck | ND | 58501
Medical Center at Bowling Green | 250 Park Street | Bowling Green | KY | 42101
Medical Center East | 50 Medical Park East Drive | Birmingham | AL | 35235-3499
Medical Center Hospital | 500 W. 4th Street | Odessa | TX | 79760
Medical Center of Arlington | 3301 Matlock Road | Arlington | TX | 76015
Medical Center of Aurora | 1501 S. Potomac Street | Aurora | CO | 80012
Medical Center of Central Georgia | 777 Hemlock Street HB 53 | Macon | GA | 31208
Medical Center of Lewisville | 500 West Main Street | Lewisville | TX | 75057
Medical Center of Mckinney | 4500 Medical Center Drive | McKinney | TX | 75069
Medical Center of Mesquite | 1011 N. Galloway Avenue | Mesquite | TX | 75149
Medical Center of Plano | 3901 W 15th Street | Plano | TX | 75075-7738
Medical Center of South Arkansas, LLC | 700 West Grove Street | El Dorado | AR | 71730
Medical City Dallas Hospital | 7777 Forrest Lane | Dallas | TX | 75230
Medical University of South Carolina | 326 Calhoun Street—Suite 239 | Charleston | SC | 29401
Memorial Health University Medical Center | Cardiac Cath Lab, Memorial Health University Medic—4700 Waters Avenue | Savannah | GA | 31404
Memorial Hermann Hospital | 6411 Fannin Street | Houston | TX | 77030
Memorial Hermann South West | 7600 Beechnut Street | Houston | TX | 77074
Memorial Hermann Texas Medical Center | 6411 Fannin Street | Houston | TX | 77030
Memorial Hermann the Woodlands Hospital | 9250 Pinecroft | The Woodlands | TX | 77380
Memorial Hospital | 1400 E. Boulder Street | Colorado Springs | CO | 80909-5599
Memorial Hospital | 2525 Desales Avenue | Chattanooga | TN | 37404-1102
Memorial Hospital at Gulfport | 4500 13th Street—PO Box 1810 | Gulfport | MS | 39502
Memorial Hospital Carbondale | 405 W. Jackson Street | Carbondale | IL | 65902
Memorial Hospital Miramar | 1901 SW 172 Avenue | Miramar | FL | 33029
Memorial Hospital of Martinsville | 320 Hospital Drive | Martinsville | VA | 24112
Memorial Hospital of Rhode Island Brown University | 111 Brewster Street | Pawtucket | RI | 02860
Memorial Hospital of South Bend | 615 N. Michigan Street | South Bend | IN | 46601-1033
Memorial Hospital of Tampa | 2901 W. Swann Avenue | Tampa | FL | 33609
Memorial Hospital Pembroke/South Broward Hospital | 7800 Sheridan Street | Pembroke Pines | FL | 33024
Memorial Hospital West/South Broward Hospital Dis | 703 North Flamingo Road | Pembroke Pines | FL | 33028
Memorial Hospital-Jacksonville | 3625 University Boulevard | South Jacksonville | FL | 32216
Memorial Hospitals Association | 1700 Coffee Road | Modesto | CA | 95355
Memorial Medical Center | 701 N. First Street | Springfield | IL | 62781
Memorial Medical Center | 2450 S. Telshor Boulevard | Las Cruces | NM | 88011
Memorial Medical Center | 1086 Franklin Street | Johnstown | PA | 15905-4398
Memorial Regional Hospital/South Broward Hospital | 3501 Johnson Street | Hollywood | FL | 33021
Memphis Hospital (Germantown) Campus) | 1265 Union Avenue | Memphis | TN | 38104-3499
Memphis Hospital (North Campus) | 1265 Union Avenue | Memphis | TN | 38104-3499
Memphis Hospital (South Campus) | 1265 Union Avenue | Memphis | TN | 38104-3499
Memphis Hospital (University Campus) | 1265 Union Avenue | Memphis | TN | 38104-3499
Menorah Medical Center | 5721 West 119th Street | Overland Park | KS | 66209
Mercy Fitgerald Hospital | 1500 Lansdowne Avenue | Darby | PA | 19023
Mercy General Health Partners | 1500 East Sherman Boulevard | Muskegon | MI | 49444
Mercy General Hospital—Sacramento | 3939 J Street—Suite 215 | Sacramento | CA | 95819
Mercy Health System of Northwestern Arkansas | 1200 West Walnut Street | Rogers | AR | 72756
Mercy Hospital
Mercy Hospital | 144 State Street | Portland | ME | 04101
Mercy Hospital—Scranton | 746 Jefferson Avenue | Scranton | PA | 18510
Mercy Hospital & Medical Center | 2525 S. Michigan Avenue | Chicago | IL | 60616
Mercy Hospital Attn: Accounts Payable | 3663 South Miami Avenue | Miami | FL | 33133
Mercy Hospital of Buffalo | 565 Abbott Road | Buffalo | NY | 14220
Mercy Hospital of Pittsburgh | 1400 Locust Street | Pittsburgh | PA | 15219
Mercy Hospital Attn: A/P | 271 Carew Street, PO Box 9012 | Springfield | MA | 01102
Mercy Iowa City | 500 E. Market Street—Cardiac Cath Lab | Iowa City | IA | 52245
Mercy Medical Center | 701 10th Street, SE | Cedar Rapids | IA | 52403
Mercy Medical Center | 801 5th Street | Sioux City | IA | 51101
Mercy Medical Center | 1111 6th Avenue | Des Moines | IA | 50314-2611
Mercy Medical Center | 1000 North Village Avenue | Rockville Centre | NY | 11571
Mercy Medical Center SCU | 1320 Mercy Drive, NW—Attn: | Canton | OH | 44708
Mercy Medical Center | 1343 North Fountain Boulevard | Springfield | OH | 45503
Mercy Medical Center | 500 S. Oakwood Road | Oshkosh | WI | 54904
Mercy Medical Center Merced | 301 E. 13th Street | Merced | CA | 95340
Mercy Medical Center Redding | 2175 Rosaline Avenue; P.O. Box 496009 | Redding | CA | 96049-6009
Mercy Medical Center McGlannan Library | 301 St. Paul Place | Baltimore | MD | 21202
Mercy Medical Center-North Iowa | 1000 4th Street SW | Mason City | IA | 50401
Mercy Regional Medical Center | 1010 Three Springs Boulevard | Durango | CO | 81301
Mercy San Juan Hospital | 3941 J Street—c/o Mercy General Hospital Administration | Sacramento | CA | 95819
MeritCare Hospital | MeritCare Hospital/Heart Services Data/Research—Route 108 | Fargo | ND | 58122
Meriter Hospital Tower Heart Center | 202 South Park Street—10 | Madison | WI | 53715
Mesa General Hospital | 515 N. Mesa Drive | Mesa | AZ | 85201
Mesquite Community Hospital | 3500 I-30 | Mesquite | TX | 75150
Methodist Hospital | 6500 Excelsior Building, 2nd St. floor HVC | St. Louis Park | MN | 55426
Methodist Hospital | 7700 Floyd Curl Drive | San Antonio | TX | 78229
Methodist Hospital of South CA | 300 W. Huntington Drive | Arcadia | CA | 91007-3402
Methodist Hospital Southlake Campus | 8701 Broadway | Merrillville | IN | 46410-7035
Methodist Medical Center | 280 Fort Sanders Boulevard, Building 4, Suite 218 | Knoxville | TN | 37922
Methodist Medical Center of | 221 NE Glen Oak Avenue Illinois | Peoria | IL | 61636
Methodist Speciality and | 7700 Floyd Curl Drive Transplant Hospital | San Antonio | TX | 78229
Methodist Sugarland Hospital | 16655 Southwest Freeway | Sugar land | TX | 77479
Metro Health Hospital | 1919 Boston Street SE | Grand Rapids | MI | 49546
Metro Health Medical Center | 2500 MetroHealth Drive | Cleveland | OH | 44109
MetroHealth Medical Center | 2500 MetroHealth Drive | Cleveland | OH | 44109
MetroWest Medical Center | 115 Lincoln Street | Framingham | MA | 01702-6327
Miami Valley Hospital | One Wyoming Street | Dayton | OH | 45409
Michael Reese Hospital | 2929 S. Ellis Avenue | Chicago | IL | 60616
Mid America Heart Institute | St. Lukes Hospital—Wornall Road | 4401 Kanasas City | MO | 64111
Midland Memorial Hospital Institute | 2200 W. Illinois Ave c/o Heart | Midland | TX | 79701
Midlands Community Hospital | 6901 N. 72nd Street | Omaha | NE | 68122
Midwest Regional Medical Center | 2825 Parklawn Drive | Midwest City | OK | 73110
Milford Regional Medical Center | 14 Prospect Street | Milford | MA | 01568
Millard Fillmore Hospital | 100 High Street | Buffalo | NY | 14203
Millard Fillmore Suburban | 100 High Street | Buffalo | NY | 14203
Mills-Peninsula Hospital | 1783 El Camino Real | Burlingame | CA | 94010
Mission Hospital Reg Med Center | 27700 Medical Center Road | Mission Viejo | CA | 92691-6426
Mission Hospitals, Inc. | 509 Biltmore Avenue | Asheville | NC | 28801-4690
Mission Regional Medical Center | 900 S. Bryan Road | Mission | TX | 78572
Mississippi Baptist Medical Center | 1225 N. State Street | Jackson | MS | 39202-2097
Missouri Baptist Medical Center | 3015 N. Ballas Road | Saint Louis | MO | 63131-2374
Moberly Regional Medical Center | 1515 Union Avenue | Moberly | MO | 65270
Mobile Infirmary Medical Center | PO Box 21445 Mobile Infirmary Circle | Mobile | AL | 36652
Monongalia General Hospital | 1200 JD Anderson Drive | Morgantown | WV | 26505
Montefiore Medical Center | 111 East 210th Street | Bronx | NY | 10467-2490
Morris Hospital | 150 West High Street | Morris | IL | 60450
Morristown Memorial Hospital | 100 Madison Avenue | Morristown | NJ | 07962
Morton Plant Hospital | 207 Jeffords Street, MS 142 | Clearwater | FL | 33756
Morton Plant North Bay Hospital | 6600 Madison Street | New Port Richey | FL | 34652
Moses Cone Health System | 1200 N. Elm Street | Greensboro | NC | 27401
Mother Frances Hospital | 800 E. Dawson Street | Tyler | TX | 75701
Mount Auburn Hospital | 330 Mount Auburn Street—2 Administration | South Cambridge | MA | 02138
Mount Carmel East | 6150 East Broad Street | Columbus | OH | 42313
Mount Carmel St. Anns Hospital | 6150 East Broad Street | Columbus | OH | 43213
Mount Carmel West | 6150 East Broad Street—Suite 505A | Columbus | OH | 43213
Mount Clemens General Hospital | 1000 Harrington Street | Mount Clemens | MI | 48043-2992
Mount Sinai Medical Center | 4300 Alton Road | Miami Beach | FL | 33140
Mount St Mary's Hospital | 5300 Military Road, | Lewiston | NY | 14092
Mountainview Hospital | 3100 N. Tenaya Way | Las Vegas | NV | 89128
Munroe Regional Medical Center | 1500 SW 1st Avenue PO Box 6000 | Ocala | FL | 34478
Munson Medical Center | 1105 Sixth Street | Traverse City | MI | 49684-2386
Muskogee Regional Medical Center | 300 Rockefeller Drive | Muskogee | OK | 74401
Naples Community Hospital | 350 7th Street | South Naples | FL | 34102
Nashoba Valley Medical Center | 200 Groton Road | Ayer | MA | 01432
Natchez Community Hospital | 129 Jefferson Davis Boulevard | Natchez | MS | 39120
Natchez Regional Medical Center | 54 Sgt. Prentiss Drive | Natchez | MS | 39120
Navapaches Regional Medical Center | 2200 East Show Low Lake Road | Show Low | AZ | 85901
Nebraska Heart Hospital | 7500 South 91st Street | Lincoln | NE | 68526
Nebraska Methodist Hospital | 8303 Dodge Street | Omaha | NE | 68114
New Hanover Regional Medical Center | 2131 S. 17th Street | Wilmington | NC | 28402
New York Community Hospital | 2525 Kings Highway | Brooklyn | NY | 11229
New York Hospital Medical Center of Queens Health Education Library | 56-45 Main Street EP Lab/3rd Floor | Flushing | NY | 11355
New York Methodist Hospital | 506 6th Street, Brooklyn | New York City | NY | 11215
New York Presbyterian Hospital | 622 West 168th Street | New York | NY | 10032
Newark Beth Israel Medical Center Terrace | 201 Lyons Avenue at Osborne | Newark | NJ | 07112
Newton Medical Center | 5126 Hospital Drive | Covington | GA | 30014
Niagara Falls Memorial Medical Center | 621 Tenth Street | Niagara Falls | NY | 14092
Nicholas H. Noyes Memorial Hospital | 111 Clara Barton Street | Dansville | NY | 14437
Nix Healthcare System | 414 Navarro Street | San Antonio | TX | 78205
Norman Regional Health System | PO Box 1308 | Norman | OK | 73070-1308
North Austin Medical Center | 12221 MoPac Expressway North | Austin | TX | 78758
North Bay Medical Center | 1200 B. Gale Wilson Boulevard | Fairfield | CA | 94533
North Broward Hospital District | 1600 S. Andrews Avenue | Ft. Lauderdale | FL | 33316
North Broward Medical Center | 201 E. Sample Road | PomPano Beach | FL | 33064
North Carolina Baptist Hospital | Medical Center Boulevard | Winston-Salem | NC | 27157
North Central Baptist Hospital | 520 Madison Oak Drive | San Antonio | TX | 78258
North Colorado Medical Center 1 | 801 16th Street | Greeley | CO | 80631
North Florida Regional Medical Center | 6500 Newberry Road | Gainesville | FL | 32605
North Kansas City Hospital | 2800 Clay Edwards Drive | North Kansas City | MO | 64116
North Memorial Medical Center | 3300 Oakdale Avenue N. | Robbinsdale | MN | 55422
North Mississippi Medical Center | 830 S. Gloster Street | Tupelo | MS | 38801
North Oaks Medical Center | 15790 Paul Vega MD Drive | Hammond | LA | 70403
North Ridge Medical Center | 5757 N. Dixie Highway | Fort Lauderdale | FL | 33334
North Shore Medical Center | 1100 NW 95th Street | Miami | FL | 33150
North Shore Medical Center-Salem Hospital | 81 Highland Avenue—Davenport 5 | Salem | MA | 1970
North Shore University Hospital | 300 Community Drive | Manhasset | NY | 11030
North Suburban Medical Center | 9191 Grant Street | Denver | CO | 80229
North Vista Hospital | 1409 E. Lake Mead Boulevard | North Las Vegas | NV | 89030
Northbay VacaValley Hospital | 1200 B. Gale Wilson Boulevard | Fairfield | CA | 94533
Northeast Baptist Hospital | 8811 Village Drive | San Antonio | TX | 78217
Northeast Georgia Medical Center | 743 Spring Street | Gainesville | GA | 30501
NorthEast Medical Center | 920 Church Street | North Concord | NC | 28025
Northeast Methodist Hospital | 12412 Judson Road | Live Oak | TX | 78233
Northeast Regional Medical Center | 315 S. Osteopathy Street | Kirksville | MO | 63501
Northern Illinois Medical Center | dwittkamp@centegra.com | McHenry | IL | 60050
Northern Michigan Hospital | 416 Connable Avenue | Petoskey | MI | 49770
Northern Nevada Medical Center | 2375 E. Prater Way | Sparks | NV | 89434
Northern Virginia Community Hosptal | 601 South Carlin Springs Road | Arlington | VA | 22204
Northlake Medical Center | 1455 Montreal Road | Tucker | GA | 30084
Northridge Hospital Medical Center | 18300 Roscoe Avenue | Northridge | CA | 91325
Northshore Regional Medical Center | 100 Medical Center Drive | Slidell | LA | 70461
Northside Hospital | 6000 49th Street N | Pinellas Park | FL | 33709
Northside Hospital | 1000 Johnson Ferry Road | Atlanta | GA | 30342
Northwest Community Hospital | 800 W. Central Raod | Arlington Heights | IL | 60005
Northwest Hospital | 1550 North 115th Street | Seattle | WA | 98113
Northwest Medical Center | 2801 N. State Road 7 | Margate | FL | 33063
Northwest Medical Center—Bentonville | 3000 Medical Center Parkway | Bentonville | AR | 72712
Northwest Medical Center—Springdale | 609 West Maple Street | Springdale | AR | 72764
Northwest Mississippi Regional Medical Center | 1970 Hospital Drive | Clarksdale | MS | 38614
Northwest Texas Surgical Hospital | 3501 Soncy Road Suite 118 | Amarillo | TX | 79119
Northwestern Memorial Hospital | 676 North St Clair Suite 1700 | Chicago | IL | 60611
Norton Audubon | P.O. Box 35070 | Louisville | KY | 40232
Norton Hospital | P.O. Box 35070 | Louisville | KY | 40232
Norwalk Hospital | 24 Stevens Street | Norwalk | CT | 06856
NYU Medical Center | 560 First Avenue, TCH 576 Cath Lab | New York | NY | 10016
Oak Hill Hospital | 11375 Cortez Boulevard | Brooksville | FL | 34613
Oakwood Hospital & Medical Center | 18101 Oakwood Boulevard Suite 124 | Dearborn | MI | 48124
Obici Hospital | 2800 Godwin Boulevard | Suffolk | VA | 23434
Ocala Regional Medical Center | 1431 SW First Avenue | Ocala | FL | 34474
Ocean Springs Hospital | 3109 Bienville Boulevard | Oceansprings | MS | 39564
Ochsner Medical Center—Baton Rouge | 17000 Medical Center Drive | Baton Rouge | LA | 70816
Ochsner Medical foundation | 1514 Jefferson Highway | New Orleans | LA | 70121
O'Connor Hospital | 2105 Forest Avenue | San Jose | CA | 95128
Odessa Regional Hospital | 520 East Sixth Street | Odessa | TX | 79760
Ogden Regional Medical Center | 5475 South 500 East | Ogden | UT | 84403
Ohio State University Medical Center | 410 W. 10th Avenue—1420 Doan Hall | Columbus | OH | 43210-1228
Ohio Valley Medical Center | 2000 Eoff Street | Wheeling | WV | 26003
Oklahoma Heart Hospital | 4050 W. Memorial Road | Oklahoma City | OK | 73120
Oklahoma State University Medical Center | 744 W. 9th | Tulsa | OK | 74127
Olathe Medical Center | 20333 W. 151 Street | Olathe | KS | 66061-7211
Opelousas General Health System | 539 E. Prudhomme Street | Opelousas | LA | 70570
Orange Coast Memorial Medical Center | 9920 Talbert Avenue | Fountain Valley | CA | 92708
Orange Regional Medical Center | 60 Prospect Avenue | Middletown | NY | 10940
Oregon Health & Science University | 3181 SW Sam Jackson Road | Portland | OR | 97239
Orlando Regional Medical Center | 1414 Kuhl Avenue | Orlando | FL | 32806
Osceola Regional Medical Center | 700 W. Oak Street | Kissimmee | FL | 34745
OSF Saint Anthony Medical Center | 5666 East State Street | Rockford | IL | 61108
OSF Saint Joseph Medical Center | 2200 E. Washington | Bloomington | IL | 61701
OSF/Saint Francis Medical Center | 530 NE Glen Oak Avenue | Peoria | IL | 61637
OU Medical Center | 1200 Everett Drive | Oklahoma City | OK | 73104
Our Lady of Lourdes Medical Center | 1600 Haddon Avenue | Camden | NJ | 08103
Our Lady of Lourdes Regional Medical Center | 611 St. Landry (PO Box 4027) | Lafayette | LA | 70506
Our Lady of The Lake Regional | 7777 Hennessy Boulevard Suite 2007 | Baton Rouge | LA | 70808
Our Lady of the Resurrection Medical Center | 5645 W. Addison Street | Chicago | IL | 60634
Overlake Hospital Medical Center | 1035-116th Avenue NE | Bellevue | WA | 98004
Overland Park Regional Med Center/Health Midwest | 10500 Quivira Road | Overland Park | KS | 66215
Owensboro Medical Health System | 811 E. Parrish Avenue | Owensboro | KY | 42303
Ozarks Medical Center | 1100 Kentucky Avenue | West Plains | MO | 65775
Palm Beach Gardens Medical Center | 3360 Burns Road | Palm Beach Gardens | FL | 33410
Palmetto General Hospital | 2001 West 68th Street | Hialeah | FL | 33029
Palmetto Health Heart Hospital | 5 Richland Medical Park Drive | Columbia | SC | 29203
Palomar Medical Center | 555 East Valley Parkway | Escondido | CA | 92025
Palos Community Hospital | 12251 S. 80th Avenue | Palos Heights | IL | 60463-0930
Paoli Hospital | 100 Lancaster Avenue | Wynnewood | PA | 19096
Paradise Valley Hospital | 3929 E. Bell Road | Phoenix | AZ | 85023
Paradise Valley Hospital | 2400 E. Fourth Street | National City | CA | 91950
Paris Regional Medical Center | 820 Clarksville Street | Paris | TX | 75460
Park Plaza Hospital | 1313 Hermann Drive | Houston | TX | 77004
Parkridge Medical Center | 2333 McCallie Avenue | Chattanooga | TN | 37404
Parkview Hospital | 2200 Randallia Drive | Fort Wayne | IN | 46805
Parkview Hospital | 1726 Shawano Avenue | Green Bay | WI | 54303-3282
Parkview Medical Center | 400 West 16th Street | Pueblo | CO | 81003
Parkway Regional Medical Center | 160 N.W. 170th Street | North Miami | FL | 33169
Parkwest Medical Center | 9352 Parkwest Boulevard | Knoxville | TN | 37923
Parma Community General Hospital | 7007 Powers Boulevard | Parma | OH | 44129
Pasco Regional Medical Center | 13000 100 Fort King Road | Dade City | FL | 33525
PBI Regional Medical Center | 350 Boulevard | Passaic | NJ | 7055
Peace River Regional Medical | 2500 Harbor Boulevard | Port Charlotte | FL | 33952
Peconic Bay Medical Center | 1300 Roanoke Avenue | Riverhead | NY | 11901
Peninsula Regional Medical Center | 100 East Carroll Street | Salisbury | MD | 21801
Penn Presbyterian Medical Center | 39th & Market Street | Philadelphia | PA | 19104
Penn State Hershey Medical Center | PO Box 850 H139 | Hershey | PA | 17033
Pennsylvania Hospital | 800 Spruce Street | Philadelphia | PA | 19107-6192
Penrose—St. Francis Health Services | 2222 North Nevada, #220 | Colorado Springs | CO | 80907
Phelps County Regional Medical Center | 1000 W. 10th Street | Rolla | MI | 65401
Phoenix Baptist Hospital | 2000 W. Bethany Home Road | Phoenix | AZ | 85015
Phoenixville Hospital | 140 Nutt Road | Phoenixville | PA | 19460-3906
Piedmont HealthCare Physicians Cath Lab LLC | 1968 Peachtree Road NW | Atlanta | GA | 30309
Piedmont Hospital | 95 Collier Road Suite 5005 | Atlanta | GA | 30309
Piedmont Medical Center | 222 S. Herlong Avenue | Rock Hill | SC | 29732
Pikeville Medical Center | 911 Bypass Road | Pikeville | KY | 41501
Pinnacle Health Invasive Cardiology | 111 South Front Street | Harrisburg | PA | 17101-2099
Pioneer Hospital | 3590 West 9000 South, Suite 315 | West Jordan | UT | 84088
Pitt County Memorial Hospital | 2100 Stantonsburg Road | Greenville | NC | 27834-2832
Plantation General Hospital | 401 N.W. 42nd Avenue | Plantation | FL | 33317
Plaza Medical Center of Fort Worth | 900 Eighth Avenue | Fort Worth | TX | 76104
Pomona Valley Hospital Medical Center | 1798 N. Garey Avenue | Pomona | CA | 91722
Pontiac Osteopathic Hospital | 50 North Perry Street | Pontiac | MI | 48342
Poplar Bluff Regional Medical Center | 2620 N. Westwood Boulevard | Poplar Bluff | MO | 63901
Port Huron Hospital | 1221 Pine Grove Avenue | Port Huron | MI | 48060
Porter Adventist Hospital | 2525 S Downing Street—Mailstop 33F | Denver | CO | 80210-5817
Porter Valparaiso Hospital Campus | 814 Laporte Avenue | Valparaiso | IN | 46383
Portneuf Medical Center | 651 Memorial Drive | Pocatello | ID | 83201
Portsmouth Regional Hospital | 333 Borthwick Avenue | Portsmouth | NH | 03801
Poudre Valley Hospital | 1024 South Lemay Avenue | Fort Collins | CO | 80524
Presbyterian Healthcare Services | PO Box 26666 | Albuqerque | NM | 87125
Presbyterian Hospital | 200 Hawthorne Lane | Charlotte | NC | 28204
Presbyterian Hospital of Dallas | 8200 Walnut Hill Lane | Dallas | TX | 75231
Presbyterian Hospital of Plano | 6200 West Parker Road | Plano | TX | 75093-7914
Presbyterian Intercommunity Hospital | 12401 Washington Boulevard | Whittier | CA | 90602
Presbyterian/St.Lukes Medical Center | 1719 E. 19th Avenue—CV Registry | Denver | CO | 80218-1235
Prince George's Hospital Center | 3001 Hospital Drive | Cheverly | MD | 20785
Princeton Baptist Medical Center | 701 Princeton Avenue | Birmingham | AL | 35211-1399
Proctor Hospital | 5409 N. Knoxville Avenue | Peoria | IL | 61614
Protestant Memorial Medical Center | 4500 Memorial Drive | Belleville | IL | 62226
Provena Covenant Medical Center | 1400 West Park Street | Urbana | IL | 61801-9901
Provena Mercy Medical Center | 1325 North Highland Avenue | Aurora | IL | 60506
Provena Saint Joseph Medical Center | 333 N. Madison Street | Joliet | IL | 60435
Provena Saint Marys Hospital | 500 West Court Street | Kankakee | IL | 60901
Providence Alaska Medical Center | 3200 Providence Drive | Anchorage | AK | 99508-4662
Providence Everett Medical Center | 1321 Coby Avenue—PO Box 1147 | Everett | WA | 98206-1147
Providence Health Center | 6901 Medical Parkway | Waco | TX | 76712
Providence Holy Cross Medical Center | 15031 Rinaldi Street | Mission Hills | CA | 91346
Providence Hospital | 6801 Airport Boulevard | Mobile | AL | 36608
Providence Hospital | 2435 Forest Drive | Columbia | SC | 29204
Providence Medical Center | 8929 Parallel Parkway | Kansas City | KS | 66112-1689
Providence Memorial Hospital | 2001 North Oregon | El Paso | TX | 79902
Providence Portland Medical Center | 9205 SW Barnes Road | Portland | OR | 97225
Providence Saint Joseph Medical Center | 501 South Buena Vista | Burbank | CA | 91505
Providence Saint Vincent Med Center | Regional Heart Data Services—9205 South West Barnes Road #33 | Portland | OR | 97225
Providence St. Peter Hospital | 413 N. Lilly Road | Olympia | WA | 98506
Queen of the Valley Hospital | 1000 Trancas Street | Napa | CA | 94558
Queens Medical Center | 1301 Punchbowl Street | Honolulu | HI | 96813
Rancho Spring Medical Center | 36485 Inland Valley | Wildomar | CA | 92595
Rankin Medical Center | 350 Crossgates Boulevard | Brandon | MS | 39042
Rapid City Regional Hospital | 353 Fairmont Boulevard | Rapid City | SD | 57702
Rapides Regional Medical Center | 211 4th Street (Box 30101) | Alexandria | LA | 71301
Redmond Regional Medical Center | 501 Redmond Road | Rome | GA | 30165
Regents of the University of Michigan | 2929 Plymouth Rd Suite 210 | Ann Arbor | MI | 48105
Regional Hospital of Jackson | 367 Hospital | Boulevard Jackson | TN | 38305
Regional Medical Center | 400 East 10th Street | Anniston | AL | 36202
Regional Medical Center | 225 N. Jackson Street | San Jose | CA | 95116
Regional Medical Center | 900 Hospital Drive | Madisonville | KY | 42431-1644
Regional Medical Center | 3000 St. Matthews Road | Orangeburg | SC | 29118
Regional Medical Center Bayonet Point | 1400 Fivay Road | Hudson | FL | 34667
Regions Hospital | 640 Jackson Street | St. Paul | MN | 55101
Reid Hospital & Healthcare Services | 1401 Chester Boulevard | Richmond | IN | 47374
Renown Regional Medical Center | 77 Pringle Way | Reno | NV | 89502
Research Medical Center | 2316 East Meyer Boulevard | Kansas City | MO | 64132
Reston Hospital Center | 1850 Town Center Parkway | Reston | VA | 20190
Resurrection Medical Center | 7435 W. Talcott Avenue | Chicago | IL | 60631
Rex Hospital | 4420 Lake Boone Trail | Raleigh | NC | 27607
RHD Memorial Medical Center | 7 Medical Parkway | Dallas | TX | 75234
Rhode Island Hospital | 593 Eddy Street | Providence | RI | 02903
Rideout Memorial Hospital | 726 4th Street | Maryville | CA | 95901
Ridgecrest Regional Hospital | 1081 N. China Lake Boulevard | Ridgecrest | CA | 93555
Riley Hospital | 1102 Constitution Avenue | Meridian | MS | 39301
Rio Grande Regional Hospital | 101 E. Ridge Road | McAllen | TX | 78503
River Oaks Hospital | 1030 River Oaks Drive | Jackson | MS | 39232
River Region Medical Center | 2100 Highway 61 North | Vicksburg | MS | 39180
River Region Health System | 2100 Highway 61 North | Vicksburg | MS | 39180
Riverside Community Hospital | 4445 Magnolia Avenue | Riverside | CA | 92501
Riverside Methodist Hospital | 3535 Olentangy River Road | Columbus | OH | 43214
Riverside Regional Medical Center | 500 J. Clyde Morris Boulevard | Newport News | VA | 23601
Riverview Hospital | 395 Westfield Road | Noblesville | IN | 46060
Riverview Regional Medical Center | 600 South Third Street | Gadsden | AL | 35901
Robert Packer Hospital | 1 Guthrie Square | Sayre | PA | 18840
Robinson Memorial Hospital | 6847 N. Chestnut Street | Ravenna | OH | 44266
Rochester General Hospital | 1425 Portland Avenue | Rochester | NY | 14621
Rockford Memorial Hospital | 2400 N. Rockton Avenue | Rockford | IL | 61103
Rogue Valley Medical Center | 2825 E. Barnett Road | Medford | OR | 97504
Roper Hospital | 316 Calhoun Street | Charleston | SC | 29401
Rose Medical Center | 4567 E. 9th Avenue | Denver | CO | 80220-3941
Round Rock Medical Center | 2400 Round Rock Avenue | Round Rock | TX | 78681
Rush Hospital | 1314 19th Avenue | Meridian | MS | 39301
Rush North Shore Medical Center | 9600 Gross Point Road | Skokie | IL | 60076
Rush University Medical Center | 1653 West Congress Parkway | Chicago | IL | 60612
Rush-Copley Medical Center Attn: Health Science Lib | 2000 Ogden Avenue | Aurora | IL | 60504
Rush-Riverside Heart Care Center | 350 N. Wall Street | Kankakee | IL | 60901
Russell Medical Center | 3316 Highway 280 (P.O. Box 939) | Alexander City | AL | 35011
Russellville Hospital | 15155 Highway 43 | Russellville | AL | 35653
Rutland Regional Medical Center | 160 Allen Street | Rutland | VT | 05701
Sacred Heart Health System | 5151 North Ninth Avenue | Pensacola | FL | 32504
Sacred Heart Hospital Attn:A/P | 900 W. Clairemont Avenue | Eau Claire | WI | 54701
Sacred Heart Medical Center | 1155 Hilyard Street | Eugene | OR | 97401
Sacred Heart Medical Center | 101 W. Eighth Avenue | Spokane | WA | 99204
Saddleback Memorial Medical Center | 24451 Health Center Drive | Laguna Hills | CA | 92653
Saint Agnes Medical Center | 1303 East Herndon Avenue | Fresno | CA | 93720
Saint Anthony Central Hospital | 4231 W. 16th Avenue | Denver | CO | 80204-1335
Saint Anthony Medical Center | 1201 S. Main Street | Crown Point | IN | 46307
Saint Anthonys Medical Center | 10010 Kennerly Road | Saint Louis | MO | 63128-2106
Saint Bernadine Medical Center | 2101 N. Waterman Avenue | San Bernardino | CA | 92404-4836
Saint Clare's Hospital | 611 St. Joseph's Avenue | Marshfield | WI | 54449
Saint Elizabeth Health Center | 1044 Belmont Avenue | Youngstown | OH | 44501
Saint Elizabeth Hospital | 1611 S. Madison Street | Appleton | WI | 54915
Saint Elizabeth Hospital | 1611 S. Madison Street | Appleton | WI | 54915
Saint Elizabeth Medical Center-South | One Medical Drive | Edgewood | KY | 41017
Saint Elizabeth Regional Medical Center | 555 S. 70th Street | Lincoln | NE | 68510-2462
Saint Elizabeths Hospital | 211 South 3rd Street | Belleville | IL | 62220-1915
Saint Francis Heart Hospital | 10501 E. 91st Street South | Tulsa | OK | 74133
Saint Francis Hospital | 2122 Manchester Expressway | Columbus | GA | 31904
Saint Francis Hospital | 6161 S. Yale Avenue | Tulsa | OK | 74136
Saint Francis Hospital | 5959 Park Ave | Memphis | TN | 38119
Saint Francis Hospital & Health Center | 8111 S. Emerson Avenue | Indianapolis | IN | 46237
Saint Francis Hospital & Medical Center | 118 Woodland Street | Hartford | CT | 06105
Saint Francis Hospital and Health Center | 12935 Gregory Street | Blue Island | IL | 60406-2470
Saint Francis Hospital of Evanston | 355 Ridge Avenue | Evanston | IL | 60202
Saint Francis Medical Center | 211 Saint Francis Drive | Cape Girardeau | MO | 63703
Saint John Macomb Hospital | 11800 E. 12 Mile Road, Room #2510 | Warren | MI | 48093
Saint Johns Health Center | 1328 22nd Street | Santa Monica | CA | 90404
Saint Johns Mercy Medical Center | 615 S. New Ballas Road | Saint Louis | MO | 63141-8221
Saint John's Regional Hlth Center | 1235 E. Cherokee Street | Springfield | MO | 65804
Saint Joseph Hospital |  |  |  |
Saint Joseph Hospital | St Josephs Hospital & Med Center—350 West Thomas Road | Phoenix | AZ | 85013
Saint Joseph Hospital | 2700 Dolbeer Street | Eureka | CA | 95501-4799
Saint Joseph Hospital | 3001 W. Martin Luther King Boulevard | Tampa | FL | 33607
Saint Joseph Hospital | 2900 N Lake Shore Drive | Chicago | IL | 60657-6274
Saint Joseph Hospital (Provena) | 77 North Airlite Street | Elgin | IL | 60123-4912
Saint Joseph Medical Center | 1717 South J Street | Tacoma | WA | 98405-4933
Saint Joseph Regional Health Center | 2801 Franciscan Street | Bryan | TX | 77802-2544
Saint Josephs Hospital | 1824 Murdoch Avenue | Parkersburg | WV | 26102-0327
Saint Josephs Hospital/Marshfield Clinic | 611 St. Joseph Avenue | Marshfield | WI | 54449-1832
Saint Josephs Hospital of Atlanta | 5665 Peachtree Dunwoody Road | Atlanta | GA | 30342
Saint Louis University Hospital | 3635 Vista at Grand | Saint Louis | MO | 63110
Saint Lukes Hospital | 1026 A Avenue, North East | Cedar Rapids | IA | 52406-3026
Saint Lukes Hospital | 232 S. Woods Mill Road—Heart Failure Center | Chesterfield | MO | 63017-3417
Saint Luke's Hospital | 4401 Wornall Road (MAHI 5th Floor) | Kansas City | MO | 64111
Saint Lukes Regional Medical Center | 190 E. Bannock Street | Boise | ID | 83712-6241
Saint Margaret Mercy | 5454 S. Hohman Avenue | Hammond | IN | 46320
Saint Mary Corwin Medical Center | 1008 Minnequa Avenue | Pueblo | CO | 81004-3798
Saint Mary Mercy Hospital | 36475 West Five Mile Road | Livonia | MI | 48154
Saint Mary's Hospital | 56 Franklin Street | Waterbury | CT | 06706
Saint Marys Hospital and Regional Medical Center | 2635 N. 7th Street | Grand Junction | CO | 81501-8209
Saint Marys Medical Center | 3700 Washington Avenue | Evansville | IN | 47750
Saint Marys Medical Center | 2900 First Avenue | Huntington | WV | 25702
Saint Mary's Medical Center | 450 Stanyan Street | San Francisco | CA | 94117
Saint Mary's Mercy Medical Center | 310 Lafayette Avenue—STF #315 | Grand Rapids | MI | 49503
Saint Mary's Regional Medical Center | 235 W. Sixth Street | Reno | NV | 89503
Saint Peter's Hospital | 315 South Manning Boulevard | Albany | NY | 12208
Saint Ritas Medical Center | 730 West Market Street | Lima | OH | 45801-4602
Saint Thomas Health Care Services | 4220 Harding Road—PO Box 380 | Nashville | TN | 37202-0380
Saint Thomas Health Services | 4220 Harding Road | Nashville | TN | 37203
Saint Vincent Health Center | 232 West 25th Street | Erie | PA | 16544
Saint Vincent Hospital | 123 Summer Street | Worcester | MA | 01608
Saint Vincent Hospital Manhattan | 170 W. 12th Street | New York | NY | 10011
Saint Vincent Medical Center/Hlth Ctr. | 2 St. Vincent Circle | Little Rock | AR | 72205
Saint Vincent's Staten Island | 355 Bard Avenue | Staten Island | NY | 10310
Salem Hospital (Regional Health Services) | 665 Winter Street, SE | Salem | OR | 97309-5014
Salina Regional Health Center | 400 S. Santa Fe Avenue | Salina | KS | 67401
Salinas Valley Memorial Hospital | 450 E Romie Lane | Salinas | CA | 93901-4098
Salt Lake Regional Medical Center | 1050 East South Temple | Salt Lake | UT | 84102
San Antonio Community Hospital | 999 San Bernardino Road | Upland | CA | 91786
San Francisco Heart and Vascular Institute | 1900 Sullivan Avenue | Daly City | CA | 94015
San Jacinto Methodist Hospital | 4401 Garth Road | Baytown | TX | 77521
San Joaquin Community Hospital | 2615 Eye Street | Bakersfield | CA | 93301
San Juan Regional Medical Center | 801 West Maple | Farmington | NM | 87401
San Ramon Regional Medical Center | 6001 Norris Canyon Road | San Ramon | CA | 94583
Sand Lake Hospital | 1414 Kuhl Avenue | Orlando | FL | 32806
Santa Barbara Cottage Hospital | PO Box 689 | Santa Barbara | CA | 93102-0689
Santa Clara Valley Medical Center | 751 S. Bascom Avenue | San Jose | CA | 95128
Santa Rosa Memorial Hospital | 1165 Montgomery Drive PO BOX 522 | Santa Rosa | CA | 95402
Santa Teresa Community Hospital | 250 Hospital Parkway, 1st Floor Cath Office | San Jose | CA | 95119
Sarasota Memorial Hospital | 1700 S. Tamiami Trail | Sarasota | FL | 34239
Scott and White Clinic and Hospital | 2401 S. 31 Street, Alexander Building, 218-E | Temple | TX | 76508
Scottsdale Healthcare Osborn | 9003 E. Shea Boulevard | Scottsdale | AZ | 85260
Scottsdale Healthcare Shea | 9003 E. Shea Boulevard—Administration | Scottsdale | AZ | 85260
Scripps Green Hospital—La Jolla | 10666 North Torrey Pines Road | La Jolla | CA | 92037
Scripps Memorial Hospital Encinitas | 354 Santa Fe Drive | Encinitas | CA | 92024
Scripps Memorial Hospital-La Jolla | 9888 Genesee Avenue LJ101 | La Jolla | CA | 92037
Scripps Mercy Hospital-San Diego | 4077 5th Avenue, MER 74 | San Diego | CA | 92103
Scripps Mercy Hosptial-Chula Vista | 435 H Street | Chula Vista | CA | 91910
Sebastian River Medical Center | 13695 U.S. Highway 1 | Sebastian | FL | 32962
Self Regional Healthcare | 1325 Spring Street | Greenwood | SC | 29646
Sentara Norfolk General Hospital | 600 Gresham Drive | Norfolk | VA | 23507
Sentara Virginia Beach General Hospital | 1060 First Colonial Road | Virginia Beach | VA | 23454-0685
Senton Medical Center | 1900 Sullivan Avenue (Attn: SFHVI) | Daly City | CA | 94015
Sequoia Hospital | Whipple & Alameda Avenue—170 Alameda de Las Pulgas | Redwood City | CA | 94062
Seton Medical Center | 1201 W. 38th Street | Austin | TX | 78705
Shady Grove Adventist Hospital | 9901 Medical Center Drive | Rockville | MD | 20850
Shands at AGH | 801 SW 2nd Avenue | Gainesville | FL | 32601
Shands Jacksonville Medical Center | 655 West 8th Street | Jacksonville | FL | 32209-6511
Sharp Chula Vista | 8695 Spectrum Center Court | San Diego | CA | 92123
Sharp Grossmont | 5555 Grossmont Center Drive | La Mesa | CA | 91942
Sharp Memorial Hospital | 7901 Frost Street | San Diego | CA | 92123
Shasta Regional Medical Center | 1100 Butte Street | Redding | CA | 96001
Shawnee Mission Medical Center | 9100 West 74th Street | Shawnee Mission | KS | 66204-4004
Shelby Baptist Medical Center | 1000 First Street | North Alabaster | AL | 35007
Sherman Hospital | 934 Center Street—Decision Support | Elgin | IL | 60120
Shore Health System of Maryland | 219 South Washington Street | Easton | MD | 21601
Sibley Memorial Hospital | 5255 Loughboro Road, NW | Washington | DC | 20016
Sid Peterson Memorial Hospital | 710 Water Street | Kerrville | VA | 78028
Sierra Medical Center | 1625 Medical Center Drive | El Paso | TX | 79902
Sierra Vista Regional Medical Center | 1010 S. Murray Avenue | San Luis Obispo | CA | 93420
Silver Cross Hospital | 1200 Maple Road | Joliet | IL | 60432
Simi Valley Hospital & Health Care Services | 2975 N. Sycamore Drive | Simi Valley | CA | 93065
Sinai-461Grace Hospital | 6071 W. Outer Drive | Detroit | MI | 48235
Sinai Hospital of Baltimore | 2401 West Belvedere Avenue | Baltimore | MD | 21215-5271
Singing River Hospital | 2809 Denny Avenue | Pascagoula | MS | 39567
Sioux Valley Hospitals & Health System | 1305 West 18th Street | Sioux Falls | SD | 57117
Sisters of Charity Hospital | 2157 Main Street | Buffalo | NY | 14120
Skaggs Community Health Center | PO Box 650 | Branson | MO | 65615-0650
Sky Ridge Medical Center | 10101 Ridgegate Parkway | Lone Tree | CO | 80124
Skyline Medical Center/HTI Memorial Hospital Corp | 3441 Dickerson Pike | Nashville | TN | 37207
Smith of Georgia, LLC d.b.a. Smith Northview Hopsital | PO Box 10010 | Valdosta | GA | 31604
Sound Shore Medical Center | 16 Guion Place | New Rochelle | NY | 10801
South Austin Hospital | 901 W. Ben White Boulevard | Austin | TX | 78704
South Crest Hospital | 8801 S. 101Street E Avenue | Tulsa | OK | 74133
South Fulton Medical Center | 1170 Cleveland Avenue | East Point | GA | 30344
South GA Medical Center | PO Box 1727 | Valdosta | GA | 31603-1727
South Miami Hospital | 6200 SW 73rd Street | Miami | FL | 33143-4989
South Nassau Communities Hospital | One Healthy Way | Oceanside | NY | 11572
South Shore Hospital | 55 Fogg Road South | Weymouth | MA | 02190-2432
Southampton Hospital | 240 Meeting House Lane | Southhampton | NY | 11968
Southcoast Hospitals Group | 363 Highland Avenue | Fall River | MA | 02720
Southeast Alabama Medical Center | 1108 Ross Clark Circle | Dothan | AL | 36301
Southeast Baptist Hospital | 4214 E. Southcross | San Antonio | TX | 78222
Southeast Missouri Hospital | 1701 Lacey Street Cape | Girardeau | MO | 63701
Southern Hills Hospital | 9300 West Sunset Road | Las Vegas | NV | 89148
Southern New Hampshire Medical Center | 8 Prospect Street | Nashua | NH | 3060
Southern Ohio Medical Center | 1805 27th Street | Portsmouth | OH | 45662
Southern Regional Medical Center | 11 Upper Riverdale Road | Riverdale | GA | 30274
Southlake Hospital | 1099 Citrus Tower Boulevard | Clermont | FL | 34711
Southside Hospital | 301 East Main Street | Bayshore | NY | 11706
Southwest Florida Regional | 2727 Winkler Avenue | Fort Myers | FL | 33901
Southwest General Health Center | 18697 Bagley Road | Middleburg Heights | OH | 44130-3417
Southwest General Hospital | 7400 Barlite Boulevard | San Antonio | TX | 78224
Southwest Health Plan, Inc. | 25500 Medical Center Drive | Murrieta | CA | 92562
Southwest Medical Center | 2810 Ambassador Caffery Parkway | Lafayette | LA | 70506
Southwest MS Regional Medical Center | 215 Marion Avenue | McComb | MS | 39648
Southwest Washington Medical Center | 600 NE 92nd Avenue | Vancouver | WA | 98664
Southwestern Medical Center | 5602 SW Lee Boulevard | Lawton | OK | 73505
Spalding Regional Medical Center | 601 South 8th Street | Griffin | GA | 30224
Sparks Regional Medical Center | PO Box 17006 | Fort Smith | AR | 7291-7006
Sparrow Health System | 1210 W. Saginaw Highway | Lansing | MI | 48915
Spartanburg Regional Medical Center | 101 East Wood Street—3rd Floor Heart Center | Spartanburg | SC | 29303
Spectrum Health | 100 Michigan Street NE | Grand Rapids | MI | 49503-2560
Springhill Memorial Hospital | 3719 Dauphin Street | Mobile | AL | 36608
Springs Memorial Hospital | 800 West Meeting Street | Lancaster | SC | 29720
SSM St. Joseph Health Center | 300 First Captiol Drive | St. Charles | MO | 63301
SSM St. Mary's Health Center | 6420 Clayton Road | St. Louis | MO | 63117
St James Hospital and Health Centers | 20201 S. Crawford Avenue | Olympia Fields | IL | 60461
St John's Hospital | 69 W. Exchange Street | St. Paul | MN | 55102
St. Joseph Hospital | 700 Broadway Street | Fort Wayne | IN | 46802
St. Joseph Hospital—Oakland | 44405 Woodward Avenue | Pontiac | MI | 48341-5023
St. Josephs Hospital | 69 W. Exchange Street | St. Paul | MN | 55102
St. Josephs Hospital Health Center | 301 Prospect Avenue | Syracuse | NY | 13203
St. Lukes's Cornwall Hospital | 70 Dubois Street | Newburgh | NY | 12550
St. Mary's Health Care Systems | 1230 Baxter Street | Athens | GA | 30606
St. Mary's Good Samaritan | 400 North Pleasant | Centralia | IL | 62801
St. Mary's Medical Center | 407 E. 3rd Street | Duluth | MN | 55805
St. Mary's of Michigan | 800 S. Washington | Saginaw | MI | 48601
St. Mary's Regional Medical Center | 305 S. 5th Street | Enid | OK | 73701
St. Vincent Mercy Medical Center | 2213 Cherry Street | Toledo | OH | 43608
St. Agnes Hospital | 900 Caton Avenue | Baltimore | MD | 21229
St. Alphonsus Regional Medical Center | 1055 N. Curtis Road | Boise | ID | 83706
St. Anthony Hospital | 1000 N. Lee Avenue | Oklahoma City | OK | 73102
St. Barnabas Medical Center | 94 Old Short Hills Road | Livingston | NJ | 07039
St. Bernards Medical Center | 225 E. Jackson Avenue | Jonesboro | AR | 72401
St. Catherine Hospital Chicago | E. 1500 South Lake Park Avenue | Hobart | IN | 46342
St. Catherine of Siena | 50 Route 25A | Smithtown | NY | 11787
St. Charles Hospital | 200 Belle Terre Road | Port Jefferson | NY | 11777
St. Charles Medical Center | 2500 North East Neff Road | Bend | OR | 97701-6015
St. Clair Memorial Hospital Cardiac Rehab/Medical A | 1000 Bower Hill Road | Pittsburg | PA | 15243
St. Cloud Regional Medical Center | 2906 17th Street | St. Cloud | FL | 34769
St. David's Medical Center | 919 East 32nd | Austin | TX | 78765
St. Dominic-Jackson Memorial Hospital | 969 Lakeland Drive | Jackson | MS | 39216
St. Edward Mercy Medical Center Medical Library | 7301 Rogers Avenue/PO Box 17000 | Ft. Smith | AR | 72917-7000
St. Edwards Mercy Medical Center | 7301 Rogers Avenue/PO Box 17000 | Ft. Smith | AR | 72917-7000
St. Elizabeth Hospital | 2233 W. Division | Chicago | IL | 60622
St. Elizabeth Medical Center | 2209 Genesee Street | Utica | NY | 13501
St. Francis Health Center | 1700 SW 7th Street | Topeka | KS | 66605
St. Francis Hospital | 701 N. Clayton Street | Wilmington | DE | 19805
St. Francis Hospital | 100 Port Washington Boulevard | Roslyn | NY | 11576
St. Francis Hospital | One St. Francis Drive | Greenville | SC | 29601
St. Francis Hospital | 333 Laidley Street—P.O. Box 44 | Charleston | WV | 25322
St. Francis Medical Center | 3630 Imperal Highway | Lynwood | CA | 90265
St. Francis Medical Center | 309 Jackson Street | Monore | LA | 71210
St. Francis Medical Center | 211 Saint Francis Drive | Cape Girardeau | MO | 63703-5049
St. Francis Medical Center | 601 Hamilton Avenue | Trenton | NJ | 08629
St. Francis North Hospital | 3421 Medical Park Drive | Monroe | LA | 71203
St. Helena Hospital | 10 Woodland Road | St. Helena | CA | 94574
St. James Health Care | 400 South Clark Street | Butte | MT | 59701
St. John Hospital & Medical Center | 22151 Moross Road | Detroit | MI | 48236-2148
St. John Medical Center | 1923 S. Utica | Tulsa | OK | 74104
St. John Medical Center | 1615 Delaware Street | Longview | WA | 98632
St. John West Shore Hospital | 29000 Center Ridge Road | Westlake | OH | 44145
St. John's Hospital | 800 E. Carpenter Street | Springfield | IL | 62769
St. John's Hospital | 1235 E. Cherokee Street | Springfield | MO | 65804
St. John's Pleasant Valley Hospital | 2309 Antonio Avenue | Camarillo | CA | 93010
St. John's Queens Hospital | 90-02 Queens Boulevard | Elmhurst | NY | 11373
St. Johns Regional Medical Center | 1600 N. Rose Avenue | Oxnard | CA | 93030-3722
St. Johns Regional Medical Center | 2727 McClelland Boulevard | Joplin | MO | 64804
St. Joseph Hospital | 1 Saint Joseph Drive | Lexington | KY | 40504
St. Joseph Hospital | 360 Broadway | Bangor | ME | 04401
St. Joseph Hospital | 172 Kinsley Street | Nashua | NH | 03060
St. Joseph Hospital | 2901 Squalicum Parkway | Bellingham | WA | 98225
St. Joseph Intercommunity Hospital | 2605 Harlem Road | Cheektowaga | NY | 14225
St. Joseph Medical Center | 2200 E. Washington Street | Bloomington | IL | 61701
St. Joseph Medical Center | 7601 Osler Drive | Towson | MD | 21204
St. Joseph Medical Center | 12th & Walnut Street | Reading | PA | 19603
St. Joseph Medical Center | 1401 St. Joseph Parkway | Houston | TX | 77002
St. Joseph Mercy Hospital | 5325 Elliot Drive | Ann Arbor | MI | 48106
St. Joseph Reg. Medical Center | 801 E. Lasalle Avenue | South Bend | IN | 46617
St. Joseph Regional Medical Center | 703 Main Street | Paterson | NJ | 07503
St. Joseph's Healthcare | 15855 Nineteen Mile Road | Clinton Township | MI | 48038
St. Joseph's Hospital | 11705 Mercy Boulevard | Savannah | GA | 31419
St. Joseph's Medical Center | 127 South Broadway | Yonkers | NY | 10701
St. Josephs Medical Center of Stockton | 1805 North California Street, Suite 303 | Stockton | CA | 95204
St. Josephs Mercy Health Center | 300 Werner Drive | Hot Springs | AR | 71913
St. Jude Medical Center | 101 East Valencia Mesa | Fullerton | CA | 92838
St. Luke Hospital East. | 85 N. Grand Avenue | Ft. Thomas | KY | 41075
St. Luke Hospital West | 7380 Turfway Road | Florence | KY | 41042
St. Luke's Baptist Hospital | 7830 Floyd Curl Drive | San Antonio | TX | 78229
St. Luke's Community Medical Center (The Woodlands) | 17200 St. Luke's Way | The Woodlands | TX | 77384
St. Luke's Episcopal Hospital | 6720 Bertner Avenue | Houston | TX | 77030
St. Lukes Hospital | 5901 Monclova Road | Maumee | OH | 43537
St. Luke's Hospital | 915 E. First Street | Duluth | MN | 55805
St. Lukes Hospital & Health Network | 801 Ostrum Street | Bethlehem | PA | 18088
St. Luke's Hospital-Mayo Clinic | 4201 Belfort Road | Jacksonville | FL | 32216
St. Lukes Medical Center | 2900 West Oklahoma Avenue | Milwaukee | WI | 53215-4330
St. Luke's Medical Center | 1800 East Van Buren | Phoenix | AZ | 85006
St. Luke's Methodist Hospital | 1026 A Avenue, NE (PO Box 3026) | PO Box 3026 | IA | 52406-3026
St. Luke's-Roosevelt Hospital Center | 1111 Amsterdam Avenue | New York | NY | 10025
St. Marks Hospital/Northern Utah Healthcare Corp | 1200 East 3900 South | Salt Lake City | UT | 84124
St. Mary Hospital | 1201 Langhorne Newtown Road | Langhorne | PA | 19047
St. Mary Medical Center | 1050 Linden Avenue | Long Beach | CA | 90813-3321
St. Mary Medical Center | 1500 South Lake Park Avenue | Hobart | ID | 46342
St. Mary of Nazareth Hospital Center | 2233 W. Division | Chicago | IL | 60622
St. Mary's Health Center | 6420 Clayton Road | St. Louis | MO | 63117
St. Mary's Hospital | 1800 East Lake Shore Drive | Decatur | IL | 62521
St. Mary's Hospital | 707 S. Mills Street | Madison | WI | 53715-1849
St. Mary's Medical Center | 901 45th Street | West Palm Beach | FL | 33407
St. Mary's Medical Center | 407 East Third Street | Duluth | MN | 55805
St. Mary's Medical Center | 900 Oak Hill Avenue | Knoxville | TN | 37917-4556
St. Mary's Regional Medical Ctr | PO Box 291 Campus Avenue | Lewiston | ME | 04243-0291
St. Michael Hospital | WFH Clinical Data 5000 West Chambers, M229 | Milwaukee | WI | 53210
St. Nicholas Hospital | 3100 Superior Avenue | Sheboygan | WI | 53081
St. Patrick Hospital and Health Sciences Center | 500 W. Broadway | Missoula | MT | 59802
St. Rose Hospital | 27200 Calaroga Avenue | Hayward | CA | 94539
St. Tammany Parish Hospital | 1202 S. Tyler Street | Covington | LA | 70433
St. Vincent Charity Hospital | 2351 E. 22nd Street | Cleveland | OH | 44115
St. Vincent Healthcare | 1233 N. 30th Street | Billings | MT | 59101
St. Vincent Hospital |  |  |  |
St. Vincent Hospital | 810 St. Vincents Drive | Birmingham | AL | 35205
St. Vincent Hospital and Health Center | 8333 Naab Road, Suite 330 | Indianapolis | IN | 46260
St. Vincent Medical Center | 2131 W. 3rd Street | Los Angeles | CA | 90703
St. Vincent's Medical Center | 1800 Barrs Street | Jacksonville | FL | 32204
Stacia Hansen | 45 Reade Place | Poughkeepsie | NY | 12601
Stanford Hospital and Clinics | Falk Building 2nd Floor, 300 Pasteur Drive | Stanford | CA | 94305
Staten Island University Hospital | 475 Seaview Avenue | Staten Island | NY | 10305
Stony Brook University Center | Medical 3 Technology Drive | East Setauket | NY | 11733-4073
Stormont-Vail Regional Medical Center | 1500 SW 10th Avenue | Topeka | KS | 66604
Straub Clinic & Hospital: Cath Lab | 888 S. King Street—Makai, 2nd Floor #22 | Honolulu | HI | 96813
Stringfellow Memorial Hospital | 301 East 18th Street | Anniston | AL | 36202
Suburban Hospital | 8600 Old Georgetown Road | Bethesda | MD | 20814
Summerlin Hospital Medical Center | 657 Town Center Drive | Las Vegas | WI | 89144
Summit Medical Center | East Main & South 20th Street | Van Buren | AR | 72956
Sun Coast Hospital | 2025 Indian Rocks Road | Largo | FL | 33774
Sunrise Hospital and Medical Center | 3186 S. Maryland Parkway | Las Vegas | NV | 89109
Sutter Delta Medical Center | 3901 Lone Tree Way | Antioch | CA | 94509
Sutter Medical Center—Sacramento | PO Box 160727 | Sacramento | CA | 95819
Sutter Medical Center of Santa Rosa | 3325 Chanate Road | Santa Rosa | CA | 95404
Swedish American Hospital | 1401 E. State Street | Rockford | IL | 61104
Swedish Covenant Hospital | 5145 N. California Avenue | Chicago | IL | 60625
Swedish Heatlh Services | 747 Broadway | Seattle | WA | 98122
Swedish Medical Center | 501 East Hampden Avenue | Englewood | CO | 80113
T. J. Samson Community Hospital | 1301 North Race Street | Glasgow | KY | 42141
Tacoma General Hospital (Multicare Health System) | 315 Martin Luther King Jr. Way | Tacoma | WA | 98415
Tahlequah City Hospital | 1400 East Downing | Tahlequah | OK | 74465
Tallahassee Memorial Hospital | 1310 N. Magnolia Drive | Tallahassee | FL | 32308
Tampa General Hospital | PO Box 1289 | Tampa | FL | 33601
Temple University Hospital | 3401 North Broad Street | Philadelphia | PA | 19140
Terre Haute Regional Hospital | 3901 South 7th Street | Terre Haute | IN | 47802
Terrebonne General Medical Center | 8166 Main Street | Houma | LA | 70360
Texoma Medical Center | 1000 Memorial Drive | Denison | TX | 75020
TexsAn Heart Hospital | 6700 IH-10 West | San Antonio | TX | 78201
The Christ Hospital | 2139 Auburn Avenue | Cincinnati | OH | 45219
The George Washington University Hospital | 900 23rd Street, NW | Washington | DC | 20037
The Heart Hospital of Northwest Texas | 1501 S. Coulter Street | Amarillo | TX | 79106
The Hospital at Westlake Medical Center | 5656 Bee Caves Road, M-302 | Austin | TX | 78746
The Hospital of Central Connecticut | 100 Grand Street, PO Box 100 | New Britain | CT | 06050
The Indiana Heart Hospital | 8075 North Shadeland Avenue | Indianapolis | ID | 46250
The Medical Center (TMC) | 1000 Dutch Ridge Road | Beaver | PA | 15009
The Medical Center Of Southeast | 2555 Jimmy Johnson Boulevard | Port Arthur | TX | 77640
The Methodist DeBakey Heart Center | 6565 Fannin Street | Houston | TX | 77030
The Monroe Clinic | 515 22nd Avenue | Monroe | WI | 53566
The Mount Sinai Hospital of Queens | 25-11 30th Avenue | Long Island City | NY | 11102
The Mount Sinai Medical Center | Mt Sinai Medical Center | New York | NY | 10029
The Nebraska Medical Center | 987551 Nebraska Medical Center | Omaha | NE | 68198
The Outpatient Cath Lab—BRCC | 7777 Hennessy Boulevard, Suite 2007 | Baton Rouge | LA | 70808
The Outpatient Cath Lab—LCA | 7777 Hennessy Boulevard, Suite2007 | Baton Rouge | LA | 70808
The Reading Hospital and Medical Center | Sixth Avenue and Spruce Street West | Reading | PA | 19611
The Toledo Hospital | 2142 North Cove Boulevard | Toledo | OH | 43606
The Valley Hospital | 223 North Van Dien Avenue | Ridgewood | NJ | 07450
The Village Regional hospital | 1451 El Camino Real | The Villages | FL | 32159
The Western Pennsylvania Hospital | 4800 Friendship Avenue | Pittsburgh | PA | 15224
The Wisconsin Heart Hospital | WFH Clinical Data, 5000 West Chambers Street, M 229 | Milwaukee | WI | 53210
Thomas Jefferson University Hospital | 111 South 11th Street | Philadelphia | PA | 19107
Tift Regional Medical Center | PO Box 747 | Tifton | GA | 31794
Timpanogos Regional Hospital | 750 W. 800 N | Orem | UT | 84057
Tomball Regional Hospital | 605 Holderrieth Street | Tomball | TX | 77375
Torrance Memorial Medical Center | 3330 Lomita Boulevard | Torrance | CA | 90505
Touro Infirmary Medical Center | 1401 Foucher Street | New Orleans | LA | 70115
Tri-City Medical Center | 4002 Vista Way | Oceanside | CA | 92056
Trident Regional Medical Center | 9330 Medical Plaza Drive | Charleston | SC | 29406
Trinity Hospitals | PO Box 5020 | Minot | ND | 58702-5020
Trinity Medical Center | 800 Montclair Road | Birmingham | AL | 35213
Trinity Medical Center | 2701 17th Street | Rock Island | IL | 61201
Trinity Medical Center West | 4000 Johnson Road | Steubenville | OH | 43952
Trinity Regional Medical Center | 802 Kenyon Road | Fort Dodge | IA | 50501
Trinity Regional Medical Center | 4602 3rd Street | Moline | IL | 61265
Trover FoundationRegional Medical Center | 900 Hospital Drive | Madisonville | KY | 42431
Tucson Heart Hospital | 4888 North Stone Avenue | Tucson | AZ | 85704
Tucson Medical Center | 5301 E. Grant Road | Tucson | AZ | 85712
Tufts-New England Medical Center | 750 Washington Street | Boston | MA | 02111
Tulane University Hospital and Clinic | 1415 Tulane Avenue, HC-63 | New Orleans | LA | 70112
Tulare District Hospital | 869 Cherry Street | Tulare | CA | 93274
Tuomey Healthcare SystemTuomey Regional Medical Center | 129 N. Washington Street | Sumter | SC | 29150
Twelve Oaks Medical Center | 4200 Twelve Oaks Drive | Houston | TX | 77027
Twin Cities Community Hospital | 1100 Las Tablas Road | Templeton | CA | 93465
Twin Cities Hospital | 2190 Highway | 85 N Niceville | FL | 32578
UC San Diego Medical Center | 200 W. Arbor Drive | San Diego | CA | 92103
UMASS Memorial Medical Center | 55 Lake Ave North | Worcester | MA | 01655-0002
Union Hospital | 1606 N. 7th Street | TerreHaute | IN | 47804
Union Memorial Hospital | 201 E. University Parkway | Baltimore | MD | 21218-2891
United Health Services Hospitals/Wilson Regional Medical Center | 33—57 Harrison Street | Johnson City | NY | 13790
United Hospital | 333 Smith Avenue, | North Minneapolis | MN | 55102
United Hospital Center, Inc. | PO Box 1680 | Clarksburg | WV | 26302-1680
United Hospital System | 6308 8th Avenue | Kenosha | WI | 53143
United Regional Healthcare System | 1600 11th Street | Wichita Falls | TX | 76301
Unity Hospital | 550 Osbourne Road NE | Minneapolis | MN | 55432
Unity Hospital | 1555 Long Pond Road | Rochester | NY | 14626
University Community Hospital | 7171 North Dalemabry | Tampa | FL | 33614
University Hospital | 620 19th Street South | Birmingham | AL | 35249
University Hospital | 1350 Walton Way | Augusta | GA | 30901-2629
University Hospital | 234 Goodman Street | Cincinnati | OH | 45219
University Hospitals of Cleveland | 11100 Euclid Avenue | Cleveland | OH | 44106
University Hospital UMDNJ | 150 Bergen Street | Newark | NJ | 07101
University Medical Center | 1501 N. Campbell Avenue | Tucson | AZ | 85724
University Medical Center | 1411 Baddour Parkway | Lebanon | TN | 37087
University Medical Center | 602 Indiana Avenue | Lubbock | TX | 79410
University Medical Center of Las Vegas | 1800 W. Charleston Boulevard | Las Vegas | NV | 89102
University of Arkansas Medical Sciences Physician R | 4301 West Markham Street, Suite 532 | Little Rock | AR | 72205
University of California (UCLA) | 10833 Le Conte Avenue | Los Angeles | CA | 90095
University Of California Davis | 2315 Stockton Boulevard, Main Hospital, Room 6312 | Sacramento | CA | 95817
University of California San francisco Medical Cent | 513 Parnassus Avenue, Room S-1164-E | San Francisco | CA | 94143-0047
University of Chicago Hospitals | 5841 S. Maryland Avenue | Chicago | IL | 60637
University of Colorado Hospital Authority | 4200 East Ninth Street | Denver | CO | 80262
University of CT Health Center/John Dempsey Hospital | 263 Farmington Avenue | Farmington | CT | 06030
University of Florida (Shands) College of Medicine | 1600 SW Archer Road | Gainesville | FL | 32610
University of Illinois Medical Center at Chicago | 1740 W. Taylor Street, Building 949, Room 2181 | Chicago | IL | 60610
University of Iowa Hospitals and Clinics | 200 Hawkins Drive | Iowa City | IA | 52242
University of Kentucky | 800 Rose Street | Lexington | KY | 40536
University of Maryland Medical Center Cardiology | 22 S. Greene Street | Baltimore | MD | 21201-1544
University of Mississippi Medical Center | 2500 N. State Street | Jackson | MS | 39216
University of Missouri Hospital and Clinics | 1 Hospital Drive | Columbia | MO | 65212
University of North Carolina Hospitals | 101 Manning Drive | Chapel Hill | NC | 27514
University of Rochester Medical Center | 601 Elmwood Avenue | Rochester | NY | 4642
University of South Alabama Cardiology Dept. | 2451 Fillingim Street | Mobile | AL | 36617
University of Tennessee Medical Center | 1924 Alcoa Highway | Knoxville | TN | 37920-6999
University of Texas Medical Branchat Galveston | 301 University Boulevard | Galveston | TX | 77555-0294
University of Texas Southwestern-University Hospital | 5323 Harry Hines Boulevard | Dallas | TX | 75390-9013
University of Toledo Medical Center | 3065 Arlington Avenue—DH2261 | Toledo | OH | 43614
University of Utah Hospital and Clinic Division of | 50 North Medical Drive | Salt Lake City | UT | 84132
University of Virginia Medical Center | PO Box 800679 | Charlottesville | VA | 22908-0679
University of Washington Medical Center | 1959 NE Pacific Street | Seattle | WA | 98195-6422
University of Wisconsin Hospital & Clinics | 600 Highland Avenue | Madison | WI | 53792
UPMC Passavant Hospital | 9100 Babcock Boulevard | Pittsburgh | PA | 15237
UPMC Presbyterian Hospital | 200 Lothrop Street | Pittsburgh | PA | 15213
UPMC Shadyside Hospital | 5230 Centre Avenue | Pittsburgh | PA | 15232
Upstate Medical University(suny) | 750 East Adams Street | Syracuse | NY | 13120
USC University Hospital | 1500 San Pablo Street | Los Angeles | CA | 90033
Utah Valley Regional Medical Center | 1034 North 500 West | Provo | UT | 84604
Val Verde Regional Medical Center | 3600 Washington Street | Hollywood | FL | 33021
Val Verde Regional Medical Center | 801 Bedell Avenue | Del Rio | TX | 78840
Valley Baptist Medical Center | 2101 Pease Street | Harlingen | TX | 78550
Valley Baptist Medical Center-Brownsville | 1040 W. Jefferson Street | Brownsville | TX | 78540
Valley Care Medical Center | 1111 East Stanley Boulevard | Livermore | CA | 94550
Valley Hospital Medical Center | 620 Shadow Lane | Las Vegas | NV | 89106
Valley Medical Center | 400 South 43rd Street | Renton | WA | 98058
Valley Presbyterian Hospital | 15107 Vanowen Street | Van Nuys | CA | 91405
Valley Regional Medical Center | 100 Unit A East Alton Gloor Boulevard | Brownsville | TX | 78526
Vanderbilt University Accounts Payable Section | VU Station B-351810 | Nashville | TN | 37235
Vaughan Regional Medical Center | 1015 Medical Center Parkway | Selma | AL | 36701
VCU-Medical College Of Virginia | PO Box 980036 | Richmond | VA | 23298
Venice Regional Medical Center | 540 The Rialto | Venice | FL | 34285
Via Christi Regional Medical St. Joseph | 929 N. St Francis Street | Wichita | KS | 67214
Via Christi Wichita Health Network | 929 N. St. Francis Street | Wichita | KS | 67214
Virginia Hospital Center | 1701 N. George Mason Drive | Arlington | VA | 22205-3698
Virginia Mason Medical Center | 1100 Ninth Avenue—X3-CVL | Seattle | WA | 98111
W.A. Foote Memorial Hospital | 205 N. East Avenue | Jackson | MI | 49201
Wadley Regional Medical Center | 1000 Pine Street | Texarkana | TX | 75501
WakeMed Cary Hospital | 3128 Smoketree Boulevard | Raleigh | NC | 27518
WakeMed Raleigh Campus | 3000 New Bern Avenue | Raleigh | NC | 27610
Walker Regional Medical Center | 3400 Highway 78 E | Jasper | AL | 35501
Washington Adventist Hospital | 7600 Carroll Avenue | Takoma Park | MD | 20912
Washington County Hospital Wroth Memorial Library | 251 East Antietam Street | Hagerstown | MD | 21740
Washington Hospital | 2000-Mowry Avenue | Fremont | CA | 94538
Washington Hospital Center | 110 Irving Street, NW Room 5A14 | Washington | DC | 20010
Washington Regional Medical Center | 1125 N College Avenue | Fayetteville | AR | 72703-1994
Waterbury Hospital | PO Box 2153 | Waterbury | CT | 06722
Watsonville Community Hospital | 75 Nielson Street | Watsonville | CA | 95076
Waukesha Memorial Hospital | 725 American Avenue | Waukesha | WI | 53188
Weiss Memorial Hospital | 4646 N. Marine Drive | Chicago | IL | 60640
Wellmont Holston Valley Medical Center | 130 W. Ravine Street | Kingsport | TN | 37664
Wellstar Cobb Hospital | 531 Roselane Street | Marietta | GA | 30060
Wesley Medical Center | 550 N. Hillside Street | Wichita | KS | 67214
Wesley Medical Center | 5001 Hardy Street | Hattiesburg | MS | 39402
West Boca Medical Center | 21644 State Road 7 | Boca Raton | FL | 33428
West Florida Hospital | 8383 N. Davis Highway | Pensacola | FL | 32514
West Florida Hospital | 8383 N. Davis Highway | Pensacola | FL | 32514
West Hills Hospital | 7300 Medical Center Drive | West Hills | CA | 91307
West Houston Medical Center | 12141 Richmond Avenue | Houston | TX | 77082
West Jefferson Medical Center | 1101 Medical Center Boulevard | Marrero | LA | 70072
West Suburban Medical Center | 3 Erie Court | Oak Park | IL | 60302
West Texas Medical Center | 25 Village Circle | Midland | TX | 79701
West Virginia University Hospitals Inc | Box 8003—Medical Center Drive | Morgantown | WV | 26506-8003
Westchester County Medical Center | Valhalla Campus | Walhalla | NY | 10595
Western Arizona Reg Medical Center | 2735 Silver Creek Road | Bullhead City | AZ | 86442
Western Baptist Hospital | 2501 Kentucky Avenue | Paducah | KY | 42003
Western Medical Center Anaheim | 1025 South Anaheim Boulevard | Anaheim | CA | 92805
Western Medical Center Santa Ana | 1001 North Tustin Avenue | Santa Ana | CA | 92705
Western Plains Medical Center | 3001 Avenue A | Dodge City | KS | 67801
Westside Regional Medical Center | 8201 West Broward Boulevard | Plantation | FL | 33324
Wheaton Franciscan Healthcare—All Saints, Inc. | 3801 Spring Street | Racine | WI | 53405
Wheaton Franciscan Healthcare—St. Francis, Inc. | WFH Clinical Data, 5000 West Chambers Street, M229 | Milwaukee | WI | 53210
Wheaton Franciscan Healthcare—St. Joseph, Inc. | WFH Clinical Data, 5000 West Chambers Street, M229 | Milwaukee | WI | 53210
Wheeling Hospital | 1 Medical Park | Wheeling | WV | 26003
White County Medical Center | 3214 E. Race Avenue | Searcy | AR | 72143-4810
White Memorial Medical Center | 1720 Cesar Chavez Avenue | Los Angeles | CA | 90033
White River Medical Center | 1710 Harrison Street | Batesville | AR | 72501
William Beaumont Hospital | 3601 West Thirteen Mile Road | Royal Oak | MI | 48073
William Beaumont Hospital | 44201 Dequindre Road | Troy | MI | 48085
Willis-Knighton Medical Center | 2600 Greenwood Road | Shreveport | LA | 71103
Willis-Knighton Medical Center | 2600 Greenwood Road | Shreveport | LA | 71103
Wilson Memorial Hospital | 915 West Michigan Street | Sidney | OH | 45365
Wilson N. Jones Medical Center | 500 N. Highland Avenue | Sherman | TX | 75092
Winchester Medical Center, Inc. | 1840 Amherst Street | Winchester | VA | 22601
Winter Haven Hospital | 20005 Avenue F Northeast | Winter Haven | FL | 33881
Winthrop University Hospital | 259 First Street | Mineola | NY | 11501
Wishard Health Services Attn: A/P | 1001 W. 10th Street | Indianapolis | IN | 46202
Woman's Christian Assoc. Hospital | 207 Foote Avenue | Jamestown | NY | 14701
Woodland Heights Medical Center | 505 S. John Redditt Drive | Lufkin | TX | 75904
Wooster Community Hospital | 1761 Beall Avenue | Wooster | OH | 44691
Wuesthoff Health System | 110 Longwood Avenue | Rockledge | FL | 32956-5002
Wyckoff Heights Medical Center | 374 Stockholm Street | Brooklyn | NY | 11237
Wyoming Medical Center | 1233 East 2nd Street | Casper | WY | 82601-2988
Wyoming Valley Health Care System | 575 North River Street | Wilkes-Barre | PA | 18764
Yakima Regional Medical Center/Cardiac Center | 110 South Ninth Avenue | Yakima | WA | 98902
Yakima Valley Memorial Hospital | 2811 Tieton Drive | Yakima | WA | 98902
Yale New Haven Hospital | 20 York Street | New Haven | CT | 65104
Yavapai Regional Medical Center | 1003 Willow Creek Road | Prescott | AZ | 86301
York Hospital | 15 Hospital Drive | York | ME | 03909
York Hospital | 1001 South George Street | York | PA | 17405
Yuma Regional Medical Center | 2400 S. Avenue A | Yuma | AZ | 85364

Addendum X—Active CMS Coverage-Related Guidance Documents

[October Through December 2006]

On September 24, 2004, we published a notice in the Federal Register (69 FR 57325), in which we explained how we would develop coverage-related guidance documents. These guidance documents are required under section 731 of the MMA. In our notice, we committed to the public that, “At regular intervals, we will update a list of all guidance documents in the Federal Register.”

Addendum X includes a list of active CMS guidance documents as of the ending date of the period covered by this notice. To obtain full-text copies of these documents, visit the CMS Coverage Web site at http://www.cms.hhs.gov/mcd/index_list.asp?list_type=mcd_1.

Document Name: Factors CMS Considers in Commissioning External Technology Assessments.

Date of Issuance: April 11, 2006.

Document Name: Factors CMS Considers in Opening a National Coverage Determination.

Date of Issuance: April 11, 2006.

Document Name: (Draft) Factors CMS Considers in Referring Topics to the Medicare Coverage Advisory Committee.

Date of Issuance: March 9, 2005.

Document Name: National Coverage Determinations with Data Collection as a Condition of Coverage: Coverage With Evidence Development.

Date of Issuance: July 12, 2006.

Addendum XI—List of Special One-Time Notices Regarding National Coverage Provisions

[October Through December 2006]

As medical technologies, the contexts under which they are delivered, and the health needs of Medicare beneficiaries grow increasingly complex, our national coverage determination (NCD) process must adapt to accommodate these complexities. As part of this adaptation, our national coverage decisions often include multi-faceted coverage determinations, which may place conditions on the patient populations eligible for coverage of a particular item or service, the providers who deliver a particular service, or the methods in which data are collected to supplement the delivery of the item or service (such as participation in a clinical trial).

We outline these conditions as we release new or revised NCDs. However, details surrounding these conditions may need to be shared with the public as “one-time notices” in the Federal Register. For example, we may require that a particular medical service may be delivered only in the context of a CMS-recognized clinical research study, which was not named in the NCD itself. We would then use Addendum XI of this notice, along with our coverage Web site at http://www.cms.hhs.gov/coverage, to provide the public with information about the clinical research study that it ultimately recognizes.

Addendum XI includes any additional information we may need to share about the conditions under which an NCD was issued as of the ending date of the period covered by this notice.

There were no Special One-Time Notices Regarding National Coverage Provisions published this quarter.

Addendum XII—National Oncologic PET Registry (NOPR)

In January 2005, we issued our decision memorandum on positron emission tomography (PET) scans, which stated that CMS would cover PET scans for particular oncologic indications, as long as they were performed in the context of a clinical study. We have since recognized the National Oncologic PET Registry as one of these clinical studies. Therefore, in order for a beneficiary to receive a Medicare-covered PET scan, the beneficiary must receive the scan in a facility that participates in the Registry. The following facilities have met the CMS's requirements for performing PET scans under National Coverage Determination CAG-00181N.

Facility name | Provider No. | Date approved | State | Other
Barnes-Jewish Hospital, Barnes-Jewish Plaza/Mailstop #90-72-374, St. Louis, MO 63110 | o | 03/07/2006 | MO
Duke University Medical Center PET Facility, Room 0402 Duke So., Durham, NC 27710 | 34003 | 03/07/2006 | NC | Yellow Zone Box 3949.
VCU Health System—Molecular Imaging Center, Dept of Nuclear Medicine—North Hospital 7th Floor, Richmond, VA 23298 | 490032 | 03/07/2006 | VA | 1300 East Marshall, PO Box 980001.
Acadiana Oncologic Imaging, 2311 Kaliste Saloom, Lafayette, LA 70508 | 5CA64 | 03/06/2006 | LA
Adler Institute for Advanced Imaging, 261 Old York Road, Suite 106, Jenkintown, PA 19046 |  | 03/07/2006 | PA
Advanced Medical Imaging San Saba, 215 N San Saba, Suite 107, San Antonio, TX 78207 | 00BC90 | 03/07/2006 | TX
Advanced Medical Imaging Stone Oak, 540 Oak Centre, Suite 100, San Antonio, TX 78258 | 00BC90 | 03/07/2006 | TX
Advanced Radiological PET Imaging, PC, 2334 30th Avenue, Astoria, NY 11102 | 05677 | 03/07/2006 | NY
Akron Regional PET Scan, LLC, 3009 Smith Road, Suite 350, Akron, OH 44333 | AKID01691 | 03/07/2006 | OH
American Radiology Services—Owings Mills, 21 Crossroads Drive, Suite 100, Owings Mills, MD 21117 | 434L | 03/07/2006 | MD
American Radiology Services—Bethesda, 6430 Rockledge Drive, Suite 100, Bethesda, MD 20817 | G00000 | 03/07/2006 | MD
American Radiology Services—Waldorf, 3510 Old Washington Road, Suite 101, Waldorf, MD 20602 | 435L | 03/07/2006 | MD
American Radiology Services—Columbia, MD, 8820 Columbia Parkway 100, Columbia, MD 21045 | 434L | 03/07/2006 | MD
American Radiology Services—Frederick, MD, 141 Thomas Johnson Drive, Suite 170, Frederick, MD 21702 | 435L | 03/07/2006 | MD
American Radiology Services—Timonium, 2080 York Road, Suite 160, Timonium, MD 21093 | 434L | 03/07/2006 | MD
Angel Williamson Imaging Center—Ft. Walton Beach, 1013-D Mar-Walt Drive, Ft. Walton Beach, FL 32547 | 39953A | 03/07/2006 | FL
Angel Williamson Imaging Center—Pensacola, 5120 Bayou Boulevard, Suite 9, Pensacola, FL 32503 | 39953 | 03/07/2006 | FL
Edison Imaging Center, 3900 Park Avenue, Suite 107, Edison, NJ 08820 | AS008835 | 03/07/2006 | NJ
Avon Medical Diagnostic Center, 1480 Center Road, Suite C, Avon, OH 44011 | MC4039571 | 03/07/2006 | OH
Baltimore Imaging Centers, 3708 Mountain Road, Pasadena, MD 21122 | H476 | 03/07/2006 | MD
Baptist Hospital PET/CT, 1000 West Moreno Street, Pensacola, FL 32501 | 100093 | 03/07/2006 | FL
Bethesda Health City, 2623 S Seacrest Boulevard, Boynton Beach, FL 33435 | 40237 | 03/07/2006 | FL
PET/CT Imaging at White Marsh, 9900 Franklin Square Drive, Suite D, Nottingham, MD 21236 | FMNX01 | 03/07/2006 | MD
Biomedical Research Foundation PET Imaging Ctr., 1505 Kings Highway, Shreveport, LA 71103 | 5D914 | 03/07/2006 | LA
BodyScan of Louisville LLC, 807 Shelbyville Road, Suite 201, Louisville, KY 40222 | 9372701 | 03/07/2006 | KY
Bradley Regional PET Imaging, Cleveland, TN 37311, | 3373976 | 03/07/2006 | TN | 2305 Chambliss Avenue, NW.
PET Imaging Institute of NJ, 1608 Rte 88 West, Street 302, Brick, NJ 08724 | 070684 | 03/07/2006 | NJ
Broward PET Imaging Center, LLC, 4850 W. Oakland Park Boulevard, Suite A, Fort Lauderdale, FL 33313 | E5709 | 03/07/2006 | FL
Camelback Imaging, 15215 S 48th Street, #110, Phoenix, AZ 85044 | 100488 | 03/07/2006 | AZ
California Imaging and Treatment Center, 3000 Oak Road, #111, Walnut Creek, CA 95497 | ZZZ27175Z | 03/07/2006 | CA
Cancer Care Centers of Brevard, 1430 S Pine Street, Melbourne, FL 32901 | 39835 | 03/07/2006 | FL
Center for Medical Imaging—Florida Hospital, 1922 Salk Avenue, Tavares, FL 32778 | 100057 | 03/07/2006 | FL
Cancer Center of Colorado Springs, 320 E Fontanero, Suite 200, Colorado Springs, CO 80907 | 79804 | 03/07/2006 | CO
Centro Sononuclear de Rio Piedras, 1028 Los Angeles Street, San Juan, PR 00926 | 83910 | 03/07/2006 | PR
Chattanooga Imaging East, 1710 Gunbarrel Road, Chattanooga, TN 37421 | 3716643 | 03/07/2006 | TN
Chester County PET Associates, 701 East Chester Marshall Street, West Chester, PA 19380 | 085698 | 03/07/2006 | PA
Cincinnati PET Scan, LLC—Kenwood, 7730 Montgomery Road, Suite 120, Cincinnati, OH 45236 | 311754291 | 03/07/2006 | OH
Cincinnati PET Scan, LLC—Monfort Heights, 5575 Cheviot Road, Cincinnati, OH 45247 | 311754291 | 03/07/2006 | OH
Clinical PET of Hernando, 4003 Mariner Boulevard, Spring Hill, FL 34609 | L13228 | 03/07/2006 | FL
Clinical PET of Citrus, 6140 W Corporate Oaks Drive, Crystal River, FL 34429 | U0121 | 03/07/2006 | FL
Clinical PET of Lake City, 484 SW Commerce Drive, Suite 145, Lake City, FL 32025 | V2683 | 03/07/2006 | FL
Clinical PET of Ocala, 3143 SW 32nd Avenue, Suite 100, Ocala, FL 34474 | E7179 | 03/07/2006 | FL
Columbus Regional Hospital, 2400 East 17th Street, Columbus, IN 47201 | 150112 | 03/07/2006 | IN
Concord Imaging, 18802 Meisner Drive, San Antonio, TX 78258. | 00126Z | 03/07/2006 | TX
Dartmouth Hitchcock Medical Center, One Medical Center Drive, Lebanon, NH 03756 | 03/07/2006 |  | NH
Dedicated PET Imaging, 2315 Sunset Boulevard, Suite E, Steubenville, OH 43952 | 01181 | 03/07/2006 | OH
Diablo Valley Oncology & Hematology Med. Group, 3000 Oak Road, #111, Walnut Creek, CA 94597 | ZZZ26796Z | 03/07/2006 | CA
Diagnostic Imaging at Baywalk, 129 1st Avenue N, St. Petersburg, FL 33701 | 00022 | 03/07/2006 | FL
DMS Imaging, 2101 N University Drive, Fargo, ND 58109 |  | 03/07/2006 | ND | PO Box 8070.
Doylestown PET Associates, 599 W. State Street, Doylestown PA 18901 | 059536 | 03/07/2006 | PA | Suite 202.
East Bay Medical Oncology-Hematology Assoc. Inc., 3000 Oak Road, #111, Walnut Creek, CA 94597 | ZZZ267792 | 03/07/2006 | CA
East River Medical Imaging, 519 East 72 Street, Suite 103, New York, NY 10021 | W11781 | 03/07/2006 | NY
El Camino Imaging Center, 8020 Constitution Place NE, Albequerque, NM 87110 | 237150 | 03/07/2006 | NM
Elite Imaging LLC, 2845 Aventura Boulevard, Suite 145, Aventura, FL 33180 | K3535 | 03/07/2006 | FL
EPIC Imaging Center, 233 NE 102 Avenue, Portland, OR 97220 | 0000WCGNQ | 03/07/2006 | OR
Evergreen Radia, 11521 NE 128th Street, Kirkland, WA 98034 | GAB39931 | 03/07/2006 | WA
Excel Diagnostics Imaging Clinics, 9701 Richmond Avenue, Suite 122, Houston, TX 77042 | FTA109 | 03/07/2006 | TX
First Imaging of the Carolinas, 30 Memorial Drive, Pinehurst, NC 29374 | 2346997 | 03/07/2006 | NC
Florida Hospital Advanced Nuclear Imaging PET, 328 Spruce Street, Orlando, FL 32804 | 100007 | 03/07/2006 | FL
Fort Jesse Imaging Center LLC, 2200 Fort Jesse Road, Suite 120, Normal, IL 61761 | 209824 | 03/07/2006 | IL
Fox Chase Cancer Center, 333 Cotman Avenue, Philadelphia, PA 19111 | 390196 | 03/07/2006 | PA
Frederick Imaging Centers, 46B Thomas Johnson Drive, Frederick, MD 21702 | H476 | 03/07/2006 | MD
Fusion Diagnostic Group, LLC, 1700 California Street, Suite 260, San Francisco, CA 94109 | 00G366470 | 03/07/2006 | CA
Fusion Imaging Institute, 2419 E. Commercial Boulevard, Suite 101, Ft. Lauderdale, FL 33308 | 18281 | 03/07/2006 | FL
Future Diagnostics Group, 254 N. Republic, Joliet, IL 60435 | 200825 | 03/07/2006 | IL
Greater Niagra PET, LLC, 1 Columbia Drive, Suite 3, Niagra Falls, NY 14305 | BA0213 | 03/07/2006 | NY | Witmer Park Medical Center.
Hematology Oncology Associates of Baton Rouge, 4950 Essen Lane, Baton Rouge, LA 70809 | 5C696 | 03/07/2006 | LA
Gulf Coast Cancer & Diagnostic of Southeast, 12811 Beamer, Houston, TX 77089 | 149949301 | 03/07/2006 | TX
Henry Ford, Department of Radiology, 2799 W Grand Boulevard, Detroit, MI 48202 | 230053 | 03/07/2006 | MI
High Point Regional Health System, 601 N Elm Street, High Point, NC 27262 | 3400040 | 03/07/2006 | NC
Highlands Oncology Group, 3232 N. North Hills Boulevard, Fayetteville, AR 27203 | 5B823 | 03/07/2006 | AR
Holy Name Hospital, 718 Teaneck Road, Teaneck, NJ 07666 | 310008 | 03/07/2006 | NJ | PET/CT Center.
Holy Family Memorial Medical Center, PO Box 1450, Manitowoc, WI 54221 | 520107 | 03/07/2006 | WI | 2300 Western Avenue.
Hospital of Saint Raphael, 1450 Chapel Street, New Haven, CT 05611 | 070001 | 03/07/2006 | CT
San Patricio MRI & CT Center, 1508 Roosevelt Avenue, Suite 103, San Juan, PR 00920 | 84997 | 03/07/2006 | PR
Imaging Center of Hartford Hospital, 80 Seymour Street, PO Box 5037, Hartford, CT 06102 | 070025 | 03/07/2006 | CT
Indian Wells PET/CT Center, 74785 Highway 111, #101, Indian Wells, CA 92210 | 1264523891 | 03/07/2006 | CA
Imaging Technology Associates, 3800 Reservoir Road NW, Washington, DC 20007 | FDNCX1 | 03/07/2006 | DC | Gorman 2043, PET Scan.
San Francisco Magnetic Resonance Ctr., 1180 Post Street, San Francisco, CA 94109 | ZZZ27498Z | 03/07/2006 | CA
Intermountain Medical Imaging, 2929 E. Magic View Drive, Meridian, ID 83642 | 82-05144-22 | 03/07/2006 | ID
Jefferson Center City Imaging, 850 Walnut Street, Philadelphia, PA 19107 | 66277 | 03/07/2006 | PA
Kansas City Cancer Center—Kansas, 12200 W 110th Street, Overland Park, KS 66210 | 5650000D | 03/07/2006 | KS
Kansas City Cancer Center—Missouri, 4881 Goodview Circle, Lee's Summit, MO 66064 | 5650000E | 03/07/2006 | MO
LakePointe PET, 10914 Hefner Pointe Drive. Suite. 100, Oklahoma City, OK 73120 | 700522143 | 03/07/2006 | OK
Kreitchman PET Center, 180 Ft Washington Avenue, HP3-315, New York, NY 10032 | WEM661 | 03/07/2006 | NY
Lakeshore PET Imaging, LLC, 4932 W 95th Street, Oak Lawn, IL 60453 | 200108 | 03/07/2006 | IL
Larchmont Imaging Associates, LLC, 210 Ark Road, Mt. Laurel, NJ 8054 | 517216 | 03/07/2006 | NJ
Las Cruces PET/CT Imaging, 1121 Mall Drive, Suite D, Las Cruces, NM 88011 | 300521065 | 03/07/2006 | NM
Lehigh Valley Diagnostic Imaging Pet/CT, 1230 S. Cedar Crest Boulevard, Suite 104, Allentown, PA 18103 | 563802 | 03/07/2006 | PA
LifeScan Louisville, LLC, 4046 Dutchmans Lane, Louisville, KY 40207 | 9365601 | 03/07/2006 | KY
Limerick PET Associates, 420 W. Linfield-Trappe Road, Limerick, PA 19468 | 075015 | 03/07/2006 | PA | Suite 3400, Third Floor Rear.
LifeScan Minnesota, 6525 France Avenue S, Suite 225, Edina, MN 55435 | 470000014 | 03/07/2006 | MN
Louisiana PET Imaging of Alexandra, LLC, 5419 A Jackson Street Ext, Alexandria, LA 71303 | 5C743 | 03/07/2006 | LA
LMR PET, 12600 Creekside Lane, Ft. Meyers, FL 33919 | E5725 | 03/07/2006 | FL
Louisiana PET Imaging of Lake Charles, LLC, 1750 Ryan Street, Lake Charles, LA 70601 | 5C905 | 03/07/2006 | LA
Insight Diagnostic Center—Forest Lane, 11617 N Central Expressway, #132, Dallas, TX 75243 | FTA016 | 03/07/2006 | TX
MDI of Thousand Oaks, 300 Lombard Street, Thousand Oaks, CA 91360 | W14186 | 03/07/2006 | CA
Meadowbrook PET Associates, 1695 Huntington Pike, Meadowbrook, PA 19046 | 064866 | 03/08/2006 | PA
Medical Imaging of Baltimore, 6715 N Charles Street, Baltimore, MD 21204 | 258L | 03/08/2006 | MD
Metabolic Imaging of Laredo, 2344 Laguna Del Mar, Suite 5 & 6, Laredo, TX 78045 | FTN029 | 03/08/2006 | TX
Methodist Hospital PET Imaging Center, 301 W Huntington Drive, Suite 120, Arcadia, CA 91007 | 9511643336 | 03/08/2006 | CA
Metro Region PET Center at Chevy Chase, 5454 Wisconsin Avenue, Suite 810, Chevy Chase, MD 20815 | 724811 | 03/08/2006 | MD
Clinical PET of St. Charles County, 1475 Kisker Road, St. Charles, MO 63304 | 000047047 | 03/08/2006 | MO
Metro Region PET Ctr. at Woodburn Nuclear Med., 3289 Woodburn Road, Annandale, VA 22003 | 724811 | 03/08/2006 | VA
Michiana Hematology—Oncology, PC, 100 Navarre Place, Suite 5550, South Bend, IN 46601 | 216950 | 03/08/2006 | IN
Michigan State University—Radiology, 184 Radiology Building, East Lansing, MI 48824 | OC36350 | 03/08/2006 | MI
Clinical PET. of West County, 450 N New Ballas Road, Creve Coeur, MO 63141 | 000093043 | 03/08/2006 | MO
Modality Integration Services, Inc, 1854 SW Greenway Circle, West Linn, OR 97068 |  | 03/08/2006 | OR
Molecular Imaging Center, 1733 Curie, Suite 305, El Paso, TX 79912 | 00315U | 03/08/2006 | TX
Molecular Imaging of Suburban Chicago, LLC, 908 N. Elm Street, Suite 110, Hinsdale, IL 60521 | 212300 | 03/08/2006 | IL
Montclair Road Imaging LLC, 924 Montclair Road, Suite 108, Birmingham, AL 35213 | 000056277 | 03/08/2006 | AL
Montefiore Medical Center, 1695A Eastchester Road, Bronx, NY 10461 | W06552 | 03/08/2006 | NY
Neurodiagnostics, PSC, 1725 Harrodsburg Road, Suite 100, Lexington, KY 40504 | 0406 | 03/08/2006 | KY
New Century Imaging, 555 Kinderkamack Road, Oradel, NJ 07649 | 085146 | 03/08/2006 | NJ
Newport Diagnostic Center, 1605 Avocado Avenue, Newport Beach, CA 92660 | W13396 | 03/08/2006 | CA
Next Generation Radiology PET/CT, 560 Northern Boulevard, Suite 111, Great Neck, NY 11021 | WR6091 | 03/08/2006 | NY
North Valley MRI and CT, 1638 Esplanade, Chico, CA 95926 | ZZZ247802 | 03/08/2006 | CA
Northwest Alabama Cancer Ctr. Rad. Services, 302 W. Dr. Hicks Boulevard, Florence, AL 35630 | 051552219 | 03/08/2006 | AL
Northern Kentucky PET Scan, LLC, 651 Centre View Boulevard, Crestview Hills, KY 41017 | 311754291 | 03/08/2006 | KY
Northwest Cancer Center, 17323 Red Oak Drive, Houston, TX 77090 | 00D29C | 03/08/2006 | TX
Northwestern Memorial Hospital, 251 East Huron, Chicago, IL 60611 | 140281 | 03/08/2006 | IL | Galter 8-113.
Northern Shared Medical Services—Atlantic, IA, 1501 East Tenth Street, Atlantic, IA 50022 | I16068 | 03/08/2006 | IA | Cass County Memorial Hospital.
Northern Shared Medical Services—Audubon, IA, 515 Pacific Street, Audubon, Iowa 50025 | I16068 | 03/08/2006 | IA | Audubon County Memorial Hospital.
Northern Shared Medical Services—Beloit, KS, 400 West Eighth, Beloit, KS 67420 | 130618 | 03/10/2006 | KS | Mitchell County Hospital.
Northern Shared Medical Services—Bloomfield, IA, 507 North Madison Street, Bloomfield, IA 52537 | I16068 | 03/10/2006 | KS | Davis County Hospital.
Northern Shared Medical Services—Carrollton, MO, 1502 North Jefferson, Carrollton, MO 64633 | 000047013 | 03/10/2006 | MO | Carroll County Memorial Hospital.
Northern Shared Medical Services—Centerville, IA, 1st St Joseph Drive, Centerville, IA 52544 | I16068 | 03/10/2006 | IA | Mercy Medical Center.
Northern Shared Medical Services—Carthage, IL, 160 S. Adams Street, Carthage, IL 62321 | 208196 | 03/10/2006 | IL | Memorial Hospital.
Northern Shared Medical Services—Clarinda, IA, 823 S. 17th Street, Clarinda, IA 51632 | I16068 | 03/10/2006 | IA | Clarinda Regional Health Center.
Northern Shared Medical Services—Chanute, KS, 629 South Plummer, Chanute, KS 66720 | 130618 | 03/10/2006 | KS | Neosho Memorial Regional Medical Center.
Northern Shared Medical Services—Edwardsville, IL, 1121 University Drive, Edwardsville, IL 62025 | 208196 | 03/10/2006 | IL | Edwardsville Health Center.
Northern Shared Medical Services—El Dorado, AR, 700 West Grove Street, El Dorado, AR 71730 | 5F168 | 03/10/2006 | AR | Medical Center of South Arkansas.
Northern Shared Medical Services—Farmington, MO, 1212 Weber Road, Farmington, MO 63640 | 000047013 | 03/10/2006 | MO | Mineral Area Regional Medical Center.
Northern Shared Medical Services—Janesville, WI, 1321 Creston Park Drive, Janesville, WI 53545 | 000092420 | 03/10/2006 | WI | Janesville Occupational Health and Medicine.
Northern Shared Medical Services—Hiawatha, KS, 300 Utah Street, Hiawatha, KS 66434 | 130618 | 03/10/2006 | KS | Hiawatha Community Hospital.
Northern Shared Medical Services—Keokuk, IA, 1600 Morgan Street, Keokuk, IA 52632 | I16068 | 03/10/2006 | IA | Keokuk Area Hospital.
Northern Shared Medical Services—Macomb, IL, 525 East Grant Street, Macomb, IL 61455 | 208196 | 03/10/2006 | IL | McDonough District Hospital.
Northern Shared Medical Services—Mexico, MO, 620 East Monroe Street, Mexico, MO 65265 | 000047013 | 03/10/2006 | MO | Audrain Medical Center.
Northern Shared Medical Services—Moberly, MO, 1515 Union Avenue, Moberly, MO 65270 | 000047013 | 03/10/2006 | MO | Moberly Regional Medical Center.
Northern Shared Medical Services—Mountain Home, AR, 899 Burnett Drive, Mountain Home, AR 72653 | 5F168 | 03/10/2006 | AR | Cogburn Cancer Clinic.
Northern Shared Medical Services—Poplar Bluff, MO, 221 Physicians Park Drive, Poplar Bluff, MO 63901 | 000047013 | 03/10/2006 | MO | Poplar Bluff Medical Partners.
Northern Shared Medical Services—Perryville, MO, 434 North West Street, Perryville, MO 63775 | 000047013 | 03/10/2006 | MO | Perry County Memorial Hospital.
Northern Shared Medical Services—Rolla, MO, 1000 West Tenth Street, Rolla, MO 65401 | 000047013 | 03/10/2006 | MO | Phelps County Regional Medical Center.
Northern Shared Medical Services—Virginia, MN, 901 Ninth Street North, Virginia, MN 55792 | 470000057 | 03/10/2006 | MN | Virginia Regional Medical Center.
Northern Shared Medical Services—Russellville, AR, 2504 West Main Street, Russellville, AR 72801 | 5F168 | 03/10/2006 | AR | Russellville Land Co.
Northern Shared Medical Services—West Plains, MO, 1100 Kentucky Avenue, West Plains, MO 65775 | 000047013 | 03/10/2006 | MO | Ozarks Medical Center.
Oakwood Hospital Medical Center, 18101 Oakwood Boulevard, Dearborn, MI 48124 | 230020 | 03/10/2006 | MI
Oakwood Southshore Medical Center, 5450 Fort Street, Trenton, MI 48183 | 230176 | 03/10/2006 | MI
Ocean Medical Imaging Center, 21 Stockton Drive, Toms River, NJ 08755 | 158432 | 03/10/2006 | NJ
Orange County Regional PET Center, LLC, 16300 Sand Canyon Avenue, Suite 103, Irvine, CA 92618 | TP018 | 03/10/2006 | CA
Orange Advanced Imaging Center, 230 Main Street, #101, Orange, CA 92868 | TP016A | 03/10/2006 | CA
Pacific Coast Imaging—Irvine, 250 E Yale Loop, Suite A, Irvine, CA 92604 | WG87478B | 03/10/2006 | CA
Pacific Coast Imaging—Newport, 3300 West Coast Highway, Newport Beach, CA 92663 | WG87478 | 03/10/2006 | CA
Pacific Imaging and Treatment Center, 5395 Ruffin Road, Suite 202, San Diego, CA 92123 | TP126 | 03/10/2006 | CA
Palm Beach Cancer Institute, 1395 State Road 7, Suite 310, Wellington, FL 33414 | 34754 | 03/10/2006 | FL
Pennsylvania PET Associates, 800 Spruce Street, Philadelphia, PA 19107 | 066282 | 03/10/2006 | PA | Second Floor Widener Building.
PET Center of Western NY, 127 North Street, Batavia, NY 14020 | 187140 | 03/10/2006 | NY
Pet Imaging at CDR, 7600 N 15th Street, Suite 102, Phoenix, AZ 85020 | WCFDG | 03/10/2006 | AZ
PET Imaging at the Lake, 5000 Hennessy Boulevard, Baton Rouge, LA 70809 | 5C868 | 03/10/2006 | LA
PET Imaging Center at Harford County, 602 S Atwood Road, Suite 201, Bel Air, MD 21014 | FMN006 | 03/10/2006 | MD
PET Imaging Institute of South Florida—East, 1150 N 35th Avenue, 665, Hollywood, FL 33021 | E3783 | 03/10/2006 | FL
PET Imaging Institute of South Florida—West, 603 N Flamingo Road, S-155, Pembroke Pines, FL 33028 | E3783 | 03/10/2006 | FL
PET Scan Arizona—Peoria, 13460 N 94th Drive, Suite J1, Peoria, AZ 85381 | 75400 | 03/10/2006 | AZ
PET Scan Arizona—Phoenix, 6036 N 19th Avenue, Suite 305, Phoenix, AZ 85015 | 66860 | 03/10/2006 | AZ
PET/CT Diagnostic Medical Imaging, PC, 1200 Waters Place, Suite M108, Bronx, NY 10461 | W31091 | 03/10/2006 | NY
Precision Imaging, 4416 East West Highway, Suite 410, Bethesda, MD 20814 | FMN005 | 03/10/2006 | MD
Preferred PET Imaging of Kansas, LLC, 928 N St. Francis, Wichita, KS 67214 | 110693 | 03/10/2006 | KS
Premium Diagnostics Center, 5319 Hoag Drive, Suite 130, Elyria, OH 44035 | ID01851 | 03/10/2006 | OH
PET Center Ft. Worth, 800 W. Magnolia Avenue, Fort Worth, TX 76104 | 0J062 | 03/10/2006 | TX | Suite 100.
Radiology Associates, LLP, 6001 S. Staples, Corpus Christi, TX 78413 | 00E816 | 03/10/2006 | TX
S. Arlington Imaging Center, 4601 Matlock Road, Arlington, TX 76018 | 0J062 | 03/10/2006 | TX
Radiology Group Imaging Center, LLC, 1970 E 53rd Street, Davenport, IA 52807 | 16031 | 03/10/2006 | IA
PET/CT Scan Center Pembroke, 11325 Pembroke Square, Suite 116, Waldorf, MD 20603 | 521454775 | 03/10/2006 | MD
New York MedScan, 751 Second Avenue, New York, NY 10017 | 978701 | 03/10/2006 | NY
Rex Healthcare, 4420 Lake Boone Trail, Raleigh, NC 27607 | 340114 | 03/10/2006 | NC
San Fernando Regional PET Center, 6855 Noble Avenue, Van Nuys, CA 91405 | TP078 | 03/10/2006 | CA
PET/CT Imaging Center of Northwest Florida, 5149 North 9th Avenue, Suite 124, Pensacola, FL 32504 | U4696 | 03/10/2006 | FL
Saint Joseph's Hospital—Nuclear Medicine, 611 St. Joseph Avenue, Marshfield, WI 54449 | 520037 | 03/10/2006 | WI
Shared PET Imaging, LLC—Brooklyn NY, 6300 Eight Avenue, Brooklyn, NY 11220 | 97Z661 | 03/10/2006 | NY
SC Cancer Specialists, 25 Hospital Center Boulevard #301, Hilton Head Island, SC 29926 | 1285633289 | 03/10/2006 | SC
Shared PET Imaging, LLC—Granger IN, 6901 N Main Street, Granger, IN 46530 | 232800 | 03/10/2006 | IN
University Hospital—Cincinnati, Eden Ave & Albert Sabin Way, Cincinnati, OH 45219 |  | 03/10/2006 | OH
Shared PET Imaging, LLC—Marion OH, 1050 Delaware Avenue, Marion, OH 43302 | ID01511 | 03/10/2006 | OH
Shared PET Imaging, LLC—Terre Haute IN, 3702 South Fourth Street, Terre Haute, IN 47802 | 201320 | 03/10/2006 | IN
South Jersey Radiology Associates, PA, 100 Carnie Boulevard, Suite B5, Voorhees, NJ 08043 | S0429966 | 03/10/2006 | NJ
Southwest PET/CT Institute—Tucson, 3503 N. Campbell, Suite 155, Tucson, AZ 85719 | 1396736922 | 03/10/2006 | AZ
Southwest PET/CT Institute—Yuma, 1951 W. 25th Street, Suite G, Yuma, AZ 85364 | 106077 | 03/10/2006 | AZ
St. Francis Health Center, 1700 SW 7th Street, Topeka, KS 66606 | 17-0016 | 03/10/2006 | KS
Southwoods PET Scan LLC, 250 Debartolo Place, Building B, Youngstown, OH 44512 | PCN05210036 | 03/10/2006 | OH
St. Louis PET Centers, LLC, 12637 Olive Boulevard, Creve Coeur, MO 63376 | 1861470734 | 03/10/2006 | MO
St. Vincent's PET Center, LLC, 2660 10th Avenue S, POBI Suite 104, Birmingham, AL 35205 | 051555054 | 03/10/2006 | AL
Sun Molecular Imaging—Peoria, 13090 N 94th Drive, #103, Peoria, AZ 85381 | 71585 | 03/10/2006 | AZ
Sun Molecular Imaging—Sun City West, 13909 W Camino Del Sol, #101, Sun City West, AZ 85375 | 71585 | 03/10/2006 | AZ
Tarzana Advanced Imaging, 5536 Reseda Boulevard, Tarzana, CA 91356 | TP051A | 03/10/2006 | CA
The Methodist Hospital PET Center, 6565 Fannin Street, MBI—066, Houston, TX 77030 | 450358 | 03/10/2006 | TX
Texarkana PET Imaging Institute, LP, 1929 Moores Lane, Texarkana, TX 75503 | FTN008 | 03/10/2006 | TX
The PET/CT Center of North Florida, 5742 Booth Road, Jacksonville, FL 32207 | K7038P | 03/10/2006 | FL
The Washington Hospital, 155 Wilson Ave, Washington, PA 15301 | 390042 | 03/10/2006 | PA
The PET/CT Scanning Center, 235 18th Street, SE, Hickory, NC 28602 | 2881788 | 03/10/2006 | NC
Thompson Cancer Survival Ctr. PET Imaging Center, 9711 Sherrill Boulevard, Knoxville, TN 37923 | 3791106 | 03/10/2006 | TN
Thunderbird MRI and PET Center, 6591 W. Thunderbird Road, Suite A-1, Glendale, AZ 85306 | 79467 | 03/10/2006 | AZ
Tower Imaging Roxsan, 465 N Roxbury Drive, Suite 101, Beverly Hills, CA 90210 | TP114 | 03/10/2006 | CA
Tower Hematology Oncology Medical Group, 9090 Wilshire Boulevard, Suite 200, Beverly Hills, CA 90211 | W11793 | 03/10/2006 | CA
TRA Medical Imaging, 2202 S Cedar, Suite 200, Tacoma, WA 98405 | 001055600 | 03/10/2006 | WA
Trident PET of Fayette, 1275 Highway 54 West, Suite 102, Fayetteville, GA 30214 | 47BBBJJ | 03/10/2006 | GA
Trident PET of Gwinnett, 545 Old Norcross Road, Lawrenceville, GA 30045 | 47BBBGX | 03/10/2006 | GA | Suite 200.
Trident PET of Savannah, 7135 Hodgson Memorial Drive, Savannah, GA 31406 | 47BBBKP | 03/10/2006 | GA | Suite 10A.
Tristan Associates, 4520 Union Deposit Road, Harrisburg, PA 17111 | 112344 | 03/10/2006 | PA
Union Square Diagnostic Imaging, 144 Fourth Avenue, New York, NY 10003 | WR7502 | 03/10/2006 | NY
UCLA—Dept. of Molecular & Medical Pharmacology, 10833 Le Conte Avenue, Los Angeles, CA 90095 | HW13029 | 03/10/2006 | CA | AR-115-CHS.
UCLA—Dept. of Molecular & Medical Pharmacology, 10833 Le Conte Avenue, Los Angeles, CA 90095 | HW13029 | 03/10/2006 | CA | AR-115-CHS.
University Nuclear Medicine, Inc, 105 Parker Hall, Buffalo, NY 14214 | 14414A | 03/10/2006 | NY | 3435 Main Street.
University Radiology Group, 75 Veronica Avenue, Suite 102, Somerset, NJ 08873 | 425699 | 03/10/2006 | NJ
Anne Arundel Medical Center, 2001 Medical Parkway, Annapolis, MD 21401 | 210023 | 03/10/2006 | MD
US Imaging Center Corp. LLC, 842 Sunset Lake Boulevard, Suite 301, Venice, FL 34292 | U0331 | 03/10/2006 | FL
USC PET Imaging Science Center, 1510 San Pablo Street, Suite 350, Los Angeles, CA 90033 | W11874 | 03/10/2006 | CA
Rolling Oaks Radiology, 415 Rolling Oak Drive, Suite 160, Thousand Oaks, CA 91361 | W10746 | 03/10/2006 | CA
Vero Radiology Associates, Inc, 777 37th Street, Suite A-103, Vero Beach, FL 32960 | 97445 | 03/10/2006 | FL
Ventura Coast Imaging Center, 4601 Telephone Road, Suite 101, Ventura, CA 93003 | W11335 | 03/10/2006 | CA
Washington Imaging Services, LLC, 1135—116th Avenue, NE, Bellevue, WA 98004 | GAB23386 | 03/10/2006 | WA
Washington Hospital Center, 110 Irving Street, NW, Washington, DC 20010 | 090011 | 03/10/2006 | DC
Washoe Med Imaging Services at 75 Kirman, 75 Kirman Avenue, Reno, NV 89502 | WCHBB | 03/10/2006 | NV
Wesley Long Hospital—Moses Cone Health System, 501 North Elam Avenue, Greensboro, NC 27403 | 34-0091 | 03/10/2006 | NC
Westcoast Radiology, 36463 US Highway, 19 N., Palm Harbor, FL 34684 | E4187 | 03/10/2006 | FL
Western Washington Oncology, 4525 3RD Avenue SE, Lacey, WA 98503 | 1497749642 | 03/10/2006 | WA
Windber Medical Center, 600 Somerset Avenue, Windber, PA 15963 | 390112 | 03/10/2006 | PA
Wyoming Valley PET Associates, 190 Welles Street, Forty Fort, PA 18704 | 045012 | 03/10/2006 | PA
Youngstown Regional PET Scan, 850 McKay Court, Youngstown, OH 44512 | Y0ID0174 | 03/10/2006 | OH
X-RAY Associates at Santa Fe, 490 A West Zia Road, Suite 130, Santa Fe, NM 87505 | 2258263 | 03/10/2006 | NM
Sibley Memorial Hospital, 5255 Loughboro Road, NW, Washington, DC 20016 | 090005 | 03/10/2006 | DC
Lerman Diagnostic Imaging, 6511 Fort Hamilton Parkway, Brooklyn, NY 11215 | 16H771 | 03/10/2006 | NY
XRC Medical Imaging, 53940 Carmichael Drive, South Bend, IN 46635 | 187390 | 03/10/2006 | IN
St. Luke's Hospital, 1026 A. Avenue N.E., Cedar Rapids, IA 52406-3026 | 160045 | 03/10/2006 | IA | PO Box 3026.
University Imaging at Science Park, 110 Science Parkway, Suite 100, Rochester, NY 14620 | 16624A | 03/10/2006 | NY
Kadlec Medical Center/Nuclear Medicine Dept., 945 Goethals Street, Richland, WA 99352 | 1972507580 | 03/10/2006 | WA
Central Georgia P.E.T., LLC, 1650 Hardmon, Macon, GA 31201 | 47BBBKC | 03/10/2006 | GA
PET/CT Imaging at Swedish Cancer Institute, 1221 Madison Street, First Floor, Seattle, WA 98104 | 8857387 | 03/10/2006 | WA
National P.E.T. Scan Duval, LLC, 425 North Lee Street, Jacksonville, FL 32204 | E7348 | 03/10/2006 | FL
National P.E.T. Scan Pinellas, LLC, 805 Executive Center Drive W, St. Petersburg, FL 33702 | E7503 | 03/10/2006 | FL
National P.E.T. Scan Dade, LLC, 7867 North Kendall Drive, Suite 121, Miami, FL 33156 | E5427 | 03/10/2006 | FL
National P.E.T. Scan Broward, LLC, 6290 North Federal Highway, Fort Lauderdale, FL 33308 | E5432 | 03/10/2006 | FL
Scottsdale Medical Imaging, Ltd., 7624 E. Indian School Road, Suite 109-1, Scottsdale, AZ 85251 | WCFKX | 03/10/2006 | AZ
Lakes Regional General Hospital, 80 Highland Street, Laconia, NH 03246 | 300005 | 03/10/2006 | NH
Northern California PET Imaging Center, 3195 Folsom Boulevard, Sacramento, CA 95816 | ZZZ15725Z | 03/10/2006 | CA
Northern California PET Imaging Center—Mobile, 3195 Folsom Boulevard, Sacramento, CA 95816 | ZZZ25157Z | 03/10/2006 | CA
Northern California PET Imaging Center—VAPA, 3801 Miranda Avenue NA, Palo Alto, CA 94304 | ZZZ21308Z | 03/10/2006 | CA
Advanced Medical Imaging, 3548 Route 9 South, Old Bridge, NJ 08857 | 595865 | 03/10/2006 | NJ
St. Vincent Infirmary Medical Center, PET/CT Center, 2 St. Vincent Circle, Little Rock, AR 72205-5499 | 04-0007 | 03/10/2006 | AR
Lincoln Trail Diagnostics, 1111 Woodland Drive, Elizabethtown, KY 42701 | 470001408 | 03/10/2006 | KY
LifeScan Imaging, 607 Clifty Street, Somerset, NJ 42503 | 7614 | 03/10/2006 | NJ
St. John's Hos., Springfield Nuclear Medicine, 1235 E. Cherokee, Springfield, MO 65804 | 26-0065 | 03/10/2006 | MO
City of Hope, 1500 E. Duarte Road, Duarte, CA 91010 | 050146 | 03/10/2006 | CA | Dept. of Nuclear Medicine.
Hackettstown Regional Medical Center, 651 Willow Grove Street, Hackettstown, NJ 07840 | 310115 | 03/10/2006 | NJ
Imaging Alliance—Nashville PET, LLC, 52 White Bridge Road, Nashville, TN 37205 | 3791068 | 03/10/2006 | TN
Molecular Imaging of Bradenton, 2301 60th St. Court West, Suite A, Bradenton, FL 34209 | U1334 | 03/10/2006 | FL
Molecular Imaging of Charlotte County, 4130 Tamiami Trail, Port Charlotte, FL 33952 | U1934 | 03/10/2006 | FL
Imaging For Life, 3830 Bee Ridge Road, Suite A, Sarasota, FL 34233 | E6704 | 03/10/2006 | FL
Seattle Nuclear Medicine/Ultrasound Associates, 1229 Madison Street, Suite 1050, Seattle, WA 98104 | G000158400 | 03/10/2006 | WA
Columbus Circle Imaging, 1790 Broadway, 9th Floor, Yonkers, NY 10704 | W00691 | 03/10/2006 | NY
Bryn Mawr Imaging Center—PET, 100 Lancaster Avenue, Wynnewood, PA 19096 | 473120 | 03/10/2006 | PA
Beth Israel Deaconess Medical Center, 330 Brookline Avenue, Boston, MA 02215 | 220086 | 03/10/2006 | MA
Boca Raton Community Hospital, 800 Meadows Road, Boca Raton, FL 33486 | 100168 | 03/10/2006 | FL
Centro Tomograficio de PR, Inc., 1409 Ashford Avenue, San Juan, PR 00907 | 0087834 | 03/10/2006 | PR
Comprehensive Cancer Centers of Nevada, 3730 S. Easton, Las Vegas, NV 89109 | WCHCX | 03/10/2006 | NV
Grossman Imaging Center of CMH, 2151 E. Gonzales, Suite 101, Oxnard, CA 93036 | W17252 | 03/10/2006 | CA
Cookeville Regional Medical Center, 142 W 5th Street, Cookeville, TN 38501 | 440059 | 03/10/2006 | TN
Instituto Central de Diagnostico, Inc., 1 er. Floor Oncologic Hospital, San Juan, PR 00928 | 007835 | 03/10/2006 | PR | PR Medical Center.
Mercy Medical Center—Cedar Rapids, 701 Tenth Street SE, Cedar Rapids, IA 52403 | 16-0079 | 03/10/2006 | IA
Midwest Radiologic Imaging—1144217241, 4087 Gateway Boulevard, Newburgh, IN 47630 | 1144217241 | 03/10/2006 | IN
Miami Valley Hospital, 1 Wyoming Street, Dayton, OH 45409 | 360051 | 03/10/2006 | OH
Midwest Radiologic Imaging—214790, 4087 Gateway Boulevard, Newburgh, IN 47630 | 214790 | 03/10/2006 | IN
Midwest Regional PET/CT Center, 6001 S. Sharon Avenue, Suite #2, Sioux Falls, SD 57108 | 41406 | 03/10/2006 | SD
Mission Hospital, PET Center, 222 Asheland Avenue, Asheville, NC 28801 | 3400002 | 03/10/2006 | NC
Mobile Molecular Imaging, LLC, 100 Memorial Hospital Drive, Suite 1E, Mobile, AL 36608 | 1003804345 | 03/10/2006 | AL
Nebraska Health Imaging, 7819 Dodge, Omaha, NE 68114 | 098975 | 03/13/2006 | NE
Montgomery Metabolic & Memory Imaging Center, 7100 University Center, Montgomery, AL 36117 | 057554625 | 03/13/2006 | AL
Orange County Diagnostic Rad., Inc, 17150 Euclid Street, Suite 101, Fountain Valley, CA 92708 | TD057 | 03/13/2006 | CA
Northwest PET Imaging, 265 N. Broadway, Portland, OR 97227 | 105512 | 03/13/2006 | OR
Nevada Cancer Institute Medical Group, One Breakthrough Way, 10441 W. Twain Avenue, Las Vegas, NV 89135 | 100505 | 03/13/2006 | NV
Positron Emission Tomography Institute at Hampton, 5357 Henneman Drive, Norfolk, VA 23513 | FVN001 | 03/13/2006 | VA
Positron Imaging Facility, 1311 Record Crossing Road, Mail Code 9140, Dallas, TX 75235 | UT000F626 | 03/13/2006 | TX
Premier Diagnostic Imaging, 10019 Forest Gren Boulevard, Louisville, KY 40299 | 9375201 | 03/13/2006 | KY
Positron PET/CT of the Southern Tier, 169 Riverside Drive, Binghamton, NY 13905 | AA1047 | 03/13/2006 | NY
Radiology Regional Center, PA, Inc—Naples, 700 Goodlette Road, Naples, FL 34102 | 77185 | 03/13/2006 | FL
Somascan Plaza, Inc., Suite 405 Torre de Plaza, Plaza Las Americas, San Juan, PR 00917 | 0089178 | 03/13/2006 | PR
Somascan, Inc, Jose Marti #56, San Juan, PR 00917 | 0082435 | 03/13/2006 | PR
Southern Indiana Radiological Associates, 500 Landmark Avenue, Bloomington, IN 47403 | 214160 | 03/13/2006 | IN
Southern Illinois Cancer Center, 10286 Fleming Road, Carterville, IL 62918 | 643740 | 03/13/2006 | IL
South Nassau PET, One Healthy Way, Oceanside, NY 11572 | 97z851 | 03/13/2003 | NY
Southwest Diagnostic Center for Molecular Imaging, 8440 Walnut Hill Lane, Suite 100, Dallas, TX 75231 | FTN-015 | 03/13/2006 | TX
St. Mary's Health Systems, 900 E. Oakhill Avenue, Knoxville, TN 37917 | 440120 | 03/13/2006 | TN
Tower Diagnostic Center, 4719 N. Habana Avenue, Tampa, FL 33614 | 00169 | 03/13/2003 | FL
Torrance Morial Medical Center, 3330 Lomita Boulevard, Torrance, CA 90505 | 050351 | 03/13/2006 | CA
University of Colorado Hospital (AOP), 1635 N Ursula Street, Aurora, CO 80045 | 06-0024 | 03/13/2006 | CO
William Beaumont Hospital—Royal Oak, 3601 West 13 Mile Road, Royal Oak, MI 48073-6769 | 23030 | 03/13/2006 | MI
Esther Quijoy Catalya, M.D., 3000 Oak Road #111, Walnut Creek, CA 94597 | 00A449120 | 03/13/2006 | CA
Valley PET Institute, 311 S. Ham Lane, Lodi, CA 95242 | 00C283720 | 03/13/2006 | CA
Dan Ben-Zeev, M.D., 3000 Oak Road #111, Walnut Creek, CA 94597 | 00G129831 | 03/13/2006 | CA
Midwest Center for Advanced Imaging, 1307 Macom Drive., Naperville, IL 60564 | L72461 | 03/13/2006 | IL
Crittenton Hospital Medical Center, 1101 W University Drive, Rochester, MI 48307 | 230054 | 03/13/2006 | MI
Medical Specialists of Palm Beaches, Inc, 5700 Lake Worth Road, Suite 204, Lake Worth, FL 33463 | 33941A | 03/13/2006 | FL
PET Medical Imaging Center, 3264 North Evergreen Drive, Grand Rapids, MI 49525 | 0P02650 | 03/13/2006 | MI
Radiology Regional Center, P.A., Inc.—RPET, 6100 Winkler Road Suite A, Fort Myers, FL 33919 | 77185 | 03/13/2006 | FL
Good Samaritan Hospital, 520 S 7th Street, Vincennes, IN 47591 | 150042 | 03/13/2006 | IN
Central Indiana Cancer Center, 6845 Rama Drive, Indianapolis, IN 46219 | 065910 | 03/13/2006 | IN
Decatur PET Imaging, 2774 W Decatur Road, Decatur, GA 30033 | 47BBBLP | 03/13/2006 | GA
Community Memorial Hospital, Medical Imaging, 855 S Main Street, Oconto Falls, WI 54154 | 00439MPN | 03/13/2006 | WI
Olympic Radiology, 2700 Clare Avenue, Bremerton, WA 98310 | 000242100 | 03/13/2006 | WA
Capitol Imaging, 3161 L Street, Sacramento, CA 95816 | 1285615294 | 03/13/2006 | CA
National Medical Imaging—Bryn Mawr, 574 W Lancaster Avenue, Bryn Mawr, PA 19010 | 024513 | 03/13/2006 | PA
National Medical Imaging—Langhorne, 2 Doublewoods Road, Suite B, Langhorne, PA 19047 | 024513 | 03/13/2006 | PA
National Medical Imaging—Philadelphia, 1903-05 South Broad Street, Philadelphia, PA 19148 | 024513 | 03/13/2006 | PA
University of VA Health System, Radiology, 1215 Lee Street, Charlottesville, VA 22908 | 490009 | 03/13/2006 | VA
Florida Institute for Advanced Diagnostic Imaging, 9238 US 19, Port Richey, FL 34668 | 59-3475930 | 03/13/2006 | FL
Roseville PET & Nuclear Medicine Imaging, 2241 Douglas Boulevard #110, Roseville, CA 95661 | 1194706689 | 03/13/2006 | CA
Memorial Sloan Kettering Cancer Center, 1275 York Avenue, New York, NY 10021 | 330154 | 03/13/2006 | NY
Northeast PET Imaging Center, 8400 Roosevelt Boulevard, Suite 208, Philadelphia, PA 19152 | 083723 | 03/13/2006 | PA | Medical Arts Center at Parte Ridge.
UAMS PET Center, 4301 West Markham, Little Rock, AR 72205 | 50528 | 03/13/2006 | AR
Joliet Oncology—Hematology Assoc., LTD, 1600 W Route 6, Morris, IL 60450 | 205474 | 03/13/2006 | IL
Saint Luke's Hospital, 4323 Wornall Road, Kansas City, MO 64111 | 26-0138 | 03/13/2006 | MO | AH Peet Center.
Mercy Medical Center, 1320 Mercy Drive, Canton, OH 44708 | 360070 | 03/13/2006 | OH
Dayton Medical Imaging Center, 7901 Schatz Pointe Drive, Dayton, OH 45459 | US1D00231 | 03/13/2006 | OH
Community Radiology of Virginia, 2000 Leatherwood Lane, Bluefield, VA 24605 | FVA002 | 03/13/2006 | VA
Bab Radiology—Huntington, 75 East Main Street, Huntington, NY 11743 | W1L612 | 03/13/2006 | NY
Bab Radiology—Hauppauge, 521 Route 111, Suite 312, Hauppauge, NY 11788 | W1L601 | 03/13/2006 | NY
Center for Diagnostic Imaging—37, 5775 Wayzata Boulevard #190, St. Louis Park, MN 55416 | 470000037 | 03/13/2006 | MN
Center for Diagnostic Imaging, 5775 Wayzata Boulevard, Suite 190, St Louis Park, MO 55416 | C01307 | 03/13/2006 | MO
Center for Diagnostic Imaging—Mendota Heights, 910 Sibley Memorial Highway, Mendota Heights, MN 55118 | 470000038 | 03/13/2006 | MN
Huntsville Hospital Imaging Center, 1963 Memorial Parkway, Huntsville, AL 35801 | 010039 | 03/13/2006 | AL
Long Beach PET Imaging Center, 2888 Long Beach Boulevard, Suite 110, Long Beach, CA 90806 | TG167 | 03/13/2006 | CA
Highway Imaging Associates, LLP, 2095 Flatbush Avenue, Brooklyn, NY 11234 | W10671 | 03/13/2006 | NY
St Vincent Hospital, PO Box 13508, Green Bay, WI 54307 | 520075 | 03/13/2006 | WI
Park South Imaging Center, 6215 21st Avenue West #A, Bradenton, FL 34209 | E1858 | 03/13/2006 | FL
Mary Bird Perkins Cancer Center, 4950 Essen Lane, Baton Rouge, LA 70809 | 57290 | 03/13/2006 | LA
Boston Diagnostic Imaging, 398 Altamonte Drive, Altamonte Springs, FL 32701 | E3510 | 03/13/2006 | FL
Sioux Valley Hospital Medical Center, 1305 W 18th Street, Sioux Falls, SD 57117 | 430027 | 03/13/2000 | SD
Indianapolis Regional PET Scan, LLC, 3830 Shore Drive, Indianapolis, IN 46254 | 207260 | 03/13/2006 | IN
St Joseph's PET Center, 1 Mercy Lane, Suite 105, Hot Springs, AR 71913 | 5C739 | 03/13/2006 | AR
Hinsdale PET Scan, LLC, 812 Ogden Avenue, Westmont, IL 60559 | 206271 | 03/13/2006 | IL
Del Amo PET Imaging Center, 3531 Fashion Way, Torrance, CA 90501 | TP120 | 03/13/2006 | CA
North Shore PET Imaging Center, 85 Herrick Street, Beverly, MA 1915 | 327110 | 03/13/2006 | MA | Beverly Hospital.
Robert D. Russo & Associates Radiology, PC, PO Box 6128, Bridgeport, CT 06606 | C02013 | 03/13/2006 | CT
Advanced Medical Specialties, 9035 Sunset Drive, Suite 102, Miami, FL 33173 | K7806 | 05/03/2006 | FL
Baptist M & S Imaging Center—Downtown, 215 E. Quincy #100, San Antonio, TX 78205 | FTA078 | 05/03/2006 | TX
Community Cancer Center, 545 W Umpqua Street, Roseburg, OR 97470 | R116571 | 05/03/2006 | OR
Baptist M & S Imaging Center, 7888 Fredericksburg Road, San Antonio, TX 78228 | FTA078 | 05/03/2006 | TX
Evanston Northwestern Healthcare—Highland Park, 757 Park Avenue West, Highland Park, IL 60035 | 14-0010 | 05/03/2006 | IL
Grenada Diagnostic Radiology, 1300 Sunset Drive, Suite U, Grenada, MS 38901 | 470000034 | 05/03/2006 | MS
Huntsman Cancer Hospital, 2000 Circle of Hope, Suite 2121, Salt Lake City, UT 84112-5550 | 460009 | 05/03/2006 | UT
High Tech Medical Park, 11800 Southwest Highway, Palos Heights, IL 60463 | 0703070 | 05/03/2006 | IL
Cyrus Diagnostic Imaging, Inc, 165 Waymont Court, Lake Mary, FL 32746 | 40586 | 05/03/2006 | FL
Indiana Regional PET Imaging, 7891 Broadway, Suite A, Merrillville, IN 46410 | 229400 | 05/03/2006 | IN
Lancaster PET Imaging, 2100 Harrisburg Pike, Lancaster, PA 17601 | 054504 | 05/03/2006 | PA
James PET/CT Imaging Center, 236 Doan Hall, Columbus, OH 43210 | 360242 | 05/03/2006 | OH | 410 W. 10th Avenue.
Mary Lanning Memorial Hospital, 715 N St Joseph Avenue, Hastings, NE 68901 | 280032 | 05/03/2006 | NE
Maplewood Cancer Center—MOHPA, 1580 Beam Avenue, Maplewood, MN 55109 | C01828 | 05/03/2006 | MN
Titusville Area Hospital, 406 W Oak Street, Titusville, PA 16354 | 390122 | 05/03/2006 | PA
Memorial Hospital, 325 S Belmont Street, York, PA 17403 | 390101 | 05/03/2006 | PA
Mercy Regional Health Center, 1823 College Avenue, Manhattan, KS 66502 | 17-0142 | 05/03/2006 | KS
Northshore Regional PET Scan, LLC, 1464 Waukegan Road, Glenview, IL 60025 | 206272 | 05/03/2006 | IL
Northwest Indiana PET/CT Center, 1505 S Calument Road, Suite 7 & 8, Chesterton, IN 46304 | 229810 | 05/03/2006 | AL
Parkway Ventures Inc, 9000 Franklin Square Drive, Baltimore, MD 21237 | FMN002 | 05/03/2006 | MD | Franklin Square Hospital.
PET Fusion Imaging, 3707 New Vision Drive, Fort Wayne, IN 46845 | 190320 | 05/03/2006 | IN
River Oaks Imaging & Diagnostics, PO Box 4346, Houston, TX 77210 | FTA059 | 05/03/2006 | TX | Dept. 848.
Regional PET Scan, LLC—Beachwood, 2000 Auburn Road, Beachwood, OH 44122 | REID02211 | 05/03/2006 | OH
Regional PET Scan, LLC—Fairview, 20455 Lorain Road, Fairview Park, OH 44126 | REID02211 | 05/03/2006 | OH
Regional PET Scan, LLC—Ridgepark, 7575 Northcliff Avenue, Brooklyn, OH 44144 | REID02211 | 05/03/2006 | OH
Saint Francis Hospital, 114 Woodland Street, Hartford, CT 06105 | 07-0002 | 05/03/2006 | CT
St Nicholas Hospital, 3100 Superior Avenue, Sheboygan, WI 53081 | 520044 | 05/03/2006 | WI
Swedish Medical Center, 501 E Hampton Avenue, Englewood, CO 80113 | 060034 | 05/03/2006 | CO
St Bernards PET Center, 225 E Jackson, Jonesboro, AR 72401 | 5C658 | 05/03/2006 | AR
Toledo Regional PET Scan, LLC, 3442 Granite Circle, Toledo, OH 43617 | T0ID01881 | 05/03/2006 | OH
University MRI, 3848 F.A.U. Boulevard, Suite 200, Boca Raton, FL 33431 | E1765 | 05/03/2006 | FL
Tucson PET Imaging, 5355 E Erickson Drive, Tucson, AZ 85712 | WCBBM | 05/03/2006 | AZ
Via Christi Oklahoma Regional Medical Center, 1900 N 14th Street, Ponca City, OK 74601 | 370006 | 05/03/2006 | OK
Christian Hospital, 11133 Dunn Road, St Louis, MO 63136 | 260180 | 05/03/2006 | MO
DRA Imaging PC, 1 Columbia Street, Poughkeepsie, NY 12601 | W18691 | 05/03/2006 | NY
Cleveland Clinic Star Imaging, 921 Jasonway Avenue, Columbus, OH 43214 | 34-1932969 | 05/03/2006 | OH
Norman PET Associates, LLC, 3750 W Robinson, Suite 130, Norman, OK 73072 | 900522224 | 05/03/2006 | OK
Rhode Island PET Services—St Josephs, 200 High Service Avenue, N Providence, RI 02904 | 479003556 | 05/03/2006 | RI
Rhode Island PET Services—South County Hosp, 100 Kenyon Avenue, Wakefield, RI 02879 | 479003556 | 05/03/2006 | RI
Rhode Island PET Services—Roger Williams, 825 Chalkstone Avenue, Providence, RI 02908 | 479003556 | 05/03/2006 | RI
Rhode Island PET Services—Landmark, 115 Cass Avenue, Woonsocket, RI 02895 | 479003556 | 05/03/2006 | RI
Forest City Diagnostic Imaging, 735 Perryville Road, Rockford, IL 61107 | 546450 | 05/03/2006 | IL | Lower Level 2.
New England Molecular Imaging—York, 15 Hospital Drive, York, ME 03909 | 479003556 | 05/03/2006 | ME
Pavilion Imaging, 750 Wellington Avenue, Grand Junction, CO 81502 | 060023 | 05/03/2006 | CO
Lifescan Chicago, 2242 W Harrison Street, Chicago, IL 600612 | 470000014 | 05/03/2006 | IL
Southeast Medical Imaging, 300 Evergreen Drive, Suite 210, Glen Mills, PA 19342 | 092801 | 05/03/2006 | PA
The Western Pennsylvania Hospital, 4800 Friendship Avenue, Pittsburgh, PA 15224 | 390090 | 05/03/2006 | PA
Southtowns PET/CT, 550 Orchard Park Road, West Seneca, NY 14224 | 14422A | 05/03/2006 | NY
Main Street Radiology—Bayside, 44-01 Francis Lewis Boulevard, Bayside, NY 11361 | 04217 | 05/03/2006 | NY
Main Street Radiology—Bayside, 44-01 Francis Lewis Boulevard, Bayside, NY 11361 | 04217A | 05/03/2006 | NY
West VA University Center for Advanced Imaging, 1 Medical Center Drive, Morgantown, WV 26506 | 9121131 | 05/03/2006 | WV | PO Box 9236 Health Center South.
Twin Lakes Medical Specialist PA, 228 Bucher Drive, Mountain Home, AR 72653 | 5B019 | 05/03/2006 | AR
Valley Metabolic Imaging, LLC, 6121 N Thesta, Fresno, CA 93710 | ZZZ23924Z | 05/03/2006 | CA | Suite 207.
Johnson City Medical Center, 400 North State of Franklin, Johnson City, TN 37642 | 440063 | 05/03/2006 | TN
St Louis University Hospital, 3665 Vista Avenue, St Louis, MO 63110 | 000050109 | 05/03/2006 | MO
Margaret R. Pardee Memorial Hospital, 800 North Justice Street, Hendersonville, NC 28791 | 340017A | 05/03/2006 | NC
Valley Imaging Partnership, 1401 W Merced Avenue #103, West Covina, CA 91790 | TP035 | 05/03/2006 | CA
Sierra Imaging, 155 Calle Portal, Sierra Vista, AZ 85635 | Z68496 | 05/03/2006 | AZ
Aspirus Wausau Hospital, 333 Pine Ridge Boulevard, Wausau, WI 54401 | 520030A | 05/03/2006 | WI
Cancer Care Northwest PET Center, 910 W 5th, Spokane, WA 99204 | 1922072081 | 05/03/2006 | WA | Suite 130.
PET/CT Imaging of North Texas, 2900 North I-35, Denton, TX 76201 | 00088Y | 05/03/2006 | TX | Suite 119.
Loyola University Health System, 2160 S First Avenue, Maywood, IL 60153 | 140276 | 05/03/2006 | IL
St Elizabeth Medical Center, One Medical Village Drive, Edgewood, KY 41017 | 180035 | 05/03/2006 | KY
Cleveland Clinic, 9500 Euclid Ave, Cleveland, OH 44195 | 9925511 | 05/03/2006 | OH
Ingalls Family Care Center, 6701 159th Street, Tinley Park, IL 60477 | 14-0191 | 05/03/2006 | IL
PET Fusion Center, 4204 Houma Boulevard, Metairie, LA 70006 | 5CB31 | 05/03/2006 | LA
United Regional Medical Center, 1001 McArthur Drive, Manchester, TN 37355 | 440007 | 05/03/2006 | TN
Joel Bernstein, MD, 5395 Ruffin Road, Suite 202, San Diego, CA 92123 | W18972 | 05/03/2006 | CA
Hasnat Ahmed, MD, 5395 Ruffin Road, Suite 202, San Diego, CA 92123 | W18370 | 05/03/2006 | CA
Meridian North Imaging Center, 12188 N Meridian Street, Carmel, IN 46280 | 026010 | 05/03/2006 | IN | Suite 100.
Cancer Center Oncology Med. Group, 5395 Ruffin Road, Suite 202, San Diego, CA 92123 | W12245A | 05/06/2006 | CA
Firelands Regional Medical Center, 1101 Decatur Street, Sandusky, OH 44870 | 360025 | 05/03/2006 | OH
United Radiology—Greenbelt, PO Box 34979, West Bethesda, MD 20827 | FMN007 | 05/03/2006 | MD
Richard Just, MD, 5395 Ruffin Road, Suite 202, San Diego, CA 92123 | W16197 | 05/03/2006 | CA
Michael Kipper, MD, 5395 Ruffin Road, Suite 202, San Diego, CA 92123 | A24091 | 05/03/2006 | CA
McLaren Regional Medical Center, 401 S. Ballenger Highway, Flint, MI 48532 | 230141 | 05/03/2006 | MI
United Radiology—Silver Spring, PO Box 34979, West Bethesda, MD 20827 | FMN007 | 05/03/2006 | MD
United Radiology—Rockville, PO Box 34979, West Bethesda, MD 20827 | FMN007 | 05/03/2006 | MD
St Mary's Health Center, 6420 Clayton Road, St Louis, MO 63117 | 260091 | 05/03/2006 | MO
Bay Regional Medical Center, 1900 Columbus Avenue, Bay City, MI 48708 | 230041 | 05/03/2006 | MI
Lapeer Regional Medical Center, 1375 N. Main Street, Lapeer, MI 48446 | 230193 | 05/03/2006 | MI
Scottsdale Medical Imaging, Ltd.—SW Diagnostics, 9003 E. Shea Boulevard, Scottsdale, AZ 85260 | 1902896236 | 05/03/2006 | AZ
Valley Medical Oncology Consultants, Inc., 3000 Oak Road #111, Walnut Creek, CA 94597 | ZZZ29659Z | 05/03/2006 | CA
Northwest Community Hospital, 800 W Central Road, Arlington Heights, IL 60005 | 36-2340313 | 05/03/2006 | IL
PET Imaging of Dallas, 8333 Douglas Ave, C-20, Dallas, TX 75225 | FTN017 | 05/03/2006 | TX
PET Imaging of Dallas—Northeast, 1250 R Northwest Highway, Garland, TX 75041 | FTN028 | 05/03/2006 | TX
St Joseph's Regional Medical Center, 703 Main Street, Paterson, NJ 07503 | 310019 | 05/03/2006 | NJ
PET Imaging of Houston, 2493-A South Braeswood, Houston, TX 77030 | FTN010 | 05/03/2006 | TX
Goshen General Hospital, 200 High Park, Goshen, IN 46526 | 150026 | 05/03/2006 | IN
PET Imaging of ELMC, 8550 West 38th Avenue, Suite 102, Wheat Ridge, CO 80033 | 800665 | 05/03/2006 | CO
PET Imaging of Houston—Southeast, 6021 Fairmont Parkway, Suite 120, Pasadena, TX 77505 | FTN030 | 05/03/2006 | TX
Peninsula Imaging, LLC, 560 Riverside Drive Suite A104, Salisbury, MD 21801 | 481L | 05/03/2006 | AL
Zwanger-Pesiri, 126 Hicksville Road, Massapequa, NY 11758 | W13931 | 05/03/2006 | NY
Las Calinas PET Imaging, LLP, 1110 Cottonwood Lane, Irving, TX 75038 | FTN019 | 05/03/2006 | TX | Suite 220.
Mt Carmel Regional Medical Center, 1102 East Centennial, Pittsburg, KS 66762 | 014041 | 05/03/2006 | KS
Iowa Blood & Cancer Care, PLC, 855 A. Avenue N.E., Cedar Rapids, IA 52402 | I6672 | 05/03/2006 | IA | Medical Office Plaza LL4.
Hackensack University Medical Center, 30 Prospect Avenue, Hackensack, NJ 07601 | 310001 | 05/03/2006 | NJ
McLeod PET Imaging Center, 800 East Cheves Street, Florence, SC 29501 | 570370242001 | 05/03/2006 | SC | Suite 170.
St Alexius Medical Center, 900 E Broadway, Bismarck, ND 58506 | 35-0002 | 05/03/2006 | ND | PO Box 5510.
Center for Diagnostic Imaging, 1295 Orange Avenue, Winter Park, FL 32789 | K0097 | 05/03/2006 | FL
Charleston Radiologists, PA, 9313 Medical Plaza Drive, Charleston, SC 29406 | 1709 | 05/03/2006 | SC | Suite 302.
PET Imaging of Houston—West, 9525 Katy Freeway, Suite 102, Houston, TX 77024 | FTN023 | 05/03/2006 | TX
University Hospitals of Cleveland, 11100 Euclid Avenue, Cleveland, OH 44106 | 36-0137 | 05/03/2006 | OH | Mailstop BSHB5056.
PET Imaging of Sugarland, 17320 W Grand Parkway S., Suite A, Sugar Land, TX 77479 | FTN027 | 05/03/2006 | TX
PET Imaging of Oklahoma City, 1000 N Lincoln Boulevard, Suite 250, Oklahoma City, OK 73104 | 800522283 | 05/03/2006 | OK
PET Imaging of Tulsa, 6711 S Yale, #104, Tulsa, OK 74136 | 400522320 | 05/03/2006 | OK
PET Imaging of The Woodlands, 3091 College Park Drive, Suite 340, The Woodlands, TX 77384 | FTN021 | 05/03/2006 | TX
Tarrant Diagnostic Imaging, 1121 8th Avenue, Fort Worth, TX 76104 | FTN012 | 05/03/2006 | TX
Wyandot Memorial Hospital, 85 North Sandusky, Avenue, Upper Sandusky, OH 43351 | 361329 | 05/03/2006 | OH
Oregon Health & Science University, 3181 SW Sam Jackson Park Road, Portland, OR 97229 | 380009 | 05/03/2006 | OR
Saint John's Health System, 2015 Jackson Street, Anderson, IN 46016 | 150088 | 05/03/2006 | IN
Hudson Valley PET Imaging, LLC, 160 North Midland Avenue, Nyack, NY 10960 | W1L903 | 05/03/2006 | NY
Kingston Diagnostic Center, 167 Schwenk Drive, Kingston, NY 12401 | W1L921 | 05/03/2006 | NY
Appleton Medical Center, 1818 N Meade Street, Appleton, WI 54911 | 520160 | 05/03/2006 | WI
St Elizabeth Health Center, 1044 Belmont Avenue, Youngstown, OH 44501 | 360064 | 05/03/2006 | OH
Sinai Hospital of Baltimore, 2401 West Belvedere Avenue, Baltimore, MD 21215 | 210012 | 05/03/2006 | MD
Associates in Radiology of Plattsburgh, NY, 762 Route 3, Suite 14, Plattsburgh, NY 12901 | 33572A | 05/03/2006 | NY
Affiliated PET Systems—Rockville, 9711 Medical Center Drive, Rockville, MD 20850 | FDNX01 | 05/03/2006 | MD
Lake Medical Imaging & Breast Center, 1400 US Highway 441 North, Suite 510, The Villages, FL 32159 | 59-3522082 | 05/03/2006 | FL
Affiliated PET Systems—Silver Spring, 1400 Forest Glen Road, Silver Spring, MD 20910 | FDNX01 | 05/03/2006 | MD | Suite 430.
North Texas Clinical PET Institute, 3535 Worth Street, Suite 150, Dallas, TX 75246 | 99R339 | 05/03/2006 | TX
Lake Imaging Center, 801 E Dixie Avenue, Suite 104, Leesburg, FL 34748 | 59-3635297 | 05/06/2006 | FL
Edwards Comprehensive Cancer Center, 1400 Hal Greer Boulevard, Huntington, WV 25701 | 510055 | 05/03/2006 | WV
Allison Cancer Center, 301 North N Street, Midland, TX 79701 | 140414744 | 05/03/2006 | TX
Clinical PET of Leesburg, 8525 US Highway 441, Leesburg, FL 34748 | E7179A | 05/03/2006 | FL
Greene Medical Imaging PC, 159 Jefferson Heights, D-106, Catskill, NY 12414 | W25021 | 05/03/2006 | NY
Caritas PET Imaging, LLC—Norwood Hospital, 70 Walnut Street, Foxboro, MA 02035 | 32-7092 | 05/03/2006 | MA | Caritas Norwood Hospital—Foxboro C.
Caritas PET Imaging, LLC—New England Medical Center, 750 Washington Street, Boston, MA 02111 | 32-7092 | 05/03/2006 | MA | Tufts—New England Medical Center.
Austin, Radiological Assn—San Marcos, 1348 B Highway 123 South, San Marcos, TX 78666 | 74-1597116 | 05/03/2006 | TX
ARA Imaging—Rock Creek, 2120 N Mays, #220, Round Rock, TX 78664 | 20-1651590 | 05/03/2006 | TX
ARA Imaging—Southwood, 1701 W Ben White Boulevard, #170, Austin, TX 78704 | 20-1651590 | 05/03/2006 | TX
Elkhart General Hospital, 600 East Boulevard, Elkhart, IN 46514 | 15-0018 | 05/03/2006 | IN
Austin, Radiological Assn—Midtown, 1301 W 38th Street, Suite 100, Austin, TX 78705 | 74-1597116 | 05/03/2006 | TX
Caritas PET Imaging, LLC—St Elizabeth's, 736 Cambridge Street, Boston, MA 02135 | 32-7092 | 05/03/2006 | MA | St. Elizabeth's Medical Center.
Global PET Imaging, LLC, 1800 Hollister Drive, Suite G-10, Libertyville, IL 60048 | 309590 | 05/03/2006 | IL | Grand Oaks Health Center.
Caritas PET Imaging, LLC—Carney Hospital, 2100 Dorchester Avenue, Dorchester, MA 02124 | 32-7092 | 05/03/2006 | MA | Caritas Carney Hospital.
Caritas PET Imaging, LLC—Milton Hospital, 92 Highland Street, Milton, MA 02186 | 32-7092 | 05/03/2006 | MA
Caritas PET Imaging, LLC—St Anne's Hospital, 795 Middle Street, Fall River, MA 02721 | 32-7087 | 05/03/2006 | MA | St. Anne's Hospital.
Caritas PET Imaging, LLC—Good Samaritan, 235 North Pearl Street, Brockton, MA 02301 | 32-7087 | 05/03/2006 | MA | Caritas Good Samaritan Medical Center.
Panhandle PET Imaging, 6700 W 9th, Amarillo, TX 79106 | TFN0007 | 05/03/2006 | TX
PET Imaging of San Francisco, 1700 California Street, Suite 480, San Francisco, CA 94109 | ZZZ-223-782 | 05/03/2006 | CA
PET/CT Imaging of Berkeley, 2855 Telegraph Avenue, Suite 100, Berkeley, CA 94705 | ZZZ-288-837 | 05/03/2006 | CA
Western Maryland Health System—Sacred Heart Campus, 902 Seton Drive, Cumberland, MD 21502 | 210027 | 05/03/2006 | MD | Western Maryland Health System—Sacred Heart.
Desert PET Imaging, LLC, 1180 N Indian Cyn Drive, Palm Springs, CA 92262 | ZZZ28648Z | 05/03/2006 | CA
First PET of Stockton, 4744 Quail Lake Drive, Stockton, CA 95207 | 00A484230 | 05/03/2006 | CA
Utah Cancer Specialist, 3838 South 700 East, Salt Lake City, UT 84106 | 57172 | 05/03/2006 | UT | Suite 100.
Washington Radiology Associates, PC, 2121 K Street, NW, Washington, DC 20006 | WA409885 | 05/03/2006 | DC | Suite T-120.
New Rochelle Radiology Associates, PC, 175 Memorial Highway, New Rochelle, NY 10801 | W05571 | 05/03/2006 | NY
North Little Rock PET Associates, LLC, 3500 Springhill Drive, North Little Rock, AR 72117 | 5F437 | 05/03/2006 | AR | Suite 100.
Advanced Imaging Concepts, PL, 13063 Cortez Boulevard, Brooksville, FL 34613 | 94774 | 05/03/2006 | FL
Mansfield Imaging Center, 536 S Trimble Road, Mansfield, OH 44906 | MAD10921 | 05/03/2006 | OH
West Tennessee Imaging Center, 300 Coatsland Drive, Jackson, TN 38305 | 44-0002 | 05/03/2006 | TN
Imaging Center of North Central Indiana, Inc., 2201 W Boulevard, Kokomo, IN 46902 | 224110 | 05/03/2006 | IN
University of Kansas Hospital, 3901 Rainbow Boulevard, Kansas City, KS 66160 | 17-00040 | 05/03/2006 | KS | Division of Nuclear Medicine.
PET Imaging of SWLA LLC, 600 Bayou Pines East, Lake Charles, LA 70601 | 5CK63 | 05/03/2006 | LA | Suite A.
Community Imaging Partners of Frederick, 67 Thomas Johnson Drive, Frederick, MD 21702 | 980M | 05/03/2006 | MD
Community Imaging Partners of Olney, 18111 Prince Phillip Drive # T-20, Olney, MD 20832 | 409410 | 05/03/2006 | MD | Community Imaging Partners.
The West Clinic, PC, 100 N. Humphreys Boulevard, Memphis, TN 38120 | 3704066 | 05/03/2006 | TN
Imaging Central LLC, 7111 W Central Avenue, Toledo, OH 43617 | IMID01641 | 05/03/2006 | OH
Advanced Radiology—Dixon, 291 Stoner Avenue, Westminster, MD 21157 | 527L | 05/03/2006 | MD
Advanced Radiology—Harford Imaging, 104 Plumtree Road, Bel Air, MD 21015 | 527L | 05/03/2006 | MD
Advanced Radiology—Cross Roads, 4801 Dorsey Hall Road, Ellicott City, MD 21042 | 527L | 05/03/2006 | MD | Suite 101.
Advanced Radiology—PET Imaging of MD, 1700 Reisterstown Road, Baltimore, MD 21208 | 527L | 05/03/2006 | MD | Suite119.
Cancer & Blood Disease Center, 521 No Lecanto Highway, Lecanto, FL 34461 | 72840 | 05/03/2006 | FL
Huntington Outpatient Imaging Center, INC, 800 S Fairmount Avenue, Pasadena, CA 91105 | W1575B | 05/03/2006 | CA | Suite 120.
Universal Imaging, Inc., 4600 Investment Drive, Troy, MI 48083 | ON69130 | 05/03/2006 | MI
Berger Health System, 1170 North Court Street, Circleville, OH 43113 | 360710 | 05/03/2006 | OH
Contemporary Imaging—Trenton, 1676 Fort Street, Trenton, MI 48183 | 0P23200 | 05/03/2006 | MI
South Tulsa PET, LLC, 7712 S Yale, Tulsa, OK 74136 | 800522360 | 05/03/2006 | OK | Suite 100.
Cancer Center of the Carolinas, 200 Andrews Street, Greenville, SC 29601 | 6526 | 05/03/2006 | SC | Suite 100.
OSF Saint Francis Medical Center, 530 NE Glen Oak Avenue, Peoria, IL 61637 | 14-0067 | 05/03/2006 | IL
Sacred Heart—St Mary's Hospitals Inc., 2251 Northshore Drive, Rhinelander, WI 54501 | 1100700 | 05/03/2006 | WI
Capital Region Radiation Therapy & Imaging, 3400 W Truman Boulevard, Jefferson City, MO 65109 | 260047 | 05/03/2006 | MO | PO 150832.
University PET/CT Imaging, 19 Bradhurst Avenue, Hawthorne, NY 10532 | W2Y371 | 05/03/2006 | NY | Suite 1200.
Aztech Radiology—Apache Trail, 1840 W Apache Trail, Apache Junction, AZ 85222 | Z72398 | 05/03/2006 | AZ
Aztech Radiology—Casa Grande, 1669 E McMurray Boulevard, Casa Grande, AZ 85222 | Z25341 | 05/03/2006 | AZ
Missouri Cancer Associates, 105 N Keene Street, Columbia, MO 65201 | 000012700 | 05/03/2006 | MO | Suite 100.
White River Medical Center, 1710 Harrison Street, Batesville, AR 72501 | 040119 | 05/03/2006 | AR
Englewood Hospital & Medical Center, 350 Engle Street, Englewood, NJ 07631 | 310045 | 05/03/2006 | NJ
Regional Imaging & Therapeutic Radiology Service, 360 Bard Avenue, Staten Island, NY 10310 | 1023095445 | 05/03/2006 | NY
Rocky Mountain Cancer Centers—South, 7951 E Maplewood Avenue, Suite 300, Greenwood Village, CO 80111 | 204508 | 05/03/2006 | CO
Rocky Mountain Cancer Centers—North, 7951 E Maplewood Avenue, Suite 300, Greenwood Village, CO 80111 | 204508 | 05/03/2006 | CO
Molecular Imaging of Hamilton County—Bethesda, 4197 Fulton Road NW, Suite C, Canton, OH 44718 | MOID01221 | 05/03/2006 | OH
Molecular Imaging of Hamilton County—Good Som, 4197 Fulton Road NW, Suite C, Canton, OH 44718 | MOID01221 | 05/03/2006 | OH
Kettering Medical Center, 3535 Southern Boulevard, Kettering, OH 45429 | 360079 | 05/03/2006 | OH
St Mary's Hospital, 5801 Bremo Road, Richmond, VA 23226 | 540793767 | 05/03/2006 | VA
Columbus Medical Institute of NY, 97-85 Queens Boulevard, Rego Park, NY 11374 | 05679 | 05/03/2006 | NY
Meadville Medical Center, 1034 Grove Street, Meadville, PA 16335 | 39-0113 | 05/03/2006 | PA
Chambersburg Hospital—Radiology, 112 North Seventh Street, Chambersburg, PA 17201 | 390151 | 05/03/2006 | PA
Oregon Advanced Imaging, 881 O'Hare Parkway, Medford, OR 97504 | R114546 | 05/03/2006 | OR
Singing River Hospital, 2809 Denny Avenue, Pascagoula, MS 39581 | 250040 | 05/03/2006 | MS
East Texas Medical Center—Tyler, 1000 S Beckham, Tyler, TX 75701 | 4500833 | 05/03/2006 | TX
Columbia, St Mary's Hospital, 2025 E Newport Avenue, Columbia, Campus, Milwaukee, WI 53211 | 520051 | 05/03/2006 | WI
Sharon Regional Health System, 740 East State Street, Sharon, PA 16146 | 390211 | 05/03/2006 | PA
Northern Ohio Imaging Center, 1900 West River Road, Elyria, OH 44035 | 36-0172 | 05/03/2006 | OH
Oxford Valley Diagnostic Center, 940 Town Center Drive, Langhorne, PA 19047 | 232745550 | 05/03/2006 | PA | Suite F50.
The Emory Clinic, 1365 Clifton Road, Building C, Room Court 048, Atlanta, GA 30322 | 582030692 | 05/03/2006 | GA
Alegent Health Bergan Mercy Medical Center, 7500 Mercy Road, Omaha, NE 68124 | 280060 | 05/03/2006 | NE
University Center Imaging, 1065 Delaware Avenue, Marion, OH 43302 | 20-3873307 | 05/03/2006 | OH
Elk Regional Health Center, 763 Johnsonburg Road, St Mary's, PA 15857 | 39-0154 | 05/03/2006 | PA
Health Park Hospital, 1636 Higdon Ferry Road, Hot Springs, AR 71913 | 04-0142 | 05/03/2006 | AR
Johnsonburg Health Center, 81 Clarion Road, Johnsonburg, PA 15845 | 39-0104 | 05/03/2006 | PA
Jane Phillips Medical Center, 3500 E Frank Phillips Boulevard, Bartlesville, OK 74006 | 370015 | 05/03/2006 | OK
North Main Imaging Center, 7650 First Place, Suite B, Oakwood Village, OH 44146 | NEID01521 | 05/03/2006 | OH
PET Imaging Center of Delaware County—DCMH, 501 North Lansdowne Avenue, Drexel Hill, PA 19026 | 390081 | 05/03/2006 | PA
NEO-PET CRC Imaging, 7650 First Place, Suite B, Oakwood Village, OH 44146 | NEID01521 | 05/03/2006 | OH
PET Imaging Center of Delaware County—Springfield, 190 West Sproul Road, Springfield, PA 19064 | 381080 | 05/03/2006 | PA
Harper University Hospital, 3990 John R, Detroit, MI 48201 | 230104 | 05/03/2006 | MI
Sinai-Grace Hospital, 6071 W Outer Drive, Detroit, MI 48235 | 23-0024 | 05/03/2006 | MI
Seattle Radiologists APC, 1229 Madison, Seattle, WA 98104 | G0001589600 | 05/03/2006 | WA | #900.
Huron Valley-Sinai Hospital, 1 William Carl Drive, Commerce, MI 48382 | 23-0277 | 05/03/2006 | MI
East Memphis PET Imaging, 6005 Park Avenue, Memphis, TN 38119 | 3374526 | 05/03/2006 | TN | Suite 101B.
UPMC-PET Imaging Facility, 200 Lothrop Street, Pittsburgh, PA 15213 | 390164 | 05/03/2006 | PA | 9th Floor B-Wing PUH.
UPMC-PET Imaging Facility, 300 Halket Street, Pittsburgh, PA 15213 | 390114 | 05/03/2006 | PA
Rhode Island Hospital, 593 Eddy Street, Providence, RI 02903 | 05-025-8954 | 05/03/2006 | RI
David C. Pratt Cancer Center, 607 South New Bulbs Road, St Louis, MO 63141 | 260020 | 05/03/2006 | MO
Lewistown Hospital, 400 Highland Avenue, Lewistown, PA 17044 | 390048 | 05/03/2006 | PA
Lawrence Memorial Hospital, 325 Maine Street, Lawrence, KS 66044 | 170137 | 05/03/2006 | KS
Jameson Hospital, 1211 Wilmington Avenue, New Castle, PA 16105 | 39-0016 | 05/03/2006 | PA
Diagnostic Clinic of Houston, 1200 Binz, Houston, TX 77004 | 76-0203506 | 05/03/2006 | TX
Arlington Heights Radiology Center, LLC, 121 South Wilke Road, Arlington Heights, IL 60005 | 212301 | 05/03/2006 | IL
Oregon Imaging Center, 1200 Hilyard Street, Eugene, OR 97401 | R0000WCPGH | 05/03/2006 | OR | #330.
Arlington Heights Radiology Center, LLC, 121 South Wilke Road, Arlington Heights, IL 60005 | 212301 | 05/03/2006 | IL
Indiana Univ Radiology Assoc PET Imaging Center, 950 W Walnut, Room E124, Indianapolis, IN 46202 | 959090 | 05/03/2006 | IN
Morristown Memorial Hospital, 100 Madison Avenue, Morristown, NJ 07962 | 310015 | 05/03/2006 | NJ
Baton Rouge Radiology Group, 5422 Dijon Drive, Baton Rouge, LA 70808 | 5B039 | 05/03/2006 | LA
North Texas PET Imaging, 3720 South I-35E, Denton, TX 76210 | 752131429 | 05/03/2006 | TX
Children's Hospital of Michigan Pet Center, 3901 Beaubien, Detroit, MI 48201 | 23-3300 | 05/03/2006 | MI
Winchester Medical Center, 1840 Amherst Street, Winchester, VA 22601 | 490005 | 05/03/2006 | VA
Decatur Health Imaging, LLC, 1123 16th Avenue SE, Decatur, AL 35601 | 051555161 | 05/03/2006 | AL
Health Imaging Services, LLC, 1760 Warnke Circle NE, Cullman, AL 35058 | 051553273HEA | 05/03/2006 | AL
PET/CT Imaging of the Mainline, 21 Industrial Blvd., Suite 103, Paoli, PA 19301 | 097715 | 05/03/2006 | PA
PET Imaging of Brevard, 1430 Pine Street, Melbourne, FL 32901 | 39254 | 05/03/2006 | FL
North Carolina Baptist Hospital, Medical Center Boulevard, Winston Salem, NC 27157 | 34-0047 | 05/03/2006 | NC
St Francis Hospital, 34515 9th Avenue S, Federal Way, WA 98003 | 500108 | 05/03/2006 | WA
Saint Barnabas Outpatient Center, 200 S Orange Avenue, Livingston, NJ 07039 | 440149 | 05/03/2006 | NJ
PET/CT Imaging of Ramapa Radiology, 972 Route 45, Suite 106, Pomona, NY 10970 | W21711 | 05/03/2006 | NY
Medical University of South Carolina PET/CT, 169 Ashley Avenue, Charleston, SC 29425 | 420004 | 05/03/2006 | SC
Akron General Medical Center, 300 Wabash Avenue, Akron, OH 44307 | 36-0027 | 05/03/2006 | OH
New England Molecular Imaging—Mercy Hospital, 144 State Road, Portland, ME 04103 | NE327075 | 05/03/2006 | ME
New England Molecular Imaging—Penobscot Bay, 6 Glenn Cove Drive, Rockport, ME 04856 | NE327076 | 05/03/2006 | ME
Center for Outpatient Services—St Joseph, 3900 Hollywood Road, St Joseph, MI 49085 | 23-0021 | 05/03/2006 | MI
New England Molecular Imaging—Central Maine, 12 High Street, Lewiston, ME 04240 | NE327076 | 05/03/2006 | ME
Imaging Consultants Inc.—Berkshire, 8 Conte Drive, Pittsfield, MA 01210 | 327085 | 05/03/2006 | MA
Imaging Consultants Inc.—Boston Medical, 840 Harrison Avenue, Boston, MA 02118 | 327083 | 05/03/2006 | MA
Imaging Consultants Inc—Boston PET, One Brookline, Place, Brookline, MA 02445 | 327083 | 05/03/2006 | MA
Baptist Memorial HospitalPET Center, 6027 Walnut Grove Road, Memphis, TN 38120 | 44-0048 | 05/03/2006 | TN
Southern Oklahoma PET/CT Imaging, 701 E Robinson, Norman, OK 73071 | 90015477 | 05/03/2006 | OK
Ann G Fetters Diagnostic Imaging Center, 2151 N Harbor Boulevard, Fullerton, CA 92835 | 050168 | 05/03/2006 | CA
Pitt County Memorial Hospital, 2100 Stantonsburg Road, Greenville, NC 27835 | 56-0585243 | 05/03/2006 | NC
Inland Imaging, LLC, 105 W 8th Avenue, Spokane, WA 99202 | AB01749 | 05/03/2006 | WA | Suite 100C.
University of Chicago Hospitals, 5758 S. Maryland Avenue, Chicago, IL 60637 | 140088 | 05/03/2006 | IL | Room #1050.
Birch Medical Imaging Center, 20162 S.W. Birch Street New, Newport Beach, CA 92660 | W19353 | 05/03/2006 | CA
Tennessee Oncology PET Services, 2018 Murphy Avenue, Nashville, TN 37203 | 3709319 | 05/03/2006 | TN | Suite 200.
Tennessee PET Scan, 1020 N Highland Avenue, Murfreesboro, TN 37130 | 3791187 | 05/03/2006 | TN | Suite A.
Texas Oncology—Harris Center HEB, 1615 Hospital Parkway, Bedford, TX 76022 | 00R66C | 05/03/2006 | TX | Suite 300.
Greater Dayton Cancer Center, 3120 Governor's Place Boulevard, Kettering, OH 45409 | 9295791 | 05/03/2006 | OH
Martha Jefferson Hospital, 459 Locust Avenue, Charlottesville, VA 22902 | 490077 | 05/03/2006 | VA
Modern Diagnostic Imaging, 600 S Dobson Road, Chandler, AZ 85224 | 107628 | 05/03/2006 | AZ | Suite B-16.
Christiana Care Nuclear Medicine/PET, 4755 Ogletown-Stanton Road, Newark, DE 19718 | 080001 | 05/03/2006 | DE
Advanced Imaging of Port Charlotte LLC, 2625 Tamiami Trail, Port Charlotte, FL 33952 | K6802 | 05/03/2006 | FL | Suite 1.
St Joseph's Diagnostic Center—MLK, 3003 Martin Luther King, Jr. Boulevard, Tampa, FL 33067 | 97779 | 05/03/2006 | FL
South Carolina Oncology Associates, 166 Stoneridge Dr, Columbia, SC 29210 | 6275 | 05/03/2006 | SC
South Carolina Oncology Associates, 166 Stoneridge Drive, Columbia, SC 29210 | 6276 | 05/03/2006 | SC
Access Health Imaging, 5257 Highway 82, East, Lake Village, AR 71653 | 5M809 | 05/03/2006 | AR
PET/CT Services of Florida—Beverly Hills, 3404 N Lecanto Highway, Beverly Hills, FL 34465 | V0103 | 05/03/2006 | FL | Beverly Hill Medical Park.
PET/CT Services of Florida—Ocala, 1541 SW 1st Avenue, Ocala, FL 34474 | V0103 | 05/03/2006 | FL | Suite 101B.
Blanchard Valley Regional Health Center, 145 W Wallace Street, Findlay, OH 45840 | 360095 | 05/03/2006 | OH
Papastavros Associates Medical Imaging, 1701 Augustine Cut-off, Wilmington, DE 19803 | 1083615561 | 05/03/2006 | DE
PET Imaging of Willowbrook, 13300 Hargrave Road, Houston, TX 77070 | FTN032 | 05/03/2006 | TX | Suite 130.
PET Imaging of Northern Colorado, 1915 Wilmington Drive, Ft Collins, CO 80528 | 804621 | 05/03/2006 | CO | Suite 101.
Temecula Valley Advanced Imaging, 25395 Hancock Avenue, Murrieta, CA 92592 | ZZZ-150752 | 05/03/2006 | CA | Suite 110.
Saint Anthony Memorial Health Center, 301 West Homer Street, Michigan City, IN 46360 | A150015 | 05/03/2006 | IN
Salina Regional Health Center, 400 S Santa Fe, Salina, KS 67401 | 170012 | 05/03/2006 | KS | PO Box 5080.
Cancer Center of Kansas, 818 N Emporia, Wichita, KS 67214 | 110217 | 05/03/2006 | KS | Suite 100.
Clinton Crossings Imaging, 995 Senator Keating Boulevard, Rochester, NY 14618 | 14439A | 05/03/2006 | NY
NSMS—Shelby County, 4253 Argosy Court, Madison, WI 53714 | I16068 | 05/03/2006 | WI
Verrazano Radiology, PC, 256A Mason Avenue, Staten Island, NY 10305 | 200011201 | 05/03/2006 | NY
Imaging Consultants Inc—Brockton Hospital, 680 Centre Street, Brockton, MA 02301 | 327085 | 05/03/2006 | MA
Imaging Consultants Inc—Cape Cod, 252 Long Pond Drive, Harwich, MA 02645 | 327085 | 05/03/2006 | MA | Fontaine Medical Center.
Imaging Consultants Inc—Falmouth, 100 Ter Hewn Drive, Falmouth, MA 02540 | 327085 | 05/03/2006 | MA
Imaging Consultants Inc—Jordan, 275 Sandwich Street, Plymouth, MA 02360 | 327085 | 05/03/2006 | MA
Imaging Consultants Inc—Holyoke, 575 Beech Street, Holyoke, MA 01040 | 327085 | 05/03/2006 | MA
Imaging Consultants Inc—Mercy Medical, 271 Carew Street, Springfield, MA 01089 | 327085 | 05/03/2006 | MA
Imaging Consultants Inc—Lawrence Memorial, 170 Governors Avenue, Medford, MA 02155 | 327083 | 05/03/2006 | MA
Imaging Consultants Inc—Metro West, 115 Lincoln Street, Framingham, MA 01701 | 327083 | 05/03/2006 | MA
Imaging Consultants Inc—Milford, 14 Prospect Street, Milford, MA 01757 | 327085 | 05/03/2006 | MA
Imaging Consultants Inc—Quincy, 114 Whitwell Street, Quincy, MA 02196 | 327083 | 05/03/2006 | MA
Imaging Consultants Inc—Saints Memorial, 2 Hospital Drive, Lowell, MA 01852 | 327083 | 05/03/2006 | MA
Imaging Consultants Inc—Truesdale, 1030 Presidents Avenue, Fall River, MA 02720 | 327085 | 05/03/2006 | MA
Imaging Consultants Inc—Twin City, 76 Summer Street, Fitenburg, MA 01420 | N/A | 05/03/2006 | MA
Imaging Consultants Inc—Worcester, 20 Worcester Center Boulevard, Worcester, MA 01608 | 327085 | 05/03/2006 | MA
Sentara Mobile PET/CT—Careplex, 5900 Lake Wright Drive, Suite B, Norfolk, VA 23502 | 250605 | 05/04/2006 | VA
Sentara Mobile PET/CT—Lake Wright, 5900 Lake Wright Drive, Suite B, Norfolk, VA 23502 | 250605 | 05/04/2006 | VA
Sentara Mobile PET/CT—Princess Anne, 5900 Lake Wright Drive, Suite B, Norfolk, VA 23502 | 250605 | 05/04/2006 | VA
Sentara Mobile PET/CT—Williamsburg, 5900 Lake Wright Drive, Suite B, Norfolk, VA 23502 | 250605 | 05/04/2006 | VA
Memorial Hospital of South Bend, 615 N Michigan, South Bend, IN 46601 | 150058 | 05/04/2006 | IN
NSMS—Belleville, IL, 4253 Argosy Court, Madison, WI 53714 | 208196 | 05/04/2006 | WI
NSMS—Flora, IL, 4253 Argosy Court, Madison, WI 53714 | 208196 | 05/04/2006 | IL
NSMS—Breese, IL, 4253 Argosy Court, Madison, WI 53714 | 208196 | 05/04/2006 | IL
SSM DePaul Health Center, 12303 DePaul Drive, St Louis, MO 63044 | 260104 | 05/04/2006 | MO
Lutheran Hospital, 7950 W Jefferson, Fort Wayne, IN 46804 | 150017 | 05/11/2006 | IN
Memorial MRI and Diagnostic, 1346 Campbell Road, Houston, TX 77055 | 00941U | 05/11/2006 | TX
Shields Imaging of Eastern Mass, 55 Fogg Road, Weymouth, MA 2190 | 327088 | 05/11/2006 | MA
Baystate MRI and Imaging Center, 3300 Main Street, Springfield, MA 1107 | 327039 | 05/11/2006 | MA
Advanced Imaging Center, 16110 Jog Road, 200, Delray Beach, FL 33446 | U2049 | 05/11/2006 | FL
UMASS Memorial MRI and Imaging Center, 214 Shrewsburg Street, Worcester, MA 01604 | 327040 | 05/11/2006 | MA
RCOA Imaging Services, 1108 Minnequa, Pueblo, CO 81004 | 475748 | 05/11/2006 | CO
Adventist Health PET/CT—Hanford, 450 N Greenfield Avenue, Hanford, CA 93230 | ZZZ318852 | 05/11/2006 | CA
Adventist Health PET/CT—Feather River, 5974 Pertz Road, Paradise, CA 95969 | ZZZ318852 | 05/11/2006 | CA
Adventist Health PET/CT—Sonora, 1000 Greenley Road, Sonora, CA 95370 | ZZZ318852 | 05/11/2006 | CA
Sarasota Memorial PET, 5350 University Parkway, Sarasota, FL 34238 | U1775 | 05/11/2006 | FL
Adventist Health PET/CT—Redbud, 18th Ave at Highway 53, PO Box 6710, Clear Lake, CA 95422 | ZZZ318852 | 05/11/2006 | CA
Adventist Health PET/CT—St Helena, 10 Woodland Road, St Helena, CA 94574 | ZZZ318852 | 05/11/2006 | CA
Adventist Health PET/CT—Ukiah, 275 Hospital Drive, Ukiah, CA 95482 | ZZZ318852 | 05/11/2006 | CA
Mease Outpatient Imaging, 1840 Mease Drive, Safety Harbor, FL 34685 | 100265 | 05/11/2006 | FL
Bardmoor Outpatient Center, 8787 Bryan Dairy Road, Largo, FL 33777 | 00594C | 05/11/2006 | FL
Trinity Outpatient Center, 2102 Trinity Oaks Boulevard, New Port Richey, FL 34655 | 00594D | 05/11/2006 | FL
Walnut Creek Imaging Center, 114 la Casa Via, #200, Walnut Creek, CA 94598 | ZZZ13902Z | 05/11/2006 | CA
Carlisle Imaging Center, 1240 S Ft Harrison, Clearwater, FL 33756 | 594 | 05/11/2006 | FL
Valley Radiology Imaging at Samaritan, 2581 Samaritan Drive, #100, San Jose, CA 95124 | ZZZ139851Z | 05/11/2006 | CA
Forest Hills PET Imaging, 102-02 Queens Boulevard, Forest Hills, NY 11375 | 06998G | 05/11/2006 | NY
Roper LowCountry PET Imaging Center, 316 Calhoun Street, Charleston, SC 29401 | Q326280001 | 05/11/2006 | SC
Premier PET Imaging of NJ, 119 Cherry Hill Road, Parsippany, NJ 7054 | 68433 | 05/11/2006 | NJ | Suite 100.
Methodist Medical Center of Illinois, 221 NE Glen Oak Avenue, Peoria, IL 61636 | 370661223 | 05/11/2006 | IL
Medical Imaging of Baltimore, 6715 N. Charles Street, Baltimore, MD 21204 | 258L | 05/12/2006 | MD
Yagnesh Oza, MD, 4117 Velerous Memorial Drive, Mt Vernon, IL 62864 | 212702 | 05/12/2006 | IL
Moffitt Cancer Center, 12902 Magnolia Drive, Tampa, FL 33612 | 100271 | 05/12/2006 | FL
PrimeMed Imaging, 5 Morgan Highway, Suite 7, Scranton, PA 18505 | 260 | 05/12/2006 | PA | Morgan Medical Complex.
Rockville PET Imaging, PC, 119 North Park Avenue, Rockville Centre, NY 11570 | WTC601 | 05/12/2006 | NY | Suite 101.
Porter Adventist Hospital, 2525 South Downing Street, Denver, CO 80210 | 60064 | 05/12/2006 | CO
Rapid City Regional Hospital Medical Imaging Services, 353 Fairmont Boulevard, Rapid City, SD 57701 | 43007 | 05/12/2006 | SD
Advanced Radiolgy, Consultants, 56 Quarry Road, Trumbull, CT 06611 | C02747 | 05/12/2006 | CT
Northeastern PA Imaging Center, 2601 Stafford Avenue, Scranton, PA 18505-0305 | 475385 | 05/12/2006 | PA | PO Box 3305.
Billings MRI Center, 1041 North 29th. Street, Billings, MT 59101-1075 | 81030 | 05/12/2006 | MT
Aurora St. Luke's Medical Center, 2900 W. Oklahoma Avenue, Milwaukee, WI 53215 | 520138 | 05/12/2006 | WI | Nuclear Medicine Dept.
Memorial & St. Elizabeth's Healthcare Services, LL, 4000 N. Illinois Lane, Swansea, IL 62226 | 201339 | 05/12/2006 | IL | PET/CT Imaging Center.
Palm Beach Cancer Institute—West Palm Beach, 1309 North Flagler Drive, West Palm Beach, FL 33401-2710 | 34754 | 05/12/2006 | FL
Overlook Hospital, 99 Beauvoir Avenue, Summit, NJ 7902 | 8772966189 | 05/12/2006 | NJ
Ashland Bellefonte Cancer Center, 122 Saint Christopher Drive, Ashland, KY 41101 | 2150 | 05/12/2006 | KY
Bryn Mawr Imaging Center, 101 S Bryn Mawr Avenue, Bryn Mawr, PA 19010 | 473120 | 05/12/2006 | PA
Oncology Alliance, 1055 N. Mayfair Road, Suite 100, Wauwatosa, WI 53220 | 32836000 | 05/12/2006 | WI
Shared PET Maimonides, 6300 Eighth Avenue, Brooklyn, NY 11220 | 97Z661 | 05/12/2006 | NY
Hoboken Radiology, LLC, 79 Hudson Street, Suite 100, Hoboken, NJ 07030 | 80395 | 05/12/2006 | NJ
Akron City Hospital, 525 E Main Street, Akron, OH 44309 | 360020 | 05/12/2006 | OH
Park Avenue Radiologists, PC, 525 E. Main Street, Rome, GA 30165 | W21771 | 05/12/2006 | NY
Comprehensive Blood & Cancer Center, 6501 Truxtun Avenue, Bakersfield, CA 93309 | zzz238732 | 05/12/2006 | CA
Rome Imaging Center, 309 West 10th Street, Rome, GA 30165 | GRP1221 | 05/12/2006 | GA
Hawaii PET Imaging, 2230 Liliha Street, Honolulu, HI 96817 | 54537 | 05/12/2006 | HI
Imaging Consultants Inc., 242 Green Street, Gardner, MA 01440 | 327085 | 05/12/2006 | MA
Imaging Consultants Inc, 200 Groton School Road, Ayer, MA 01432 | 327085 | 05/12/2006 | MA
Rhode Island Pet Services at Memorial Hospital, 111 Brewster Street, Pawtucket, RI 2860 | 479003556 | 05/12/2006 | RI
Osceola Cancer Center, 737 W. Oak Street, Kissimmee, FL 34741 | 1629034202 | 05/12/2006 | FL
Valley Radiologists, Ltd.—Paseo II Office, 5605 W. Eugie Avenue, Suite 110, Glendale, AZ 85304 | 1902896236 | 06/13/2006 | AZ
Southeast GYN, Oncology PET, 5210 Belfort Road, Suite 130, Jacksonville, FL 32256 | 45542 | 06/13/2006 | FL
The Johns Hopkins PET Center, 600 N. Wolfe Street, Baltimore, MD 21287 | 210009 | 06/13/2006 | MD | Nelson Basement.
Maklansky, Grunter, Kurzban, Cohen, Zimmer, Hyman, 165 East 84th Street, New York, NY 10028 | W20393 | 06/13/2006 | NY
Methodist Medical Center of Illinois, 112 Crescent Avenue, Peoria, IL 61636 | 370661223 | 06/13/2006 | IL
Phoebe Putney Memorial Hospital, 417 Third Avenue/PO Box 1828, Albany, GA 31702-1828 | 110007 | 06/13/2006 | GA
Eiber Radiology/PET Premier Imaging, 21 West 49 Street, Hialeah, FL 33012 | k3166 | 06/13/2006 | FL
Botsford Hospital, 28050 Grand River Avenue, Farmington Hills, MI 48336 | 230151 | 06/13/2006 | MI
Middletown Regional Hospital, 105 McKnight Drive, Middletown, OH 45044 | 360076 | 06/13/2006 | OH
Waukesha Memorial Hospital, 725 American Avenue, Waukesha, WI 53188 | 390910727 | 06/13/2006 | WI
Battle Creek Health System, 300 North Avenue, Battle Creek, MI 49016 | 230075 | 06/13/2006 | MI
Orlando Regional Medical Center, 1414 Kuhl Avenue, Orlando, FL 32806 | 100006 | 06/13/2006 | FL
NorthEast Medical Center, 1065 NorthEast Gateway Court NE, Concord, NC 28025 | 340001 | 06/13/2006 | NC
Premier Medical Imaging, 7651 Stagers Loop, Delaware, OH 43015 | 9912921 | 06/13/2006 | OH
Advanced Radiolgy Consultants, 15 Corporate Drive, Trumbull, CT 6611 | C02747 | 06/13/2006 | CT
Advance Pet Imaging, 23 Technology Drive, East Setauket, NY 11733 | 46a401 | 06/13/2006 | NY
Premier PET Imaging of Wichita, 500 S. Main Street, Suite B, Wichita, KS 67202 | 110682 | 06/13/2006 | KS
Health Center Northwest, 320 Sunnyview Lane, Kalispell, MT 59901 | 270087 | 06/13/2006 | MT
Olympic Medical Center, 844 N. 5th Avenue, Sequim, WA 98382 | 500072 | 06/13/2006 | WA
Premier PET Imaging of Jacksonville, 5210 Belfort Road, Suite 130, Jacksonville, FL 32256 | K3166 | 06/13/2006 | FL
PET/Center Imaging of Jacksonville, 5210 Belfort Road, Suite 130, Jacksonville, FL 32256 | ZZZ19866Z | 06/13/2006 | CA
The Reading Hospital and Medical Center, 6th and Spruce Streets, West Reading, PA 19611 | 390044 | 06/13/2006 | PA
Julia Rackley Perry Memorial Hospital, 530 Park Avenue East, Princeton, IL 61356 | 141337 | 06/13/2006 | IL
Ashland Bellefonte Cancer Center, 122 Saint Christopher Drive, Ashland, KY 41101 | 2150 | 06/13/2006 | KY
Tower Imaging BBD, 14231 Bruce B Down Boulevard, Tampa, FL 33613 | 169 | 06/13/2006 | FL
VyMed Diagnostic Imaging Tampa, LLC, 10010 N. Dale Mabry Suite 160, Tampa, FL 33618 | U4068 | 06/13/2006 | FL
Texas Oncology Cancer Center Sugar Land, 1350 First Colony Boulevard, Sugar Land, TX 77479 | 00073F | 06/13/2006 | TX
Samaritan North Health Center, 9000 N. Main Street, Dayton, OH 45415 | 360052 | 06/13/2006 | OH
The PET Center of Oxford, 1612 US Highway 78 East, Suite 102, Oxford, AL 36203 | 51554888 | 06/13/2006 | AL
Shared PET Mem Lighthouse, 6901 N Main Street, Granger, IN 46530 | 232800 | 06/13/2006 | IN
Shared PET Hope Cancer Center, 3702 South Fourth Street, Terre Haute, IN 47802 | 201320 | 06/13/2006 | IN
Athens Regional Medical Center, 1199 Prince Avenue, Athens, GA 30606 | 110074 | 06/13/2006 | GA
Muskogee PET & Nuclear Imaging, 3300 Chandler Road, Suite #106, Muskogee, OK 74403 | 400522529 | 06/13/2006 | OK
Lubbock Imaging Center, 4011 19th Street, Lubbock, TX 79410 | 00027K | 06/13/2006 | TX
Memorial Medical Center, 701 N. First Street, Springfield, IL 62781 | 140148 | 06/13/2006 | IL
Hamamatsu/Queen's PET Imaging Center, 1301 Punchbowl Street, Honolulu, HI 96813 |  | 06/13/2006 | HI
Aurora BayCare Medical Center, 2845 Greenbrier Road, Green Bay, WI 54308 | 520193 | 06/13/2006 | WI
Medical Center of Plano, 3901 W. 15th Street, Plano, TX 75002 | 450651 | 06/13/2006 | TX
Carolinas Medical Center, 1000 Blythe Boulevard, Charlotte, NC 28203 | 340113 | 06/13/2006 | NC
Redwood Regional Medical Group d.b.a. Santa Rosa Rad., 121 Sotoyome Street, Santa Rosa, CA 95405 | 680344865 | 06/13/2006 | CA
Boone Hospital Center, 1600 East Broadway, Columbia, MO 65201 | 260068 | 06/13/2006 | MO
River Radiology, 45 Pine Grove Avenue, Kingston, NY 12401 | W30681 | 06/13/2006 | NY
University of Washinton Medical Center, 1959 NE Pacific Street, Seattle, WA 98195 | 142700 | 06/13/2006 | WA
Mid American Imaging—Salem, 1987 E. 4th Street, Salem, OH 44460 | ID00804 | 06/13/2006 | OH
Piedmont Medical Center, 222 S. Herlong Avenue, Rock Hill, SC 29732 | 420002 | 06/13/2006 | SC
Alliance Imaging—Sparks, 1311 South I Street, Fort Smith, AR 72817 | 5F463 | 06/13/2006 | AR
Radiology Imaging Associates, 1825 SE Tiffany Avenue, Suite 104, Port St Lucie, FL 34952 | 52 | 06/13/2006 | FL
Mount Sinai Medical Center, One Gustave L. Levy Place, New York, NY 10029 | H23620 | 06/13/2006 | NY
NSMS—Ottawa, IL, 4253 Argosy Court, Madison, WI 53714 | 208196 | 06/13/2006 | WI
Center for Diagnostic Imaging, 1550 E Chestnut Avenue, Vineland, NJ 08360 | 53290 | 06/13/2006 | NJ | Building 4, Suite A.
St Mary Mercy Hosp Livonia, 36475 Five Mile Road, Livonia, MI 48154 | 230002 | 06/13/2006 | MI
Harold Leever Regional Cancer, 1075 Chase Parkway, Waterbury, CT 06708 | 470000025 | 06/13/2006 | CT
Kentucky Metabolic Imaging, 2425 Regency Road, Suite B, Lexington, KY 40503 | 9366001 | 06/13/2006 | KY
Western Baptist Hospital, 2501 Kentucky Avenue, Paducah, KY 42001 | 180104 | 06/13/2006 | KY
St. Anthony Regional Hospital, 311 South Clark Street, Box 628, Carroll, IA 51401 | 1720067127 | 06/13/2006 | IA
Alliance Imaging—Sequoia Hospital, 170 Alameda De Las Pulgas, Redwood City, CA 94062 | ZZZ28890Z | 06/13/2006 | CA
Craven Regional Medical Center, 2000 Neuse Boulevard, New Bern, NC 28560 | 340131 | 06/13/2006 | NC
Alliance Imaging—Tri City Medical Center, 4002 Vista Way, Oceanside, CA 92056, Columbia Diagnostic Center | TG281C | 06/13/2006 | CA
Alliance Imaging—Yavapai, Del Webb Outpatient Center, Prescott Valley, AZ 86314 | 76103 | 06/13/2006 | AZ | 3262 Windsong Drive.
Saint Vincent's Comprehensive Cancer Center, 325 West 15th Street, New York, NY 10011 | 330290 | 06/13/2006 | NY
Alliance Imaging—Southwest Medical Imaging, 3104 Stockton Hill Road, Kingman, AR 86401 | 76103 | 06/13/2006 | AZ
Alliance Imaging—North Idaho Imaging, 700 Ironwood Drive, Coeur d'Alene, ID 93814 | 1790291 | 06/13/2006 | ID
Froedtert Hospital, 9200 W Wisconsin Avenue, Milwaukee, WI 53226 | 520177 | 06/13/2006 | WI
Alliance Imaging—Flagstaff Medical Center, 1200 N. Beaver Street, Flagstaff, AZ 86001 | 71855 | 06/13/2006 | AZ
South Florida Oncology and Hematology Consultants, 4850 W. Oakland Park Boulevard, Lauderdale Lakes, FL 33313 | 33873 | 06/13/2006 | FL | Suite A.
Alliance Imaging—Sierra Vista, 300 El Camino Real, Sierra Vista, AZ 85635 | 71855 | 06/13/2006 | AZ
Alliance Imaging—St. Joseph Eureka, 2700 Dolbeer Street, Eureka, CA 95501 | zzz23046z | 06/13/2006 | CA
Alliance Imaging—Corvallis Clinic, 3680 NW. Samaritan Drive, Corvallis, OR 97330 | 132104 | 06/13/2006 | OR
Bridgeport Hospital, 267 Grant Street, Bridgeport, CT 06610 | 70010 | 06/13/2006 | CT
Valley Radiologists Ltd.—Paseo II Office, 5605 W. Eugie Avenue, Glendale, AZ 85304 | 1902896236 | 06/13/2006 | AZ | Suite 110.
Central Texas Medical Center, 1301 Wonder World Drive, San Marcos, TX 78666 | 450272 | 06/13/2006 | TX
Alliance Imaging—Verde Valley Medical Center, 269 S. Candy Lane, Cottonwood, AZ 86326 | 76103 | 06/13/2006 | AZ
Alliance Imaging—Union Hospital Cecil, 106 Bow Street, Elkton, MD 21821 | FMN008 | 06/13/2006 | MD
St. Joseph Mercy Hospital—Ann Arbor, 5301 E. Huron River Road, Ann Arbor, MI 48106 | 230156 | 06/13/2006 | MI
Alliance Imaging—Navapache, 2200 E. Show Low Lake, Show Low, AZ 85901 | 76103 | 06/13/2006 | AZ
St. Clare Medical Center, 1710 Lafayette Road, Crawfordsville, IN 17933 | 150022 | 06/13/2006 | IN
Boynton Beach EFL. Imaging Center, LLC, 2300 S Congress Avenue, Boynton Beach, FL 33426 | 272376000 | 06/13/2006 | FL | #105.
Aurora Medical Center Oshkosh, 855 N. Westhaven Drive, Oshkosh, WI 54904 | 590198 | 06/13/2006 | WI
Southeast GYN, Oncology PET, 5210 Belfort Road, Jacksonville, FL 32256 | 45542 | 06/13/2006 | FL | Suite 130.
Stockton MRI & Molecular Imaging Medical, 2320 N. California Street #2, Stockton, CA 95219 | ZZZ290872 | 06/13/2006 | CA
South Texas Cancer Center, 2150 N. Expressway 83, Brownsville, TX 78521 | 14041756 | 06/13/2006 | TX
Southwest Cancer Care Medical Group, 5395 Ruffin Road, San Diego, CA 92123 | W4957B | 06/13/2006 | CA | #202.
Radiology Associates of Venice and Englewood, P.A., 512-516 S. Nokomis Avenue, Venice, FL 34285 | 99390 | 06/13/2006 | FL
Langlade Memorial Hospital Oncology, 112 E 5th Avenue, Antigo, WI 54409 | 521350 | 06/13/2006 | WI
RCOA Imaging Services, 305 South 5th, Enid, OK 73701 | 400522301 | 06/13/2006 | OK
North Shore Hematology Oncology Associates, PC, 235 N. Belle Mead Road, East Setauket, NY 11733 | W04051 | 06/13/2006 | NY
Providence Holy Cross Imaging Center, 26357 McBean Parkway, Suite 155, Santa Clarita, CA 91355 | TP129 | 06/13/2006 | CA
Alaska Open Imaging Center, LLC, 6911 DeBarr Road, Anchorage, AK 99504 | K153149 | 06/13/2006 | AK
Temecula Valley Nuclear Medicine, 25485 Medical Center Drive, Murrieta, CA 92562 | 00A417170 | 06/13/2006 | CA | Suite 102.
Hematology Oncology Assoc. of the Treasure Coast, 1801 SE. Hillmoor Drive, Port Saint Lucie, FL 34952 | 40806 | 06/13/2006 | FL | Suite B-107 (Mobile).
The Center for Cancer and Blood Disorders, 800 W. Magnolia Avenue, Fort Worth, TX 76104 | 00L79L | 06/13/2006 | TX
Alliance Imaging—South Coast Med Ctr, 31872 Pacific Coast Highway, Laguna Beach, CA 92651 | TG281B | 06/13/2006 | CA
The Medical Center at Bowling Green, 250 Park Street, Bowling Green, KY 42101 | 180013 | 06/13/2006 | KY | PET/CT Center.
Johns Hopkins Bayview Medical Center, 4940 Eastern Avenue, Baltimore, MD 21224 | 210029 | 06/13/2006 | MD | Imaging Dept.—Nuclear Medicine.
University of Michigan, Department of Radiology, 1500 E. Medical Center Drive, Ann Arbor, MI 48109 | 230046 | 06/13/2006 | MI | Box 0028, B1H418 University Hospital.
Carmichael Imaging, LLC, 4147 Carmichael Road, Montgomery, AL 36106 | 51551742 | 06/13/2006 | AL
Clearfield Hospital, 809 Turn Pike Avenue, Clearfield, PA 16830 | 390052 | 06/13/2006 | PA
Clinical Pet of Hernando, 4003 Mariner Boulevard, Spring Hill, FL 34609 | V2683 | 06/13/2006 | FL
Booth Radiology, 105 Kings Way, W. Hurffville-Crosskeys Road, Sewell, NJ 08080 | 39460 | 06/13/2006 | NJ
Clinical PET of Zepherhills, 38044 Daughtery Road, Zephyr Hills, FL 33542 | E7179B | 06/13/2006 | FL
Radiology & Diagnostic Imaging, 2200 East Parrish Avenue, Owensboro, KY 42303 | 3641 | 06/13/2006 | KY | Building D.
Santa Monica Bay Physicians, 12524 W. Washington Boulevard, Los Angeles, CA 90066 | W14560 | 06/13/2006 | CA
Missouri Baptist Medical Center, 3023 N. Ballas Road, St. Louis, MO 63141 | 260108 | 06/13/2006 | MO | Suite 150, Building D.
Radiology Associates of Tallahassee, P.A., 1600 Phillips Road, Tallahassee, FL 32308 | 60 | 06/13/2006 | FL
Pacific Imaging—Oakland, 3200 Telegraph, Oakland, CA 94609 | 1265480099 | 06/13/2006 | CA
Medical Group of North County, 5395 Ruffin Road #202, San Diego, CA 92123 | W11609 | 06/13/2006 | CA | #202.
Somerset Community Hospital, 225 South Center Avenue, Somerset, PA 15501 | 390039 | 06/13/2006 | PA
Elmbrook Memorial Hospital, 19333 W. North Avenue, Brookfield, WI 53045 | 520170 | 06/13/2006 | WI
San Luis Diagnostic Medical Associates, 1100 Monerery Street, San Luis Obispo, CA 93401 | W14221 | 06/13/2006 | CA | Suite 210.
Cancer Care Centers of S.Texas, P.A. (New Braunfels), 1448 Common Street, New Braunfels, TX 78130 | 00U40Q | 06/13/2006 | TX
Cancer Care Centers of S.Texas, P.A. (San Antonio), 8109 Fredericksburg Road, San Antonio, TX 78229 | 00U40Q | 06/13/2006 | TX
Cancer Care Centers of S.Texas, P.A.(Kerrville), 694 Hill Country Drive, Kerrville, TX 78028 | 00U40Q | 06/13/2006 | TX
San Antonio Molecular Imaging SAMI, 9102 Floyd Curl Drive, San Antonio, TX 78240 | FTN025 | 06/13/2006 | TX | Suite 193.
Pacific Medical Imaging and Oncology Center, Inc., 707 South Garfield Avenue, Alhambra, CA 91801 | W19267 | 06/13/2006 | CA | Suite B-001.
Northern IL Cancer Treatment Center, 327 IL Route 2, Dixon, IL 61021 | 210699 | 06/13/2006 | IL
Cancer Care Center, 2210 Green Valley Road, New Albany, IN 47150 | 243690 | 06/13/2006 | IN | Suite 1.
Northeast Radiology, 3839 Danbury Road, Brewster, NY 10509 | 1134118607 | 06/13/2006 | NY
New England PET Imaging System, 70 East Street, Methuen, MA1844 | M20762 | 06/13/2006 | MA
Southeast Texas PET Imaging, 690 North 14th Street, Beaumont, TX 77702 | 0004CC | 06/13/2006 | TX
Sun City West PET Scan, 14418 W. Meeker Boulevard, Sun City West, AZ 85374 | 102496 | 06/13/2006 | AZ | Suite 105.
Butler Memorial Hospital, 911 East Brady Street, Butler, PA 16001 | 390168 | 06/13/2006 | PA
Diagnos, Inc., d.b.a. Diagnos PET/CT Imaging, 2000 North Loop West, Houston, TX 77018 | ftnx11 | 06/13/2006 | TX | Suite 100.
Alliance Imaging—Washington Hospital, 38950 Civic Center Drive, Fremont, CA 94538 | ZZZ28890Z | 06/13/2006 | CA
Providence Saint Joseph Hospital, 201 S Buena Vista, Burbank, CA 91505 | 50235 | 06/13/2006 | CA | #125.
Alliance Imaging—Centinela Freeman, 333 Prairie Avenue, Inglewood, CA 90301 | TG281 | 06/13/2006 | CA
Alliance Imaging—Corona Regional Hospital, 800 S. Main Street, Corona, CA 91720 | ZZZ23042Z | 06/14/2006 | CA
Alliance Imaging—St. Mary's Regional Medical Center, 235 W. 6th Street, Reno, NV 89503 | 37860 | 06/14/2006 | NV | 235 W. 6th Street.
Alliance Imaging—Downey Regional Medical Center, 11500 Brookshire Avenue, Downey, CA 90241 | TG490 | 06/14/2006 | CA
Alliance Imaging—Visalia Medical Clinic, 5400 W. Hillsdale Drive, Visalia, CA 93291 | ZZZ23046Z | 06/14/2006 | CA
Alliance Imaging—Anaheim Memorial Medical Center, 1111 W. La Palma Avenue, Anaheim, CA 92801 | TD017C | 06/14/2006 | CA | Anaheim Memorial Medical Center.
Glendale Diagnostic Imaging Network Medical Office, 403 South Glendale Avenue, Glendale, CA 91205 | W19100 | 06/14/2006 | CA
Advanced Imaging at Baybrook, 11 Murray Street, Glens Falls, NY 12801 | 33554a | 06/14/2006 | NY
Elizabethtown Hematology-Oncology PLC, 1107 Woodland Drive, Elizabethtown, KY 42701 | 3638 | 06/14/2006 | KY | Suite 105.
Northern Arizona Radiology, 77 W. Forest Avenue, Suite 101, Flagstaff, AZ 86001 | WCGJX | 06/14/2006 | AZ
Suburban Imaging—Coon Rapids, 8990 Springbrook Drive, Suite 140, Coon Rapids, MN 55433 | 3087 | 06/14/2006 | MN
Covenant Medical Center, 200 East Ridgeway Avenue, Waterloo, IA 50702 | 421264647 | 06/14/2006 | IA
Mayo Clinic Rochester, 10, 3rd Avenue NW., Rochester, MN 55905 | 1922074434 | 06/14/2006 | MN | Charlton Building.
Thousand Oaks Diagnostic Imaging Center, 2180 Lynn Road, Thousand Oaks, CA 91360 | TP118 | 06/14/2006 | CA
InnerVision Advanced Medical Imaging, 3801 Amelia Avenue, Lafayette, IN 47905 | 167840 | 06/14/2006 | IN
UT M.D. Anderson Cancer Center—PET Facility, 1220 Holcombe Boulevard, Houston, TX 77030 | 450076 | 06/14/2006 | TX | ACB 6th Floor.
Emory University Hospital, 1364 Clifton Road, NE., Atlanta, GA 30322 | 110010 | 06/14/2006 | GA | Room E121 Nuclear Medicine/PET.
Glendale MRI Institute, 624 S. Central Avenue, Glendale, CA 91204 | HW9951 | 06/14/2006 | CA
Princeton Radiology, 9 Centre Drive, Jamesburg, NJ 8540 | 526492 | 06/14/2006 | NJ
Caromont Imaging Services, 620 Summit Crossing Place, Gastonia, NC 28054 | 340032 | 06/14/2006 | NC | Suite 106.
North Central Imaging, 155 Sonterra Boulevard, Suite 100, San Antonio, TX 78258 | 00867N | 06/14/2006 | TX
Robert L.B. Tobin Diagnostic Imaging Center, 7979 Wurzbach Drive, Suite U113, San Antonio, TX 78229 | 00867N | 06/14/2006 | TX
Edwards Comprehensive Cancer Center, 1400 Hal Greer, Huntington, WV 25701 | 510055 | 06/14/2006 | WV
Home Hospital GLHS, 2400 South Street, Lafayette, IN 47904 | 150109 | 06/14/2006 | IN
St. Luke's North PET, 153 Brodhead Road, Bethlehem, PA 18017 | 390049 | 06/14/2006 | PA
Alamance Regional Medical Center, 1240 Huffman Mill Road, Burlington, NC 27216-0202 | 340070 | 06/14/2006 | NC | PO Box 202.
Verrazano Radiology, 256 Mason Avenue, Staten Island, NY 10305 | 1698 | 06/14/2006 | NY
Total Imaging Sun City, 3862 Sun City Center, Sun City Center, FL 33571 | U4840 | 06/14/2006 | FL
Ortonville Area Health Services, 450 Eastvold Avenue, Ortonville, MN 56278 | 241342 | 06/14/2006 | MN
Merle West Medical Center, 2865 Daggett, Klamath Falls, OR 97601 | 380050 | 06/14/2006 | OR
Elite Imaging, LLC, 2845 Aventura Boulevard, Aventura, FL 33180 | K3535 | 06/14/2006 | FL | Suite 145.
St Mary Centralia, 400 N Pleasant, Centralia, IL 62801 | 140034 | 06/14/2006 | IL
North Texas Regional Cancer Center, 3705 W 15th Street, Plano, TX 75075 | 00543K | 06/14/2006 | TX
Centegra Health System, 4201 Medical Center Drive, McHenry, IL 60050 | 140116 | 06/14/2006 | IL
Boston Diagnostic Imaging, 398 East Altamonte Drive, Altamonte Springs, FL 32701 | 77022 | 06/14/2006 | FL
William W. Backus Hospital, 326 Washington Street, Norwich, CT 06360 | 70024 | 06/14/2006 | CT
NSMS—Sparta, IL, 4253 Argosy Court, Madison, WI 53714 | 208196 | 06/14/2006 | WI
LaPorte Hospital & Healthcare Services, 1007 Lincolnway, LaPorte, IN 46350 | 150006 | 06/14/2006 | IN
Skagit Valley Hospital, 1415 E. Kincaid, Mt.Vernon, WA 98273 | 500003 | 06/14/2006 | WA
Alliance Imaging—Fairfield Hosp, 303 NW 11th Street, Fairfield, IL 62837 | 213393 | 06/14/2006 | IL
Anderson Hospital, 6800 State Route 162, Maryville, IL 62062 | 212761 | 06/14/2006 | IL
Alliance Imaging—Dean, 1313 Fish Hatchery Road, Madison, WI 53715 | 92170 | 06/14/2006 | WI
Alliance Imaging—Research, 2316 E. Meyer Blvd., Kansas City, MO 64112 | 9004263A | 06/14/2006 | MO
Alliance Imaging—St. Joseph, 1000 Carondelet Drive, Kansas City, MO 64114 | 9004263A | 06/14/2006 | MO
Beebe Health Campus, d.b.a. Beebe Medical Center, 18941 John J Williams Highway, Rehoboth, DE 19971 | 80007 | 06/14/2006 | DE
Medical Outsourcing Services, LLC, 1200 Maple Road, Joliet, IL 60432 | 211223 | 06/14/2006 | IL
Silver Spring Radiology, 10801 Lockwood Drive, Silver Spring, MD 20901 | FDX009 | 06/14/2006 | MD | Suite 170.
New England PET of Greater Lowell, 295 Varnum Avenue, Lowell, MA 01854 | 327080 | 06/14/2006 | MA
Stanford University, 900A Blake Wilbur Drive, Stanford, CA 94305 | 50441 | 06/14/2006 | CA
Medical Outsourcing Services, LLC, 3333 W DeYoung Street, Marion, IL 62959 | 211224 | 06/14/2006 | IL
Medical Outsourcing Services, LLC, 1700 Clinton Street, Muskegon, MI 49443 | 230066 | 06/14/2006 | MI
Medical Outsourcing Services, LLC, 1001 Bellefontaine Avenue, Lima, OH 45807 | MEID02391 | 06/14/2006 | OH
Golf Diagnostic Imaging Center, 9680 Golf Road, Des Plaines, IL 60016 | 378810 | 06/14/2006 | IL
Medical Outsourcing Services, LLC, 2816 South Ellis Avenue, Chicago, IL 60616 | 211222 | 06/14/2006 | IL
Medical Outsourcing Services, LLC, 1100 E. Norris Drive, Ottawa, IL 61350 | 211224 | 06/14/2006 | IL
Medical Outsourcing Services, LLC, 111 E Spring Street, Streator, IL 61364 | 211224 | 06/14/2006 | IL
Mansfield Imaging Center, 536 S Trimble Road, Mansfield, OH 44906 | MAD10921 | 06/14/2006 | OH | Suite A.
Manhattan Diagnostic Radiology, 400 East 66th Street, New York, NY 10021 | W23211 | 06/14/2006 | NY
Riverside Walter Reed Hospital, 7519 Hospital Drive, Gloucester, VA 23061 | 490130 | 06/14/2006 | VA
Good Shepherd Hospital, 450 West Highway 22, Barrington, IL 60010 | 140291 | 06/14/2006 | IL
Alliance Imaging—Presbyterian Intercomm Hospital, 12401 Washington Boulevard, Whittier CA 90602 | TG281A | 06/14/2006 | CA | Presbyterian Intercommunity Hospital.
Altru Hospital, 1200 S. Columbia Road, Grand Forks, ND 58201 | 350019 | 06/14/2006 | ND
Mid American Imaging—Union Hospital, 659 Boulevard, Dover, OH 44622 | ID00805 | 06/14/2006 | OH
Gundersen Clinic, 1900 South Avenue, Lacrosse, WI 54601 | 34217 | 06/14/2006 | WI
University of Minnesota Medical Center, Fairview, 500 Harvard Street, SE., Box 292, Minneapolis, MN 55455 | C02390 | 06/14/2006 | MN
The Christ Hospital, 2139 Auburn Avenue, Cincinnati, OH 45219 | 360163 | 06/14/2006 | OH
West Michigan Cancer Center, 200 N. Park Street, Kalamazoo, MI 49007 | 0N66660 | 06/14/2006 | MI
Cyrus Diagnostic Imaging, Inc., 165 Waymont Court, Lake Mary, FL 32746 | 40586 | 06/14/2006 | FL
Cancer Centers of Florida, 1561 West Fairbanks Avenue, Winter Park, FL 32789 | K1833 | 06/14/2006 | FL
Cedars-Sinai Medical Center, 8700 Beverly Boulevard, Adler-Nail PET Center, Los Angeles, CA 90048 | 951644600 | 06/14/2006 | CA | S. Mark Taper Foundation Imaging Center.
Cancer Centers of Florida, 52 West Gore Street, Orlando, FL 32806 | K1833 | 06/14/2006 | FL
Cancer Centers of Florida, 1111 Blackwood Avenue, Ocoee, FL 34761 | K1833 | 06/14/2006 | FL
Mt. Clemens Regional Medical Center, 1000 Harrington, Mt. Clemens, MI 48043 | 230227 | 06/14/2006 | MI
Truxtun Radiology Medical Group, L.P., 1818 16th Street, Bakersfield, CA 93301 | ZZZ25213Z | 06/14/2006 | CA
Medical Outsourcing Services, LLC, 1515 North Madison Avenue, Anderson, IN 46011 | 223260 | 06/14/2006 | IN
Medical Outsourcing Services, LLC, 1215 Franciscan Drive, Litchfield, IL 62056 | 211224 | 06/14/2006 | IL
Piedmont Medical Center, 1968 Peachtree Road NW., Atlanta, GA 30305 | 110083 | 06/14/2006 | GA
Medical Outsourcing Services, LLC, 1400 West Park Street, Urbana, IL 61801 | 211224 | 06/14/2006 | IL
Central Indiana PET, LLC, 8301 Harcourt Road, Suite 100, Indianapolis, IN 46260 | 201930 | 06/14/2006 | IN
Medical Outsourcing Services, LLC, 812 North Logan, Danville, IL 61832 | 211224 | 06/14/2006 | IL
Queens Medical Imaging, PC, 69-15 Austin Street, Forest Hills, NY 11375 | 1023011285 | 06/14/2006 | NY
NYOH PET/CT Imaging, 43 New Scotland Avenue, Albany, NY 12208 | 56917A | 06/14/2006 | NY
Conroe Regional Medical Center, 504 Medical Center Boulevard, Conroe, TX 77304 | 450222 | 06/14/2006 | TX
Northeast Georgia Health System, Inc., Northeast Georgia Medical, Center, 743 Spring Street Gainesville, GA 30501 | 110029 | 06/14/2006 | GA
Texas Oncology, PA—Mckinney, 4510 Medical Center Drive, Mckinney, TX 75069 | 00543K | 06/14/2006 | TX | #215.
Medical Outsourcing Services LLC, 7150 Clearwater Drive, Indianapolis, IN 46256 | 223260 | 06/14/2006 | IN
Medical Outsourcing Services LLC, 1402 East County Line Road, Indianapolis, IN 46227 | 223260 | 06/14/2006 | IN
Texas Cancer Center—Sherman, 2800 Highway 75 North, Sherman, TX 75090 | 00543K | 06/14/2006 | TX
Medical Outsourcing Services LLC, 120 Ralston Avenue, Defiance, OH 43512 | MEID02391 | 06/14/2006 | OH
Medical Outsourcing Services LLC, 2400 N Rockton Avenue, Rockford, IL 61103 | 211224 | 06/14/2006 | IL
Arlington Cancer Center, 906 W. Randol Mill Road, Arlington, TX 76012 | 00LK20 | 06/14/2006 | TX
Jupiter Medical Center, 2055 Military Trail, Jupiter, FL 33458 | 100253 | 06/14/2006 | FL
Cheyenne Radiology Group and MRI, PC, 2003 Bluegrass Circle, Cheyenne, WY 82009 | W309142 | 06/14/2006 | WY
Hunterdon Imaging, PA, 2100 Wescott Drive, MRI Suite, Flemington, NJ 08822 | 714119 | 06/14/2006 | NJ
Medical Outsourcing Services, LLC, 200 Berteau Avenue, Elmhurst, IL 60126 | 211223 | 06/14/2006 | IL
Magnolia Regional Center, 611 Alcorn Drive, Corinth, MS 38834 | 250009 | 06/14/2006 | MS
Monroe Clinic, 515 22nd Avenue, Monroe, WI 53566 | 520028 | 06/14/2006 | WI
Jupiter Hematology-Oncology Association, 345 Jupiter Lakes Boulevard, Jupiter, FL 33458 | 34922 | 06/14/2006 | FL | Suite 100.
Southwest Regional Cancer Center, 901 West 38th Street, Austin, TX 78705 | 0080BY | 06/14/2006 | TX
Positron Imaging Of Austin, 6101 Balcones Drive, Austin, TX 78731 | 00538K | 06/14/2006 | TX
Southern Ocean County Hospital, 1140 Route 72 West, Manahawkin, NJ 08050 | 310113 | 06/14/2006 | NJ | Radiology.
Medical Outsourcing Services, LLC, 9830 S. Ridgeland Road, Chicago Ridge, IL 60145 | 211222 | 06/14/2006 | IL
Medical Outsourcing Services, LLC, 430 West Votaw Street, Portland, IN 47374 | 223260 | 06/14/2006 | IN
Saint Agnes Medical Center, 1303 E. Herndon Avenue, Fresno, CA 93720 | 50093 | 06/14/2006 | CA
Central Physicians Imaging, 100 Southland Drive, Lexington, KY 40503 | 9375001 | 06/14/2006 | KY | Suite B.
NEA Medical Center, 3024 Stadium Blvd, Jonesboro, AR 72401 | 1386699353 | 06/14/2006 | AR
Northgate Medical Imaging, LLC, 807 Northgate Boulevard, New Albany, IN 47150 | 1205894235 | 06/14/2006 | IN
Ball Memorial Hospital, 2401 University Avenue, Muncie, IN 47303 | 150089 | 06/14/2006 | IN
The MRI Center, 5200 Harroun Road, Sylvania, OH 43560 | 360074 | 06/14/2006 | OH | Flower Hospital.
St. Joseph Regional Health Center, 2801 Franciscan Drive, Bryan, TX 77802 | 450011 | 06/14/2006 | TX
Steinberg Diagnostic (SDMI), 2850 Siena Heights Drive, Henderson, NV 89052 | WCHCC | 06/14/2006 | NV
Raritan Bay Medical Center, 1 Hospital Plaza, Old Bridge, NJ 08857 | 310039 | 06/14/2006 | NJ
MRI CTR St. Anne Mercy Hospital, 3404 W Sylvania Avenue, Toledo, OH 43623 | 360262 | 06/14/2006 | OH
MRI CTR St. Charles Mercy Hospital, 2600 Navarre Avenue, Oregon, OH 43616 | 360081 | 06/14/2006 | OH
MRI CTR St. Luke's Hospital, 2901 Monclova Road, Maumee, OH 43537 | 360090 | 06/14/2006 | OH
MRI CTR St. Vincent Medical Center, 2213 Cherry Street, Toledo, OH 43608 | 360112 | 06/14/2006 | OH
MRI CTR Toledo Hospital, 2142 N Cove Boulevard, Toledo, OH 43606 | 360068 | 06/14/2006 | OH
McAlester Regional Health Center, One Clark Bass Boulevard, McAlester, OK 74501 | 370034 | 06/14/2006 | OK
Express Imaging Center, Ltd., 1987 West Fourth Street, Mansfield, OH 44906 | 9299151 | 06/14/2006 | OH | Suite A.
Mercy Regional Medical Center, 375 East Park Avenue, Durango, CO 81301 | 60013 | 06/14/2006 | CO
Texas Oncology—Longview Cancer Center PET, 1300 N. Fourth Street, Longviews, TX 75601 | 00T35E | 06/14/2006 | TX
UNC Hospitals, 101 Manning Drive, Chapel Hill, NC 27514 | 3400610 | 06/14/2006 | NC | PET Dept Basement W/C Hospital.
DeKalb Medical Center—Diagnostic Imaging Center, 2701 North Decatur Road, Decatur, GA 30033 | 110076 | 06/14/2006 | GA
Long Island Pet Imaging, 6 Ohio Drive, Lake Success, NY 11042 | W4921 | 06/14/2006 | NY | Suite 101.
Vanderbilt University Medical Center, 1161 21st Avenue South, Nashville, TN 37232 | 3284867 | 06/14/2006 | TN | Building 1251 RRB.
Medical Outsourcing Services, LLC, 1800 E. Lakeshore Drive, Decatur, IL 62521 | 211224 | 06/14/2006 | IL
New York Pet and CTA Imaging Center, 7404 5th Avenue, Brooklyn, NY 11209 | 1083680003 | 06/14/2006 | NY
Mercy Medical Center—North Iowa, 1000 4th SW., Mason City, IA 50401 | 160064 | 06/14/2006 | IA
Lawrence and Memorial Hospital, 365 Motauk Avenue, New London, CT 06320 | 70007 | 06/14/2006 | CT
Superior Medical Diagnostics II, LLC, 235 Franklin Avenue, Nutley, NJ 07110 | 68423 | 06/14/2006 | NJ
Oncology Specialists, S.C., 7900 N. Milwaukee Avenue, Niles, IL 60714 | 587940 | 06/14/2006 | IL | Suite 16.
Hahnemann University Hospital, Broad & Vine, MS300, Philadelphia, PA 19102 | 390290 | 06/14/2006 | PA
Shrewsbury Diagnostic Imaging, LLC, 1131 Broad Street, Shrewsbury, NJ 07702 | 24021 | 06/14/2006 | NJ | Suite 110.
Medical Outsourcing Services, LLC, 500 West Court Street, Kankakee, IL 60901 | 211224 | 06/14/2006 | IL
Forsyth Medical Center, 3333 Silas Creek Parkway, Winston Salem, NC 27103 | 3400014 | 06/14/2006 | NC
Medical Outsourcing Services, LLC, 500 John Deere Road, Moline, IL 61265 | 211224 | 06/14/2006 | IL
Medical Outsourcing Services, LLC, 836 W. Wellington Avenue, Chicago, IL 60657 | 211222 | 06/14/2006 | IL
Medical Outsourcing Services, LLC, 1600 West Walnut, Jacksonville, IL 62650 | 211224 | 06/14/2006 | IL
Medical Outsourcing Services, LLC, 1600 23rd Street, Bedford, IN 47471 | 223260 | 06/14/2006 | IN
Medical Outsourcing Services, LLC, 1500 North Ritter Avenue, Indianapolis IN 46219 | 223260 | 06/14/2006 | IN
Medical Outsourcing Services, LLC, 1221 N. Highland, Aurora, IL 60506 | 211223 | 06/14/2006 | IL
Medical Outsourcing Services, LLC, 1000 Lincoln Health Center Drive, Mattoon, IL 61938 | 211224 | 06/14/2006 | IL
Salinas Valley Memorial Healthcare System, 450 E. Romie Lane, Salinas, CA 93901 | 50334 | 06/14/2006 | CA
Bridgeport Hospital, 267 Grant Street, Bridgeport, CT 6610 | 70010 | 06/14/2006 | CT
MRIGP, Inc., d.b.a. Advanced Medical Imaging Diamond H., 2490 W 26th Avenue, Suite 20A, Denver, CO 80211 | H8808 | 06/14/2006 | CO
Rancho PET Imaging, 5120 Belfort Boulevard, Suite 130, Jacksonville, FL 32256 | 40259 | 06/14/2006 | FL
Presbyterian Hospital, 200 Hawthorne Lane, Charlotte, NC 28204 | 560554230 | 06/14/2006 | NC
Eisenhower Imaging Center, 39000 Bob Hope Drive, Rancho Mirage, CA 92210 | ZZZ91572Z | 06/14/2006 | CA
Lower Level Lucy Curci Cancer Center, Mississippi Baptist Medical, Center, 501 Marshall Street Jackson, MS 39202 | 250102 | 06/14/2006 | MS
Texas Oncology—South Texas Cancer Center, 2121 Pease Street, Suite 101, Harlingen, TX 78550 | 14041756 | 06/14/2006 | TX | Texas Oncology—South Texas Cancer Center.
Valley Radiologists, Ltd.—Paseo II Office, 5605 W. Eugie Avenue, Suite 110, Glendale, AZ 85304 | WCFHS | 06/14/2006 | AZ
Good Samaritan Hospital, 400 15th Avenue SE, Puyallup, WA 98372 | 500079 | 06/14/2006 | WA
St. John's Mercy Hospital, 851 5th Street, Washington, MO 63090 | 260052 | 06/14/2006 | MO
Memorial Hermann The Woodlands OPID, 9200 Pinecroft Drive, Suite 100, The Woodlands, TX 77380 | 741152597 | 07/14/2006 | TX
St. Luke's Hospital, 232 South Wood's Mill Road, Chesterfield, MO 63017 | 260179 | 07/14/2006 | MO
Lake Vista Cancer Center, 2790 Lake Vista Drive, Lewisville, TX 75067 | 00543K | 07/14/2006 | TX
Palms Imaging Medical Group, Inc., 1901 Outlet Center Drive, Oxnard, CA 93036 | W19564 | 07/14/2006 | CA
Houston Medical Imaging, LLC, 3310 Richmond Avenue, Houston, TX 77006 | 00137K | 07/14/2006 | TX
Alliance Imaging—West Anaheim Medical Center, 3033 W. Orange Avenue, Anaheim, CA 92804 | TD017 | 07/14/2006 | CA
Winthrop PET Imaging Center, 222 Station Plaza North, Suite 140, Mineola, NY 11501 | 330167 | 07/14/2006 | NY
Greenville Hospital System, University Medical Center, Greenville, SC 29605 | 420078 | 07/14/2006 | SC
High Field Open MRI, 1895 Jefferson Road, Rices Landing, PA 15357 | 7885 | 07/14/2006 | PA
PET/CT Center at-St. Anthony's POB, 1201 5th Avenue North, St. Petersburg, FL 33705 | E5753 | 07/14/2006 | FL | Suite 100.
Texas Oncology—Deke Slayton Cancer Center, 501 Medical Center, Webster, TX 77598 | 00t40e | 07/14/2006 | TX
Invision North Florida Outpatient Imaging Center, 6605 NW. 9th Boulevard, Gainesville, FL 32609 | E4639 | 07/14/2006 | FL
Memorial Hospital of Union County, 500 London Avenue, Marysville, OH 43040 | 360092 | 07/14/2006 | OH
Texas Oncology/South Texas Cancer Center—McAllen, 1901 S. 2nd Street, McAllen, TX 78503 | 00N39J | 07/14/2006 | TX
Baylor Medical Center at Irving, 1901 North MacArthur Boulevard, Irving, TX 75061 | 450079 | 07/14/2006 | TX
Providence Park Hospital, 47601 Grand River Avenue, Novi, MI 48374 | 230019 | 07/14/2006 | MI
Texas Oncology—Abilene, 1957 Antilley Road, Abilene, TX 79606 | 140414748 | 07/14/2006 | TX
St. Anthony Hospital, 1000 North Lee Street, Oklahoma City, OK 73101 | 370037 | 07/14/2006 | OK
Rice Memorial Hospital, 301 Becker Avenue SW., Willmar, MN 56201 | 240088 | 07/14/2006 | MN
LDS Hospital Nuclear Medicine, 8th Avenue & C Street, Salt Lake City, UT 84143 | 460010 | 07/14/2006 | UT
RMG First & Laurel Imaging Center, 2466 First Avenue, San Diego, CA 92101 | W14057 | 07/14/2006 | CA
RMG Gardenview Imaging Center, 1200 Gardenview Road, Encinitas, CA 92024 | W14057F | 07/14/2006 | CA | Suite 110.
Decatur County Memorial Hospital, 720 North Lincoln Street, Greensburg, IN 47240 | 150062 | 07/14/2006 | IN
Midland Imaging Center, 5001 Andrews Highway, Midland, TX 79703 | 00U75H | 07/14/2006 | TX
Advanced Imaging, LLC, 3433 NW. 56th C-10, Oklahoma City, OK 73112 | 400522379 | 07/14/2006 | OK
University of Iowa Hospitals and Clinics, 200 Hawkins Drive, Iowa City, IA 52242 | 160058 | 07/14/2006 | IA
AZ Oncology Associates PET/CT & CT Imaging Center, 2070 W. Rudasill Road, Tucson, AZ 85704 | 25291 | 07/14/2006 | AZ | Suite 110.
Medical Diagnostic Imaging, 14 Raymond Avenue, Poughkeepsie, NY 12603 | EEN841 | 07/14/2006 | NY
Shore Memorial Hospital, 10085 William F. Bernart Circle, Nassawadox, VA 23413 | 540560500 | 07/14/2006 | VA
Deaconess Hospital, 600 Mary Street, Evansville, IN 47747 | 150082 | 07/14/2006 | IN
Great Neck Imaging, P.C., 907 Northern Boulevard, Great Neck, NY 11021 | 1487646311 | 07/14/2006 | NY
FMH Rose Hill, 1562 Opossumtown Pike, Frederick, MD 21702 | KP72 | 07/14/2006 | MD
Oakwood Annapolis Hospital, 33155 Annapolis Road, Wayne, MI 48184 | 230142 | 07/14/2006 | MI
The Regional Cancer Center, 2500 West 12th Street, Erie, PA 16505 | 140052 | 07/14/2006 | PA
Meritcare Hospital, 801 North Broadway, Fargo, ND 58122 | 350011 | 07/14/2006 | ND
Community Hospitals and Wellness Centers, 433 W. High Street, Bryan, OH 43506 | 360121 | 07/14/2006 | OH
Sacred Heart Hospital, 900 W. Clairemont Avenue, Eau Claire, WI 54701 | 520013 | 07/14/2006 | WI
Via Radiology—Meridian Pavilion, 11011 Meridian Avenue, North #101, Seattle, WA 98133 | 8859612 | 07/14/2006 | WA
Medical Outsourcing Services, LLC, 2200 Market Street, Charlestown, IN 47111 | 223260 | 07/14/2006 | IN
Allegheny General Hospital, 320 East North Avenue, Pittsburgh, PA 15232 | 60503 | 07/14/2006 | PA | Division of Nuclear Medicine.
Texas Oncology—12th Avenue, 1001 W. 12th Avenue, Fort Worth, TX 76104 | 00R66C | 07/14/2006 | TX
Southwest Fort Worth Cancer Center, 6500 Harris Parkway, Fort Worth, TX 76132 | 00R66C | 07/14/2006 | TX
St. Rita's Medical Center, 730 W. Market Street, Lima, OH 45801 | 360066 | 07/14/2006 | OH
New Mexico Oncology Hematology Consultants, Ltd., 4901 Lang Avenue NE., Albuquerque, NM 87109 | 850367056 | 07/14/2006 | NM
Emory Eastside Medical Center, 545 Old Norcross Road, Lawrenceville, GA 30045 | 110192 | 07/14/2006 | GA | Suite 200.
Riverside Regional Medical Center, 500 J. Clyde Morris Boulevard, Newport News, VA 23601 | 490052 | 07/14/2006 | VA
Connecticut Oncology & Hematology, 220 Kennedy Drive, Torrington, CT 6790 | C00633 | 07/14/2006 | CT
Chilton Memorial Hospital, 97 West Parkway, Pompton Plains, NJ 7444 | 310017 | 07/14/2006 | NJ
Riverside Diagnostic Center Williamsburg, 120 Kings Way, Williamsburg, VA 23188 | 490052 | 07/14/2006 | VA
Lawrence County MRI & Diagnostic Imaging Center, 2526 Wilmington Road, New Castle, PA 16105 | 68617 | 07/14/2006 | PA
Joint Township District Memorial Hospital, 200 St. Clair Street, Saint Marys, OH 45885 | 360032 | 07/14/2005 | OH
Radiation Therapy Regional Centers, 3680 Broadway, Fort Myers, FL 33901 | 77215 | 07/14/2006 | FL
Graduate Hospital, 1800 Lombard Street, Philadelphia, PA 19146 | 390285 | 07/14/2006 | PA | One Graduate Hospital.
Columbia Diagnostic Center, 1111 Paulison Avenue, Clifton, NJ 07015 | 94729 | 07/14/2006 | NJ
The Nebraska Medical Center, 4250 Dewey Avenue, Omaha, NE 68113 | 280013 | 07/14/2006 | NE
Memorial Hermann Memorial City OPID, 925 Gessner Road, Houston, TX 77024 | 741152597 | 07/14/2006 | TX
Clifton Springs Hospital and Clinic, 2 Coulter Road, Clifton Springs, NY 14432 | 330265 | 07/14/2006 | NY
Monongalia General Hospital, 1200 J. D. Anderson Drive, Morgantown, WV 26505 | 510024 | 07/14/2006 | WV | Monongalia General Hospital.
Providence Portland Medical Center, 4805 NE. Glisan Street, Portland, OR 97213 | 380061 | 07/14/2006 | OR
Highfield Open MRI, INC, 995 GreenTree Road, Pittsburgh, PA 15220 | 7885 | 07/14/2006 | PA
Providence St. Vincent Medical Center, 9205 SW Barnes Road, Portland, OR 97225 | 380004 | 07/14/2006 | OR
Conway Regional Imaging Center, 2120 Robinson, Conway, AR 72034 | 40029 | 07/14/2006 | AR
Martin Memorial Medical Center, 300 Hospital Avenue, Stuart, FL 34994 | 100044 | 07/14/2006 | FL
Northwest Medical Foundation of Tillamook, 1000 Third Street, Tillamook, OR 97141 | 381317 | 07/14/2006 | OR | Tillamook County General Hospital.
O'Connor Hospital, 2105 Forest Avenue, San Jose, CA 95128-1471 | 50153 | 07/14/2006 | CA
Midtown Imaging, LLC—Wellington, 440 N. State Road 7, Wellington, FL 33411 | E9133 | 07/14/2006 | FL
Midtown Imaging, LLC—Jupiter, 345 Jupiter Lakes Boulevard, Jupiter, FL 33458 | E9133 | 07/14/2006 | FL | Suite 100.
MMI/Mid Coast Hospital, 51 US Route 1, Scarborough, ME 4074 | 327079 | 07/14/2006 | ME | Suite ‘O’.
Molecular Imaging Institute, 5349 Commerce Boulevard, Crown Point, IN 46307 | 192870 | 07/14/2006 | IN
RCOA Imaging Services, 11937 US Highway 271, Tyler, TX 75708 | FTN022 | 07/14/2006 | TX
MMI/Maine Medical Center, 51 US Route 1, Scarborough, ME 4074 | 327079 | 07/14/2006 | ME
Radiology Ltd., 4640 East Camp Lowell Drive, Tucson, AZ 85712 | WCBBM | 07/14/2006 | AZ
Intermed Oncology Associates, S.C., 6701 159th Street, Tinley Park, IL 60477 | 610860 | 07/14/2006 | IL
Lakes Radiology, 450 Canisteo Street, Hornell, NY 14843 | 1710937727 | 07/14/2006 | NY
Opelousas PET/CT Imaging Center, 3975 I-49 South Service Road, Suite 100, Opelousas, LA 70570 | 5DA11 | 07/14/2006 | LA
Florida Cancer Institute—BRK, 7154 Medical Center Drive, Spring Hill, FL 34608 | 1427017326 | 08/07/2006 | FL
Capital Health System, 446 Belleview Avenue, Trenton, NJ 08618 | 310044 | 08/07/2006 | NJ
Hudson Valley Diagnostic Imaging, PLLC, 575 Hudson Valley Avenue, New Windsor, NY 12553 | WBH241 | 08/07/2006 | NY
St Joseph's Hospital, 3200 Pleasant Valley Road, West Bend, WI 53095 | 520063 | 08/07/2006 | WI
Atlantic Medical Imaging, 30 East Maryland Avenue, Somers Point, NJ 8244 | 101024 | 08/07/2006 | NJ
Providence Imaging Center, 3340 Providence Drive, Anchorage, AK 99508 | 2085R0202X | 08/07/2006 | AK
Rochester Radiology Associates, PC, 1277 Portland Avenue, Rochester, NY 14621 | 199726 | 08/07/2006 | NY
Melbourne Internal Medicine Associates, 1132 South Hickory Street, Melbourne, FL 32901 | 77167 | 08/07/2006 | FL
Highline Imaging, LLC, 275 SW. 160th, Seattle, WA 98166 | 8801784 | 08/07/2006 | WA
Tyler PET, 415 South Fleishel, Tyler, TX 75702 | 752131429 | 08/07/2006 | TX
Lake City Medical Center, 340 NW Commerce Drive, Lake City, FL 32055 | 100156 | 08/07/2006 | FL
Blount Memorial Hospital, 907 East Lamar Alexander Boulevard, Maryville, TN 37804 | 440011 | 08/07/2006 | TN
Texas Cancer Center Mesquite, 4700 North Galloway, Mesquite, TX 75150 | R339 | 08/07/2006 | TX
Rutland Regional Medical Center Diagnostic Image, 160 Allen Street, Rutland, VT 05701 | 470005 | 08/07/2006 | VT
MDMED, Inc., 155 Calle Portal, Suite 700, Sierra Vista, AZ 85635 | Z68496 | 08/07/2006 | AZ
Atlantic Medical Imaging Wall Township, 2399 North Highway 34, Manasquan, NJ 08736 | 101024 | 08/07/2006 | NJ | Ramshorn Executive Centre Building B.
Newport Imaging Center, 455 Old Newport Road Suite 101, Newport Beach, CA 92660 | W10829 | 08/07/2006 | CA
Cancer Care and Hematology Specialists(CCHSC), 8915 West Golf Road, Niles, IL 60714-05825 | 355030 | 08/07/2006 | IL
Hematology Oncology Associates of Illinois (HOAI), 715 West North Avenue, Melrose Park, IL 60160 | 218860 | 08/07/2006 | IL
Princeton Community Hospital, 122 12th Street Ext, Princeton, WV 24740 | 510046 | 08/07/2006 | WV | PO Box 1369.
TRICAT, LLC at Edison, 3830 Park Avenue, Edison, NJ 08820 | 27193 | 08/07/2006 | NJ | Suite 102.
Olathe Medical Center, 20333 W. 151st Street, Olathe, KS 66061 | 170049 | 08/07/2006 | KS
St. Joseph Hospital, 1140 West La Veta, Orange, CA 92868 | 50069 | 08/07/2006 | CA | 2nd Floor Nuclear Medicine.
Baptist Health Medical Center, 9601 I630, Exit 7, Little Rock, AR 72205-7299 | 40114 | 08/07/2006 | AR
Florida Cancer Specialists, 3840 Broadway, Fort Myers, FL 33901 | 1225064520 | 08/07/2006 | FL
Pacca PET Imaging, 5210 Belfort Road, Suite 130, Jacksonville, FL 32256 | 37572 | 08/07/2006 | FL
National P.E.T. Scan Palm Beach, LLC, 16110 Jog Road, Delray Beach, FL 33484 | 1164452405 | 08/07/2006 | FL | Suite 200.
Central Memphis Regional P.E.T. Imaging Center LLC, 1388 Madison Avenue, Memphis, TN 38104 | 1295719110 | 08/07/2006 | TN
Johnston Memorial Hospital, 351 Court Street NE., Abingdon, VA 24210 | 490053 | 08/07/2006 | VA
Lenox Hill Hospital, 100 East 77th Street, New York, NY 10021 | 131624070 | 08/07/2006 | NY
Mercy Medical Center, 411 Laurel Street, Suite 2310, Des Moines, IA 50314 | 160083 | 08/07/2006 | IA
New Orleans Regional PET Center, LLC, 3434 Prytania Street, Suite 120, New Orleans, LA 70115 | 1538143474 | 08/07/2006 | LA
Indiana Regional Medical Center Pet Imaging, 835 Hospital Road, Indiana, PA 15701 | 390173 | 08/07/2006 | PA | PO Box 788.
Mid American-Defiance Clinic, 1400 E. Second Street, Defiance, OH 43512 | ID00809 | 08/07/2006 | OH
Total Imaging Robertson, 737 West Brandon Boulevard, Brandon, FL 33511 | k7282 | 08/07/2006 | FL
New Tampa Imaging Center, 14302 N. Bruce B. Downs Boulevard, Tampa, FL 33613 | k57209 | 08/07/2006 | FL
Summit Imaging, 12037 Cortez Boulevard, Brooksville, FL 34613 | 40986 | 08/08/2006 | FL
University of NM Cancer Research & Treatment Center, 900 Caminodey Salud NE, Albuquerque, NM 87131 | 400521103 | 08/08/2006 | NM
Alliance Imaging—Los Alamitos Medical Center, 3751 Katella Avenue, Los Alamitos, CA 90720 | TD017 | 08/08/2006 | CA
NYU Clinical Cancer Center, Diagnostic Imaging, 160 E. 34th Street, New York, NY 10016 | W1L361 | 08/08/2006 | NY | 2nd Floor.
Margaret Mary Community Hospital, 321 Mitchell Avenue, Batesville, IN 47006 | 151329 | 08/08/2006 | IN
Quantum PET—Apple Hill, 37 Monument Road, York, PA 17403 | 40635 | 08/08/2006 | PA
Memorial Hospital, 1204 N. Mound Street, Nacogdoches, TX 75961 | 450508 | 08/08/2006 | TX
BMH—DeSoto, 7601 Southcrest Parkway, Southaven, MS 38671 | 250141 | 08/08/2006 | MS
Riverside Medical Center, 300 Bourbonnais Campus, Bourbonnais, IL 60914 | 140186 | 08/08/2006 | IL | Riverside Medical Center.
UCSD Center for Molecular Imaging, 11388 Sorrento Valley Road, Suite 100, San Diego, CA 92121 | TG302 | 08/08/2006 | CA
Imaging Partners at Valley, LLC, 400 South 43rd Street, Renton, WA 98055 | AB38657 | 08/08/2006 | WA | Olympia Building.
El Paso Cancer Treatment Center, 7848 Gateway East Boulevard, El Paso, TX 79915 | 00543K | 08/08/2006 | TX
Desert Radiologists, 3930 S Eastern Avenue, Las Vegas, NV 89119 | VWCCBT | 08/08/2006 | NV
Saint Joseph Hospital, 2900 North Lake Shore Drive, Chicago, IL 60068 | 140224 | 08/08/2006 | IL
Midstate Medical Center, 435 Lewis Avenue, Meriden, CT 6451 | 60646715 | 08/08/2006 | VT
Brookville Hospital, 100 Hospital Road, Brookville, PA 15825 | 391312 | 08/08/2006 | PA
Suntree Diagnostic Center, 6300 N. Wickham Road, Suite 101, Melbourne, FL 32940 | 701 | 08/08/2006 | FL
Virginia Mason Medical Center, 1100 Ninth Avenue, Seattle, WA 98101 | 500005 | 08/08/2006 | WA
Van Wert County Hospital, 1250 South Washington Street, Van Wert, OH 45891 | 360071 | 08/08/2006 | OH
Manhasset Diagnostic Imaging, PC, 1350 Northern Boulevard, 2nd Floor, Manhasset, NY 11030 | W14841 | 08/08/2006 | NY
Southern New Mexico Cancer Center, 150 Road Runner Parkway, Las Cruces, NM 88011 | 752131429 | 08/08/2006 | NM
Davis Memorial Hospital, Reed Street, Elkins, WV 26241 | 510030 | 08/08/2006 | WV | Gorman Avenue.
Advocate Good Samaritan Hospital, 3815 Highland Avenue, Downers Grove, IL 60515 | 140288 | 08/08/2006 | IL
Benefis Healthcare, 1101 26th Street South, Great Falls, MT 59405 | 270012 | 08/08/2006 | MT
Fort Walton Beach Medical Center, 1032 Mar Walt Drive, Fort Walton Beach, FL 32547 | 100223 | 08/08/2006 | FL
Blessing Hospital, PO Box #7005, Quincy, IL 62305 | 140015 | 08/08/2006 | IL
Alliance Imaging—Allen County Hospital, 101 South 1st Street, Iola, KS 53808 | 130656 | 08/08/2006 | KS
Florida Cancer Institute—NPR, 8763 River Crossing Boulevard, New Port Richey, FL 34655 | 1427017326 | 08/08/2006 | FL
Kimball Medical Center, 8763 River Crossing Boulevard, New Port Richey, FL 34655 | 315084 | 08/08/2006 | NJ
Radiology Imaging Associates at Heritage, 8926 Woodyard Road, Clinton, MD 20735 | 521454775 | 08/08/2006 | MD | Suite 502.
Immanuel Medical Center, 6901 North 72nd Street, Omaha, NE 68122 | 280081 | 08/08/2006 | NE
North Fork Radiology, 1333 Roanoke Avenue, Riverhead, NY 11901 | w11401 | 08/08/2006 | NY
South County PET Imaging, LLC, 10010 Kennerly Road, St. Louis, MO 63128 | 93053 | 08/08/2006 | MO
Carolinas Hospital System, 805 Pamplico Highway, Florence, SC 29505 | 621587267 | 08/08/2006 | SC
Radiology Associated of SLO, 522 E. Plaza Drive, Santa Maria, CA 93454 | GR0009774 | 08/08/2006 | CA
Florida Cancer Specialists—Port Charlotte, 22395 Edgewater Drive, Port Charlotte, FL 33980 | 1225064520 | 08/08/2006 | FL
Florida Cancer Specialists—Venice, 901 South Tamiami Trail, Venice, FL 34285 | 1225064520 | 08/08/2006 | FL
Florida Cancer Specialists—Bradenton, 6001 21st Avenue West, Bradenton, FL 34209 | 1225064520 | 08/08/2006 | FL
Nebraska Methodist Hospital, 8303 Dodge Street, Omaha, NE 68114 | 280040 | 08/08/2006 | NE
PET/CT Center of Richardson, 399 Melrose Drive, Richardson, TX 75080 | 1740207539 | 08/08/2006 | TX | Suite A.
Molecular Imaging at Sequoia Imaging Center, 4949 W. Cypress Avenue, Visalia, CA 93277 | ZZZ27463Z | 08/08/2006 | CA
Central Jersey Radiologists, 2128 Kings Highway, Oakhurst, NJ 7755 | 527995 | 08/08/2006 | NJ
Claxton-Hepburn Medical Center, 214 King Street, Ogdensburg, NY 13669 | 330211 | 08/08/2006 | NY
Memorial Hermann Southeast, 11800 Astoria Boulevard, Houston, TX 77089 | 741152597 | 08/08/2006 | TX
NSMS—Pine Bluff, AR, 4253 Argosy Court, Madison, WI 53714 | 5f168 | 08/08/2006 | WI
Yuma Regional Medical Center, 2400 S. Avenue A, Yuma, AZ 85364 | 866007596 | 08/08/2006 | AZ
Carle Clinic, 1702 S. Mattis Avenue, Champagne, IL 61820 | 371188284 | 08/08/2006 | IL
North Shore—LIJ Center for Advanced Medicine, 450 Lakeville Road, Lake Success, NY 11042 | 330106 | 08/08/2006 | NY | North Shore—LIJ Center for Advanced Diagnostic Imaging Center.
McAlester Diagnostic Imaging, 10 South Third Street, McAlester, OK 74501 | 1760411540 | 08/08/2006 | OK | Suite 100.
California Imaging Institute, 1867 E. Fir, Fresno, CA 93720 | ZZZ03565Z | 08/08/2006 | CA
Bon Secours Memorial Regional Medical Center, 8260 Atlee Road, Mechanicsville, VA 23116 | 541744931 | 08/08/2006 | VA
University of Maryland Medical Center, 22 S. Greene Street, Gudelksy 2nd Floor, Baltimore, MD 21201 | 210002 | 08/08/2006 | MD
Bixby Medical Center, 818 Riverside Avenue, Adrian, MI 49221 | 230005 | 08/08/2006 | MI
Kern Radiology Medical Group, 2301 Bahamas Drive, Bakersfield, CA 93309 | 1720023997 | 08/08/2006 | CA
Bon Secours St. Francis Medical Center, 13710 St. Francis Boulevard, Midlothian, VA 23114 | 311716973 | 08/08/2006 | VA
MMI/Maine General Waterville, 51 US Route 1, Scarborough, ME 04074 | 327079 | 08/08/2006 | ME
Mount Adams Imaging Center, 3911 Castlevale Road, Yakimaw, WA 98902 | 8857843 | 08/08/2006 | WA
Carilion Roanoke Memorial Hospital, 2001 Crystal Spring Avenue, Roanoke, VA 24014 | 490024 | 08/08/2006 | VA
Seton Medical Center; Nuclear Medicine Dept., 1900 Sullivan Avenue, Daly City, CA 94015-2229 | 50289 | 08/08/2006 | CA
Arnett Imaging Center, 2403 Loy Drive, Lafayette, IN 47909 | 224390 | 08/08/2006 | IN
Advanced Diagnostic Imaging, PC, 1120 Professional Boulevard, Evansville, IN 47630 | 639970 | 08/08/2006 | IN
Queen of Peace Hospital, 301 Second Street NE., New Prague, MN 56071 | 241361 | 08/08/2006 | MN
Agnesian Health Care, 430 E. Division Street, Fond du Lac, WI 54935 | 520088 | 08/08/2006 | WI
ACMH Hospital, One Nolte Drive, Kittanning, PA 16201 | 390163 | 08/08/2006 | PA
Wilshire Oncology Medical Group, Inc., 1280 Corona Pointe Court, Corona, CA 92879 | zzz19568z | 08/08/2006 | CA
United Radiology—Laurel, 14201 Laurel Park Drive, Laurel, MD 20707 | 2.01558E+11 | 08/08/2006 | MD
Bay Area Medical Center, 3100 Shore Drive, Marinette, WI 54143 | 520113 | 08/08/2006 | WI
Penn State Milton S. Hershey Medical Center, 500 University Drive, Hershey, PA 17033 | 251854772 | 08/08/2006 | PA
Delta St. Joseph's MRI, LLC, 1617 N. California Street, Stockton, CA 95204 | ZZZ19725Z | 08/08/2006 | CA
United Radiology: Bowie, 16701 Melford Boulevard, Bowie, MD 20715 | 2.01558E+11 | 08/08/2006 | MD
United Radiology Gaithersburg, 702 Russell Avenue, Gaithersburg, MD 20877 | 2.01558E+11 | 08/08/2006 | MD
United Radiology Olney, 18120 Hillcrest Drive, Olney, MD 20832 | 2.01558E+11 | 08/08/2006 | MD
FCS/Axcess Diagnosis/Sarasota, 600 N. Cattleman Road, Sarasota, FL 34232 | 1225064520 | 08/08/2006 | FL
NSMS—Greenville, IL, 4253 Argosy Court, Madison, WI 53714 | 208196 | 08/08/2006 | WI
FCS/Axcess Diagnosis/Venice, 842 Sunset Lake Boulevard, Venice, FL 34292 | 1225064520 | 08/08/2006 | FL
Leading Edge Radiation, 8715 5th Avenue, Brooklyn, NY 11209 | WEM111 | 09/05/2006 | NY
Rena Tarbet Cancer Center, 4201 Medical Center Drive, Suite 180, McKinney, TX 75069 | oow753 | 09/05/2006 | TX
McLaughlin & Marte, M.D., LLP., 3850 Tampa Road Suite 202, Palm Harbor, FL 34684 | 1003862079 | 09/05/2006 | FL
BryanLGH Medical Center, 2300 South 16th Street, Lincoln, NE 68502 | 280003 | 09/05/2006 | NE
Freehold MR Associates, 691 West Main Street, Freehold, NJ 7728 | 405856 | 09/05/2006 | NJ
Franciscan Skemp Healthcare, 700 West Avenue South, La Crosse, WI 54601 | 520004 | 09/05/2006 | WI
Teton Radiology, 2001 S. Woodruff, Suite 17, Idaho Falls, ID 83404 | 1371462 | 09/05/2006 | ID
Fletcher Allen Health Care, Mobile Pad, Colchester, VT 05446 | 1659309615 | 09/05/2006 | VT
University of Penn Imaging Center, 3600 Market Street, 3rd Floor Silverstein, Philadelphia, PA 19104 | 764089 | 09/05/2006 | PA
Sitron-Hammel Radiology Group, 4277 Hempstead Turnpike, Suite 200, Bethpage, NY 11714 | W14891 | 09/05/2006 | NY
MRI of SLO, 1064 Murray Avenue, San Luis Obispo, CA 93405 | 1881661361 | 09/05/2006 | CA
Lahey Clinic, 41 Mall Road, Burlington, MA 18005 | 220171 | 09/05/2006 | MA
St Joseph Medical Center, 12th Street, Reading, PA 19603 | 390096 | 09/05/2006 | PA
Spartanburg Regional Medical Center, 101 E. Wood Street, Spartanburg, SC 29303 | 420007 | 09/05/2006 | SC
Aurora Sinai Medical Center, 945 N. 12th Street, Milwaukee, WI 53201 | 520064 | 09/05/2006 | WI
FHN Memorial Hospital, 1045 W. Stephenson Street, Freeport, IL 61032 | 140160 | 09/05/2006 | IL
Southwest Washington Medical Center, 400 NE Mother Joseph Place, Vancouver, WA 98668 | 500050 | 09/05/2006 | WA
St. Lukes Center for Diagnostic Imaging, 6 McBride and Sons Corporate Center Drive, Suite 101, Chesterfield, MO 63005 | 47006 | 09/05/2006 | MO
The Stamford Health System, Shelbourn Road & West Broad Street, Stamford, CT 06904 | 70006 | 09/05/2006 | CT
Hagerstown Imaging, LLC, 1150 A Professional Court, Hagerstown, MD 21741 | 1518914936 | 09/05/2006 | MD
GCM Suburban Imaging, 6420 Rockledge Drive, Suite 3100, Bethesda, MD 20817 | 409623 | 09/05/2006 | MD
Alliance Imaging—No. Idaho Imaging, 2003 Lincoln Way, Coeur d'Alene, ID 83814 | 1790291 | 09/05/2006 | ID
HPMA PET Center, 22710 Professional Drive, Suite 104, Kingwood, TX 77339 | 0019BY | 09/05/2006 | TX
Parma Community General Hospital, 7007 Powers Boulevard, Parma, OH 44129 | 360041 | 09/05/2006 | OH
Pacific Shores Medical Group Pet Imaging, 1043 Elm Street #104, Long Beach, CA 90813 | W13494 | 09/05/2006 | CA
Clark Memorial Hospital, 1220 Missouri Avenue, Jeffersonville, IN 47130 | 15009 | 09/05/2006 | IN
Abilene Imaging Center LLC, 750 North 18th Street, Abilene, TX 79601 | FTA070 | 09/05/2006 | TX
DuBois Regional Medical Center, 100 Hospital Avenue, DuBois, PA 15801 | 390086 | 09/06/2006 | PA
Meeker County Memorial Hospital, 612 South Sibley Avenue, Litchfield, MN 55355 | 241366 | 09/06/2006 | MN
Memorial Health, 4700 Waters Avenue, Savannah, GA 31403 | 110036 | 09/06/2006 | GA
St. Luke's Regional Medical Center, Ltd., 190 E. Bannock Street, Boise, ID 83712 | 130006 | 09/06/2006 | ID
Radiology Consultants Imaging Center, 400 Avenue K, S.E., Winter Haven, FL 33880 | U3944 | 09/06/2006 | FL
Patient Comprehensive Cancer Center, 4352 North Josey Lane, Carrollton, TX 75010 | 0083BY | 09/06/2006 | TX
The University of Tennessee Medical Center, 1924 Alcoa Highway, Knoxville, TN 37920 | 440015 | 09/06/2006 | TN
Radiation Therapy Regional Centers—Naples, 800 Goodlette Road, Suite 110, Naples, FL 34102 | 77215 | 09/06/2006 | FL
St. Mary's Medical Center, 2900 First Avenue, Huntington, WV 25702 | 510007 | 09/06/2006 | WV
McKinney Regional Cancer Center, 4601 Medical Center Drive, McKinney, TX 75069 | 00711W | 09/06/2006 | TX
WCA Hospital, PO Box 840, Jamestown, NY 14701 | 330239 | 09/06/2006 | NY
Grants Pass Imaging and Diagnostic Center LLC., 1619 NW. Hawthorne, Suite 110, Grants Pass, OR 97526 | 1659307973 | 09/06/2006 | OR
Baptist Memorial Hospital—Golden Triangle, 2520 5th Street North, Columbus, MS 39705 | 250100 | 09/06/2006 | MS
Florida Medical Clinic, 13417 US Highway 301, Dade City, FL 33525 | 39715 | 09/06/2006 | FL
Saint Clare's Hospital, 400 West Blackwell Street, Dover, NJ 07801 | 310067 | 09/06/2006 | NJ
Radiation Medicine Associates, 2202 South 77 Sun Shine Strip Suite E, Harlingen, TX 78550 | 00645N | 09/06/2006 | TX
The Radiology Clinic, L.L.C., 208 McFarland Circle North, Tuscaloosa, AL 35406 | 13089 | 09/06/2006 | AL
Bay Area Hospital, 1775 Thompson Road, Coos Bay, OR 97420 | 30090 | 09/06/2006 | OR
MMI/St. Mary's Hospital, 51 US Route 1, Scarborough, ME 4074 | 327079 | 09/06/2006 | ME
Gulf Coast Medical Diagnostic Center, 2024 State Avenue, Panama City, FL 32405 | 30930 | 09/06/2006 | FL
Diagnostic Radiology Systems, Inc., 1010 Medical Center Drive, Powderly, KY 42366 | 9366001 | 09/06/2006 | KY
Lewis Gale Medical Center, 1900 Electric Road, Salem, VA 24153 | 490048 | 09/06/2006 | VI
Radiology Diagnostic Center, 1310 Las Tablas Suite 103, Templeton, CA 93465 | W7491 | 09/06/2006 | CA
Weslaco Nuclear Imaging Center, 913 S. Airport Drive, Weslaco, TX 78596 | 1780796219 | 09/06/2006 | TX
Pioneer PET, LLC, 1930 E. Southern Avenue, Tempe, AZ 85282 | 1265401996 | 12/05/2006 | AZ
Kearney Imaging Center, LLC, 3219 Central Avenue, Suite 109, Kearney, NE 68847 | 98950 | 12/05/2006 | NE
Rose Medical Center, 4567 East 9th Avenue, Denver, CO 80220 | 841321373 | 12/05/2006 | CO
UCSF Medical Center, 185 Berry Street, San Francisco, CA 94107 | 50454 | 12/05/2006 | CA
Broward General Medical Center, 1500 S. Andrews Avenue, Fort Lauderdale, FL 33316 | 100039 | 12/05/2006 | FL
St. Paul Radiology, PA/Midwest Radiology, 166 Fourth Street East, St. Paul, MN 55101 | CO2661 | 12/05/2006 | MN
Queen of the Valley Hospital, 1000 Trancas Street, Napa, CA 94558 | 941243669 | 12/05/2006 | CA
Dana-Farber Cancer Institute, 44 Binney Street, Boston, MA 02115 | 220162 | 12/05/2006 | MA
Holmes Regional Medical Center, 1350 South Hickory Street, Melbourne, FL 32901 | 100019 | 12/05/2006 | FL
Niagara County PET Center, Niagara Falls, NY 14302 | f27482 | 12/05/2006 | NY
Augusta Medical Center, 78 Medical Center Drive, Fishersville, VA 22939 | 490018 | 12/05/2006 | VA
Nevada Cancer Center, 2851 North Tenaya Way, Las Vegas, NV 89128 | VWQBHJ | 12/05/2006 | NV
Wellstar Kennestone Hospital Imaging Center, 340 Kennestone Hospital Boulevard, Marietta, GA 30060 | 110035 | 12/05/2006 | GA
Ashtabula County Medical Center, 2412 Lake Avenue, Ashtabula, OH 44004 | 1285607416 | 12/05/2006 | OH
Rowan Regional Medical Center, 514 Corporate Circle, Salisbury, NC 28147 | 340015 | 12/05/2006 | NC
The Pottsville Hospital and Warne Clinic, 420 South Jackson Street, Pottsville, PA 17901 | 390030 | 12/05/2006 | PA
Georgetown Memorial Hospital, 606 Blackriver Road, Georgetown, SC 29442 | 1982604021 | 12/05/2006 | SC
Medical Center of Arlington, 3301 Matlock Road, Arlington, TX 76015 | 450675 | 12/05/2006 | TX
Valley View Regional Hospital, 430 N Monte Vista, Ada, OK 74820 | 370020 | 12/05/2006 | OK
Montgomery Medical Services, 644 Maysville Road, Suite 10, Mount Sterling, KY 40353 | 9141 | 12/05/2006 | KY
Medical Outsourcing Services LLC, 5409 N. Knoxville Avenue, Peoria, IL 61614 | 211224 | 12/05/2006 | IL
Medical Outsourcing Services LLC, 1300 N. Main Street, Rushville, IN 46173 | 223260 | 12/05/2006 | IN
Mayo Clinic Arizona, 13400 E. Shea Boulevard, Scottsdale, AZ 85259 | WCTGB | 12/05/2006 | AZ
Door County Memorial Hospital, 323 S. 18th Avenue, Sturgeon Bay, WI 54235 | 1093743874 | 12/05/2006 | WI
Center for Diagnostic Imaging—Sartell, 166 19th Street So, Sartell, MN 56377 | C01307 | 12/05/2006 | MN
South Texas Institute of Cancer, 1205 South 19th Street, Corpus Christi, TX 78405 | 0065AZ | 12/05/2006 | TX
Del Sol Medical Center, 10460 Vista Del Sol, El Paso, TX 79925 | 450646 | 12/05/2006 | TX
University Hospital, 818 St. Sebastian Way, Augusta, GA 30901 | 110028 | 12/05/2006 | GA
St. John Health System—Tulsa, OK, 1923 S. Utica, Tulsa, OK 74104 | 370114 | 12/05/2006 | OK
Allen Memorial Hospital, 1825 Logan Avenue, Waterloo, IA 50703 | 160110 | 12/05/2006 | IA
Craig General Hospital, 735 North Foreman, Vinita, OK 74301 | 370065 | 12/05/2006 | OK
Vision Imaging of Kingston, 517 Pierce Street, Kingston, PA 18704 | 86463 | 12/05/2006 | PA
Lake Hospital Mentor Campus, 9485 Mentor Avenue, Mentor, OH 44060 | 360098 | 12/05/2006 | OH
Excela RCL PET CT Imaging, LLC, 200 Village Drive, Greensburg, PA 15601 | 1144260415 | 12/05/2006 | PA
Kousay Al-Kourainy, M.D., 5395 Ruffin Road #202, San Diego, CA 92123 | A39783 | 12/05/2006 | CA
Memorial Hermann Northwest Hospital, 1635 North Loop West, Houston, TX 77008 | 450184 | 12/05/2006 | TX
Accu/Site PET/CT Imaging Center, 30 Harrison Street, Johnson City, NY 13790 | DD1474 | 12/05/2006 | NY
DDIS—Bond, 9 Bond Street, Brooklyn, NY 11201 | 687s41 | 12/05/2006 | NY
West Valley Radiology Medical Group, 7301 Medical Center Drive, West Hills, CA 91307 | Hw5870A | 12/05/2006 | CA
Westside Diagnostic and Therapeutic Medical Center LLC, 12524 West Washington Boulevard, Los Angeles, CA 90066 | TG472 | 12/05/2006 | CA
DDIS—Still, 1783 Stillwell Avenue, Brooklyn, NY 11223 | 687s41 | 12/05/2006 | NY
Alpena Regional Medical Center, 1501 W, Chisholm Street, Alpena, MI 49707 | 386000029 | 12/05/2006 | MI
Santa Monica Imaging Center, 1245 16Th Street Suite 105, Santa Monica, CA 90404 | 1881670248 | 12/05/2006 | CA
Mercer County Community Hospital, 800 W. Main Street, Coldwater, OH 45828 | 360058 | 12/05/2006 | OH
Johnson Memorial Hospital, 1125 W. Jefferson Street, Franklin, IN 46131-2675 | 150001 | 12/05/2006 | IN
St. Mary's Health Center, 100 St. Mary's Medical Plaza, Jefferson City, MO 65101 | 260011 | 12/05/2006 | MO
Eastside P.E.T. Center, LLC, 46 Medical Park East Drive, Birmingham, AL 35023 | 1619925070 | 12/05/2006 | AL
United Regional Health Care System, 1600 8th Street, Wichita Falls, TX 76301 | 450010 | 12/05/2006 | TX
Denton Regional Medical Center, 3535 S. I-35, Denton, TX 76210 | 450634 | 12/05/2006 | TX
Canton—Potsdam Hospital, 50 Leroy Street, Potsdam, NY 13676 | 161012691 | 12/05/2006 | NY
St. John Macomb Hospital, 11800 E. 12 Mile, Warren, MI 48093 | 230195 | 12/05/2006 | MI
Cleveland Regional Medical Center, 201 East Grover Street, Shelby, NC 28150 | 340021 | 12/05/2006 | NC
Bluefield Regional Medical Center, 500 Cherry Street, Bluefield, WV 24701 | 510071 | 12/05/2006 | WV
Charles Cole Memorial Hospital, 1001 East Second Street, Coudersport, PA 16915 | 390246 | 12/05/2006 | PA
New Jersey State Open MRI, 155 State Street, Hackensack, NJ 7601 | 85238 | 12/06/2006 | NJ
Westcoast Radiology, 501 S. Lincoln Ave., Clearwater, FL 33756 | E4187 | 12/06/2006 | FL
The Iowa Clinic/PETCO LLC, 1221 Pleasant Street, Des Moines, IA 50309 | I5819 | 12/06/2006 | IA
Quantum PET—Holy Spirit Hospital, 890 Poplar Church Road, Camp Hill, PA 17011 | 40635 | 12/06/2006 | PA
Coastal Bend PET Scan, LTD, 1533 5th Street, Corpus Christi, TX 78404 | FTN014 | 12/06/2006 | TX
Pottstown Memorial Medical Center, 1600 E. High Street, Pottstown, PA 19464 | 390123 | 12/06/2006 | PA
UTMB PET/CT Imaging Center, UTMB—Rebecca Sealy Hospital, Galveston, TX 77555-0793 | R518 | 12/06/2006 | TX
Diagnostic Imaging Services, LLC, 11110 Medical Campus Road, Suite 204, Hagerstown, MD 21742 | 1114982808 | 12/06/2006 | MD
North Memorial Medical Center, 3435 West Broadway, Robbinsdale, MN 55422 | 1851344907 | 12/06/2006 | MN
Hays Medical Center, 2220 Canterbury Drive, Hays, KS 67601 | 2473 | 12/06/2006 | KS
St. Patrick Hospital & Health Sciences Center, 500 West Broadway, Missoula, MT 59802 | 1023032588 | 12/06/2006 | MT
Park Ridge Hospital, 100 Hospital Drive, Hendersonville, NC 28792 | 340023 | 12/06/2006 | NC
Fostoria Community Hospital, 610 Plaza Drive, Fostoria, OH 44830 | 361318 | 12/06/2006 | OH
UMDNJ—University Hospital, 30 Bergen Street, Newark, NJ 7101 | 221775306 | 12/06/2006 | NJ
Metabolic Imaging of Boca, 5458 Town Center Road, Suite 103, Boca Raton, FL 33486 | E5434 | 12/06/2006 | FL
Olean Open MRI, 413 North 8th Street, Olean, NY 14760 | AA0996 | 12/06/2006 | NY
Mercy Memorial Health Center, 1011 14th Avenue NW., Ardmore, OK 73401 | 731500629 | 12/06/2006 | OK
Pontiac Osteopathic Hospital d.b.a. POH Medical Center, 385 N Lapeer Road, Oxford, MI 48371 | 230207 | 12/06/2006 | MI
Texas Oncology Ft. Worth, 1450 8th Avenue, Fort Worth, TX 76104 | 00R66C | 12/06/2006 | TX
West Valley Imaging, 3025 S. Rainbow Boulevard, Las Vegas, NV 89146 | WQBDY | 12/06/2006 | NV
Springman Medical Plaza Imaging Center, P. O, Box 4650, Brownsville, TX 78523 | 1912973108 | 12/06/2006 | TX
EMH Regional Health Care System, 630 East River Street, Elyria, OH 44035 | 360145 | 12/06/2006 | OH
Denfeld Medical Center, 4702 Grand Avenue, Duluth, MN 55807 | C06028 | 12/06/2006 | MN
Caldwell Memorial Hospital, 321 Mulberry Street SW., Lenoir, NC 28645 | 560554202 | 12/06/2006 | NC
Belleville, IL (Swansea), 4253 Argosy Court, Madison, WI 53714 | 208196 | 12/06/2006 | WI
Comprehensive Cancer Centers of Nevada—NW Office, 7445 Peak Drive, Las Vegas, NV 89128 | WCHCX | 12/06/2006 | NV
Wheaton Francisan Healthcare—St. Joseph, 5000 W. Chambers Street, Milwaukee, WI 53210 | 520136 | 12/06/2006 | WI
United Hospital Center, Rt. 19 South, Clarksburg, WV 26302-1680 | 510006 | 12/06/2006 | WV
Massena Memorial Hospital, 1 Hospital Dive, Massena, NY 13662 | 330223 | 12/06/2006 | NY
Redlands Community Hospital, 350 Terracina Boulevard, Redlands, CA 92373 | ZZZ01782Z | 12/06/2006 | CA
The Valley Hospital, 1 Valley Health Plaza, Paramus, NJ 7652 | 310012 | 12/06/2006 | NJ
Advanced Medical Imaging of Toms River, 1430 Hooper Avenue, Toms River, NJ 8753 | 447655 | 12/06/2006 | NJ
McKenna Memorial Hospital, 598 N. Union Street, New Braunfels, TX 78130 | 450059 | 12/06/2006 | TX
NSMS—Parkland Farmington, Mo, 4253 Argosy Court, Madison, WI 53714 | 208196 | 12/06/2006 | WI
Alton Memorial Hospital, 1 Memorial Drive, Alton, IL 62002 | 14002 | 12/06/2006 | IL
Medical City Dallas Hospital, Diagnostic Imaging, Dallas, TX 75230 | 20943901 | 12/06/2006 | TX
Mercy Medical Center, 301 St Paul Place, Baltimore, MD 21202 | 210008 | 12/06/2006 | MD
St. Joseph's Medical Center, 503 N. 3rd Street, Brainerd, MN 56401 | 240075 | 12/06/2006 | MN
Covenant Healthcare, 600 Irving Street, Saginaw, MI 48602 | 1457354318 | 12/06/2006 | MI
Little Company of Mary Hospital, 2800 West 95th Street, Evergreen Park, IL 60805 | 140179 | 12/06/2006 | IL
Marion General Hospital, Progressive Medical Imagine, 830 N Theatre Drive, Marion, IN 46952 | 1457354318 | 12/06/2006 | IN
Escondido Pulmonary Medical Group, 5395 Ruffin Road, Suite 202, San Diego, CA 92123 | W301 | 12/06/2006 | CA
Marshall Medical Center, 1100 Marshall Way, Placerville, CA 95667 | 50254 | 12/06/2006 | CA
Clermont Radiology, 1804 Oakley Seaver Drive, Clermont, FL 34711 | U5066 | 12/06/2006 | FL
Mahoning Valley Imaging Ltd, 7067 Tiffany Boulevard, Youngstown, OH 44514 | 1457354318 | 12/06/2006 | OH
Southeastern Ohio Regional Medical Center, 1341 Clark Avenue, Cambridge, OH 43725 | 1457354318 | 12/06/2006 | OH
White County Medical Center, 3214 E. Race Avenue, Searcy, AR 72143 | 40014 | 12/06/2006 | AR
MED Arts JVIC, 9101 Franklin Square Drive, Baltimore, MD 21237 | 1932167178 | 12/06/2006 | MD
Memorial Hermann Southwest OPID, 7797 SW Freedway, Houston, TX 77074 | 741152597 | 12/06/2006 | TX
Twin County Regional Hospital, 200 Hospital Drive, Galax, VA 24333 | 1174524094 | 12/06/2006 | VA
Marion Ancillary Services LLC, 1040 Delaware Avenue, Marion, OH 43302 | 991 | 12/06/2006 | OH
Owensboro Medical Health Systems, Breckenridge Diagnostics, Owensboro, KY 42301 | 180038 | 12/06/2006 | KY
NSMS—Darlington, WI, 209 Limestone Pass, Cottage Grove, WI 53527 | 92420 | 12/06/2006 | WI
Santa Fe Imaging, LLC, 1640 Hospital Drive, Santa Fe, NM 87505 | 400521037 | 12/06/2006 | NM
Suncoast Imaging of Port Orange, 1680 Dunlawton Avenue, Port Orange, FL 32127 | 40370B | 12/06/2006 | FL
Great Basin Imaging, 2874 N Carson Street, 3rd Floor, Carson City, NV 89706 | WJBDK | 12/06/2006 | NV
St. Francis Hospital & Health Centers, 1201 Hadley Road, Mooresville, IN 46158 | 1457354318 | 12/06/2006 | IN
Las Colinas Cancer Center, 7415 Las Colinas Boulevard, Irving, TX 75063 | 00J062 | 12/06/2006 | TX
ADI, 4006 Jonathan Street, Waterloo, IA 50701 | I15454 | 12/06/2006 | IA
St Francis Hospital & Health Centers South, 8111 S. Emerson, Indianapolis IN 46237 | 1457354318 | 12/06/2006 | IN

Addendum XIII—Medicare-Approved Ventricular Assist Device (Destination Therapy) Facilities

[October Through December 2006]

On October 1, 2003, we issued our decision memorandum on ventricular assist devices for the clinical indication of destination therapy. We determined that ventricular assist devices used as destination therapy are reasonable and necessary only if performed in facilities that have been determined to have the experience and infrastructure to ensure optimal patient outcomes. We established facility standards and an application process. All facilities were required to meet our standards in order to receive coverage for ventricular assist devices implanted as destination therapy.

VAD Destination Therapy Facilities
[The following facilities have met the CMS's facility standards for destination therapy VADs.]
Facility | Provider No. | Date approved | State
Advocate Christ Medical Center, 4440 W 95th Street, Oak Lawn, Illinois | 140208 | 12/17/2003 | IL
California Pacific Medical Center, 2333 Buchanan Street, San Francisco, California | 050047 | 03/19/2004 | CA
Baptist Memorial Hospital, 6019 Walnut Grove Road, Memphis, Tennessee | 440048 | 04/07/2004 | TN
Duke University Medical Center, DUMC Box 3943, Durham, North Carolina | 340030 | 10/31/2003 | NC
Fairview-University Medical Center, 2450 Riverside Avenue, Minneapolis, Minnesotta | 240080 | 10/28/2003 | MN
Allegheny General Hospital, 320 E North Avenue, Pittsburgh, Pennsylvania | 390050 | 12/10/2003 | PA
Barnes-Jewish Hospital, One Barnes-Jewish Hospital Plaza, Saint Louis, Missouri | 260032 | 10/27/2003 | MO
Brigham and Women's Hospital, 15 Francis Street, Boston, Massachusetts | 220110 | 01/09/2004 | MA
Bryan LGH Medical Center East, 1600 S 48 Street, Lincoln, Nebraska | 280003 | 10/23/2003 | NE
Cedars-Sinai Medical Center, 8700 Beverly Boulevard, Los Angeles, California | 050625 | 12/29/2003 | CA
Clarian Health Partners, Inc, 1701 N Senate Ave, Indianapolis, Indiana | 150056 | 11/25/2003 | IN
Cleveland Clinic, 9500 Euclid Avenue, Cleveland, Ohio | 360180 | 12/03/2003 | OH
Hahnemann University Hospital, Broad and Vine Streets, Philadelphia, Pennsylvania | 390290 | 12/22/2003 | PA
Hospital of the University of Pennsylvania, 3400 Spruce Street Philadelphia, Pennsylvania | 390111 | 10/28/2003 | PA
Henry Ford Hospital 2799 W Grand Boulvard Detroit, Michigan | 230053 | 01/06/2004 | MI
Inova Fairfax Hospital, 3300 Gallows Road, Falls Church, Virginia | 490063 | 03/31/2004 | VA
Jewish Hospital, 200 Abraham Flexner Way, Louisville, Kentucky | 180040 | 11/10/2003 | KY
Jackson Memorial Hospital, 1611 NW 12th Avenue, Miami, Florida | 100022 | 01/12/2004 | FL
LDS Hospital, 8th Avenue and C Street, Salt Lake City, Utah | 460010 | 10/23/2003 | UT
Johns Hopkins Hospital, 600 N Wolfe Street, Baltimore, Maryland | 210009 | 10/28/2003 | MD
Loyola University Medical Center, 2160 S 1st Avenue, Maywood, Illinois | 140276 | 01/30/2004 | IL
Lutheran Hospital of Indiana, 7950 W Jefferson Boulevard, Fort Wayne, Indiana | 150017 | 10/29/2003 | IN
Massachusetts General Hospital, 55 Fruit Street, Boston, Massachusetts | 220071 | 12/15/2003 | MA
Mayo Clinic, 4500 San Pablo Road, Jacksonville, Florida | 100151 | 11/06/2003 | FL
Medical City Dallas Hospital, 7777 Forest Lane, Dallas, Texas | 450647 | 12/03/2003 | TX
The Methodist Hospital, 6565 Fannin, Houston, Texas | 450358 | 11/03/2003 | TX
Montefiore Medical Center, 111 E 210th Street, Bronx, New York | 330059 | 11/14/2003 | NY
Methodist Specialty and Transplant Hospital, 8026 Floyd Curl Drive, San Antonio, Texas | 450388 | 11/19/2003 | TX
Newark Beth Israel Medical Center, 201 Lyons Avenue, Newark, New Jersey | 310002 | 11/14/2003 | NJ
Mount Sinai Medical Center, 1190 5th Avenue, New York, New York | 330024 | 11/25/2003 | NY
New York-Presbyterian Hospital, 177 Fort Washington Avenue, New York, New York | 330101 | 10/28/2003 | NY
Ohio State University, Columbus, Ohio | 360085 | 11/12/2003 | OH
Oregon Health and Sciences University, 3181 SW Sam Jackson Park Road, Portland, Oregon | 380009 | 11/21/2003 | OR
OSF St Francis Medical Center, 530 NE Glen Oak Avenue, Peoria, Illinois | 140067 | 11/12/2003 | IL
Penn State Milton S Hershey Medical Center, 500 University Drive, Hershey, Pennsylvania | 390256 | 10/29/2003 | PA
Rush-Presbyterian-St Luke Medical Center, 1653 W Congress Parkway, Chicago, Illinois | 140119 | 11/14/2003 | IL
Sentara Norfolk General Hospital, 600 Gresham Drive, Norfolk, Virginia | 490007 | 11/10/2003 | VA
Sacred Heart Medical Center, 101 W 8th Avenue, Spokane, Washington | 500054 | 01/12/2004 | WA
Seton Medical Center, 1201 W 38th Street, Austin, Texas | 450056 | 01/13/2004 | TX
Shands at the University of Florida, 1600 SW Archer Road, Gainesville, Florida | 100113 | 11/26/2003 | FL
Sharp Memorial Hospital, 7901 Frost Street, San Diego, California | 050100 | 12/01/2003 | CA
Stanford University Hospital and Clinics, 300 Pasteur Drive, Stanford, California | 050441 | 12/22/2003 | CA
St Francis Hospital, 6161 S Yale Avenue, Tulsa, Oklahoma | 370091 | 01/09/2004 | OK
St Luke's Medical Center, 2900 W Oklahoma Avenue, Milwaukee, Wisconsin | 520138 | 11/03/2003 | WI
St Luke's Episcopal Hospital, 6720 Bertner Avenue, Houston, Texas | 450193 | 10/28/2003 | TX
St Vincent Hospital and Health Services, 2001 W 86th Street, Indianapolis, Indiana | 150084 | 01/05/2004 | IN
St Paul Medical Center, 5909 Harry Hines Boulevard, Dallas, Texas | 450044 | 12/10/2003 | TX
Strong Memorial Hospital, 601 Elmwood Avenue, Rochester, New York | 330285 | 10/29/2003 | NY
Tampa General Hospital, 2 Columbia Drive, Tampa, Florida | 100128 | 11/26/2003 | FL
Temple University Hospital, 3401 N Broad Street, Philadelphia, Pennsylvania | 390027 | 11/03/2003 | PA
Tufts-New England Medical Center, 750 Washington Street, Boston, Massachusetts | 220116 | 11/06/2003 | MA
UCLA Medical Center, 10833 Le Conte Ave, Los Angeles, California | 050262 | 12/10/2003 | CA
University Medical Center, 1501 N Campbell Avenue, Tucson, Arizonia | 030064 | 10/29/2003 | AZ
University of Alabama at Birmingham Health System, 500 22nd Street S, Birmingham, Alabama | 010033 | 10/29/2003 | AL
University of Colorado Hospital, 4200 E Ninth Avenue, Denver, Colorado | 060024 | 11/06/2003 | CO
The University of Chicago Hospitals and Health System, 5841 South Maryland Avenue, Chicago, Illinois | 140088 | 02/25/2004 | IL
University of Iowa Hospitals and Clinics, 200 Hawkins Drive, Iowa City, Iowa | 160058 | 11/12/2003 | IA
University of Maryland Medical Center, 22 S Greene Street, Baltimore, Maryland | 210002 | 11/12/2003 | MD
University of Michigan Health System, 1500 E Medical Center Drive, Ann Arbor, Michigan | 230046 | 10/27/2003 | MI
University of North Carolina Hospitals, 101 Manning Drive, Chapel Hill, North Carolina | 340061 | 05/05/2004 | NC
University of Utah Hospital, 50 N Medical Drive, Salt Lake City, Utah | 460009 | 12/22/2003
University of Virginia Health System, 1215 Lee Street, Charlottesville, Virginia | 490009 | 01/12/2004 | VA
University of Washington Medical Center, 1959 NE Pacific Street, Seattle, Washington | 500008 | 01/15/2004 | WA
University of Wisconsin Hospitals and Clinics, 600 Highland Avenue, Madison, Wisconsin | 520098 | 12/03/2003 | WI
USC University Hospital, 1500 San Pablo, Los Angeles, California | 050696 | 01/09/2004 | CA
UPMC Presbyterian, 200 Lothrop Street, Pittsburgh, Pennsylvania | 390164 | 10/23/2003 | PA
Virginia Commonwealth University Medical Center, 401 North 12th Street, Richmond, Virginia | 490032 | 04/08/2004 | VA
Vanderbilt University Medical Center, 1161 21st Avenue S, Nashville, Tennessee | 440039 | 10/28/2003 | TN
Ochsner Clinic Foundation, 1514 Jefferson Highway, New Orleans, Louisiana | 190036 | 06/29/2004 | LA

Addendum XIV—Lung Volume Reduction Surgery (LVRS)

[October Through December 2006]

Three types of facilities are eligible for reimbursement for Lung Volume Reduction Surgery (LVRS): National Emphysema Treatment Trial (NETT) approved (Beginning 05/07/2007, these will no longer automatically qualify and can qualify only with the other programs), Credentialed by the Joint Commission on Accreditation of Healthcare Organizations (JCAHO) under their Disease Specific Certification Program for LVRS, and Medicare approved for lung transplants. Only the first two types are in the list.

Facility name | Date approved | State | Type of certification
Baylor College of Medicine, Houston, Texas | N/A | TEXAS | NETT
Brigham and Women's Hosptial, Boston, MA | N/A | MASSACHUSETTS | NETT
Cedars-Sinai Medical Center, Los Angeles, CA | N/A | CALIFORNIA | NETT
Chapman Medical Center, Orange, CA | N/A | CALIFORNIA | NETT
Cleveland Clinic Foundation, Cleveland, OH | N/A | OHIO | NETT
Columbia University, New York, NY | N/A | NEW YORK | NETT
Duke University Medical Center, Durham, NC | N/A | NORTH CAROLINA | NETT
Johns Hopkins Hospital, Baltimore, MD | N/A | MARYLAND | NETT
Kaiser Foundation Hospital—Riverside 10800 Magnolia Avenue, Riverside, CA 92505 | 09/20/2006 | CALIFORNIA | JCAHO
Long Island Jewish Medical Center, New Hyde Park, NY | N/A | NEW YORK | NETT
Mayo Clinic, Rochester, MN | N/A | MINNESOTA | NETT
Memorial Medical Center, 701 North First Street, Springfield, IL 62781-0001 | 12/13/2006 | ILLINOIS | JCAHO
National Jewish Medical Center, Denver, CO | N/A | COLORADO | NETT
The Ohio State University Hospital, Room 168, Doan Hall, Columbus, OH | N/A | OHIO | JCAHO
Ohio State University Medical Center, Columbus, OH | N/A | OHIO | NETT
Saint Louis University, Saint Louis, MO | N/A | MISSOURI | NETT
Temple University Hospital, Philadelphia, PA | N/A | PENNSYLVANIA | NETT
UCLA Medical Center, Los Angeles, CA | N/A | CALIFORNIA | NETT
University of California, San Diego, San Diego, CA | N/A | CALIFORNIA | NETT
University of Maryland Medical Center, Baltimore, MD | N/A | MARYLAND | NETT
University of Michigan Medical Center, Ann Arbor, MI | N/A | MICHIGAN | NETT
University of Pennsylvania, Philadelphia, PA | NA | PENNSYLVANIA | NETT
University of Pittsburgh, Pittsburgh, PA | N/A | PENNSYLVANIA | NETT
University of Washington, Seattle, WA | N/A | WASHINGTON | NETT
Washington University/Barnes Hospital, Saint Louis, MO | N/A | MISSOURI | NETT

Addendum XV—Medicare-Approved Bariatric Surgery Facilities

On February 21, 2006, we issued our decision memorandum on bariatric surgery procedures. We determined that bariatric surgical procedures are reasonable and necessary for Medicare beneficiaries who have a body-mass index (BMI) greater than or equal to 35, have at least one co-morbidity related to obesity, and have been previously unsuccessful with medical treatment for obesity.

This decision also stipulated that covered bariatric surgery procedures are reasonable and necessary only when performed at facilities that are: (1) certified by the American College of Surgeons (ACS) as a Level 1 Bariatric Surgery Center (program standards and requirements in effect on February 15, 2006); or (2) certified by the American Society for Bariatric Surgery (ASBS) as a Bariatric Surgery Center of Excellence (BSCOE) (program standards and requirements in effect on February 15, 2006).

Addendum XV—Medicare-Approved Bariatric Surgery Facilities

The following facilities have met our minimum facility standards for bariatric surgery and have been certified by American College of Surgeons or American Society for Bariatric Surgery.

Facility name | Provider No. | Date approved | State | Other information
Crestwood Medical Center, One Hospital Drive, Huntsville, AL 35801 | N/A | 02/24/2006 | AL
Methodist Hospital of Southern California, 300 West Huntington Drive, Arcadia, CA 91007 | N/A | 2/24/2006 | CA
Scottsdale Healthcare Shea Campus, 900 E. Shea Boulevard, Scottsdale, AR 85260 | N/A | 02/24/2006 | AZ
Mills-Peninsula Health Services, 1783 El Camino Real, Burlingame, CA 94010 | N/A | 2/24/2006 | CA
Mercy San Juan Medical Center, Carmichael, California | N/A | 02/24/2006 | CA
Orange Coast Memorial Medical Center, 9920 Talbert Avenue, Fountain Valley, CA 92708 | N/A | 02/24/2006 | CA
Eastern Maine Medical Center Northeast, Surgery PA, 417 State Street #330 Bangor, ME 04401 | N/A | 02/24/2006 | ME
Tri-City Regional Medical Center, 21530 Pioneer Boulevard, Hawaiian Gardens, CA 90716 | N/A | 02/24/2006 | CA
Scripps Memorial, 9888 Genesee Avenue, La Jolla, CA 92037 | N/A | 02/24/2006 | CA
Community Hospital, Monterey Peninsula, 23625 Holman Highway, Monterey, CA 93940 | N/A | 02/24/2006 | CA
Scripps Mercy Hospital, 4077 Fifth Avenue, San Diego, CA 92103 | N/A | 02/24/2006 | CA
Huntington Memorial Hospital, 100 W. California Boulevard, Pasadena, CA 91105 | N/A | 02/24/2006 | CA
California Pacific Medical Center, 2333 Buchanan Street, San Francisco, CA 94115 | N/A | 02/24/2006 | CA
Greater Baltimore Medical Center, 6701 N. Charles Street, Baltimore, MD 21204 | N/A | 02/24/2006 | MD
Southwest Healthcare System, 36485 Inland Valley Drive, Wildomar, CA 92595 | N/A | 02/24/2006 | CA
Sinai Hospital of Baltimore, 2401 W. Belvedere Avenue, Baltimore, MD 21215 | N/A | 02/24/2006 | MD
Spectrum Health Blodgett Campus, 1840 Wealthy Street SE, Grand Rapids, MI 49506 | N/A | 02/24/2006 | MI
Unity Hospital, 550 Osborne Road NE, Fridley, MN 55432 | N/A | 02/24/2006 | MN
Abbott Northwestern Hospital, 800 E. 28th Street, Minneapolis, MN 55407 | N/A | 02/24/2006 | MN
Hennepin County Medical Center, 701 Park Avenue, Minneapolis, MN 55415 | N/A | 02/24/2006 | MN
University of Minnesota Medical Center, Fairview, 420 Delaware Street NE #B435 Minneapolis, MN 55455 | N/A | 02/24/2006 | MN
St. Joseph's Area Health Services, 600 Pleasant Avenue, Park Rapids, MN 56470 | N/A | 02/24/2006 | MN
Methodist Hospital, 6500 Excelsior Boulevard, Saint Louis Park, MN 55426 | N/A | 02/24/2006 | MN
United Hospital, 333 North Smith Avenue, Saint Paul, MN 55102 | N/A | 02/24/2006 | MN
Penrose-St. Francis Health Services, 825 E. Pikes Peak Avenue, Colorado Springs, Colorado 80917 | N/A | 02/24/2006 | CO
Baptist Memorial Hospital, North Mississippi, 2301 South Lamar Boulevard, Oxford, MS 38655 | N/A | 02/24/2006 | MS
Presbyterian-St. Luke's Medical Center, 1719 E. 19th Avenue, Denver, Colorado 80218 | N/A | 02/24/2006 | CO
Rose Medical Center, 4545 E. 9th Avenue, #470 Denver, Colorado 80220 | N/A | 02/24/2006 | CO
SSM DePaul Health Center, 12303 DePaul Avenue, Bridgeton, MO 63044 | N/A | 02/24/2006 | MO
Poudre Valley Hospital, 1024 S Lemay Avenue, Fort Collins, Colorado 80524 | N/A | 02/24/2006 | CO
North Vista Hospital, 1409 E. Lake Mead Boulevard, North Las Vegas, NV 89101 | N/A | 02/24/2006 | NV
North Colorado Medical Center, 1801 16th Street, Greeley, Colorado 80631 | N/A | 02/24/2006 | CO
Danbury Hospital, 24 Hospital Avenue, Danbury, Connecticut 06810 | N/A | 02/24/2006 | CT
Saint Mary's Regional Medical Center, 234 W. 6th Street, Reno, NV 89503 | N/A | 02/24/2006 | NV
AtlantiCare Regional Medical Center, 2500 English Creek Avenue, Egg Harbor Township, NJ 08234 | N/A | 02/24/2006 | NJ
Middlesex Hospital, 28 Crescent Street, Middletown, CT 06457 | N/A | 02/24/2006 | CT
Hospital of Saint Raphael, 1450 Chapel Street, New Haven, CT 06511 | N/A | 02/24/2006 | CT
Florida Hospital Celebration Health, 400 Celebration Place, Kissimmee, FL 34747 | N/A | 02/24/2006 | FL
Holy Cross Hospital, 4725 N. Federal Highway, Fort Lauderdale, FL 33308 | N/A | 02/24/2006 | FL
Jupiter Medical Center, 1210 S. Old Dixie Highway, Jupiter, FL 33458 | N/A | 02/24/2006 | FL
Florida Medical Center, 4850 W. Oakland Boulevard, Lauderdale Lakes, FL 33313 | N/A | 02/24/2006 | FL
Mercy Hospital Miami, 3663 South Miami Avenue, Miami, FL 33133 | N/A | 02/24/2006 | FL
Saint Barnabas Medical Center, 94 Old Short Hills Road, Livingston, NJ 07039 | N/A | 02/24/2006 | NJ
Ocala Regional Medical Center, 1431 SW 1st Street, Ocala, FL 34474 | N/A | 02/24/2006 | FL
Princeton HealthCare System, 253 Witherspoon Street, Princeton, NJ 08540 | N/A | 02/24/2006 | NJ
Palms of Pasadena Hospital, 1501 Pasadena Avenue, St. Petersburg, FL 33707 | N/A | 02/24/2006 | FL
Cleveland Clinic Hospital-Weston, 3100 Weston Road, Weston, FL 33331 | N/A | 02/24/2006 | FL
Arnot Ogden Medical Center, 600 Fitch Street, Elmira, NY 14905 | N/A | 02/24/2006 | NY
Lutheran Medical Center, 150 55th Street, Brooklyn, NY 11220 | 29D361 | 02/24/2006 | NY
New York Methodist Hospital, 506 Sixyh Street, Brooklyn, NY 11215 | N/A | 02/24/2006 | NY
Emory Dunwoody Medical Center, 4575 N. Shallowford Road, Atlanta, GA 30338 | N/A | 02/24/2006 | GA
Atlanta Medical Center, 303 Parkway Drive NE, Atlanta, GA 30312 | N/A | 02/24/2006 | GA
Sisters of Charity Hospital, 2130 Main Street, Buffalo, NY 14214 | N/A | 02/24/2006 | NY
Sound Shore Medical Center of Westchester, 16 Guion Place # Joyce New Rochelle, NY 10801 | N/A | 02/24/2006 | NY
South Nassau Communities Hospital, 1 Healthy Way, Oceanside, NY 11572 | N/A | 02/24/2006 | NY
Hamilton Medical Center, 1200 Memorial Drive, Dalton, GA 30720 | N/A | 02/24/2006 | GA
Northeast Georgia Health System, Inc., 743 Spring Street NE, Gainesville, GA 30501 | N/A | 02/24/2006 | GA
Bon Secours Community Hospital, 160 E. Main Street, Port Jervis, NY 12771 | N/A | 02/24/2006 | NY
Wellstar Health Systems, 677 Church Street NE, Marietta, GA 30060 | N/A | 02/24/2006 | GA
Northwestern Memorial Hospital, 215 E. Huron Street, #4-710U Chicago, IL 60611 | N/A | 02/24/2006 | IL
Staten Island University Hospital, 475 Seaview Avenue, Staten Island, NY 10305 | N/A | 02/24/2006 | NY
White Plains Hospital Center, 190 E. Post Road, White Plains, NY 10601 | N/A | 02/24/2006 | NY
NorthEast Medical Center, 920 Church Street N. #302E, Concord, NC 28025 | N/A | 02/24/2006 | NC
Alexian Brothers Medical Center, 800 Biesterfield Road, Elk Grove Village, IL 60007 | N/A | 02/24/2006 | IL
Cape Fear Valley Health System, 1638 Owen Drive, Fayetteville, NC 28304 | N/A | 02/24/2006 | NC
University of Chicago Hospitals, 5841 S. Maryland Avenue, Chicago, IL 60637 | N/A | 02/24/2006 | IL
Frye Regional Medical Center, 420 N. Center Street, Hickory, NC 28601 | N/A | 02/24/2006 | NC
Little Company of Mary, 2800 W. 95th Street, Evergreen Park, IL 60805 | N/A | 02/24/2006 | IL
New Hanover Regional Medical Center, 2131 S. 17th Street, Wilmington, NC 28401 | N/A | 02/24/2006 | NC
Good Samaritan Hospital, 375 Dixmyth Avenue, Cincinnati, OH 45220 | N/A | 02/24/2006 | OH
King's Daughters Medical Center, 617 23rd Street Ashland, KY 41101 | N/A | 02/24/2006 | KY
St. Vincent Charity Hospital, 2322 E. 22nd Street #220, Cleveland, OH 44115 | N/A | 02/24/2006 | OH
The Ohio State University Hospital, 410 W 10th Avenue, #5305 Columbus, OH 43210 | N/A | 02/24/2006 | OH
Southwest Medical Center, 2810 Ambassador Caffery Parkway, Lafayette, LA 70506 | N/A | 02/24/2006 | LA
Saint Joseph East Center for Weight Loss, 160 N. Eagle Creek Drive, #201 Lexington, KY 40509 | N/A | 02/24/2006 | KY
American Bariatric Institute at Doctors' Hospital, 1130 Louisiana Avenue, Shreveport, LA 71101 | N/A | 02/24/2006 | LA
Grandview Medical Center, 405 Grand Avenue, Dayton, OH 45405 | N/A | 02/24/2006 | OH
Legacy Good Samaritan Hospital and Medical Center, 1015 NW 22nd Avenue, Portland, OR 97210 | N/A | 02/24/2006 | OR
Christus Schumpert Health System, 1 Saint Mary Place, Shreveport, LA 71101 | N/A | 02/24/2006 | LA
UPMC Horizon 110 North Main Street, Greenville, PA 16125 | N/A | 02/24/2006 | PA
Geisinger Medical Center, 100 N. Academy Avenue #2160 Danville, PA 17822 | N/A | 02/24/2006 | PA
UPMC St. Margaret, 815 Freeport Road, Pittsburgh, PA 15215 | N/A | 02/24/2006 | PA
York Hospital, 1001 S. George Street #7, York, PA 17403 | N/A | 02/24/2006 | PA
Roger Williams Medical Center, 825 Chalkstone Avenue, Providence, RI 02908 | N/A | 02/24/2006 | RI
Medical University of South Carolina, 171 Ashley Avenue, Charleston, SC 29425 | N/A | 02/24/2006 | SC
Lexington Medical Center, 2720 Sunset Boulevard, West Columbia, SC 29169 | N/A | 02/24/2006 | SC
Sioux Valley Hospital, USD Medical Center, 1305 W. 18th Street, Sioux Falls, SD 57105 | N/A | 02/24/2006 | SD
Memorial Hospital, 2525 DeSales Avenue, Chattanooga, TN 37404 | N/A | 02/24/2006 | TN
Parkwest Medical Center, 9352 Park West Boulevard, Knoxville, TN 37923 | N/A | 02/24/2006 | TN
Saint Francis Hospital, 5959 Park Avenue, Memphis, TN 38119 | N/A | 02/24/2006 | TN
Theda Clark Medical Center, 200 Theda Clark Medical Plaza, Suite 410, Neenah, WI 54956 | 000071445 | 02/24/2006 | WI
The Regional Medical Center at Memphis, 877 Jefferson Avenue, Memphis, TN 38103 | N/A | 02/24/2006 | TN
Metabolic Surgery Center at Baptist Hospital, 2011 Church Street, #101 Nashville,TN 37203 | N/A | 02/24/2006 | TN
Centennial Center for the Treatment of Obesity, 2300 Patterson Street, Nashville, TN 37203 | N/A | 02/24/2006 | TN
Froedtert Memorial Lutheran Hospital, 9200 W. Wisconsin Avenue, Milwaukee, WI 53226 | N/A | 02/24/2006 | WI
Columbia-St. Mary's Bariatric Center, 2025 E. Newport Avenue, Milwaukee, WI 53211 | N/A | 02/24/2006 | WI
Aurora Sinai Medical Center, 945 N. 12th Street, Milwaukee, WI 53211 | N/A | 02/24/2006 | WI
Vanderbilt University Medical Center, 1211 22nd Avenue S. Nashville, TN 37232 | N/A | 02/24/2006 | TN
Weight Loss Surgery Program at Baylor, 9101 N. Central Expressway, Suite 370, Dallas, TX 75231 | N/A | 02/24/2006 | TX
Bellin Health, 215 N. Webster Avenue, Green Bay, WI 54301 | N/A | 02/24/2006 | WI
Cypress Fairbanks Medical Center Hospital, 10655 Steepletop Drive, Houston, TX 77065 | N/A | 02/24/2006 | TX
Elmbrook Memorial Hospital, 19333 W. North Avenue, Brookfield, WI 53045 | N/A | 02/24/2006 | WI
Memorial Hermann Hospital, 6411 Fannin Street, Houston, TX 77030 | N/A | 02/24/2006 | TX
North Hills Hospital, 4401 Booth Calloway Road, North Richland Hills, TX 76180 | N/A | 02/24/2006 | TX
Methodist Healthcare System, 8109 Fredricksburg Road, San Antonio, TX 78229 | N/A | 02/24/2006 | TX
Citizen's Bariatric Center, 2701 Hospital Avenue, Victoria, TX 77901 | N/A | 02/24/2006 | TX
East Texas Medical Center, 1000 S. Beckham Avenue, Tyler, TX 75701 | N/A | 02/24/2006 | TX
United Regional Health Care System, 1600 10th Street, Wichita Falls, TX 76301 | N/A | 02/24/2006 | TX
Saint Mary's Hospital, 5801 Bremo Road, Richmond, VA 23226 | N/A | 02/24/2006 | VA
Sentara Careplex Hospital, 3000 Coliseum Drive, Hampton, VA 23666 | N/A | 02/24/2006 | VA
St. Francis Hospital-Franciscan Health System, 34515 Ninth Avenue S., Federal Way, WA 98003 | N/A | 02/24/2006 | WA
Virginia Commonwealth University Medical Center, Richmond, VA 23284 | N/A | 02/24/2006 | VA
St. Vincent Carmel Hospital, 13430 Old Meridian Street, Suite 168, Carmel, IN 46032 | 15-0157 | 02/21/2006 | IN
Chapman Medical Center, 2601 East Chapman Avenue, Orange, CA 92646 | 05-0745 | 02/21/2006 | CA
Evanston Northwestern Hospital, 2650 Ridge Avenue, Suite 1308, Evanston, IL 60201 | 140010 | 01/26/2006 | IL
Beth Israel Deaconess Medical Center, 330 Brookline Avenue, Boston, MA 02215 | N/A | 02/17/2006 | MA
Tampa General Hospital, 2 Columbia Drive, F145, Tampa, FL 33601 | 100128 | 03/22/2006 | FL
Silver Cross Hospital, 1200 Maple Road, Joliet, IL 60432 | 140213 | 03/22/2006 | IL
St. Luke's Medical Center, 1800 E. Van Buren, Suite 307B, Phoenix, AZ 85006 | 030037 | 03/22/2006 | AZ
Norman Regional Hospital, 901 North Porter, Box 1308, Norman, OK 73070 | 370008 | 03/22/2006 | OK
University of California, Davis, 2315 Stockton Boulevard, Sacramento, CA 95817 | N/A | 04/18/2006 | CA
Palmetto General Hospital, 2001 West 68th Street, Hialeah, FL 33016 | 100187 | 04/11/2006 | FL
OSF Saint Francis Medical Center, 530 NE Glen Oak Avenue, Peoria, IL 61637 | 140067 | 04/05/2006 | IL
Desert Springs Hospital, 2075 East Flamingo, Las Vegas, NV 89119 | 290022 | 04/07/2006 | NV
Peconic Bay Medical Center, 1300 Roake Avenue, Riverhead, NY 11901 | 330107 | 04/06/2006 | NY
Palmetto Health Baptist, 1850 Laurel Street, Suite 1A, Columbia, SC 29201 | 420086 | 04/05/2006 | SC
Spartanburg Regional Healthcare System, 101 East Wood Street, Spartanburg, SC 29303 | 420007 | 03/27/2006 | SC
Banner Good Samaritan Bariatric Center, 1300 North 12th Street, Suite 610, Phoenix, AZ 85006 | N/A | 05/04/2006 | AZ
Western Pennsylvania Hospital, 4800 Friendship Avenue, Pittsburgh, PA 15224 | N/A | 05/01/2006 | PA
Fairview Southdale Hospital, 6405 France Avenue S., Suite W320, Edina, MN 55435 | N/A | 05/17/2006 | MN
Grandview Medical Center, 405 Grand Avenue, Park Rapids, MN 56470 | N/A | 05/17/2006 | MN
Bothwell Regional Health Center, 601 East 14th Street, Sedalia, MO 65301 | N/A | 05/17/2006 | MO
Durham Regional Hospital, 3643 N. Roxboro Road, Durham, NC 27704 | N/A | 05/17/2006 | NC
Russell County Medical, Carroll and Tate Streets, Leban, VA | N/A | 04/27/2006 | VA
Hurley Medical Center, One Hurley Plaza, Flint, MI 48503-5993 | 230132 | 04/14/2006 | MI
Cedars-Sinai Medical Center, 8700 Beverly Boulevard, Los Angeles, CA 90048 | N/A | 06/20/2006 | CA
Swedish Medical Center, 501 East Hampden Avenue, Englewood, CO 80113 | 060034 | 07/06/2006 | CO
Georgetown Community Hospital, 1140 Lexington Road, Georgetown, KY 40324 | 180101 | 06/07/2006 | KY
Cleveland Clnic Foundation, 9500 Euclid Ave. (A80), Cleveland, OH 44195 | 360180 | 05/24/2006 | OH
St. Agnes Healthcare, 900 Caton Avenue, Baltimore, MD 21229 | 210011 | 05/24/2006 | MD
Sycamore Hospital, 2150 Leiter Road, Miamisburg, OH 45342 | 360239 | 05/24/2006 | OH
Hospital of the University of Pennsylvania, 3400 Spruce Street, 4 Silverstein, Philadelphia, PA 19104 | N/A | 07/06/2006 | PA
Providence Memorial Hospital, 2001 North Oregon Street, El Paso, TX 79902 | 450668 | 06/15/2006 | TX
Zale Lipshy University Hospital, 5909 Harry Hines Boulevard, Dallas, TX 75390 | 450766 | 06/19/2006 | TX
New York-Presbyterian Hospital/Columbia University Medical Center, 161 Fort Washington Avenue, Herbert Irving Pavilion, New York, NY 10032 | 330101 | 06/14/2006 | NY
Oregon Health & Science University, 3181 SW Sam Jackson Park Road, L223A, Portland, OR 97239 | 107708, 380009 | 06/27/2006 | OR
Sewickley Valley Hospital, 720 Blackburn Road, Sewickley, PA 15143 | 15143, 390037 | 07/13/2006 | PA
Blount Memorial Hospital, 907 East Lamar Alexander Parkway, Maryville, TN 37801 | 440011 | 07/11/2006 | TN
Albany Medical Center, 47 New Scotland Avenue, Albany, NY 12208 | 330013 | 06/02/2006 | NY
Henry Ford Hospital, 2799 West Grand Boulevard, Detroit, MI 48202 | N/A | 07/31/2006 | MI
Mount Sinai Hospital, One Gustave L. Levy Place, 1190 5th Avenue, New York, NY 10029 | 330024 | 07/25/2006 | NY
Cabell Huntington Hospital, 1340 Hal Greer Boulevard, Huntington, WV 25701 | 510055 | 07/19/2006 | WV
Community Medical Center—Clovis, 2755 Herndon Avenue, Clovis, CA 93611 | 050492 | 06/26/2006 | CA
Town & Country Hospital, 6001 Webb Road, Tampa, FL 33615 | 100255 | 08/02/2006 | FL
Vista Surgical Hospital, 9094 Perkins Road, Suite B, Baton Rouge, LA 70810 | 230053 | 07/31/2006 | LA
New York-Presbyterian Hospital/Weill Cornell Medical Center, 525 East 68th Street, New York, NY 10021 | 330101 | 08/04/2006 | NY
Centinela Freeman Regional Medical Center Memorial, 323 Prairie Avenue, Suite 434, Inglewood, CA 90301 | 050741 | 08/07/2006 | CA
Regional West Medical Center, 4021 Avenue B, Scottsbluff, NE 69361 | 280061 | 08/08/2006 | NE
NYU Program for Surgical Weight Loss, 530 First Avenue, Suite 10S, New York, NY 10016 | N/A | 08/08/2006 | NY
Mercy Medical Center, 1000 North Village Avenue, Rockville Centre, NY 11570 | N/A | 08/10/2006 | NY
Brigham and Women's Hospital, 75 Francis Street, Boston, MA 02115-6195 | 330101 | 08/14/2006 | MA
University of Virginia Health System, PO Box 800809, Charlottesville, VA 22908-0809 | 490009 | 07/12/2006 | VA
St. Vincent's Medical Center, 2800 Main Street, Bridgeport, CT | 070028 | 09/08/2006 | CT
Norwalk Hospital, 24 Stevens Street, Norwalk, CT 06856 | 070034 | 09/07/2006 | CT
Barnes Jewish Hospital, 4905 Forest Park, Suite 255, St. Louis, MO 63108 | 260032 | 09/06/2006 | MO
St. Alexius Hospital—NewStart, 3933 South Broadway Street, St. Louis, MO 63118 | 260210 | 09/01/2006 | MO
Baptist Memorial Hospital Memphis, 6025 Walnut Grove Road, #C1011 Memphis, TN 38120 | 440048 | 09/07/2006 | TN
North Shore University Hospital at Manhasset, 300 Community Drive, Manhasset, NY 11530 | 330106 | 09/08/2006 | NY
St. Alexius Hospital, 2639 Miami Street, St. Louis, MO 63118 | 260210 | 09/01/2006 | MO. |
Our Lady of Lourdes Medical Center, 1600 Haddon Avenue, Camden, NJ 08104 | 613039 | 08/31/2006 | NJ
FirstHealth Moore Regional Hospital, 155 Memorial Drive, Pinehurst, NC 27374 | 340115 | 09/01/2006 | NC
St. Catherine of Siena Medical Center, 50 Route 25A, Smithtown, NY 11787 | 316495 | 09/01/2006 | NY
Inova Fair Oaks Hospital, 3600 Joseph Siewick Drive, Fairfax, VA 22033 | 490101 | 08/31/2006 | VA
Hamot Medical Center, 201 State Street, Erie, PA 16550 | 390063 | 09/01/2006 | PA
St. Joseph's Hospital, 69 West Exchange, St. Paul, MN 55102 | N/A | 09/14/2006 | MN
Faxton-St. Luke's Healthcare, 1656 Champlin Avenue, Utica, NY 13503 | 330044 | 09/14/2006 | NY
University Hospitals of Cleveland, 11100 Euclid Avenue, Cleveland, OH 44106 | N/A | 09/15/2006 | OH
The Christ Hospital, 2139 Auburn Avenue, Cincinnati, OH 45219 | 632319 | 07/17/2006 | OH
Johns Hopkins Bayview Medical Center, 4940 Eastern Avenue, Baltimore, MD 21224 | 210029 | 09/15/2006 | MD
Yale-New Haven Hospital, 20 York Street, New Haven, CT 06510 | 070022 | 09/20/2006 | CT | ASBS.
Methodist Dallas Medical Center, PO Box 655999, Dallas, TX 75265-5999 | N/A | 02/24/2006 | TX | Texas Bariatric Center.
UMass Memorial Medical Center-Memorial Campus, 55 Lake Avenue North, Room H1-760, Worcester, MA, 01655 | A22819 | 07/27/2006 | MA
Trinity Medical Center, 800 Montclair Road, Birmingham, AL 35213 | 010104 | 10/03/2006 | AL | ASBS.
St. Mary's Medical Center, 450 Stanyan Street, San Francisco, CA 94117 | 050457 | 10/02/2006 | CA | ASBS.
St. Lukes's/Roosevelt, 1090 Amsterdam Avenue, New York, NY 10025 | 330046 | 10/11/2006 | NY | 10th Floor ACS
The Western Pennsylvania Hospital, 4727 Friendship Avenue, Pittsburgh, PA 15224 | 028672 | 10/16/2006 | PA | Suite 140 ACS.
MeritCare Health System, 720 4th Street North, Fargo, ND 58122 | 350011 | 10/11/2006 | ND | ASBS.
St. Luke Hospital, 7380 Turfway Road, Florence, KY 41042 | 195001 | 10/18/2006 | KY | ASBS.
Norton Hospital, 200 East Chestnut Street, Louisville, KY 40202 | 180088 | 10/16/2006 | KY | ASBS.
Port Huron Hospital, 1221 Pine Grove Avenue, Port Huron, MI 48060 | 230216 | 10/16/2006 | MI | ASBS.
Harper University Hospital, 3990 John R. Street, Detroit, MI 48201 | 230104 | 10/17/2006 | MI | ASBS.
Benefis Healthcare, 1101 26th Street South, Great Falls, MT 59405 | 270012 | 10/13/2006 | MT | ASBS.
Conway Medical Services, 300 Singleton Ridge Road, Conway, SC 29528 | 4200491 | 0/20/2006 | SC | ASBS.
Twelve Oaks Medical Center Hospital, 4200 Twelve Oaks Drive, Houston, TX 77027 | N/A | 10/18/2006 | TX | ASBS.
Mason General Hospital, 901 Mountain View Drive, Shelton, WA 98584 | l501336 | 10/13/2006 | WA | ASBS.
Mobile Infirmary Medical Center, 5 Mobile Infirmary Circle, Mobile, AL 36652 | 010113 | 10/27/2006 | AL
Alta Bates Medical Center, 350 Hawthorne Avenue, Oakland, CA 94609 | 050043 | 10/23/2006 | CA
Massachusetts General Hospital, 55 Fruit Street Boston, MA 02114-2696 | 220071 | 10/23/2006 | MA | N/A.
Overlook Hospital, Nursing Administration Office, 99 Beauvoir Avenue, Summit, NJ 07902 | 310051 | 11/21/2006 | NJ
South Jersey Healthcare—Regional Medical Center, 1505 West Sherman Avenue, Vineland, NJ 08360 | 310032 | 11/20/2006 | NJ | N/A.
Magee Womens Hospital of UPMC, 3000 Halket Street, Pittsburgh, PA 15213 | 390114 | 11/13/2006 | PA | N/A.
Saint Francis Hospital and Medical Center, 114 Woodland Street, Hartford, CT 06105 | 070002 | 11/15/2006 | CT | N/A.
Newton-Wellesley Hospital, 2014 Washington Street, Newton, MA 02462 | 220101 | 10/26/2006 | MA | N/A.
Cleveland Clinic Florida, 3100 Weston Road, Weston, FL 33331-3602 | 100289 | 10/19/2006 | FL | N/A.
Grinnell Regional Medical Center, 210 Fourth Avenue, Grinnell, IA 50112 | N/A | 10/19/2006 | IA | Provider Numbers: Hospital: 160147, Surgical Group: 03108.
Saint Francis Hospital, 6465 South Yale Avenue, #900, Tulsa, OK 74136 | 372308 | 10/23/2006 | OK | N/A.
Baptist Health Medical Center—Little Rock, 9601 I-630, Exit 7, Little Rock, AR 72205 | l040114 | 12/01/2006 | AR | N/A
Northwest Medical Center, 2801 North State Road, Exit 7, Margate, FL 33063 | 100189 | 11/30/2006 | FL | N/A.
Tufts-New England Medical Center, 750 Washington Street, Boston, MA 02111 | 220116 | 11/27/2006 | MA | N/A.
Allegheny General Hospital, 320 East North Avenue, Fifth Floor, South Tower, Pittsburgh, PA 15212 | 390050 | 11/30/2006 | PA |
Memorial Hermann Memorial City Hospital, 921 Gessner Road, Houston, TX 77024 | 450610 | 11/27/2006 | TX | N/A.
Potomac Hospital, 2300 Opitz Boulevard, Woodbridge, VA 22191 | 490113 | 11/30/2006 | VA | N/A.
Mayo Clinic-Saint Mary's Hospital, 200 First Street SW, Rochester, MN 55905 | N/A | 10/23/2006 | MN | SMH: 24-0010, Part B General Medical: CO1384.
Fletcher Allen Health Care, 111 Colchester Avenue, Burlington, VT 05401 | N/A | 06/09/2006 | VT | Hospital: 47003, Group Provider; VN0997.
Community Medical Center—Clovis, 2755 Herndon Avenue, Clovis, CA 93611 | 050492 | 12/07/2006 | CA | N/A.
St. Luke's Regional Medical Center, 333 North 1st Street, Suite 120, Boise, ID 83702 | 130006 | 12/06/2006 | ID | N/A.
Avera McKennan Hospital, 800 East 21st Street, Box 5045, Sioux Falls, SD 57117-5045 | 430016 | 09/25/2006 | SD | N/A.
Hialeah Hospital, 651 East 25 Street, Hialeah, FL 33013 | 100053 | 12/13/2006 | FL | N/A.
Sts. Mary and Elizabeth Hospital, Bariatric Office, 1850 Bluegrass Avenue, Louisville, KY 40215 | 180040 | 12/15/2006 | KY |
Pomerado Hospital, 15615 Pomerado Road, Poway, CA 92064 | 050636 | 12/18/2006 | CA | N/A.
Women and Children's Hospital, 4200 Nelson Road, Lake Charles, LA 70605 | 190201 | 12/19/2006 | LA | N/A.
Southcoast Hospitals Group—Tobey Hospital, 43 High Street, Wareham, MA 02571 | 220074 | 12/21/2006 | MA | N/A.
Medcenter One, Inc., 300 North 7th Street, Bismarck, ND 58501 | 350015 | 12/19/2006 | ND | N/A.
Bon Secours Surgical Weight Loss-Maryview Medical Center, 3636 High Street, Portsmouth, VA 23707 | 490017 | 12/18/2006 | VA | N/A.
Mount Carmel West Hospital, 793 West State Street, Columbus, OH 43222 | 360035 | 12/20/2006 | OH | N/A.
University of Wisconsin Hospital & Clinics, 600 Highland Avenue, Madison, WI 53792 | 520098 | 12/19/2006 | WI | N/A.
Meriter Hospital, 202 South Park Street, Madison, WI 53715 | 520089 | 12/19/2006 | WI | N/A.
Mercy General Health Partners, 1500 Sherman Boulevard, Muskegon, MI 49444 | 230004 | 12/26/2006 | MI | N/A.
Mountainside Hospital, 1 Bay Avenue, Montclair, NJ 07042 | 310054 | 12/26/2006 | NJ | N/A.
Carilion Roanoke Memorial Hospital, 1906 Belleview Avenue, Roanoke, VA 24014 | N/A | 12/26/2006 | VA | N/A.
University of Alabama at Birmingham Hospital, 1530 3rd Avenue, South Kracke Building 404, Birmingham, AL 35294-0016 | 010033 | 12/07/2006 | AL | N/A.
Fountain Valley Regional Hospital, 17100 Euclid Street, Fountain Valley, CA 92708 | 050570 | 09/27/2006 | CA | N/A.
Hackensack University Medical Center, 30 Prospect Avenue, Hackensack, NJ 07601 | 310001 | 12/08/2006 | NJ | N/A.
Park Plaza Hospital, 1313 Hermann Drive, Houston, TX 77004 | 450659 | 01/09/2007 | TX | N/A.
Renaissance Hospital Houston, 2807 Little York Road, Houston, TX 77093 | 450795 | 01/12/2007 | TX | N/A.
Highland Hospital, 1000 South Avenue, Rochester, NY 14620 | 330164 | 08/30/2006 | NY | N/A.
Penn State Milton S.3 Hershey Medical Center, 500 University Drive, Hershey, PA 17033 | 90256 | 01/18/2007 | PA | N/A.
Sentara Norfolk General Hospital, 600 Gresham Drive, Norfolk, VA 23507 | 4900073 | 09/29/2006 | VA | N/A.
University of Washington Medical Center, 1959 NE Pacific Street, PO Box 356151, Seattle, WA 98195-6151 | 1326002049 | 12/05/2006 | WA | N/A.
Maine Medical Center, 22 Bramhall Street, Portland, ME 04102 | 200009 | 11/06/2006 | ME | N/A.
Shawnee Mission Medical Center, 9100 West 74th Street, Shawnee Mission, KS 66204 | 170104 | 01/24/2007 | KS | N/A.
Sacred Heart Medical Center, 101 West 8th Avenue, Spokane, WA 99220 | 500054 | 02/05/2007 | WA | N/A.
Ochsner Clinic Foundation, 1514 Jefferson Highway, New Orleans, LA 70121 | 190036 | 02/06/2007 | LA | N/A.
Sacred Heart Hospital, 421 Chew Street, Allentown, PA 18102 | 390197 | 02/07/2007 | PA | N/A.
Northwest Specialty Hospital, 1593 East Polston Avenue, Post Falls, ID 83854 | 130066 | 02/07/2007 | ID | N/A.
Alvarado Hospital, Alvarado Surgical Weight-Loss Program, 6655 Alvarado Road, San Diego, CA 92120 | 050583 | 01/26/2007 | CA | N/A.
St. Francis Hospital, 7th and Clayton Streets, Wilmington, DE 19805 | 080003 | 01/29/2007 | DE | N/A.
Cleveland Clinic, 9500 Euclid Avenue, (H18), Cleveland, OH 44195 | 360180 | 12/01/2006 | OH | N/A.
Geisinger Medical Center, 100 North Academy Avenue, Danville, PA 17822 | 390006 | 01/26/2007 | PA | N/A.
Gundersen Lutheran Medical Center, 1900 South Avenue, La Crosse, WI 54601 | 520087 | 02/13/2007 | WI | N/A.
Rio Grande Regional Hospital, 101 East Ridge Road, McAllen, TX 78503 | 450711 | 02/12/2007 | TX | N/A.
Shady Grove Adventist Hospital, 9901 Medical Center Drive, Rockville, MD 20850 | 210057 | 02/19/2007 | MD | N/A.
Pitt County Memorial Hospital, 2100 Stantonsburg Road, Greenville, NC 27835 | 340040 | 02/20/2007 | NC | N/A.
Kettering MedicalCenter, 3535 Southern Boulevard, Kettering, OH 45429 | 360079 | 02/16/2007 | OH | N/A.

[FR Doc. 07-1414 Filed 3-23-07; 8:45 am]

BILLING CODE 4120-01-P